DEPARTMENT OF TRANSPORTATION

Research and Special Programs Administration

49 CFR Parts 171, 172, 173, 174, 175, 176, 177, 178 and 180

[Docket No. RSPA-2000-7702 (HM-215D)]

RIN 2137-AD41

Harmonization With the United Nations Recommendations, International Maritime Dangerous Goods Code, and International Civil Aviation Organization's Technical Instructions

AGENCY: Research and Special Programs Administration (RSPA), DOT.

ACTION: Notice of proposed rulemaking (NPRM).

SUMMARY: RSPA proposes to amend the Hazardous Materials Regulations (HMR) to maintain alignment with international standards by incorporating various changes to proper shipping names, hazard classes, packing groups, special provisions, packaging authorizations, air transport quantity limitations and vessel stowage requirements. In addition, RSPA proposes to revise the requirements for intermediate bulk containers and UN portable tanks for alignment with international requirements. Because of recent changes to the International Maritime Dangerous Goods Code (IMDG Code), the International Civil Aviation Organization's Technical Instructions for the Safe Transport of Dangerous Goods by Air (ICAO Technical Instructions), and the United Nations Recommendations on the Transport of Dangerous Goods (UN Recommendations), these proposed revisions are necessary to facilitate the transport of hazardous materials in international commerce.

DATES: Comments must be received by December 22, 2000.

ADDRESSES: Address comments to the Dockets Management System, U.S. Department of Transportation, Room PL 401, 400 Seventh St., SW., Washington, DC 20590-0001. Comments should identify the docket number RSPA-00-7702 (HM-215D) and be submitted in two copies. If you wish to receive confirmation of receipt of your comments, include a self-addressed stamped postcard. You may also submit and review all comments by accessing the Docket Management System website at http://dms.dot.gov. Click on “Help and Information” to obtain instructions for filing a document electronically. The Dockets Unit is located on the Plaza Level of the Nassif Building at U.S. DOT at the above address. Public dockets may be reviewed between the hours of 10 a.m. and 5 p.m., Monday through Friday, except on Federal holidays.

FOR FURTHER INFORMATION CONTACT: Joan McIntyre, Office of Hazardous Materials Standards, telephone (202) 366-8553, or Bob Richard, Assistant International Standards Coordinator, telephone (202) 366-0656, Research and Special Programs Administration, U.S. Department of Transportation, 400 Seventh Street, SW., Washington, DC 20590-0001.

SUPPLEMENTARY INFORMATION:

I. Background

On December 21, 1990, the Research and Special Programs Administration (RSPA) (hereafter, “we” and “our” means “RSPA”) published a final rule based on the UN Recommendations [Docket HM-181; 55 FR 52402] which comprehensively revised the Hazardous Materials Regulations (HMR), 49 CFR parts 171 to 180, with respect to hazard communication, classification, and packaging requirements. The intended effect of the rule was to facilitate the international transportation of hazardous materials by ensuring a basic consistency between the HMR and international regulations, while at the same time ensuring the safe transportation of hazardous materials.

The UN Recommendations are not regulations, but are recommendations issued by the UN Committee of Experts on the Transport of Dangerous Goods. These recommendations are amended and updated biennially by the UN Committee of Experts. They serve as the basis for national, regional, and international modal regulations (specifically, the IMDG Code, issued by the International Maritime Organization (IMO), and the ICAO Technical Instructions, issued by the ICAO Dangerous Goods Panel). In 49 CFR 171.12, the HMR authorize hazardous materials shipments prepared in accordance with the IMDG Code if all or part of the transportation is by vessel, subject to certain conditions and limitations. Offering, accepting and transporting hazardous materials by aircraft, in conformance with the ICAO Technical Instructions, and by motor vehicle either before or after being transported by aircraft, are authorized in § 171.11, subject to certain conditions and limitations.

Since publication of the 1990 final rule, we have issued three additional international harmonization final rules, (Dockets HM-215A, 59 FR 67390; HM-215B, 62 FR 24690; and HM-215C, 64 FR 10742). The rules provided additional harmonization with international air and sea transportation requirements by more fully aligning the HMR with the corresponding biennial updates of the UN Recommendations, the IMDG Code and the ICAO Technical Instructions.

The continually increasing amount of hazardous materials transported in international commerce warrants the harmonization of domestic and international requirements to the greatest extent possible. Harmonization serves to facilitate international transportation and at the same time ensures the safety of people, property and the environment. Therefore, in our efforts to continue the alignment of the HMR with international requirements, this NPRM proposes changes to the HMR based on the eleventh revised edition of the UN Recommendations, the 2001-2002 ICAO Technical Instructions and Amendment 30 to the IMDG Code, all of which become effective January 1, 2001. Petitions for rulemaking pertinent to harmonization with international standards and the facilitation of international transportation are also addressed in this NPRM and serve as the basis of certain proposed changes. Other proposed changes are based on feedback from the regulated industry, RSPA and other DOT modal administrations, including a few proposed editorial clarifications and a Class 1 (explosives) placarding allowance for certain compatibility groups. Unless otherwise stated, the revisions are proposed for harmonization with international standards.

II. Overview of Proposed Changes in this NPRM

Proposed amendments to the HMR in this NPRM include:

—Incorporation by reference of the updated ICAO Technical Instructions, IMDG Code and UN Recommendations and addition of incorporation by reference of six current standards which include an International Atomic Energy Agency (IAEA) safety standard, an IMO safety standard, three International Organization for Standardization (ISO) standards and one American Society for Testing Materials (ASTM) standard.

—Amendments to the Hazardous Materials Table (HMT) which would add, revise or remove certain proper shipping names, hazard classes, packing groups, special provisions, packaging authorizations, bulk packaging requirements, and passenger and cargo aircraft maximum quantity limitations. Proper shipping name amendments include the proposal to replace the word “inhibited” with “stabilized.” Entry removals include certain domestic entries for which corresponding UN entries are included in the HMT.

—Revision of vessel stowage category definitions and codes for Class 1 (explosive) materials.

—Revision of shipping paper requirements for sea transport.

—Addition, removal and revision of certain entries to the List of Marine Pollutants.

—Addition, removal and revision of special provisions, including removal of current T codes and IBC bulk provisions and addition of UN portable tank codes and IBC special packing provisions, consistent with those in the UN Recommendations.

—Removal of the requirement to distinguish between primary and subsidiary risk labels and placards.

—Addition and revision to the list of organic peroxides and the list of self-reactive substances.

—Revision of the requirements pertaining to the transportation of samples.

—Revision of intermediate bulk container (IBC) requirements including amendments to the IBC commodity sections in §§ 173.240, 173.241, 173.242, 173.243 and 173.247, and addition of UN IBC packing instructions and special IBC packing provisions in part 172.

—Incorporation of the design, construction and use requirements for UN portable tanks.

—Consolidation of current portable tank maintenance, approval and use requirements.

—Inclusion of flexible grandfather provisions for the continued use of IM 101, IM102 and DOT 51 portable tanks.

—Removal of specifications for DOT 52 and 53 portable tanks and the provisions for their continued use.

—Incorporation of a provision for the use of the “W” mark for IBCs.

—Inclusion of a 12 mm minimum marking size for IBCs.

—Revision of minimum thickness requirements for metal IBCs.

—Revision of several explosives packing methods to allow a broader selection of authorized packagings.

—Revision of provisions for cigarette lighters and alcoholic beverages carried aboard aircraft.

—Allowance of the display of one placard when certain explosive compatibility groups are transported together.

—Revision of lithium battery requirements.

III. Summary of Regulatory Changes by Section

Part 171

Section 171.7. We propose to update the incorporation by reference for the ICAO Technical Instructions, the IMDG Code, the UN Recommendations and the UN Manual of Tests and Criteria. In addition, we propose to add an ASTM standard, the current edition of the IAEA safety standard, an IMO standard, and three ISO standards.

All of the updated incorporation by reference material will become effective January 1, 2001 and would be updated as follows:

—The ICAO Technical Instructions—2001-2002 edition.

—The IMDG Code—Amendment 30.

—The UN Recommendations—eleventh revised edition.

—The UN Manual of Tests and Criteria—third revised edition.

Additionally, all of the proposed added incorporation by reference material would become effective January 1, 2001 and would be added as follows:

—ASTM's “E 112-96 Standard for Test Methods for Determining Average Grain Size” would be added to define “fine grain steel” as included in the proposed incorporation of the UN portable tank specifications in § 178.274.

—IAEA's current “Regulations for the Safe Transport of Radioactive Material, No. ST-1,” 1996 edition would be added while retaining the previous edition entitled, “Regulations for the Safe Transport of Radioactive Material, Safety Series No. 6.” The ST-1 requirements were incorporated in the IMDG Code and the ICAO Technical Instructions which will both be effective January 1, 2001. Adding the updated ST-1 edition and retaining Safety Series No. 6 would afford the flexibility necessary in an interim period when international shipments are required to be in accordance with the ST-1 edition. Domestic shipments would remain subject to the HMR requirements, which are based on Safety Series No. 6 pending amendment of these requirements under a separate rulemaking.

—IMO'S current “International Code for the Safe Carriage of Packaged Irradiated Nuclear Fuel, Plutonium and High-Level Radioactive Wastes on Board Ships' (INF Code) would be added. The IMO Maritime Safety Committee adopted the INF Code for incorporation into the IMDG Code. In addition, the INF Code is being made mandatory for international transportation effective January 1, 2001, through an amendment to Chapter VII of the International Convention for the Safety of Life at Sea, 1974 (SOLAS 1974, as amended). The incorporation by reference and inclusion of the proposed new § 176.720 requirement for a vessel carrying irradiated nuclear fuel, plutonium and high-level radioactive wastes would align the HMR with these international standards. (Also, see § 176.2. and § 176.720.)

—Finally, we are proposing to add three ISO standards to coincide with the proposed incorporation of the UN portable tank requirements. The standards are as follows: “ISO 1496-3 Series 1 freight containers—Specification and testing,” 1996 edition; “ISO 4126-1 Safety valves-Part 1: General Requirements,” 1991 edition; and, “ISO 6892 Metallic materials—Tensile testing,” 1984 edition.

Section 171.8. We would add four new definitions to § 171.8. “Large packaging” would be added to correspond with the proposed addition of an approval provision that would allow the use of large packagings which comply with requirements in the UN Recommendations (see § 178.801). Large packagings are UN-marked bulk packagings which are very similar to IBCs, with the exception that they contain inner packagings. “Liner” would be added for clarification purposes. “Stabilized” would be added in conjunction with the proposal to replace the word “inhibited” with “stabilized” in proper shipping names (see § 172.101). Finally, “UN portable tank” would be added in conjunction with the proposal to include requirements for the design, construction and use of UN portable tanks (see §§ 178.274, 178.275, 178.276, 178.277).

Section 171.10. To correspond with the proposed incorporation of the UN portable tank specifications, we would add the unit of measure for “Newton” into the Table of Conversion Factors in paragraph (c)(2).

Section 171.11. We propose to add a new paragraph (d)(17) to ensure conformance with the current approval provision in § 173.128(d) which requires an approval from the Associate Administrator for the offering for transportation or transport of organic peroxides that are not identified by technical name in the § 173.225(b) Organic Peroxide Table. (We also propose to add the new paragraph under §§ 171.12 and 171.12a.)

Section 171.12. Paragraph (b)(3) would be revised by adding a limitation to the use of the IMDG Code by requiring that viscous flammable liquids, which are excepted from the IMDG Code when in a packaging of less than 450 liters (118.9 gallons) capacity, are subject to the HMR. We do not agree that the IMDG Code exception provides an adequate level of safety and opposed its incorporation in the ICAO Technical Instructions, the IMDG Code and UN Recommendations. We believe this requirement is necessary to ensure that importers and exporters are aware that these viscous flammable liquids are regulated in the United States. We also propose to add a new paragraph (b)(19) to ensure conformance with the current approval provision in § 173.128(d), which requires an approval from the Associate Administrator for the offering for transportation or transport of organic peroxides that are not identified by technical name in the § 173.225(b) Organic Peroxide Table. Finally, we proposed to revise paragraph (d) to reflect the addition of the current edition of the IAEA “Regulations for the Safe Transport of Radioactive Material, No. ST-1,” 1996 edition. (See § 171.7 for discussion concerning the addition of the updated ST-1 standards.)

Section 171.12a. We propose to add a new paragraph (b)(18) to ensure conformance with the current approval provision in § 173.128(d) which requires an approval from the Associate Administrator for the offering for transportation or transport of organic peroxides that are not identified by technical name in the § 173.225(b) Organic Peroxide Table.

Section 171.14. We propose to revise paragraphs (d) and (d)(1) to authorize a delayed implementation date for the amendments adopted in the HM-215D final rule. The effective date of this final rule would be October 1, 2001. However, we would authorize a voluntary compliance date of January 1, 2001. This authorization would allow shippers to prepare their international shipments in accordance with the new ICAO Technical Instructions, the IMDG Code and the HMR provisions. We also would authorize a delayed mandatory compliance date comparable to the transition provisions provided in the final rule under Docket HM-215C. The delayed mandatory compliance date would offer sufficient time to implement the new provisions and deplete current stocks of shipping papers, labels, placards and packagings affected by the new requirements.

We would revise paragraph (d)(2) to permit intermixing old and new (HM-215D) hazard communication requirements until October 1, 2002.

We would add a new paragraph (d)(4) to allow the use of the T code special provisions (proposed to be assigned to a hazardous material in Column (7) of the HMT) in effect on December 31, 2000 until January 1, 2010 for hazardous materials offered for transportation in IM and IMO portable tanks. This proposal is consistent the IMDG Code and would minimize any undue regulatory burden.

Part 172

Section 172.101. For alignment with international standards, we would revise paragraph (c)(11) and add new paragraphs (k)(6) through (k)(20). Consistent with the eleventh revised edition of the UN Recommendations, we would revise paragraph (c)(11) for materials transported as samples which are assigned a tentative proper shipping name, hazard class, identification number and packing group. We would revise the requirements by requiring the word “SAMPLE” to be included in association with the proper shipping name and by prohibiting the samples from being packaged together with other hazardous materials. We also would add a new paragraph (c)(16) to allow for the inclusion of the qualifying words “liquid,” “solid” or “molten,” as applicable, to a proper shipping name.

Consistent with the new stowage categories and terminology contained in Amendment 30 of the IMDG Code, we would add new paragraphs (k)(6) through (k)(20) to include the IMDG vessel stowage category definitions for Class 1 (explosive) materials. (Also see preamble discussion under “The Hazardous Materials Table” and § 176.63.)

The Hazardous Materials Table (HMT). Proposed amendments to the HMT for the purpose of harmonizing with the eleventh revised edition of the UN Recommendations (unless otherwise stated) would include the following:

—For the entries, “Other regulated substances, liquid, n.o.s.” and “Other regulated substances, solid, n.o.s.,” we would add the letter “G” to Column (1). The letter “G,” which denotes the n.o.s. and generic proper shipping names which are required to be supplemented with the technical names of the hazardous material (in parentheses and in association with the basic description), was inadvertently omitted in Docket HM-215C (64 FR 10742).

—We would add the following new entries: “Nitroglycerin mixture, desensitized, liquid, n.o.s. with not more than 30% nitroglycerin by mass,” UN3357; “Propellant, solid,” UN0501; “Refrigerating machines containing flammable, non-toxic, liquefied gas,” UN3358; “Rockets with inert head,” UN0502; and “1H-Tetrazole,” UN0504.

—We would revise the entry, “Dangerous Goods in Machinery or Dangerous Goods in Apparatus” by replacing the identification number NA8001 with UN3363, designating a Class 9 assignment and revising Special Provision 136 (see § 172.102). These proposed changes reflect the adoption of the entry by the UN Committee of Experts and amendments agreed to by the ICAO Dangerous Goods Panel. The entry was added to the HMT under Docket HM-215C as NA8001 and assigned Special Provision 136 to prescribe the appropriate hazard class assignment. As explained in HM-215C, the entry was adopted in the ICAO Technical Instructions to provide an exception from the UN packaging performance tests for equipment, machinery or apparatus containing small quantities of hazardous materials. For machinery or apparatus not specifically listed in the HMT, the entry provides a practical means of describing and transporting machinery or apparatus containing small quantities of hazardous materials. In HM-215C, we stated that upon the assignment of a UN identification number, we would revise the entry accordingly. This was accomplished in the eleventh revised edition of the UN Recommendations in which UN3363 was assigned and this entry was assigned to Class 9. The ICAO Technical Instructions were amended consistent with this UN decision. Therefore, based on the above discussion, we are proposing to revise the entry, “Dangerous Goods in Machinery or Dangerous Goods in Apparatus” by assigning it to Class 9, replacing the domestic identification number with an international identification number, and revising Special Provision 136.

—We are proposing to revise all proper shipping names containing the word “inhibited” by replacing “inhibited” with the word “stabilized.” (Also, see proposed definition for “stabilized” in § 171.8.) Replacing the word “inhibited” with “stabilized” would recognize that, in addition to inhibition, other means of controlling self-reaction would be acceptable. The proposed allowance of additional means of stabilization and the proposed removal of certain domestic entries from the HMT (see domestic entry removals later in this section) would also address a petition for rulemaking (P-1304) requesting that we add a new domestic entry, “Methyl methacrylate monomer, uninhibited,” Class 3, NA1247, PG II to the HMT.

—We would revise the following proper shipping names: “Lithium hypochlorite, dry or Lithium hypochlorite mixtures, dry,” UN1471; “Printing ink, flammable,” UN1210; and “Nitrocellulose membrane filters,” UN3270.

—For the entry, “Methacrylic acid, inhibited,” UN2531, we would replace Packing Group III with Packing Group II.

—We propose to remove various domestic entries that have assigned “NA” identification numbers. After reviewing the domestic entries, we determined that the HMR includes “UN” identification numbers assigned to entries that are equally appropriate in a number of instances, and in these instances the NA numbers are no longer necessary. Included in the proposed removals are seven domestic pesticide proper shipping names identified by the pesticide industry as no longer being used. These entries are: “Aldrin, liquid,” NA2762; “Aldrin, solid,” NA2761; “Dieldrin,” NA2761; “Methyl parathion liquid,” NA3018; “Methyl parathion solid, NA2783; “Parathion,” NA2783 and “Tetraethyl pyrophosphate solid,” NA3018.

—We would add radioactive material (Class 7) entries consistent with new entries introduced in the UN Recommendations and IAEA's “Regulations for the Safe Transport of Radioactive Material, No. ST-1” and revise the current radioactive material entries in the HMR to allow for domestic shipment only.

—For Class 1 (explosive) entries, we would revise Columns (10A) and (10B) to reflect the vessel stowage codes as they are presented in Amendment 30 to the IMDG Code. (See § 172.101(k) and § 176.63.)

—For the international entry “Methanol,” we would add a plus mark (+) in Column (1) of the HMT to indicate that this entry is classified with a subsidiary hazard of Class 6.1 on the basis of human experience.

—We would remove the entry “Isobutyric anhydride,” UN2530.

—For the entry “Morpholine,” UN2054, we would replace Class 3 with Class 8, replace Packing Group III with Packing Group I , and add Class 3 as the subsidiary hazard.

—For “Organic peroxide type F, solid, temperature controlled,” (UN3120), we would remove the Packing Group III entry that was due to a printing error in 49 CFR. The PG II entry would remain.

—For approximately 14 Zone A and B toxic-by-inhalation entries, we would revise the quantity limits for transport by air to “forbidden.” These revisions would be consistent with other toxic-by-inhalation entries in the HMT.

—For the entry “Fire extinguishers containing compressed or liquefied gas” we would add Special Provision 110 to Column (7).

—Based on a petition for rulemaking (P-1338) that we received from the Aluminum Company of America (Alcoa), we propose to add Special Provisions 128 and B115 to the entry, “Magnesium granules, coated, particle size not less than 149 microns,” UN2950. Special Provision 128 allows material meeting the Class 8 definition to be classed as a Division 4.3 with a Class 8 subsidiary hazard. Special Provision B115 authorizes the use of certain non-specification bulk packagings when the material being transported is loaded dry. Special Provisions 128 and B115 are currently assigned to “Aluminum smelting by-products or Aluminum remelting by-products.” Alcoa states that magnesium granules exhibit the same hazard properties as aluminum smelting and remelting by-products and behave similarly to these materials by occasionally meeting the criteria for both Division 4.3 and Class 8 materials. We agree with the petitioner and propose to add Special Provisions 128 and B115 to the entry “Magnesium granules, coated, particle size not less than 149 microns,” UN2950. (Also, see § 172.102, Special Provision 128.)

—For approximately 1,600 entries, we would revise Column (7) by harmonizing the HMR authorizations for IBCs with those contained in the UN Recommendations. In most cases, the UN Recommendations provide for greater flexibility in the use of different types of IBCs. However, in a few instances, the incorporation of the UN IBC requirements would further restrict the types of IBCs that are currently authorized for certain hazardous materials. For example, some Packing Group II liquid hazardous materials of Class 3, Division 6.1 and Class 8 that are currently authorized to be transported in composite IBCs with flexible inner receptacles (such as 31HZ2) would not be authorized in these types of IBCs if the UN provisions are adopted. For the benefit of the reader and to facilitate a review of the proposed amendments, we have included a table identifying all of the affected hazardous materials and indicating the current bulk assignments and the proposed IBC assignments. We would set out the IBC packaging requirements in a newly-created IBC Table under the Special Provisions section in § 172.102(c)(4). The table would consist of IBC Codes (using the designations 1B1-1B99) corresponding to the UN IBC packing instructions, and BB Codes corresponding to the UN IBC special packing provisions. We would assign the IBC packing instructions and the BB codes to specific hazardous materials in Column (7) of the § 172.101 HMT consistent with assignments in the UN Recommendations. In addition, we believe that consolidating the IBC requirements into one table would make it easier for readers to identify the authorized IBCs for specific hazardous materials and would enhance safety and international harmonization. As a result of this proposal, we would revise the bulk special provisions in § 172.102 (c)(3) to remove the current bulk codes relevant to the use of IBCs. We would also revise the current IBC packaging authorizations under §§ 173.240(d), 173.241(d), 173.242(d) and 173.243(d).

This proposal also addresses a petition we received from the Rigid Intermediate Bulk Container Association (RIBCA) (P-1395) requesting that we amend the HMR to expand the use of IBCs consistent with new UN provisions. Specifically, the petitioner requested uniformity with the UN Recommendations by requesting that the HMR allow the use of rigid plastic IBCs and composite IBCs with a rigid plastic inner receptacle for certain liquids. We are in agreement with RIBCA's request; however, in the interest of harmonization, we believe it would be more beneficial to adopt the UN Recommendations' IBC packing instructions in totality, and, as such, present the proposal as discussed above.

For purposes of the Government Printing Office's typesetting procedures, readers should be aware that for certain entries in the HMT, such as those with revised proper shipping names, the change may appear as a removal and addition, as opposed to a revision of the regulatory text in the Column (2) changes. Readers should review all changes appearing in the § 172.101 regulatory text for a complete view of the proposed changes.

Appendix B to § 172.101. For the readers' convenience, in Appendix B to § 172.101, List of Marine Pollutants, we would revise paragraph “1” by referencing § 171.4, which contains the applicability and exceptions for offering for transportation or transporting marine pollutants. We would revise paragraph “2” to reflect the IMDG Code's provision for the use of two Class 9 proper shipping names when a marine pollutant is not listed by name or by synonym in the HMT and does not meet the definitions of Class 1 through 8. In addition, a number of materials would be added, removed or amended in the List of Marine Pollutants. Included is the proposed removal of the entry “EPTC (ISO)” which also was the subject of a petition for rulemaking (P-1360) requesting removal of the entry based on its removal from the IMDG Code. Various other entries previously identified as marine pollutants are proposed to be removed. All of the proposed amendments to the List of Marine Pollutants are consistent with the marine pollutants provided in Amendment 30 of the IMDG Code.

Section 172.102. We propose to revise, add and remove special provisions as follows:

—Special Provision 43 would be revised to include a provision which would except “Nitrocellulose membrane filters,” UN3270 from the HMR requirements if shown not to meet the criteria for a Division 4.1 hazardous material, according to burn rate tests in Sub-section 33.2.1. of the UN Manual of Tests and Criteria, Part III.

—Special Provision 110 would be revised to more fully identify fire extinguishers that may be assigned to certain proper shipping names. The proposal would also provide for harmonization with the ICAO Technical Instructions. (We also propose to add the special provision to the entry, “Fire extinguishers containing compressed or liquefied gas.” See § 172.101 proposed HMT changes.)

—Special Provision 128 would be revised based on the proposal to assign it to “Magnesium granules, coated, particle size not less than 149 microns.” (See § 172.101, proposed Column (7) changes.)

—Special Provision 136 would be revised to reflect the changes adopted by the UN Committee of Experts and the ICAO Dangerous Goods Panel for the entry “Dangerous Goods in Machinery or Dangerous Goods in Apparatus.” (Also see § 172.101.) We would revise the special provision by removing the text specific to the determination of the hazard class based on the UN Committee of Experts' decision that items under this entry should be assigned to Class 9.

—A new Special Provision 139 would be added for two new proposed entries, “Radioactive material, transported under special arrangement, fissile” and “Radioactive material, transported under special arrangement non-fissile or fissile-excepted.” The special provision requires international shipments using the two entries to be made under an IAEA Certificate of Competent Authority to be issued by the U.S. Competent Authority. Domestic shipments transported under the two entries would be allowed only under a DOT exemption.

—A new Special Provision 142 would be assigned for the new entry “Nitroglycerin mixture, desensitized, liquid, n.o.s.” The special provision would require the material to be approved by the Associate Administrator.

—A new Special Provision 143 would be added for the entry “Life-saving appliances, not self-inflating, containing dangerous goods as equipment.” The special provision would clarify which articles may be transported under this entry.

— In conjunction with the proposal to revise and consolidate the IBC requirements (see § 172.101, Column (7) changes), we would make the following changes: revise the special provisions for bulk packagings in paragraph (c)(3) to exclude IBCs by revising Special Provisions B53 and B69 and removing Special Provisions B100, B101, B103 through B106 and B108 through B110, and a new paragraph (c)(4) would be added for special provisions specific to IBCs (BB Codes).

—The current T codes in paragraph (c)(7) would be revised to reflect the proposed incorporation of requirements for UN portable tanks and would apply to hazardous materials of Classes 2 through 9. The revised T codes would be consistent with those in the UN Recommendations and the IMDG Code and would supersede the current HMR IM portable tank T codes. The T code provisions would be required in addition to the proposed requirements in part 178. The codes specify the types of authorized portable tanks according to the specific hazardous material transported in the portable tank. Portable tank assignments for Zone A and Zone B toxic-by-inhalation liquids would remain consistent with their current assignments in the HMR. In instances where the UN requires a competent authority approval for transportation in portable tanks (such as when TP9 is assigned in the UN Recommendations), we have removed the approval provision. A transition period would be provided for the continued use of the existing T codes for IM portable tanks (see § 171.14(d)(5)).

—A new Special Provision W7 would be added for seven proposed new Class 7 entries and would assign the vessel stowage category “D,” as defined in § 172.101(k)(4), to uranyl nitrate hexahydrate solution.

—A new Special Provision W8 would be added for four proposed new Class 7 entries and would assign the vessel stowage category “D,” as defined in § 172.101(k)(4), to pyrophoric thorium metal or pyrophoric uranium metal.

—Finally, a new Special Provision W9 would be added for assignment to the entries, “Calcium hypochlorite, dry or Calcium hypochlorite mixtures dry with more than 39 percent available chlorine (8.8 percent available oxygen,” UN1748; “Calcium hypochlorite, hydrated or Calcium hypochlorite, hydrated mixtures with not less than 5.5 percent but not more than 10 percent water,” UN2880; and “Calcium hypochlorite mixtures, dry, with more than 10 percent but not more than 39 percent available chlorine.” UN2208. This proposed action would align the packaging requirements for these entries with those contained in Amendment 30 to the IMDG Code by authorizing certain packagings only when approved by the Associate Administrator.

Section 172.203. We are proposing to revise paragraphs (d)(11), (i) and (n). In paragraph (d)(11), we propose to allow an exception from the requirement to add the appropriate group notation to the shipping description for a shipment of low specific activity material or surface contaminated objects provided the symbols are contained in the proper shipping name.

In paragraph (i), we would add two additional shipping paper description requirements for transportation by vessel. The first amendment would be added as new paragraph (i)(5) and would require the flashpoint for a liquid hazardous material with a flashpoint of 61 °C or below to be included on shipping papers when transported by water. We received a petition (P-1402) from the Vessel Operators Hazardous Materials Association (VOHMA) requesting that we add an additional shipping paper description requirement to include the minimum flashpoint in degrees Celsius for Class 3 (flammable) or combustible liquid hazardous materials. VOHMA stated that the amendment would help support compliance with the current stowage requirements in § 176.305(c) and the segregation requirements (Code 22 and 23, see § 176.84) as designated in Column (10B) of the § 172.101 Hazardous Materials Table. We agree with the petitioner's reasoning; however, for consistency with the IMDG Code, we propose to add the requirement to specify the flashpoint when it is 61 °C or below for all such liquid hazardous materials whether or not the primary hazard is Class 3. The second amendment to the additional shipping paper description requirements for transportation by vessel would be added as new paragraph (i)(6) and is based on comments from the USCG regarding further harmonization with the IMDG Code. The amendment would require subsidiary risks of a hazardous material that are not reflected in the proper shipping name to be included on shipping papers.

Finally, in paragraph (n), we are proposing to clarify that the shipping paper requirement for the word “HOT” to be placed immediately preceding the proper shipping names of hazardous materials that are transported as elevated temperature materials, is not required for proper shipping names containing the words “Molten” or “Elevated temperature.”

Sections 172.402, 172.405 and 172.411. Consistent with the eleventh revised edition of the UN Recommendations, we are removing the requirement to differentiate between primary and subsidiary labels. Currently, primary labels are required to display the hazard class or division number in the lower corner of the label, while subsidiary labels may not display these numbers. We are proposing to amend the requirement which provides for two label specifications (one for primary hazards and one for subsidiary hazards) by removing the subsidiary hazard label specification. Upon adoption of this proposal, labels used to convey both primary and subsidiary hazards would display the appropriate hazard class or division number at the bottom of the label. This proposed change would provide relief by eliminating the need for shippers to stock two sets of labels. We also propose to allow labels meeting the current label specifications to continue to be displayed until October 1, 2005.

Section 172.504. Based on comments and our own initiative, we are proposing to allow the display of only one placard displaying one compatibility letter when certain Class 1 materials (explosives) of different compatibility groups are transported together in a single transport vehicle or container. This proposal is consistent with the mixed packaging allowances in § 173.61.

Section 172.519. Consistent with the proposal to eliminate the distinction between primary and subsidiary labels, we would revise paragraph (b)(4) to eliminate the requirement for placards. In addition, we would incorporate a new paragraph (b)(4)(i) to permit subsidiary placards meeting the current placarding specifications (such as placards without the hazard class or division number displayed in the lower corner of the placard) to continue to be displayed provided they were permanently affixed before January 1, 2001. Non-permanently affixed subsidiary placards meeting the current placarding specifications would be allowed to be displayed until October 1, 2005 or until current stocks are depleted, whichever occurs first.

Part 173

Section 173.2a. Consistent with the eleventh revised edition of the UN Recommendations, we would revise Note 2 to exclude liquid and solid desensitized explosives. In addition, we would add the revised Note 2 to Class 3, PG I, II and III.

Section 173.4. Based on a request for clarification, we would revise paragraph (a) to clarify that the small quantity exceptions apply to packagings containing articles, as well as inner receptacles.

Section 173.24b. We would add a new paragraph (e) to address acceptance of foreign manufactured UN portable tanks that conform to the applicable provisions in the UN Recommendations on the Transport of Dangerous Goods and are manufactured in countries that provide reciprocal treatment for UN portable tanks manufactured in the United States.

Section 173.28. We would correct a reference in paragraph (d)(1)(ii). The paragraph currently references “§ 173.225(c)(5)” and would be corrected to read § 173.225(c)(3).”

Section 173.32. We are proposing to revise this section to provide requirements for all portable tanks by consolidating the requirements for the use of IM portable tanks currently in § 173.32(c) into a single section. We are proposing to consolidate the qualification and maintenance requirements in § 173.32(c) and move them to part 180, subpart G, with the qualification and maintenance requirements for IBCs, cargo tanks and tank cars. We are also proposing to include a grandfather clause in this section (§ 173.32) to allow IM 101, 102 and DOT 51 portable tanks to continue to be constructed in accordance with the HMR until January 1, 2003. IM 101, 102 and DOT 51 portable tanks which are certified and approved prior to this date would be authorized for continued use provided they meet the applicable periodic inspection and test requirements proposed in part 180, subpart G. These requirements are currently in § 173.32b. On January 1, 2003, all newly manufactured portable tanks would be required to conform to the requirements for the design, construction and approval of UN portable tanks (see §§ 178.274, 178.275, 178.276 and 178.277). In addition, we are proposing to remove the provisions for the continued use of DOT Specification 52 and 53 portable tanks and ICC Specification portable tanks based on information we received that these portable tanks are no longer used. We specifically request comments with regard to removing these provisions.

Section 173.32a. We are proposing to remove § 173.32a and move its approval requirements for Specification portable tanks to proposed § 178.273. We believe that part 178 is a more appropriate location for these requirements and that the new section will prove to be more convenient for users of the HMR. We also propose to include similar requirements for the proposed incorporation of requirements for UN portable tanks.

Section 173.32b. We are proposing to remove § 173.32b and relocate the test requirements to part 180, subpart G, as discussed in § 173.32.

Section 173.32c. We are proposing to remove § 173.32c. The requirements for the use of all Specification portable tanks would be included in § 173.32, thereby precluding the need for this section.

Section 173.61. Based on our own initiative, for Class 1 (explosives) mixed packaging requirements, we would revise paragraph (e)(3) to allow explosives of compatibility group S that are allowed to be packaged with explosives of all other compatibility groups, except A and L, to be treated as belonging to any of the packaged compatibility groups except S. In addition, we would add a new paragraph (e)(8) to allow explosive articles of compatibility groups C, D, E and G, except for fireworks and articles requiring special packaging, to be treated as belonging to compatibility group E. This proposed revision corresponds with the current allowance contained in § 177.848(g).

Section 173.62. In paragraph (c), we would revise the Explosives Packing Instructions Table to authorize additional types of outer packagings in the following packing instructions: 112(a), 112(b), 112(c), 113, 115, 116, 130, 131, 134, 135, 136, 138, 140, 141,142 and 144.

Section 173.150. We would revise paragraph (d) by clarifying that alcoholic beverages containing over 24% alcohol by volume are not excepted from regulation when transported by a passenger or crewmember on passenger-carrying aircraft. (See preamble discussion under § 175.10.)

Section 173.162. We would revise paragraph (a)(1) by clarifying that the types of packagings specified in the paragraph are combination packagings and that the glass, earthenware or rigid plastics are inner packagings. In addition, for these packagings, we would increase the net mass of 10 kg (22 pounds) for each packaging to15 kg (33 pounds). This is consistent with Packing Instruction 800 in the UN Recommendations.

Section 173.185. We would revise § 173.185 to include a definition for equivalent lithium content for lithium ion cells and batteries and to provide the applicable aggregate lithium quantities relevant to excepting lithium ion cells and batteries from the requirements of the HMR.

Section 173.224. Consistent with the UN Recommendations, we would add the entry “2,2'-Azodi(isobutyronitrile) as a water-based paste” to the Self-Reactive Substances Table for substances that are not subject to the approval provisions of § 173.124(a)(2)(iii), provided all applicable provisions in the table are met. Finally, we would revise paragraph (b)(4) and remove paragraph (d) to allow Type F self-reaction substances to be transported in portable tanks under conditions specified in § 173.225(e) (see preamble discussion under § 173.225).

Section 173.225. We are proposing to amend the paragraph (b) Organic Peroxide Table by making various changes, such as revising several technical names, packing method authorizations and control temperatures. These proposed changes are consistent with the UN Recommendations. We are proposing to remove Notes “7” and “10” consistent with our proposed adoption of UN IBC 520 and add Notes “26” and “27” to specify the available oxygen content limitations for certain new organic peroxides formulations. We would revise paragraph (e) to incorporate the requirements from the eleventh revised edition of the UN Recommendations relevant to the emergency venting devices for portable tanks used for the transportation of organic peroxides and self-reactive substances. This responds to NTSB recommendation (I-92-2) that asked us to “revise the requirements for pressure relief venting on DOT specification 57 portable tanks used to transport dicumyl peroxides and other products with similar rapid decomposition characteristics to ensure that the pressure relief systems prevent overpressure rupture of tanks from a rapid product decomposition reaction.” We propose to apply the recommended venting requirements to all portable tanks and IBCs, rather than just DOT Specification portable tanks. Additionally, the types of portable tanks authorized for type F organic peroxide and self-reactive substances would be expanded to include UN portable tanks. We propose to adopt the requirements in Portable Tank Instruction T23 and IBC Special Provision , IBC 520.

Sections 173.240, 173.241, 173.242 and 173.243. In each section's paragraph (c), we would remove Specification DOT 52 and 53 portable tanks as authorized packagings (see § 173.32 ) because we believe that these portable tanks are no longer used. In addition, we would authorize UN portable tanks. In conjunction with the proposal to revise the requirements for IBCs for alignment with international standards, we would revise paragraph (d) which specifies authorized IBCs in §§ 173.240, 173.241, 173.242 and 173.243 to reflect the proposed incorporation of IBC packing instructions and BB codes (see § 172.101, Column (7)).

Section 173.247. In paragraph (c), we would remove Specification DOT 52 and 53 portable tanks as authorized packagings (see § 173.32).

Section 173.306. Consistent with Packing Instruction P201 in the UN Recommendations, we would amend the paragraph (a)(4)(iii) conditions for transporting flammable, non-pressurized gas samples by revising the inner packagings limit from 2.5 L (0.66 gallons) to 5 L (1.3 gallons).

Section 173.315. We would revise paragraphs (a) and (i) to incorporate provisions for the use of UN portable tanks for the transportation of liquefied compressed gases, in addition to the requirements for DOT Specification 51 portable tanks. Revisions would refer to tank instruction T50 (see UN T Codes under § 172.102) for the transportation of liquefied compressed gases in UN portable tanks and would include minor differences in pressure relief device requirements applicable to UN portable tanks.

Part 175

Section 175.10. For consistency with the ICAO Technical Instructions, we are proposing to revise paragraph (a)(10) to clarify that lighters containing “unabsorbed liquid fuel” are prohibited on one's person or in checked or carry-on baggage. We are proposing to revise exclusions for alcoholic beverages as carry-on and checked baggage to impose a per passenger quantity limit and to restrict the exceptions to alcoholic beverages in retail packagings containing not more than 70% alcohol. We are proposing to revise paragraph (a)(16) to exclude alcoholic beverages. Also, we are proposing to add new paragraph (a)(17) to specify that alcoholic beverages containing more than 24% and not more than 70% alcohol by volume, when carried by passengers or crew in checked or carry-on baggage, are not subject to the HMR if in retail packagings not exceeding 5 liters (1.3 gallons) with a total net quantity per person of 5 liters (1.3 gallons). These proposed changes are consistent with the ICAO Technical Instructions.

Section 175.33. For harmonization with the ICAO Technical Instructions, we would revise paragraph (a) introductory text to add a requirement that the written pilot notification must be accurate and legible.

Section 175.78. We would revise this section to update and align segregation requirements with recent changes adopted in the ICAO Technical Instructions which were based on a UN decision to remove the distinction between primary and subsidiary risk labels. Separate rows and columns would be provided for Divisions 5.1 and 5.2. We would add a new provision to clarify that packages with multiple risks would not need to be segregated from other packages bearing the same UN number.

Section 175.85. Consistent with a new provision adopted in the ICAO Technical Instructions, we would revise paragraph (a) to authorize main deck Class C cargo compartments. Currently, hazardous materials may be carried in a main deck cargo compartment of a passenger aircraft provided the compartment is inaccessible to passengers and it meets certification requirements for a Class B cargo compartment. (Class C cargo compartments differ from Class B cargo compartments in that Class C compartments are required to have a built-in fire extinguishing system, in addition to smoke or fire detection systems.)

Part 176

Section 176.2. In conjunction with the proposal to incorporate a requirement for vessel cargo to be in compliance with the INF Code (see § 176.720), we would add a definition for “INF cargo” under the § 176.2 definitions.

Section 176.63. For the stowage of Class 1 (explosive) materials on board a vessel, we would add a stowage location definition for “closed cargo transport unit.” This proposed addition coincides with the proposed addition of the vessel stowage category definitions contained in Amendment 30 to the IMDG Code. (See § 172.101(k).)

Section 176.84. Consistent with the IMDG Code we would revise paragraph (b) Table of provisions and paragraph (c)(2) stowage provisions. In the paragraph (b) Table of provisions, we would add two new stowage provisions for assignment to the entries, “Calcium hypochlorite, dry or Calcium hypochlorite mixtures dry with more than 39 percent available chlorine (8.8 percent available oxygen),” “Calcium hypochlorite, hydrated or Calcium hypochlorite hydrated mixtures with not less than 5.5 percent but not more than 10 percent water,” and “Calcium hypochlorite mixtures, dry with more than 10 percent but not more than 39 percent available chlorine.” In the paragraph (c)(2), we would revise the list of notes for the stowage of Class 1 (explosive) material provisions.

Section 176.128. We would make an editorial change in § 176.128(c) by correcting an identification number.

Section 176.136. We would make an editorial change in § 176.136 by removing the word “portable.”

Section 176.142. Based on a comment from the National Cargo Bureau, Inc., in § 176.142, paragraph (a), we would revise the list of hazardous materials that may not be transported in a vessel carrying Class 1 (explosive) materials to reflect the most current proper shipping names and to add one extremely flammable material, “Methyl phosphonous dichloride, pyrophoric liquid,” NA2845.

Section 176.720. We would add a new section to require a vessel carrying INF cargo in international transportation to comply with the “International Code for the Safe Carriage of Packaged Irradiated Nuclear Fuel, Plutonium and High-Level Radioactive Wastes on Board Ships,” (INF Code, 1998, English edition). The INF Code was adopted by the International Maritime Safety Committee and will be effective January 1, 2001 under the IMDG Code.

Part 177

Section 177.848. In paragraph (g)(3)(vi), we inadvertently added the terms “special stowage” and “stowed” from the corresponding vessel section of the HMR (§ 174.81) under HM-215C (64 FR 10742). In this NPRM, we propose to correct the wording by removing “special stowage,” which is not applicable to this section, and replacing “stowed” with “loaded, transported and stored.” We received a joint petition from the American Trucking Associations (ATA) and the Institute of Makers of Explosives (IME) (P-1396) requesting additional clarification of this paragraph. The paragraph reads:

“(vi) “6” means explosive articles in compatibility group G, other than fireworks and those requiring special stowage, may be stowed with articles of compatibility groups C, D and E, provided no explosive substances are carried in the same vehicle.”

In this paragraph and the corresponding paragraph in § 174.81, the petitioners request that the word “other” be inserted before the wording “explosive substances.” However, there is a distinction between the words “articles” and “substances.” This paragraph pertains to certain explosive articles allowed to be stowed if no explosive substances (not articles) are carried on the same vehicle.

Part 178

Section 178.273. We are proposing to add a new section by moving the current requirements for the approval of Specification portable tanks from § 173.32a to the proposed § 178.273. These current approval provisions will precede the requirements for UN portable tanks (as proposed in §§ 178.274 through 178.277).

Sections 178.274, 178.275, 178.276 and 178.277. Based on the eleventh revised edition of the UN Recommendations, we are proposing to incorporate four new sections into the HMR for the UN portable tank requirements. This proposed action is based on our own initiative and responds to a petition for rulemaking (P-1373). The requirements apply to the design and construction of portable tanks. The IMO Dangerous Goods, Solid Cargoes and Containers (DSC) Sub-Committee agreed to incorporate the new harmonized UN multimodal portable tank requirements into the reformatted IMDG Code, Amendment 30. The reformatted IMDG Code is scheduled to become effective on January 1, 2001. The IMDG Code also includes a provision to allow for the continued use of portable tanks designed and constructed under the current requirements (those in Amendments 29 or previous amendments to the IMDG Code as applicable, depending on the date of construction).

The IMO intends to allow construction under the new requirements on January 1, 2001, on a voluntary compliance basis, with a mandatory compliance date of January 1, 2003. On January 1, 2003, all new portable tanks will be required to be manufactured in accordance with the new requirements. For purposes of harmonization, we are proposing to incorporate the corresponding design, construction and use requirements for UN portable tanks in the HMR. In addition, in § 173.32 we are proposing to provide for the continued use of IM 101, 102 and DOT Specification 51 portable tanks, which is consistent with the provisions adopted by the IMO.

The design and construction requirements for UN portable tanks do not differ significantly from the existing IM 101 and 102 portable tanks and the DOT Specification 51 requirements. In general, the UN requirements are less restrictive. For example, 6 mm (0.2 inches) minimum thickness is required for most portable tanks, as opposed to the current minimum thickness of 6.35 mm (0.3 inches) for IM 101 and 102 portable tanks. While the majority of the proposed changes involve relaxations of the regulatory requirements, there would be implications for portable tank manufacturers, shippers and operators who transport hazardous materials in portable tanks, and efforts would need to be undertaken to familiarize those affected with the differences. For example, we would require UN portable tanks used for the transportation of liquefied compressed gases to be approved by a DOT-designated approval agency, and we would require all UN portable tanks to meet a 4 g impact test. In addition to portable tanks for liquids and liquefied compressed gases, we propose to incorporate requirements for portable tanks that are used to transport refrigerated liquified gases (cryogenic liquids). Currently, requirements for portable tanks used for refrigerated liquefied gases are not specified in the HMR, and we authorize their use only under DOT exemptions. The differences between UN portable tanks and the current portable tank requirements include, but are not limited to the following:

—The proposed definition for portable tank includes multimodal tanks with a capacity of more than 450 liters (118.9 gallons). Previously, IMO Type 5 and DOT Specification 51 tanks intended for the transport of liquefied compressed gases were limited to a capacity of more than 1000 liters (264.2 gallons).

—The proposed design temperature range is defined as −40 °C to 50 °C (−40 °F to 122.0 °F). This NPRM also proposes design temperatures to be considered for portable tanks subjected to severe climatic conditions. Current regulations specify −20 °C to 50 °C (−4.0 °F to 122.0 °F).

—The proposed UN leakage test for liquids specifies a test pressure not less than 25% of Maximum Allowable Working Pressure (MAWP). The current HMR requirements specify an internal pressure equivalent to MAWP, but not less than 0.2 bar (20.0 kPa) for liquids.

—The proposed test requires that the design and construction of portable tanks must take into account the effects of fatigue during normal conditions of transport. Currently, this is not required in the HMR.

—The proposed requirements specify an absolute minimum thickness of 3 mm (0.1 inches), regardless of the material used and regardless of whether additional protection is provided.

—A rail impact test of 4 g would be required for all portable tanks meeting the definition of “Container” in the International Convention for Safe Containers (CSC).

—The proposed requirements specify that the test pressure be 1.3 times the design pressure. Currently, under the HMR, DOT 51 portable tanks are required to have a test pressure of 1.5 times the design pressure; however, this is based on the vapor pressure of the hazardous material at 115 °F (46.1 °C), whereas the UN calculates the vapor pressure at 65 °C (149 °F). Therefore, the differences between 1.5 at 46 °C and 1.3 at 65 °C would not be significant.

—The proposed requirements include a figure for thermal conductance for the thermal insulation systems of shells intended for the transport of liquefied compressed gases.

—The proposed requirements include a definition for “Holding time” relevant to portable tanks used for the transportation of refrigerated liquefied gases. This is consistent with current HMR requirements in § 178.338-9 for cargo tanks.

—The proposed requirements specify the effectiveness of the insulation system (heat influx in watts) based on a test using the portable tank.

—The proposal allows the specified minimum values for austenitic steels to be increased by 15% according to recognized material standards when greater values are provided in the material inspection certificates.

—The proposed requirements allow the combined capacity of all pressure relief devices to be sufficient to limit the pressure to 120% of the MAWP for liquefied compressed gases.

—The proposed requirements include a new filling limit for the transport of helium.

Based on the above discussion (§§ 178.273 through 178.277), five new sections are proposed to be added as follows: § 178.273 would be added by moving the current requirements for the approval of Specification portable tanks from § 173.32a and introducing similar requirements for UN portable tanks; § 178.274 would be added for the UN portable tank general design and construction requirements; § 178.275 would be added for the additional specifications for UN portable tanks intended for the transportation of liquid and solid materials of Classes 3 through 9; § 178.276 would be added for the additional requirements for UN portable tanks intended for the transportation of liquefied compressed gases; and § 178.277 would be added for the additional requirements for the design, construction, inspection and testing of UN portable tanks intended for the transport of refrigerated liquefied gases.

Section 178.703. Paragraph (a)(1) would be revised by incorporating a minimum height of 12 mm (0.5 inches) for IBC markings and by adding a requirement to allow use of the “W” mark for approval of equivalent IBC packagings, as provided for in § 178.801(i).

Section 178.705. We are proposing to revise the minimum wall thickness requirements to take into account the capacity of the IBC, as well as the IBC design type.

Section 178.801. In paragraph (i), we are proposing to add an approval provision for the use of large packagings, as defined in § 171.8 of this NPRM, provided the large packagings conform to the construction standards, performance testing and packaging marking as specified in UN Recommendations.

Section 178.812. Based on our own initiative, we would revise paragraph (c)(1) and add a new paragraph (c)(3) to add an alternate method for conducting the top lift test for flexible IBCs. Currently, the proposed alternate method is authorized in several approvals issued by the Associate Administrator.

Part 180

Sections 180.601, 180.603, 180.605. We propose to move the qualification and maintenance requirements for portable tanks to part 180. We believe that these requirements would be more appropriately placed in part 180 along with the qualification and maintenance requirements for cargo tanks, IBCs and tank cars. Therefore, we propose to add a new subpart, subpart G, to part 180 for the qualification and maintenance of portable tanks, and to include the incorporation of UN portable tanks as proposed in this NPRM.

IV. Rulemaking Analyses and Notices

A. Executive Order 12866 and DOT Regulatory Policies and Procedures

This proposed rule is not considered a significant regulatory action under section 3(f) of Executive Order 12866 and, therefore, was not reviewed by the Office of Management and Budget. The proposed rule is not considered a significant rule under the Regulatory Policies and Procedures of the Department of Transportation [44 FR 11034]. Because of the minimal economic impact of this proposed rule, preparation of a regulatory impact analysis or regulatory evaluation is not warranted.

B. Executive Order 13132

This proposed rule has been analyzed in accordance with the principles and criteria contained in Executive Order 13132 (“Federalism”). This proposed rule would preempt State, local and Indian tribe requirements but does not propose any regulation that has substantial direct effects on the States, the relationship between the national government and the States, or the distribution of power and responsibilities among the various levels of government. Therefore, the consultation and funding requirements of Executive Order 13132 do not apply.

The Federal hazardous material transportation law, 49 U.S.C. 5101-5127, contains an express preemption provision (49 U.S.C. 5125(b)) that preempts State, local, and Indian tribe requirements on certain covered subjects. Covered subjects are:

(1) The designation, description, and classification of hazardous materials;

(2) The packing, repacking, handling, labeling, marking, and placarding of hazardous materials;

(3) The preparation, execution, and use of shipping documents related to hazardous materials and requirements related to the number, contents, and placement of those documents;

(4) The written notification, recording, and reporting of the unintentional release in transportation of hazardous; or

(5) The design, manufacture, fabrication, marking, maintenance, recondition, repair, or testing of a packaging or container represented, marked, certified, or sold as qualified for use in transporting hazardous material.

This proposed rule addresses covered subject items (1), (2), (3), and (5) above and would preempt State, local, and Indian tribe requirements not meeting the “substantively the same” standard. This proposed rule is necessary to incorporate changes already adopted in international standards. If the changes proposed in this NPRM are not adopted in the HMR, U.S. companies, including numerous small entities competing in foreign markets, will be at an economic disadvantage. These companies would be forced to comply with a dual system of regulation. The proposed changes are intended to avoid this result.

Federal hazardous materials transportation law provides at 5125(b)(2) that, if DOT issues a regulation concerning any of the covered subjects, DOT must determine and publish in the Federal Register the effective date of Federal preemption. The effective date may not be earlier than the 90th day following the date of issuance of the final rule and not later than two years after the date of issuance. Thus, RSPA lacks discretion in this area. RSPA proposes that the effective date of Federal preemption will be 180 days from publication of a final rule in this matter in the Federal Register.

C. Executive Order 13084

This proposed rule has been analyzed in accordance with the principles and criteria contained in Executive Order 13084 (“Consultation and Coordination with Indian Tribal Governments”). Because this proposed rule does not significantly or uniquely affect the communities of the Indian tribal governments and does not impose substantial direct compliance costs, the funding and consultation requirements of Executive Order 13084 do not apply.

D. Regulatory Flexibility Act

This proposed rule would incorporate changes introduced in the eleventh revised edition of the UN Recommendations, the 2001-2002 ICAO Technical Instructions, and Amendment 30 to the IMDG Code. It would apply to offerors and carriers of hazardous materials and would facilitate the transportation of hazardous materials in international commerce by providing consistency with international requirements.

The costs associated with this proposed rule are considered to be so minimal as to not warrant preparation of a regulatory impact analysis or regulatory evaluation. The majority of amendments should result in cost savings and would ease the regulatory compliance burden for shippers engaged in international commerce, including trans-border shipments within North America. For example, cost savings will be realized by shippers and carriers as a result of eliminating the differences between primary and subsidiary labels. As a result of this change, it will no longer be necessary to stock two sets of labels for each hazard class. To ease any burden associated with this change, we are proposing a reasonable transition period where labels meeting current and proposed requirements may be used. Other cost savings include: revising minimum thickness requirements for metal IBCs; providing greater harmonization with international regulations and flexibility for IBCs and portable tanks that may be used for the transportation of hazardous materials; authorizing the use of UN portable tanks while retaining current IM 101, 102 and DOT Specification 51 portable tank requirements and authorizations for their use; numerous deletions from the hazardous materials table and the marine pollutant list; more flexible requirements for transporting samples of hazardous materials; authorization to use a single explosives placard when explosives of several compatibility groups are transported in a single freight container or vehicle; several clarifications of existing regulatory requirements; and revised requirements for large lithium batteries which will simplify the regulatory requirements applicable to batteries used in high energy efficient hybrid vehicles. We are proposing immediate voluntary compliance (as of January 1, 2001 or the date of publication of the final rule, whichever occurs first), a delayed effective date and a one-year transition period to allow for training of employees and to ease any burden on entities affected by the proposed amendments. Many companies involved in domestic, as well as global operations, will realize economic benefits as a result of the proposed amendments in this rulemaking. Therefore, I certify that this proposed rule will not, if promulgated, have a significant economic impact on a substantial number of small entities. This certification is subject to modification as a result of a review of comments received in response to this proposal.

E. Paperwork Reduction Act

We have current information collection approvals under OMB No. 2137-0557, Approvals for Hazardous Materials, which expires March 31, 2002, with 18,302 burden hours and $413,737.40 annual costs, and OMB No. 2137-0018, Inspection and Testing of Portable Tanks and Intermediate Bulk Containers, which expires March 31, 2002, with 51,340 burden hours and $10,235,000 annual costs. We believe that this proposed rule may result in minor incremental increases in the annual burden hours and costs. If these proposals are finalized, the current approvals would be revised and resubmitted to OMB for extension and re-approval.

Section 1320.8(d), Title 5, Code of Federal Regulations requires that RSPA provide interested members of the public and affected agencies an opportunity to comment on information collection and recordkeeping requests. This notice identifies information collections that we may submit to OMB for extension and re-approval based on the requirements in this proposed rule. We have revised burden estimates, where appropriate, to reflect current reporting levels or adjustments based on changes in this proposed rule since the information collections were last approved. We estimate that the total information collection and recordkeeping burdens as proposed in this rule would be revised as follows:

OMB No. 2137-0557:

Number of Respondents: 3,518.

Total Annual Responses: 3,869.

Total Annual Burden Hours: 18,381.

Total Annual Burden Cost: $413,737.40.

One-time Annual Start Up Burden Hours: 168.

One-time Annual Start Up Cost: $11,758.50.

Total Responses for First Year: 4,005.

Total Annual Burden Hours for First Year: 18,549.

Total Annual Burden Cost for First Year: $425,495.90.

We specifically request comments on the information collection and recordkeeping burdens associated with developing, implementing, and maintaining these requirements for approval under this proposed rule.

Requests for a copy of the information collection approvals, requests and data should be directed to Deborah Boothe, Office of Hazardous Materials Standards (DHM-10), Research and Special Programs Administration, Room 8102, 400 Seventh Street, SW, Washington, DC 20590-0001, Telephone (202) 366-8553.

Written comments should be addressed to the Dockets Management System as identified in the ADDRESSES section of this rulemaking. Comments should be received prior to the close of comment period identified in the DATES section of this rulemaking. Under the Paperwork Reduction Act of 1995, no person is required to respond to an information collection unless it displays a valid OMB control number. If these proposed requirements are adopted in a final rule, we will submit the revised information collection and recordkeeping requirements to the Office of Management and Budget for approval.

F. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

G. Unfunded Mandates Reform Act

This proposed rule does not impose unfunded mandates under the Unfunded Mandates Reform Act of 1995. It does not result in costs of $100 million or more to either State, local or tribal governments, in the aggregate, or to the private sector, and is the least burdensome alternative that achieves the objective of the rule.

List of Subjects

49 CFR Part 171

Exports, Hazardous materials transportation, Hazardous waste, Imports, Incorporation by reference, Reporting and recordkeeping requirements.

49 CFR Part 172

Education, Hazardous materials transportation, Hazardous waste, Labeling, Markings, Packaging and containers, Reporting and recordkeeping requirements.

49 CFR Part 173

Hazardous materials transportation, Packaging and containers, Radioactive materials, Reporting and recordkeeping requirements, Uranium.

49 CFR Part 174

Hazardous materials transportation, Radioactive materials, Railroad safety.

49 CFR Part 175

Air carriers, Hazardous materials transportation, Radioactive materials, Reporting and recordkeeping requirements.

49 CFR Part 176

Hazardous materials transportation, Maritime carriers, Radioactive materials, Reporting and recordkeeping requirements.

49 CFR Part 177

Hazardous materials transportation, Motor carriers, Radioactive materials, Reporting and recordkeeping requirements.

49 CFR Part 178

Hazardous materials transportation, Motor vehicle safety, Packaging and containers, Reporting and recordkeeping requirements.

49 CFR Part 180

Hazardous materials transportation, Motor carriers, Motor vehicle safety, Packaging and containers, Railroad safety, Reporting and recordkeeping requirements.

In consideration of the foregoing, 49 CFR Chapter I is proposed to be amended as follows:

PART 171—GENERAL INFORMATION, REGULATIONS, AND DEFINITIONS

1. The authority citation for part 171 would continue to read as follows:

Authority: 49 U.S.C. 5101-5127; 49 CFR 1.53.

2. In § 171.7, in the paragraph (a)(3) table:

a. Under the entry “American Society for Testing and Materials”, a new entry would be added in alpha-numeric order;

b. Under the entry “International Atomic Energy Agency (IAEA)”, a new entry would be added in alhabetical order;

c. Under the entry “International Civil Aviation Organization (ICAO)”, the existing entry would be revised;

d. Under the entry “International Maritime Organization (IMO)”, the existing entry would be revised and a new entry would be added in appropriate alphabetical order;

e. Under the entry “International Organization for Standardization”, three new entries would added in appropriate alphabetical/numerical order; and

f. Under the entry “United Nations”, the existing entries would be revised.

The revisions and additions read as follows:

§ 171.7 Reference material.

(a) Matter incorporated by reference. * * *

(3) Table of material incorporated by reference. * * *

Source and name of material | 49 CFR reference
* * * * * * *
American Society for Testing and Materials
* * * * * * *
ASTM E 112-96 Standard Test Methods for Determining Average Grain Size, 1996 Edition | 178.274
* * * * * * *
International Atomic Energy Agency (IAEA)
* * * * * * *
IAEA, Regulations for the Safe Transport of Radioactive Material, No. ST-1, 1996 Edition | 171.12(d)
* * * * * * *
International Civil Aviation Organization (ICAO)
* * * * * * *
Technical Instructions for the Safe Transport of Dangerous Goods by Air, DOC 9284-AN/905, 2001-2002 Edition | 171.11; 172.191; 172.202; 172.401; 172.512; 172.519; 172.602
International Maritime Organization (IMO)
* * * * * * *
International Code for the Safe Carriage of Packaged Irradiated Nuclear Fuel, Plutonium and High-Level Radioactive Wastes On Board Ships (INF Code) | 176.720
International Maritime Dangerous Goods (IMDG) Code, as amended by Amendment 30 (2000 edition) | 171.12; 172.401; 172.407; 173.21; 176.2; 176.5; 176.11; 176.27; 176.30.
International Organization for Standardization
* * * * * * *
ISO 1496-3 Series 1 freight containers—Specification and testing, 1996 edition | 178.274
* * * * * * *
ISO 4126-1 Safety valves Part 1: Safety valves,1991 edition | 178.274
* * * * * * *
ISO 6892 Metallic materials—Tensile testing, 1984 edition | 178.274
* * * * * * *
United Nations
* * * * * * *
UN Recommendations on the Transport of Dangerous Goods, Eleventh Revised Edition (1999) | 172.102; 172.401; 172.407; 172.502; 173.1; 173.3; 173.21; 173.22; 173.24; 173.56; 173.57; 173.124; 173.166; 178.500; 178.700.
UN Recommendations on the Transport of Dangerous Goods, Manual of Tests and Criteria, Third Revised Edition (1999) | 172.102; 173.21; 173.57; 173.58; 173.124; 173.128; 173.166; 173.185.

* * * * *

3. In § 171.8, the following definitions would be added in appropriate alphabetical order to read as follows:

§ 171.8 Definitions and abbreviations.

* * * * *

Large packaging means a packaging that—

(1) Consists of an outer packaging which contains articles or inner packagings; and

(2) Is designed for mechanical handling; and

(3) Exceeds 400 kg net mass or 450 liters (118.9 gallons) capacity and has a volume of not more than 3 m³. (See § 178.801(i) of this subchapter); and.

(4) Conforms to the requirements for the construction, testing and marking of large packagings as specified in the UN Recommendations.

* * * * *

Liner means a separate tube or bag inserted into a packaging, (including IBCs and large packagings) but not forming an integral part of the packaging, including the closures of the packaging's openings.

* * * * *

Stabilized means that the hazardous material is in a condition that precludes uncontrolled reaction. This may be achieved by methods such as adding an inhibiting chemical, degassing the hazardous material to remove dissolved oxygen and inerting the air space in the package, or maintaining the hazardous material under temperature control.

* * * * *

UN portable tank means a multimodal tank having a capacity of more than 450 liters (118.9 gallons). It includes a shell fitted with service equipment and structural equipment, including stabilizing members external to the shell and skids, mountings or accessories to facilitate mechanical handling. The UN portable tank must be capable of being filled and discharged without the removal of its structural equipment and must be capable of being lifted when full. Cargo tanks, rail tank car tanks, non-metallic tanks and IBCs and packagings made to cylinder specifications are not UN portable tanks.

* * * * *

4. In § 171.10, in the paragraph (c)(2) Table of Conversion Factors for SI Units, a unit of measure would be added as the last entry to read as follows:

§ 171.10 Units of measure.

* * * * *

(c) * * *

(2) * * *

Table of Conversion Factors for SI Units
Measurement | SI to U.S. standard | U.S. standard to SI
* * * * * * *
Force | 1 Newton = 9.807 pound-force | 1 Pound-force = 0.1020N.

* * * * *

5. In § 171.11, a new paragraph (d)(17) would be added to read as follows:

§ 171.11 Use of ICAO Technical Instructions.

* * * * *

(d) * * *

(17) An organic peroxide that is not identified by technical name in the Organic Peroxide Table in § 173.225(b) of this subchapter must be approved by the Associate Administrator in accordance with the requirements of § 173.128(d) of this subchapter.

6. In § 171.12, in paragraph (b)(3), a sentence would be added at the end of the paragraph, a new paragraph (b)(19) would be added, and paragraphs (d) heading and introductory text and (d)(4) would be revised to read as follows:

§ 171.12 Import and export shipments.

* * * * *

(b) * * *

(3) * * * A viscous flammable liquid which is excepted from the requirements of the IMDG Code based on having a flash point of 23 °C (73.4 °F) or greater and less than or equal to 60.5 °C (140.9 °F), not meeting the toxic or corrosive definitions, not containing more than 20% nitrocellulose, and being packed in receptacles of less than 450 liters (118.9 gallons) capacity, may not be transported under the provisions of this section and is subject to the requirements of this subchapter.

* * * * *

(19) An organic peroxide that is not identified by technical name in the Organic Peroxide Table in § 173.225(b) of this subchapter must be approved by the Associate Administrator in accordance with the requirements of § 173.128(d) of this subchapter.

* * * * *

(d) Use of International Atomic Energy Agency (IAEA) regulations for Class 7 (radioactive) materials. Class 7 (radioactive) materials being imported into or exported from the United States, or passing through the United States in the course of being shipped between places outside the United States, may be offered and accepted for transportation when packaged, marked, labeled, and otherwise prepared for shipment in accordance with IAEA “Regulations for the Safe Transport of Radioactive Material,” Safety Series No. 6, 1985 edition, or ST-1, 1996 edition (incorporated by reference, see § 171.7), if:

* * * * *

(4) The country of origin for the shipment has adopted the corresponding edition (Safety Series No. 6, 1985 Edition, or ST-1, 1996 Edition) of the IAEA “Regulations for the Safe Transport of Radioactive Material”;

* * * * *

7. In § 171.12a, a new paragraph (b)(18) would be added to read as follows:

§ 171.12a Canadian shipments and packagings.

* * * * *

(b) * * *

(18) An organic peroxide that is not identified by technical name in the Organic Peroxide Table in § 173.225(b) of this subchapter must be approved by the Associate Administrator in accordance with the requirements of § 173.128(d) of this subchapter.

8. In § 171.14, paragraphs (d) introductory text, (d)(1) and (d)(2) introductory text would be revised and a new paragraph (d)(4) would be added to read as follows:

§ 171.14 Transitional provisions for implementing certain requirements.

* * * * *

(d) A final rule published in the Federal Register on [publication date of final rule], effective October 1, 2001, resulted in revisions to this subchapter. During the transition period provided in paragraph (d)(1) of this section, a person may elect to comply with either the applicable requirements of this subchapter in effect on September 30, 2001, or the requirements published in the [publication date of final rule] final rule.

(1) Transition dates. The effective date of the [publication date of final rule] final rule is October 1, 2001. A delayed compliance date of October 1, 2002 is authorized. On October 1, 2002, all applicable regulatory requirements adopted in the [publication date of final rule] final rule must be met.

(2) Intermixing old and new requirements. Prior to the transition date in paragraph (d)(1) of this section, it is recommended that the hazard communication requirements be consistent where practicable. Marking, labeling, placarding, and shipping paper descriptions should conform to either the old requirements of this subchapter in effect on September 30, 2001, or the new requirements of this subchapter in the [publication date of final rule] final rule without intermixing communication elements. However, intermixing is permitted, during the applicable transition period, for packaging, hazard communication, and handling provisions, as follows:

* * * * *

(4) Until January 1, 2010, a hazardous material may be transported in an IM or IMO portable tank in accordance with the T Codes (special provisions) assigned to a hazardous material in Column (7) of the HMT in effect on September 30, 2000.

PART 172—HAZARDOUS MATERIALS TABLE, SPECIAL PROVISIONS, HAZARDOUS MATERIALS COMMUNICATIONS, EMERGENCY RESPONSE INFORMATION, AND TRAINING REQUIREMENTS

9. The authority citation for part 172 would continue to read as follows:

Authority: 49 U.S.C. 5101-5127; 49 CFR 1.53.

10. In § 172.101, paragraph (c)(11) would be revised and new paragraphs (c)(16) and (k)(6) through (k)(20) would be added to read as follows:

§ 172.101 Purpose and use of hazardous materials table.

* * * * *

(c) * * *

(11) Except for a material subject to § 173.21, § 173.54, § 173.56(d), § 173.56(e)(1), § 173.124(a)(2)(iii) or § 173.128(c) of this subchapter, a hazardous waste or a sample of a material for which the hazard class is uncertain and must be determined by testing, may be assigned a tentative proper shipping name, hazard class/division, identification number, and packing group, if applicable, based on the shipper's tentative determination according to: Defining criteria in this subchapter; the hazard precedence prescribed in § 173.2a of this subchapter; and the shippers knowledge of the material. In addition, a sample of material that is to be tested is subject to the following requirements:

(i) A sample may not be an explosive, infectious substance, or radioactive material;

(ii) Except when the word “Sample” already appears in the proper shipping name, the word “Sample” must appear before the proper shipping name for the sample;

(iii) If the proper shipping description for a sample is assigned a “G” in Column (1) of the HMT, the provisions requiring a technical name for the constituent(s) do not apply;

(iv) A sample must be transported in a combination packaging which conforms to the requirements of this subchapter that are applicable to the tentative Packing Group assigned, and may not exceed a net mass of 2.5 kg. (5.5 pounds) per package;

(v) A sample may not be packed together with any other hazardous material;

(vi) For a sample that is a self-reactive material, the requirements in § 173.224(c)(3) apply; and

(vii) For a sample that is an organic peroxide, the requirements in § 173.225(c)(2) must be met.

* * * * *

(16) Unless it is already included in the proper shipping name in the Table, the qualifying words “liquid” or “solid” may be added in association with the proper shipping name when a hazardous material specifically listed by name in the Table may, due to the differing physical states of the various isomers of the material, be either a liquid or a solid (for example “Dinitrotoluenes, liquid” and “Dinitrotoluenes, solid”). Use of the words “liquid” or “solid” is subject to the limitations specified for the use of the words “mixture” or “solution” in paragraph § 172.101(c)(10) of this section. The qualifying word “molten” may be added in association with the proper shipping name when a hazardous material, which is a solid in accordance with the definition in § 171.8 of this subchapter, is offered for transportation in the molten state (for example, “Alkylphenols, solid, n.o.s., molten”).

* * * * *

(k) * * *

(6) Stowage category “01” means the material may be stowed “on deck” or “under deck” on a cargo vessel (up to 12 passengers) and on a passenger vessel.

(7) Stowage category “02” means the material may be stowed “on deck” or “under deck” on a cargo vessel (up to 12 passengers) and “on deck” in closed cargo transport units or “under deck” in closed cargo transport units on a passenger vessel.

(8) Stowage category “03” means the material may be stowed “on deck” or “under deck” on a cargo vessel (up to 12 passengers) and “on deck” in closed cargo transport units on a passenger vessel.

(9) Stowage category “04” means the material may be stowed “on deck” or “under deck” on a cargo vessel (up to 12 passengers) but the material is prohibited on a passenger vessel.

(10) Stowage category “05” means the material may be stowed “on deck” in closed cargo transport units or “under deck” on a cargo vessel (up to 12 passengers) and on a passenger vessel.

(11) Stowage category “06” means the material may be stowed “on deck” in closed cargo transport units or “under deck” on a cargo vessel (up to 12 passengers) and “on deck” in closed cargo transport units or “under deck” in closed cargo transport units on a passenger vessel.

(12) Stowage category “07” means the material may be stowed “on deck” in closed cargo transport units or “under deck” on a cargo vessel (up to 12 passengers) and “on deck” only in closed cargo transport units on a passenger vessel.

(13) Stowage category “08” means the material may be stowed “on deck” in closed cargo transport units or “under deck” on a cargo vessel (up to 12 passengers) but the material is prohibited on a passenger vessel.

(14) Stowage category “09” means the material may be stowed “on deck” in closed cargo transport units or “under deck” in closed cargo transport units on a cargo vessel (up to 12 passengers) and on a passenger vessel.

(15) Stowage category “10” means the material may be stowed “on deck” in closed cargo transport units or “under deck” in closed cargo transport units on a cargo vessel (up to 12 passengers) and “on deck” only in closed cargo transport units on a passenger vessel.

(16) Stowage category “11” means the material may be stowed “on deck” in closed cargo transport units or “under deck” in magazine stowage type “c” on a cargo vessel (up to 12 passengers) and “on deck” only in closed cargo transport units on a passenger vessel.

(17) Stowage category “12” means the material may be stowed “on deck” in closed cargo transport units or “under deck” in magazine stowage type “c” on a cargo vessel (up to 12 passengers) but the material is prohibited on a passenger vessel.

(18) Stowage category “13” means the material may be stowed “on deck” in closed cargo transport units or “under deck” in magazine stowage type “A” on a cargo vessel (up to 12 passengers) and “on deck” only in closed cargo transport units on a passenger vessel.

(19) Stowage category “14” means the material may be stowed “on deck” in closed cargo transport units on a cargo vessel (up to 12 passengers) but the material is prohibited on a passenger vessel.

(20) Stowage category “15” means the material may be stowed “on deck” in closed cargo transport units or “under deck” in closed cargo transport units on a cargo vessel (up to 12 passengers) but the material is prohibited on a passenger vessel.

* * * * *

11. In § 172.101, the Hazardous Materials Table would be amended by removing, adding, or revising, in appropriate alphabetical sequence, the following entries to read as follows:

§ 172.101 Purpose and use of hazardous materials table.

* * * * *

§ 172.101 Hazardous Materials Table
Symbols | Hazardous materials descriptions and proper shipping names | Hazard class or division | Identification Nos. | PG | Label codes | Special provisions | (8) Packaging (§ 173.***): Exceptions | (8) Packaging (§ 173.***): Non-bulk | (8) Packaging (§ 173.***): Bulk | (9) Quantity limitations: Passenger aircraft/rail | (9) Quantity limitations: Cargo aircraft only | (10) Vessel stowage: Location | (10) Vessel stowage: Other
(1) | (2) | (3) | (4) | (5) | (6) | (7) | (8A) | (8B) | (8C) | (9A) | (9B) | (10A) | (10B)
* * * * * * *
| [REMOVE:]
| Accumulators, pressurized, pneumatic or hydraulic (containing non-flammable gas.) |  | NA1956
| Aldrin, liquid (PG II) |  | NA2762
| Aldrin, solid (PG II) |  | NA2761
| Antimony tribromide, solids (PG II) |  | NA1549
| Antimony tribromide, solution (PG II) |  | NA1549
| Antimony trifluoride, solution (PG II) |  | NA1549
| Antimony trifluoride, solution (PG) |  | NA1549
| Arsenic sulfide (PG II) |  | NA1557
| Arsenic trisulfide (PG II) |  | NA1557
| Barium styphnate (PG II) |  | NA0473
| Calcium arsenite, solid (PG II) |  | NA1574
| Chromic acid, solid (PG II) |  | NA1463
| Denatured alcohol (PG I, II, III) |  | NA1986
| Denatured alcohol (PG I, II, III) |  | NA1987
| Dichlorobutene (PG I) |  | NA2920
D | Dieldrin (PG II) |  | NA2761
D | Diesel fuel |  | NA1993
| Dodecylbenzene-sulfonic acid (PG II) |  | NA2584
| Gasohol gasoline mixed with ethyl alcohol, with not more than 20 percent alcohol. (PG II) |  | NA1203
| Grenades, empty primed (PG II) |  | NA0349
| Insecticide gases flammable n.o.s |  | NA1954
| Isobutyric anhydride (PG III) |  | UN2530
| Lead mono-nitroresorcinate (PG II) |  | NA0473
| Lighters for cigars, cigarettes, etc., with lighter fluids. (PG II) |  | NA1226
| Maleic acid (PG III) |  | NA2215
| Medicines, corrosive, liquid, n.o.s. (PG II, III) |  | NA1760
| Medicines, corrosive, solid, n.o.s. (PG II, III) |  | NA1759
| Medicines, flammable, liquid, n.o.s. (PG I, II, III) |  | NA1993
| Medicines, flammable, solids, n.o.s. (PG II) |  | NA1325
| Medicines, oxidizing substance, solid, n.o.s. (PG II) |  | NA1479
| Metal alkyl, solution, n.o.s. (PG II) |  | NA9195
| Methacrylic acid, inhibited (PG III) |  | UN2531
| Methyl parathion liquid (PG II) |  | NA3018
| Methyl parathion solid (PG II) |  | NA2783
| Organic perioxide type F, solid temperature controlled. (PG III only) |  | UN3120
| Parathion (PG I, II) |  | NA2783
| Picric acide, wet, with not less than 10 percent water. (PG I) |  | NA1344
| Propargyl alcohol (PG II) |  | NA1986
| Refrigerating machine (PG III) |  | NA1993
| Refrigerating machines, containing flammable, non-poisonous, liquefied gas |  | NA1954
| Selenium oxide (PG I) |  | NA2811
| Sodium hydrosulfide, solution (PG II) |  | NA2922
| Sodium selenite (PG II) |  | NA2630
| Sulfur trioxide, uninhibited (PG I) |  | NA1829
| Tetraethyl lead, liquid (PG I) |  | NA1649
| Tetraethyl pyrophosphate, liquid (PG I) |  | NA3018
| Tetraethyl pyrophosphate solid (PG II) |  | NA1707
| Titanium sulfate solution (PG II) |  | NA1760
| mon-(Trichloro) tetra- (monopotassium dichloro)-panta-s-triazinetrione, dry (with more than 39 percent available chlorine). (PG II) |  | NA2468
| Oxygen generator, checmical |  | UN3356
| Zirconium sulfate (PG III) |  | NA9163
* * * * * * *
| [ADD:]
* * * * * * *
| Aircraft engines (including turbines), see Engines, internal combustion
* * * * * * *
| Diesel fuel, see Gas oil | 3 | NA1883 | III | None | B1 | 150 | 203 | 242 | 60 L | 220 L | A |
* * * * * * *
| Fuel system components (including fuel control units (FCU), carburetor, fuel lines, fuel pumps) see Dangerous Goods in Apparatus or Dangerous Goods in Machinery
* * * * * * *
| Methacrylic acid, stabilized | 8 | UN2531 | II | 8 | T14 | 154 | 202 | 242 | 1 L | 30 L | A |
* * * * * * *
| Nitroglycerin mixture, desensitized, liquid, n.o.s. with not more than 30% nitroglycerin, by mass | 3 | UA3357 | II | 3 | 142 | None | 202 | 243 | 5 L | 60 L | E |
* * * * * * *
| Oxygen generator, chemical (including when contained in associated equipment, e.g., passenger service units (PSUs), portable breathing equipment (PBE), etc.) | 5.1 | UN3356 | II | 5.1 | 60.A51 | None | 212 | None | Forbidden | 25 kg gross | D | 56, 58, 69, 106
| Propellant, solid | 1.4C | UN0501 |  | 1.4C |  | None | 62 | None | Forbidden | Forbidden | A | 24E
* * * * * * *
I | Radioactive material, excepted package—articles manufactured from natural uranium or depleted uranium or natural thorium |  |  | 7 | UN2909 |  | None | 422, 426 | 422, 426 | 422, 426 |  | A |
* * * * * * *
I | Radioactive material, excepted package—empty packaging | 7 | UN2908 |  | Empty |  | 422, 428 | 422, 428 | 422, 428 |  |  | A |
* * * * * * *
I | Radioactive material, excepted package—instruments or articles | 7 | UN2911 |  | None |  | 422, 424 | 422, 424 | 422, 424 |  |  | A |
* * * * * * *
I | Radioactive material, low specific activity (LSA-I) non fissile or fissile-excepted | 7 | UN2912 |  | 7 | W7 | 421, 422, 428 | 427 | 427 |  |  | A | 95
* * * * * * *
I | Radioactive material, low specific activity (LSA-II) non fissile or fissile-excepted | 7 | UN3321 |  | 7 | W7 | 421, 422, 428 | 427 | 427 |  |  | A | 95
* * * * * * *
I | Radioactive material, low specific activity (LSA-III) non fissile or fissile excepted | 7 | UN3322 |  | 7 | W7 | 421, 422, 428 | 427 | 427 |  |  | A | 95
* * * * * * *
I | Radioactive material, surface contaminated objects (SCO-I or SCO-II) non fissile or fissile-excepted | 7 | UN2913 |  | 7 |  | 421, 422, 428 | 427 | 427 |  |  | A | 95
* * * * * * *
I | Radioactive material, transported under special arrangement, fissile | 7 | UN3331 |  | 7 | 139
* * * * * * *
I | Radioactive material, transported under special arrangement non fissile or fissile-excepted | 7 | UN2919 |  | 7 | 139
* * * * * * *
I | Radioactive material, Type A package, fissile non-special form | 7 | UN3327 |  | 7 | W7, W8 | 453 | 417 | 417 |  |  | A | 95
* * * * * * *
I | Radioactive material, Type A package non-special form, non fissile or fissile-excepted | 7 | UN2915 |  | 7 | W7, W8 |  | 415 | 415 |  |  | A | 95
* * * * * * *
I | Radioactive material, Type A package, special form non fissile or fissile-excepted | 7 | UN3332 |  | 7 | W7, W8 |  | 415, 476 | 415, 476 |  |  | A | 95
* * * * * * *
I | Radioactive material, Type A package, special form, fissile | 7 | UN3333 |  | 7 | W7, W8 | 453 | 417, 476 | 417, 476 |  |  | A |
* * * * * * *
I | Radioactive material, Type B(M) package, fissile | 7 | UN3329 |  | 7 |  | 453 | 417 | 417 |  |  | A |
* * * * * * *
I | Radioactive material, Type B(M) package non fissile or fissile-excepted | 7 | UN2917 |  | 7 |  |  | 416 | 416 |  |  | A | 95
* * * * * * *
I | Radioactive material, Type B(U) package, fissile | 7 | UN3328 |  | 7 |  | 453 | 417 | 417 |  |  | A |
* * * * * * *
I | Radioactive material, Type B(U) package non fissile or fissile-excepted | 7 | UN2916 |  | 7 |  |  | 416 | 416 |  |  | A | 95
I | Radioactive material, uranium hexafluoride non fissile or fissile-excepted | 7 | UN2978 |  | 7,8 |  | 423 | 420, 427 | 420, 427 |  |  | A | 95
* * * * * * *
I | Radioactive material, uranium hexafluoride, fissile | 7 | UN2977 |  | 7,8 |  | 453 | 417, 420 | 417, 420 |  |  | A |
* * * * * * *
| Refrigerating Machines containing flammable, nontoxic, liquefied gas | 2.1 | UN3358 |  | 2.1 |  | 306 | 306 | 306 | Forbidden | Forbidden | C | 40
* * * * * * *
| Rockets with inert head | 1.2C | UN0502 |  | 1.2 |  | None | 62 | None | Forbidden | Forbidden | B | 1E, 5E
* * * * * * *
| 1H-Tetrazole | 1.1D | UN0504 |  | 1.1D |  | None | 62 | None | Forbidden | Forbidden | B | 1E, 5E
* * * * * * *
| [REVISE:]
* * * * * * *
| Calcium hypochlorite, dry or Calcium hypochlorite mixtures dry with more than 39 percent available chlorine (8.8 percent available oxygen) | 5.1 | UN1748 | ll | 5.1 | A7, A9, N34, W9 | 152 | 212 | None | 5 kg | 25 kg | D | 4, 5, 25, 48, 56, 58, 69
| Calcium hypochlorite, hydrated or Calcium hypochlorite, hydrated mixtures, with not less than 5.5 percent but not more than 10 percent water | 5.1 | UN2880 | ll | 5.1 | W9 | 152 | 212 | 240 | 5 kg | 25 kg | D | 4, 5, 25, 48, 56, 58, 69
| Calcium hypochlorite mixtures, dry with more than 10 percent but not more than 39 percent available chlorine | 5.1 | UN2208 | lll | 5.1 | A1, A29, N34, W9 | 152 | 213 | 240 | 25 kg | 100 kg | D | 4, 5, 25, 48, 56, 58, 69
* * * * * * *
| Dangerous Goods in Machinery or Dangerous Goods in Apparatus | 9 | UN3363 |  |  | 136 | None | 222 | None | No limit | No limit | A |
* * * * * * *
| Fire extinguishers containing | 2.2 | UN1044 |  | 2.2 | 18, 110 | 309 | 309 | None | 75 kg | 150 kg | A |
| Magnesium granules, coated, particle size not less than 149 | 4.3 | UN295- | lll | 4.3 | 128, A1, A19, B108, B115 | 151 | 213 | 240 | 25 kg | 100 kg | A |
* * * * * * *
+, l | Methanol | 3 | UN1230 | ll | 3, 6.1 | T8 | 150 | 202 | 242 | 1 L | 60 L | B | 40
* * * * * * *
| Morpholine | 8 | UN2054 | l | 8, 3 | T17 | None | 201 | 243 | .5L | 2.5L | C | 25, 40
* * * * * * *
G | Pyrophoric organometallic compound, water-reactive, n.o.s | 4.2 | UN3203 | l | 4.2, 4.3 | T28, T40 | None | 187 | 242 | Forbidden | Forbidden | D | 18
* * * * * * *
D | Radioactive material, excepted package—articles manufactured from natural or depleted uranium or natural thorium | 7 | UN2910 |  | None |  | 422, 426 | 422, 426 | 422, 426 |  |  | A |
* * * * * * *
D | Radioactive material, excepted package—empty package or empty packaging | 7 | UN2910 |  | empty |  | 428 | 428 | 428 |  |  | A |
* * * * * * *
D | Radioactive material, excepted package—instruments or articles | 7 | UN2910 |  | None |  | 422, 424 | 422, 424 | 422, 424 |  |  | A |
* * * * * * *
D | Radioactive material, fissile, n.o.s | 7 | UN2918 |  | 7 |  | 453 | 417 | 417 |  |  | A | 40, 95
* * * * * * *
D | Radioactive material, low specific activity, n.o.s. or Radioactive material, LSA, n.o.s. | 7 | UN2912 |  | 7 |  | 421, 428 | 427 | 427 |  | A |
* * * * * * *
D | Radioactive material, n.o.s | 7 | UN2982 |  | 7 |  | 421, 428 | 415, 416 | 415, 416 |  |  | A | 40, 95
* * * * * * *
D | Radioactive material, special form n.o.s | 7 | UN2974 |  | 7 |  | 421, 424 | 415, 416 | 415, 416 |  |  | A |
* * * * * * *
| Regulated medical waste | 6.2 | UN3291 | II | 6.2 | A13, A14 | 134 | 197 | None | No limit | No limit | E |
* * * * * * *
D | Radioactive material, surface contaminated object or Radioactive material SCO |  |  | 7 | UN2913 |  | 7 |  | 421, 424, 426 | 427 | 427 | A |
* * * * * * *
D | Thorium metal, pyrophoric | 7 | UN2975 |  | 7,4.2 |  | None | 418 | None | Forbidden | Forbidden | D |
* * * * * * *
D | Thorium nitrate, solid | 7 | UN2976 |  | 7,5.1 |  | None | 419 | None | Forbidden | 15 kg | A |
* * * * * * *
D | Uranium hexafluoride, fissile excepted or non-fissile | 7 | UN2978 |  | 7,8 |  | 423 | 420, 427 | 420, 427 |  |  |  |
* * * * * * *
D | Uranium, hexafluoride, fissile (with more than 1 percent U-235) | 7 | UN2977 |  | 7, 8 |  | 453 | 417, 420 | 417, 420 |  |  | A |
* * * * * * *
D | Uranium metal, pyrophoric | 7 | UN2979 |  | 7,4.2 |  | None | 418 | None |  |  | D |
* * * * * * *
D | Uranyl nitrate hexahydrate solution | 7 | UN2980 |  | 7, 8 |  | 421, 427 | 415, 416, 417 | 415, 416, 417 |  |  | D |
* * * * * * *
D | Uranyl nitrate, solid | 7 | UN2981 |  | 7,5.1 |  | None | 419 | None | Forbidden | 15 kg | A |
* * * * * * *

§ 172.101 [Amended]

12. In addition, in the § 172.101 Hazardous Materials Table, the following changes would be made:

a. In Column (1), a “G” would be added for the entries, “Other regulated substances, liquid, n.o.s.” and “Other regulated substances, solid, n.o.s.”

b. In Column (2), the following proper shipping names would be revised as follows:

Current column 2 entry | Revise to read:
Lithium hypochlorite, dry or Lithium hypochlorite mixtures, dry | Lithium hypochlorite, dry with more than 39% available chlorine (8.8% available oxygen) or Lithium hypochlorite mixtures, dry with more than 39% available chlorine (8.8% available oxygen).
Nitrocellulose membrane filters | Nitrocellulose membrane filters, with not more than 12.6% nitrogen, by dry mass.
Printing ink, flammable | Printing ink, flammable or Printing ink related material (including printing ink thinning or reducing compound), flammable.

c. In Column (2), for the following entries, the word “inhibited” would be revised to read “stabilized”:

Acrolein, inhibited
Acrylic acid, inhibited
Acrylonitrile, inhibited
Bicyclo [2,2,1] hepta-2, 5-diene, inhibited or 2,5-Norbornadiene, inhibited.
Butadienes, inhibited
Butyl acrylates, inhibited
n-Butyl methacrylates, inhibited.
Butyl vinyl ether, inhibited
Chloral, anhydrous, inhibited
Chloroprene, inhibited
Cyanogen chloride, inhibited
Diketene, inhibited
Divinyl ether, inhibited
Ethyl acrylate, inhibited
Ethylacetylene, inhibited
Ethyleneimine, inhibited
Isobutyl acrylate, inhibited
Isobutyl methacrylate, inhibited
Isoprene, inhibited
Methacrylaldehyde, inhibited
Methacrylic acid, inhibited
Methacrylonitrile, inhibited
Methyl acrylate, inhibited
Methyl isopropenyl ketone, inhibited.
Methyl methacrylate monomer, inhibited.
Propadiene, inhibited
Propyleneimine, inhibited
Styrene monomer, inhibited
Tetrafluoroethylene, inhibited
Trifluorochloroethylene, inhibited
Vinyl acetate, inhibited
Vinyl bromide, inhibited
Vinyl butyrate, inhibited
Vinyl ethyl ether, inhibited
Vinyl fluoride, inhibited
Vinyl isobutyl ether, inhibited
Vinyl methyl ether, inhibited
Vinyl chloride, inhibited or Vinyl chloride, stabilized
Vinylidene chloride, inhibited
Vinylpyridines, inhibited
Vinyltoluene, inhibited
Vinyltrichlorosilane, inhibited

d. In Column (7), the following entry would be revised as follows:

Column (2) entry | Column (7) entry | Revise to read
Life-saving appliances, not self inflating containing dangerous goods as equipment |  | 143

e. In Column (7), the following entries would be revised as follows:

Note to reader: The following Table is listed in numerical order according to the UN identification number. Columns 10 and 11 are proposed special provisions for IBCs. Columns 8 and 9 are proposed special provisions for portable tanks. If adopted, these four columns would appear in the Special Provisions column (Column (7)) of the § 172.101 Hazardous Materials Table.

Table Showing Proposed Portable Tank and IBC Authorizations
UN No. | Name/Description | Class | PG | Label(s) | Special provisions | Bulk section 173.xxx | Portable tank instruction | Port.Tank special provisions | IBC code | IBC special provisions
1003 | Air, refrigerated liquid, (cryogenic liquid) non-pressurized | 2.2 |  | 2.2, 5.1 |  | 318, 319 | T75 | TP22 |  |
1003 | Air, refrigerated liquid, (cryogenic liquid) | 2.2 |  | 2.2, 5.1 |  | 318, 319 | T75 | TP22 |  |
1005 | Ammonia, anhydrous | 2.2 |  | 2.2 | 13 | 314, 315 | T50 |  |  |
1005 | Ammonia, anhydrous | 2.3 |  | 2.3, 8 | 4 | 314, 315 | T50 |  |  |
1009 | Bromotrifluoromethane or Refrigerant gas, R 13B1 | 2.2 |  | 2.2 |  | 314, 315 | T50 |  |  |
1010 | Butadienes, inhibited | 2.1 |  | 2.1 |  | 314, 315 | T50 |  |  |
1011 | Butane see also Petroleum gases, liquefied | 2.1 |  | 2.1 | 19 | 314, 315 | T50 |  |  |
1012 | Butylene see also Petroleum gases, liquefied | 2.1 |  | 2.1 | 19 | 314, 315 | T50 |  |  |
1017 | Chlorine | 2.3 |  | 2.3, 8 | 2, B9, B14 | 314, 315 | T50 | TP19 |  |
1018 | Chlorodifluoromethane or Refrigerant gas R 22 | 2.2 |  | 2.2 |  | 314, 315 | T50 |  |  |
1020 | Chloropentafluoroethane or Refrigerant gas R 115 | 2.2 |  | 2.2 |  | 314, 315 | T50 |  |  |
1021 | 1-Chloro-1,2,2,-tetrafluoroethane or Refrigerant gas R 124 | 2.2 |  | 2.2 |  | 314, 315 | T50 |  |  |
1027 | Cyclopropane | 2.1 |  | 2.1 |  | 314, 315 | T50 |  |  |
1028 | Dichlorodifluoromethane or Refrigerant gas R 12 | 2.2 |  | 2.2 |  | 314, 315 | T50 |  |  |
1029 | Dichlorofluoromethane or Refrigerant gas R 21 | 2.2 |  | 2.2 |  | 314, 315 | T50 |  |  |
1030 | 1,1-Difluoroethane or Refrigerant gas R 152a | 2.1 |  | 2.1 |  | 314, 315 | T50 |  |  |
1032 | Dimethylamine, anhydrous | 2.1 |  | 2.1 |  | 314, 315 | T50 |  |  |
1033 | Dimethyl ether | 2.1 |  | 2.1 |  | 314, 315 | T50 |  |  |
1036 | Ethylamine | 2.1 |  | 2.1 | B77 | 314, 315 | T50 |  |  |
1037 | Ethyl chloride | 2.1 |  | 2.1 | B43, B77 | 314, 315 | T50 |  |  |
1038 | Ethylene, refrigerated liquid (cryogenic liquid) | 2.1 |  | 2.1 |  | 318, 319 | T75 |  |  |
1040 | Ethylene oxide or Ethylene oxide with nitrogen up to a total pressure of 1MPa (10 bar) at 50 degrees C | 2.3 |  | 2.3, 2.1 | 4 | 323 | T50 | TP20 |  |
1041 | Ethylene oxide and carbon dioxide mixtures with more than 9 percent but not more than 87 percent ethylene oxide | 2.1 |  | 2.1 |  | 314, 315 | T50 |  |  |
1052 | Hydrogen fluoride, anhydrous | 8 | l | 8, 6.1 | 3, B7, B46, B71, B77, T24, T27 | 243 | T10 | TP2 |  |
1055 | Isobutylene see also Petroleum gases, liquefied | 2.1 |  | 2.1 | 19 | 314, 315 | T50 |  |  |
1060 | Methyl acetylene and propadiene mixtures, stabilized | 2.1 |  | 2.1 |  | 314, 315 | T50 |  |  |
1061 | Methylamine, anhydrous | 2.1 |  | 2.1 |  | 314, 315 | T50 |  |  |
1062 | Methyl bromide | 2.3 |  | 2.3 | 3, B14 | 314, 315 | T50 |  |  |
1063 | Methyl chloride or Refrigerant gas R 40 | 2.1 |  | 2.1 |  | 314, 315 | T50 |  |  |
1064 | Methyl mercaptan | 2.3 |  | 2.3, 2.1 | 3, B7, B9, B14 | 314, 315 | T50 |  |  |
1067 | Dinitrogen tetroxide | 2.3 |  | 2.3, 5.1, 8 | 1, B7, B14, B45, B46, B61, B66, B67, B77 | 314 | T50 | TP21 |  |
1073 | Oxygen, refrigerated liquid (cryogenic liquid) | 2.2 |  | 2.2, 5.1 |  | 318 | T75 | TP22 |  |
1075 | Petroleum gases, liquefied or Liquefied petroleum gas | 2.1 |  | 2.1 |  | 314, 315 | T50 |  |  |
1077 | Propylene see also Petroleum gases, liquefied | 2.1 |  | 2.1 | 19 | 314, 315 | T50 |  |  |
1078 | Refrigerant gases, n.o.s. | 2.2 |  | 2.2 |  | 314, 315 | T50 |  |  |
1079 | Sulfur dioxide | 2.3 |  | 2.3, 8 | 3, B14 | 314, 315 | T50 | TP19 |  |
1082 | Trifluorochloroethylene, inhibited | 2.3 |  | 2.3, 2.1 | 3, B14 | 314, 315 | T50 |  |  |
1083 | Trimethylamine, anhydrous | 2.1 |  | 2.1 |  | 314, 315 | T50 |  |  |
1085 | Vinyl bromide, inhibited | 2.1 |  | 2.1 |  | 314, 315 | T50 |  |  |
1086 | Vinyl chloride, inhibited or Vinyl chloride, stabilized | 2.1 |  | 2.1 | 21, B44 | 314, 315 | T50 |  |  |
1087 | Vinyl methyl ether, inhibited | 2.1 |  | 2.1 | B44 | 314, 315 | T50 |  |  |
1088 | Acetal | 3 | ll | 3 | T7 | 242 | T4 | TP1 | lB2 |
1089 | Acetaldehyde | 3 | l | 3 | A3, B16, T20, T26, T29 | 243 | T11 | TP2 TP7 |  |
1090 | Acetone | 3 | ll | 3 | T8 | 242 | T4 | TP1 | lB2 |
1091 | Acetone oils | 3 | ll | 3 | T7, T30 | 242 | T4 | TP1 TP8 | lB2 |
1092 | Acrolein, inhibited | 6.1 | l | 6.1, 3 | 1, B9, B14, B30, B42, B72, B77, T38, T43, T44 | 244 | T22 | TP2 TP7 TP13 TP38 TP44 |  |
1093 | Acrylonitrile, inhibited | 3 | l | 3, 6.1 | B9, T18, T26 | 243 | T14 | TP2 TP13 |  |
1098 | Allyl alcohol | 6.1 | l | 6.1, 3 | 2, B9, B14, B32, B74, B77, T38, T43, T45 | 244 | T20 | TP2 TP13 TP38 TP45 |  |
1099 | Allyl bromide | 3 | l | 3, 6.1 | T18 | 243 | T14 | TP2 TP13 |  |
1100 | Allyl chloride | 3 | l | 3, 6.1 | T18, T26 | 243 | T14 | TP2 TP13 |  |
1104 | Amyl acetates | 3 | lll | 3 | B1, T1 | 242 | T2 | TP1 | lB3 |
1105 | Pentanols | 3 | ll | 3 | T1 | 242 | T4 | TP1 TP29 | lB2 |
1105 | Pentanols | 3 | lll | 3 | B1, B3, T1 | 242 | T2 | TP1 | lB3 |
1106 | Amylamines | 3 | ll | 3, 8 | T1 | 243 | T7 | TP1 | lB2 |
1106 | Amylamines | 3 | lll | 3, 8 | B1 | 242 | T4 | TP1 | lB3 |
1107 | Amyl chlorides | 3 | ll | 3 | T1 | 242 | T4 | TP1 | lB2 |
1108 | 1-Pentene (n-amylene) | 3 | l | 3 | T14 | 243 | T11 | TP2 |  |
1109 | Amyl formates | 3 | lll | 3 | B1, T1 | 242 | T2 | TP1 | lB3 |
1110 | n-Amyl methyl ketone | 3 | lll | 3 | B1, T1 | 242 | T2 | TP1 | lB3 |
1111 | Amyl mercaptans | 3 | ll | 3 | A3, T8 | 242 | T4 | TP1 | lB2 |
1112 | Amyl nitrate | 3 | lll | 3 | B1, T1 | 242 | T2 | TP1 | lB3 |
1113 | Amyl nitrites | 3 | ll | 3 | T8 | 242 | T4 | TP1 | lB2 |
1114 | Benzene | 3 | ll | 3 | B101, T8 | 242 | T4 | TP1 | lB2 |
1120 | Butanols | 3 | II | 3 | T1 | 242 | T4 | TP1 TP29 | IB2
1120 | Butanols | 3 | III | 3 | B1, T1 | 242 | T2 | TP1 | IB3
1123 | Butyl acetates | 3 | II | 3 | T1 | 242 | T4 | TP1 | IB2
1123 | Butyl acetates | 3 | III | 3 | B1, T1 | 242 | T2 | TP1 | IB3
1125 | n-Butylamine | 3 | II | 3, 8 | B101, T8 | 242 | T7 | TP1 | IB2
1126 | 1-Bromobutane | 3 | II | 3 | T1 | 242 | T4 | TP1 | IB2
1127 | Chlorobutanes | 3 | II | 3 | B101, T8 | 242 | T4 | TP1 | IB2
1128 | n-Butyl formate | 3 | II | 3 | T1 | 242 | T4 | TP1 | IB2
1129 | Butyraldehyde | 3 | II | 3 | T8 | 242 | T4 | TP1 | IB2
1130 | Camphor oil | 3 | III | 3 | B1, T1 | 242 | T2 | TP1 | IB3
1131 | Carbon disulfide | 3 | I | 3, 6.1 | B16, T18, T26, T29 | 243 | T14 | TP2 TP7 TP13
1133 | Adhesives, containing a flammable liquid | 3 | I | 3 | B42, T7, T30 | 243 | T11 | TP1 TP8 TP27
1133 | Adhesives, containing a flammable liquid | 3 | II | 3 | B52, T7, T30 | 242 | T4 | TP1 TP8 | IB2
1133 | Adhesives, containing a flammable liquid | 3 | III | 3 | B1, B52, T7, T30 | 242 | T2 | TP1 | IB3
1134 | Chlorobenzene | 3 | III | 3 | B1, T1 | 242 | T2 | TP1 | IB3
1135 | Ethylene chlorohydrin | 6.1 | I | 6.1, 3 | 2, B9, B14, B32, B74, T38, T43, T45 | 244 | T20 | TP2 | TP13 TP38 TP45
1136 | Coal tar distillates, flammable | 3 | II | 3 | T8, T31 | 242 | T4 | TP1 | IB2
1136 | Coal tar distillates, flammable | 3 | III | 3 | B1, T7, T30 | 242 | T4 | TP1 TP29 | IB3
1139 | Coating solution (includes surface treatments or coatings used for industrial or other purposes such as vehicle undercoating, drum or barrel lining) | 3 | I | 3 | T42 | 243 | T11 | TP1 TP8 TP27
1139 | Coating solution (includes surface treatments or coatings used for industrial or other purposes such as vehicle undercoating, drum or barrel lining) | 3 | II | 3 | T7, T30 | 242 | T4 | TP1 TP8 | IB2
1139 | Coating solution (includes surface treatments or coatings used for industrial or other purposes such as vehicle undercoating, drum or barrel lining) | 3 | III | 3 | B1, T7, T30 | 242 | T2 | TP1 | IB3
1143 | Crotonaldehyde, stabilized | 6.1 | I | 6.1, 3 | 2, B9, B14, B32, B74, B77, T38, T43, T45 | 244 | T20 | TP2 TP13 TP38 TP45
1144 | Crotonylene | 3 | I | 3 | T20 | 243 | T11 | TP2
1145 | Cyclohexane | 3 | II | 3 | B101, T8 | 242 | T4 | TP1 | IB2
1146 | Cyclopentane | 3 | II | 3 | B101, T14 | 242 | T7 | TP1 | IB2
1147 | Decahydronaphthalene | 3 | III | 3 | B1, T1 | 242 | T2 | TP1 | IB3
1148 | Diacetone alcohol | 3 | II | 3 | T1 | 242 | T4 | TP1 | IB2
1148 | Diacetone alcohol | 3 | III | 3 | B1, T1 | 242 | T2 | TP1 | IB3
1149 | Dibutyl ethers | 3 | III | 3 | B1, T1 | 242 | T2 | TP1 | IB3
1150 | 1,2-Dichloroethylene | 3 | II | 3 | T14 | 242 | T7 | TP2 | IB2
1152 | Dichloropentanes | 3 | III | 3 | B1, T1 | 242 | T2 | TP1 | IB3
1153 | Ethylene glycol diethyl ether | 3 | III | 3 | B1, T1 | 242 | T2 | TP1 | IB3
1154 | Diethylamine | 3 | II | 3, 8 | B101, N34, T8 | 243 | T7 | TP1 | IB2
1155 | Diethyl ether or Ethyl ether | 3 | I | 3 | T21 | 243 | T11 | TP2
1156 | Diethyl ketone | 3 | II | 3 | T1 | 242 | T4 | TP1 | IB2
1157 | Diisobutyl ketone | 3 | III | 3 | B1, T1 | 242 | T2 | TP1 | IB3
1158 | Diisopropylamine | 3 | II | 3, 8 | B101, T8 | 243 | T7 | TP1 | IB2
1159 | Diisopropyl ether | 3 | II | 3 | B101, T8 | 242 | T4 | TP1 | IB2
1160 | Dimethylamine solution | 3 | II | 3, 8 | T8, T34 | 243 | T7 | TP1 | IB2
1161 | Dimethyl carbonate | 3 | II | 3 | T8 | 242 | T4 | TP1 | IB2
1162 | Dimethyldichlorosilane | 3 | II | 3, 8 | B77, T15, T26 | 243 | T7 | TP2 TP13 | IB2
1163 | Dimethylhydrazine, unsymmetrical | 6.1 | I | 6.1, 3, 8 | 2, B7, B9, B14, B32, B74, T38, T43, T45 | 244 | T20 | TP2 TP13 TP38 TP 45
1164 | Dimethyl sulfide | 3 | II | 3 | B100, T14 | 242 | T7 | TP2 | IB1 | BB8
1165 | Dioxane | 3 | II | 3 | T8 | 242 | T4 | TP1 | IB2
1166 | Dioxolane | 3 | II | 3 | T8 | 242 | T4 | TP1 | IB2
1167 | Divinyl ether, inhibited | 3 | I | 3 | T14 | 243 | T11 | TP2
1169 | Extracts, aromatic, liquid | 3 | II | 3 | T7, T30 | 242 | T4 | TP1 TP8 | IB2
1169 | Extracts, aromatic, liquid | 3 | III | 3 | B1, T7, T30 | 242 | T2 | TP1 | IB3
1170 | Ethanol or Ethyl alcohol Ethanol solutions or Ethyl alcohol solutions | 3 | II | 3 | 24, T1 | 242 | T4 | TP1 | IB2
1170 | Ethanol or Ethyl alcohol or Ethanol solutions or Ethyl alcohol solutions | 3 | III | 3 | 24, B1, T1 | 242 | T2 | TP1 | IB3
1171 | Ethylene glycol monoethyl ether | 3 | III | 3 | B1, T1 | 242 | T2 | TP1 | IB3
1172 | Ethylene glycol monoethyl ether | 3 | III | 3 | B1, T1 | 242 | T2 | TP1 | IB3
1173 | Ethyl acetate | 3 | II | 3 | T2 | 242 | T4 | TP1 | IB2
1175 | Ethylbenzene | 3 | II | 3 | T1 | 242 | T4 | TP1 | IB2
1176 | Ethyl borate | 3 | II | 3 | T8 | 242 | T4 | TP1 | IB2
1177 | Ethylbutyl acetate | 3 | III | 3 | B1, T1 | 242 | T2 | TP1 | IB3
1178 | 2-Ethylbutyraldehyde | 3 | II | 3 | B1, T1 | 242 | T4 | TP1 | IB2
1179 | Ethyl butyl ether | 3 | II | 3 | B1, B101, T1 | 242 | T4 | TP1 | IB2
1180 | Ethyl butyrate | 3 | III | 3 | B1, T1 | 242 | T2 | TP1 | IB3
1181 | Ethyl chloroacetate | 6.1 | II | 6.1, 3 | T14 | 243 | T7 | TP2 | IB2
1182 | Ethyl chloroformate | 6.1 | I | 6.1, 3. 8 | 2, A3, A6, A7, B9, B14, | B32, B74, N34, | T38, T43, T45 | 244 | T20 | TP2 TP13 TP38 TP45
1183 | Ethyldichlorosilane | 4.3 | I | 4.3, 8, 3 | A2, A3, A7, N34, T18, T26 | 244 | T10 | TP2 TP7 TP13
1184 | Ethylene dichloride | 3 | II | 3, 6.1 | T14 | 243 | T7 | TP1 | IB2
1185 | Ethyleneimine, inhibited | 6.1 | I | 6.1, 3 | 1, B9, B14, B30, B72, B77, N25, N32, T38, T43, T44 | 244 | T22 | TP2 TP13 TP38 TP44
1188 | Ethylene glycol monomethyl ether | 3 | III | 3 | B1, T1 | 242 | T2 | TP1 | IB3
1189 | Ethylene glycol monomethyl ether acetate | 3 | III | 3 | B1, T1 | 242 | T2 | TP1 | IB3
1190 | Ethyl formate | 3 | II | 3 | T8 | 242 | T4 | TP1 | IB2
1191 | Octyl aldehydes | 3 | III | 3 | B1, T1 | 242 | T2 | TP1 | IB3
1192 | Ethyl lactate | 3 | III | 3 | B1, T1 | 242 | T2 | TP1 | IB3
1193 | Ethyl methyl ketone or Methyl ethyl ketone | 3 | II | 3 | T8 | 242 | T4 | TP1 | IB2
1195 | Ethyl propionate | 3 | II | 3 | T1 | 242 | T4 | TP1 | IB2
1196 | Ethyltrichlorosilane | 3 | II | 3, 8 | A7, B100, N34, T15, T26 | 243 | T7 | TP2 TP13 | IB1
1197 | Extracts, flavoring, liquid | 3 | II | 3 | T7, T30 | 242 | T4 | TP1 TP8 | IB2
1197 | Extracts, flavoring, liquid | 3 | III | 3 | B1, T7, T30 | 242 | T2 | TP1 | IB3
1198 | Formaldehyde, solutions, flammable | 3 | III | 3, 8 | B1, T8 | 242 | T4 | TP1 | IB3
1199 | Furaldehydes | 6.1 | II | 6.1, 3 | T15 | 243 | T7 | TP2 | IB2
1201 | Fusel oil | 3 | II | 3 | T1 | 242 | T4 | TP1 | IB2
1201 | Fusel oil | 3 | III | 3 | B1, T1 | 242 | T2 | TP1 | IB3
1202 | Gas oil or Diesel fuel or Heating oil, light | 3 | III | 3 | B1, T7, T30 | 242 | T2 | TP1 | IB3
1203 | Gasoline | 3 | II | 3 | B33, B101, T8 | 242 | T4 | TP1 | IB2
1204 | Nitroglycerin solution in alcohol with not more than 1 percent nitroglycerin | 3 | II | 3 | N34, T25 | None |  |  | IB2
1206 | Heptanes | 3 | II | 3 | T2 | 242 | T4 | TP1 | IB2
1207 | Hexaldehyde | 3 | III | 3 | B1, T1 | 242 | T2 | TP1 | IB3
1208 | Hexanes | 3 | II | 3 | B101, T8 | 242 | T4 | TP1 | IB2
1210 | Printing ink, flammable | 3 | I | 3 | T8, T31 | 243 | T11 | TP1 TP8
1210 | Printing ink, flammable | 3 | II | 3 | T7, T30 | 242 | T4 | TP1 TP8 | IB2
1210 | Printing ink, flammable | 3 | III | 3 | B1, T7, T30 | 242 | T2 | TP1 | IB3
1212 | Isobutanol or Isobutyl alcohol | 3 | III | 3 | B1, T1 | 242 | T2 | TP1 | IB3
1213 | Isobutyl acetate | 3 | II | 3 | T1 | 242 | T4 | TP1 | IB2
1214 | Isobutylamine | 3 | II | 3, 8 | B101, T8 | 243 | T7 | TP1 | IB2
1216 | Isooctenes | 3 | II | 3 | T8 | 242 | T4 | TP1 | IB2
1218 | Isoprene, inhibited | 3 | I | 3 | T20 | 243 | T11 | TP2
1219 | Isopropanol or Isopropyl alcohol | 3 | II | 3 | T1 | 242 | T4 | TP1 | IB2
1220 | Isopropyl acetate | 3 | II | 3 | T1 | 242 | T4 | TP1 | IB2
1221 | Isopropylamine | 3 | I | 3, 8 | T20 | 243 | T11 | TP2
1222 | Isopropyl nitrate | 3 | II | 3 | T25 | None |  |  | IB2 | BB7
1223 | Kerosene | 3 | III | 3 | B1, T1 | 242 | T2 | TP2 | IB3
1224 | Ketones, liquid, n.o.s. | 3 | I | 3 | T8, T31 | 243 | T11 | TP1 TP8 TP27
1224 | Ketones, liquid, n.o.s. | 3 | II | 3 | T8, T31 | 242 | T7 | TP1 TP8 TP28 | IB2
1224 | Ketones, liquid, n.o.s. | 3 | III | 3 | B1, T7, T30 | 242 | T4 | TP1 TP29 | IB3
1228 | Mercaptans, liquid, flammable, toxic, n.o.s. or Mercaptan mixtures, liquid, flammable, toxic, n.o.s | 3 | II | 3, 6.1 | T13 | 243 | T11 | TP2 TP27 | IB2
1228 | Mercaptans, liquid, flammable, toxic, n.o.s. or Mercaptan mixtures, liquid, flammable, toxic, n.o.s | 3 | III | 3, 6.1 | B1, T8 | 242 | T7 | TP1 TP28 | IB3
1229 | Mesityl oxide | 3 | III | 3 | B1, T1 | 242 | T2 | TP1 | IB3
1230 | Methanol | 3 | II | 3 | T8 | 242 | T7 | TP2 | IB2
1230 | Methanol | 3 | II | 3, 6.1 | T8 | 242 | T7 | TP2 | IB2
1231 | Methyl acetate | 3 | II | 3 | B101, T8 | 242 | T4 | TP1 | IB2
1233 | Methylamyl acetate | 3 | III | 3 | B1, T1 | 242 | T2 | TP1 | IB3
1234 | Methylal | 3 | II | 3 | T14 | 242 | T7 | TP2 | IB2 | BB8
1235 | Methylamine, aqueous solution | 3 | II | 3, 8 | B1, T8 | 243 | T7 | TP1 | IB2
1237 | Methyl butyrate | 3 | II | 3 | T1 | 242 | T4 | TP1 | IB2
1238 | Methyl chloroformate | 6.1 | I | 6.1, 3, 8 | 1, B9, B14, B30, B72, N34, T38, T43, T44 | 244 | T22 | TP2 TP13 TP38 TP44
1239 | Methyl chloromethyl ether | 6.1 | I | 6.1, 3 | 1, B9, B14, B30, B72, T38, T43, T44 | 244 | T22 | TP2 TP38 TP44
1242 | Methyldichlorosilane | 4.3 | I | 4.3, 8, 3 | A2, A3, A7, B6, B77, N34, T16, T26 | 243 | T10 | TP2 TP7 TP13
1243 | Methyl formate | 3 | I | 3 | T20 | 243 | T11 | TP2
1244 | Methylhydrazine | 6.1 | I | 6.1, 3, 8 | 1, B7, B9, B14, B30, B72, B77, N34, T38, T43, T44 | 244 | T22 | TP2 TP13 TP38 TP44
1245 | Methyl isobutyl ketone | 3 | II | 3 | T1 | 242 | T4 | TP1 | IB2
1246 | Methyl isopropenyl ketone, inhibited | 3 | II | 3 | T7 | 242 | T4 | TP1 | IB2
1247 | Methyl methacrylate monomer, inhibited | 3 | II | 3 | T8 | 242 | T4 | TP1 | IB2
1248 | Methyl propionate | 3 | II | 3 | B101, T2 | 242 | T4 | TP1 | IB2
1249 | Methyl propyl ketone | 3 | II | 3 | T1 | 242 | T4 | TP1 | IB2
1250 | Methyltrichlorosilane | 3 | I | 3, 8 | A7, B6, B77, N34, T14, T26 | 243 | T11 | TP2 TP13
1251 | Methyl vinyl ketone, stabilized | 6.1 | I | 6.1, 3, 8 | 1, 25, B9, B14, B30, B72, T38, T43, T44 | 244 | T22 | TP2 TP13 TP38 TP44
1262 | Octanes | 3 | II | 3 | T1 | 242 | T4 | TP1 | IB2
1263 | Paint including paint, lacquer, enamel, stain, shellac solutions, varnish, polish, liquid filler, and liquid lacquer base | 3 | I | 3 | T8, T31 | 243 | T11 | TP1 TP8
1263 | Paint related material including paint thinning, drying, removing, or reducing compound | 3 | I | 3 | T8, T31 | 243 | T11 | TP1 TP8
1263 | Paint including paint, lacquer, enamel, stain, shellac solutions, varnish, polish, liquid filler, and liquid lacquer base | 3 | II | 3 | B52, T7, T30 | 242 | T4 | TP1 TP8 | IB2
1263 | Paint related material including paint thinning, drying, removing, or reducing compound | 3 | II | 3 | B52, T7, T30 | 242 | T4 | TP1 TP8 | IB2
1263 | Paint including paint, lacquer,enamel, stain, shellac solutions, varnish, polish, liquid filler, and liquid lacquer base | 3 | III | 3 | B1, B52, T7, T30 | 242 | T2 | TP1 | IB3
1263 | Paint related material including paint thinning, drying, removing, or reducing compound | 3 | III | 3 | B1, B52, T7, T30 | 242 | T2 | TP1 | IB3
1264 | Paraldehyde | 3 | III | 3 | B1, T1 | 242 | T2 | TP1 | IB3
1265 | Pentanes | 3 | I | 3 | T20 | 243 | T11 | TP2
1265 | Pentanes | 3 | II | 3 | T20 | 242 | T4 | TP1 | IB2 | BB8
1266 | Perfumery products with flammable solvents | 3 | II | 3 | T7, T30 | 242 | T4 | TP1 TP8 | IB2
1266 | Perfumery products with flammable solvents | 3 | III | 3 | B1, T7, T30 | 242 | T2 | TP1 | IB3
1267 | Petroleum crude oil | 3 | I | 3 | T8, T31 | 243 | T11 | TP1 TP8
1267 | Petroleum crude oil | 3 | II | 3 | T8, T31 | 242 | T4 | TP1 TP8 | IB2
1267 | Petroleum crude oil | 3 | III | 3 | B1, T7, T30 | 242 | T2 | TP1 | IB3
1268 | Petroleum distillates, n.o.s. or Petroleum products, n.o.s | 3 | I | 3 | T8, T31 | 243 | T11 | TP1 TP8
1268 | Petroleum distillates, n.o.s. or Petroleum products, n.o.s | 3 | II | 3 | T8, T31 | 242 | T7 | TP1 TP8 TP28 | IB2
1268 | Petroleum distillates, n.o.s. or Petroleum products, n.o.s | 3 | III | 3 | B1, T7, T30 | 242 | T4 | TP1 TP29 | IB3
1272 | Pine oil | 3 | III3 | B1, T1 | 242 | T2 | TP1 | IB3
1274 | n-Propanol or Propyl alcohol, normal | 3 | II | 3 | B1, T1 | 242 | T4 | TP1 | IB2 |
1274 | n-Propanol or Propyl alcohol, normal | 3 | III | 3 | B1, T1 | 242 | T2 | TP1 | IB3 |
1275 | Propionaldehyde | 3 | II | 3 | T14 | 242 | T7 | TP1 | IB2 |
1276 | n-Propyl acetate | 3 | II | 3 | T1 | 242 | T4 | TP1 | IB2 |
1277 | Propylamine | 3 | II | 3, 8 | N34, T14 | 243 | T7 | TP1 | IB2 |
1278 | Propyl chloride | 3 | II | 3 | N34, T14 | 242 | T7 | TP2 | IB2 | BB8
1279 | 1,2-Dichloropropane | 3 | II | 3 | N36, T1 | 242 | T4 | TP1 | IB2 |
1280 | Propylene oxide | 3 | I | 3 | A3, N34, | 243 | T11 | TP2 TP7 |  |
1281 | Propyl formates | 3 | II | 3 | T8 | 242 | T4 | TP1 | IB2 |
1282 | Pyridine | 3 | II | 3 | T8 | 242 | T4 | TP2 | IB2 |
1286 | Rosin oil | 3 | II | 3 | T7 | 242 | T4 | TP1 | IB2 |
1286 | Rosin oil | 3 | III | 3 | B1, T1 | 242 | T2 | TP1 | IB3 |
1287 | Rubber solution | 3 | II | 3 | T7, T30 | 242 | T4 | TP1 TP8 | IB2 |
1287 | Rubber solution | 3 | III | 3 | B1, T7, T30 | 242 | T2 | TP1 | IB3 |
1288 | Shale oil | 3 | I | 3 | T7 | 243 | T11 | TP1 TP8 TP27 |  |
1288 | Shale oil | 3 | II | 3 | T7, T30 | 242 | T4 | TP1 TP8 | IB2 |
1288 | Shale oil | 3 | III | 3 | B1, T7, T30 | 242 | T2 | TP1 | IB3 |
1289 | Sodium methylate solutions in alcohol | 3 | II | 3, 8 | T8, T31 | 243 | T7 | TP1 TP8 | IB2 |
1289 | Sodium methylate solutions in alcohol | 3 | III | 3, 8 | B1, T7, T30 | 242 | T4 | TP1 | IB3 |
1292 | Tetraethyl silicate | 3 | III | 3 | B1, T1 | 242 | T2 | TP1 | IB3 |
1293 | Tinctures, medicinal | 3 | II | 3 | T8, T31 | 242 | T4 | TP1 TP8 | IB2 |
1293 | Tinctures, medicinal | 3 | III | 3 | B1, T7, T30 | 242 | T2 | TP1 | IB3 |
1294 | Toluene | 3 | II | 3 | T1 | 242 | T4 | TP1 | IB2 |
1295 | Trichlorosilane | 4.3 | I | 4.3, | A7, N34, T24 T26 | 244 | T14 | TP2 TP7 |  |
1296 | Triethylamine | 3 | II | 3, 8 | B101, T8 | 243 | T7 | TP1 |  | IB2
1297 | Trimethylamine, aqueous solutions with not more than 50 percent trimethylamine by mass | 3 | I | 3, 8 | T42 | 243 | T11 | TP1 |  |
1297 | Trimethylamine, aqueous solutions with not more than 50 percent trimethylamine by mass | 3 | II | 3, 8 | B1, T14 | 243 | T7 | TP1 | IB2 |
1297 | Trimethylamine, aqueous solutions with not more than 50 percent trimethylamine by mass | 3 | III | 3, 8 | B1 | 242 | T7 | TP1 | IB3 |
1298 | Trimethylchlorosilane | 3 | II | 3, 8 | A3, A7, B77, N34, T14, T26 | 243 | T7 | TP2 TP13 | IB2 |
1299 | Turpentine | 3 | III | 3 | B1, T1 | 242 | T2 | TP1 | IB3 |
1300 | Turpentine substitute | 3 | I | 3 | T1 | 243 | T11 | TP1 TP1 TP27 |  |
1300 | Turpentine substitute | 3 | II | 3 | T1 | 242 | T4 | TP1 | IB2 |
1300 | Turpentine substitute | 3 | III | 3 | B1, T1 | 242 | T2 | TP1 | IB3 |
1301 | Vinyl acetate, inhibited | 3 | II | 3 | T8 | 242 | T4 | TP1 | IB2 |
1302 | Vinyl ethyl ether, inhibited | 3 | I | 3 | A3, B100, T14 | 243 | T11 | TP2 |  |
1303 | Vinylidene chloride, inhibited | 3 | I | 3 | T23, T29 | 243 | T12 | TP2 TP7 |  |
1304 | Vinyl isobutyl ether, inhibited | 3 | II | 3 | T8 | 242 | T4 | TP1 | IB2 |
1305 | Vinyltrichlorosilane, inhibited | 3 | I | 3, 8 | A3, A7, B6, N34, T14, T26 | 243 | T11 | TP2 TP13 |  |
1306 | Wood preservatives, liquid | 3 | II | 3 | T7, T30 | 242 | T4 | TP1 TP8 | IB2 |
1306 | Wood preservatives, liquid | 3 | III | 3 | B1, T7, T30 | 242 | T2 | TP1 | IB3 |
1307 | Xylenes | 3 | II | 3 | T1 | 242 | T4 | TP1 | IB2 |
1307 | Xylenes | 3 | III | 3 | B1, T1 | 242 | T2 | TP1 | IB3 |
1308 | Zirconium suspended in a liquid | 3 | II | 3 |  | 242 |  |  | IB2 |
1308 | Zirconium suspended in a liquid | 3 | III | 3 | B1 | 242 |  |  | IB2 |
1309 | Aluminum powder, coated | 4.1 | II | 4.1 |  | 240 |  |  | IB8 | BB2, BB4
1309 | Aluminum powder, coated | 4.1 | III | 4.1 |  | 240 |  |  | IB8 | BB3
1312 | Borneol | 4.1 | III | 4.1 | A1 | 240 |  |  | IB8 | BB3
1313 | Calcium resinate | 4.1 | III | 4.1 | A1, A19 | 240 |  |  | IB6 |
1314 | Calcium resinate, fused | 4.1 | III | 4.1 | A1, A19 | 240 |  |  | IB4 |
1318 | Cobalt resinate, precipitated | 4.1 | III | 4.1 | A1, A19 | 240 |  |  | IB6 |
1323 | Ferrocerium | 4.1 | II | 4.1 | 59, A19 | 240 |  |  | IB8 | BB2, BB4
1325 | Flammable solids, organic, n.o.s | 4.1 | II | 4.1 | A1 | 240 | T3 | TP1 | IB8 | BB2, BB4
1325 | Flammable solids, organic, n.o.s | 4.1 | III | 4.1 | A1 | 240 | T1 | TP1 | IB8 | BB3
1326 | Hafnium powder, wetted with not less than 25 percent water (a visible excess of water must be present) (a) mechanically produced, particle size less than 53 microns; (b) chemically produced, particle size less than 840 microns | 4.1 | II | 4.1 | A6, A19, A20 N34 | 241 |  |  | IB6 | BB2
1328 | Hexamethylenetetramine | 4.1 | III | 4.1 | A1 | 240 |  |  | IB8 | BB3
1330 | Manganese resinate | 4.1 | III | 4.1 | A1 | 240 |  |  | IB6 |
1332 | Metaldehyde | 4.1 | III | 4.1 | A1 | 240 |  |  | IB8 | BB3
1333 | Cerium, slabs, ingots, or rods | 4.1 | II | 4.1 | N34 | 240 |  |  | IB8 | BB2, BB4
1334 | Naphthalene, crude or Naphthalene, refined | 4.1 | III | 4.1 | A1 | 240 |  |  | IB8 | BB3
1338 | Phosphorus, amorphous | 4.1 | III | 4.1 | A1, A19, B1, B9, B26 | 243 |  |  | IB8 | BB3
1339 | Phosphorus heptasulfide, free from yellow or white phosphorus | 4.1 | II | 4.1 | A20, N34 | 240 |  |  | IB4 |
1340 | Phosphorus pentasulfide, free from yellow or white phosphorus | 4.3 | II | 4.3, 4.1 | A20, B59, B101, B106 | 242 |  |  | IB4
1341 | Phosphorus sesquisulfide, free from yellow or white phosphorus | 4.1 | II | 4.1 | A20, N34 | 240 |  |  | IB4 |
1343 | Phosphorus trisulfide, free from yellow or white phosphorus | 4.1 | II | 4.1 | A20, N34 | 240 |  |  | IB4 |
1346 | Silicon powder, amorphous | 4.1 | III | 4.1 | A1 | 240 |  |  | IB8 | BB3
1350 | Sulfur | 4.1 | III | 4.1 | 30, T1 | 240 | T1 | TP1 | IB8 | BB3
1352 | Titanium powder, wetted with not less than 25 percent water (a visible excess of water must be present (a) mechanically produced, particle size less than 53 microns; (b) chemically produced, particle size less than 840 microns | 4.1 | II | 4.1 | A19, A20, N34 | 240 |  |  | IB6 | BB2
1353 | Fibers of Fabrics impregnated with weakly nitrated nitrocellulose, n.o.s. | 4.1 | III | 4.1 | A1 | 240 |  |  | IB8 | BB3
1358 | Zirconium powder, wetted with not less than 25 percent water (a visible excess of water must be present) (a) mechanically produced, particle size less than 53 microns; (b) chemically produced, particle size less than 840 microns | 4.1 | II | 4.1 | A19, A20, N34 | 241 |  |  | IB6 | BB2
1361 | Carbon, animal or vegetable origin | 4.2 | II | 4.2 |  | 242 |  |  | IB6 |
1361 | Carbon, animal or vegetable origin | 4.2 | III | 4.2 |  | 241 |  |  | IB8 | BB3
1362 | Carbon, activated | 4.2 | III | 4.2 |  | 241 |  |  | IB8 | BB3
1363 | Copra | 4.2 | III | 4.2 |  | 241 |  |  | IB8 | BB3, BB6
1364 | Cotton waste, oily | 4.2 | III | 4.2 |  | None |  |  | IB8 | BB6
1365 | Cotton, wet | 4.2 | III | 4.2 |  | 241 |  |  | IB8 | BB6
1366 | Diethylzinc | 4.2 | I | 4.2, 4.3 | B11, T28, T40 | 244 | T21 | TP2 TP7
1369 | p-Nitrosodimethylaniline | 4.2 | II | 4.2 | A19, A20, B101, N34 | 241 |  |  | IB6 | BB2
1370 | Dimethylzinc | 4.2 | I | 4.2, 4.3 | B11, B16, T28, T29, T40 | 244 | T21 | TP2 TP7
1373 | Fibers or Fabrics, animal or vegetable or Synthentic, n.o.s. with animal or vegetable oil | 4.2 | III | 4.2 | 137 | 241 |  |  | IB8 | BB3
1374 | Fish meal, unstablized or Fish scrap, unstabilized | 4.2 | II | 4.2 | A1, A19 | 241 |  |  | IB8 | BB2
1376 | Iron oxide, spent, or Iron sponge, spent obtained from coal gas purification | 4.2 | III | 4.2 | B18 | 240 |  |  | IB8 | BB3
1378 | Metal catalyst, wetted with a visible excess of liquid | 4.2 | II | 4.2 | A2, A8, N34 | None |  |  | IB1
1379 | Paper, unsaturated oil treated incompletely dried (including carbon paper) | 4.2 | III | 4.2 | B101, B106 | 241 |  |  | IB8 | BB3
1381 | Phosphorus, white dry or Phosphorus, white, under water or Phosphorus white, in solution or Phosphorus, yellow dry or Phosphorus, yellow, under water or Phosphorus, yellow, in solution | 4.2 | I | 4.2, 6.1 | B9, B26, N34, T15, T26, T33 | 243 | T9 | TP3
1382 | Potassium sulfide, anhydrous or Potassium sulfide with less than 30 percent water of crystallization | 4.2 | II | 4.2 | A19, A20, B16, B106, N34 | 241 |  |  | IB6 | BB2
1384 | Sodium dithionite or Sodium hydrosulfite | 4.2 | II | 4.2 | A19, A20, B106 | 241 |  |  | IB6 | BB2
1385 | Sodium sulfide, anhydrous or Sodium sulfide with less than 30 percent water of crystallization | 4.2 | II | 4.2 | A19, A20, B106, N34 | 241 |  |  | IB6 | BB2
1386 | Seed cake with more than 1.5 percent oil and not more than 11 percent moisture | 4.2 | III | None | N7 | 241 |  |  | IB8 | BB3, BB6
1386 | Seed cake, containing vegetable oil solvent extractions and expelled seeds, with not more than 10 percent of oil and when the amount of moisture is higher than 11 percent, with not more than 20 percent of oil and moisture combined | 4.2 | III | None | N7 | 241 |  |  | IB8 | BB3, BB6
1390 | Alkali metal amides | 4.3 | II | 4.3 | A6, A7, A8, A19, A20, B106 | 241 |  |  | IB7 | BB2
1392 | Alkaline earth metal amalgams | 4.3 | I | 4.3 | A19, B101, B106, N34, N40 | 242 |  |  | IB4 | BB1
1393 | Alkaline earth metal alloys, n.o.s | 4.3 | II | 4.3 | A19, B101, B106 | 241 |  |  | IB7 | BB2
1394 | Aluminum carbide | 4.3 | II | 4.3 | A20, B101, B106, N41 | 242 |  |  | IB7 | BB2
1395 | Aluminum ferrosilicon powder | 4.3 | II | 4.3, 6.1 | A19, B106, B108 | 242 |  |  | IB5 | BB2
1395 | Aluminum ferrosilicon powder | 4.3 | III | 4.3, 6.1 | A19, A20, B106, B108 | 241 |  |  | IB4
1396 | Aluminum powder, uncoated | 4.3 | II | 4.3 | A19, A20, B106, B108 | 242 |  |  | IB7 | BB2
1396 | Aluminum powder, uncoated | 4.3 | III | 4.3 | A19, A20, B106, B108 | 241 |  |  | IB8 | BB4
1398 | Aluminum silicon powder, uncoated | 4.3 | III | 4.3 | A1, A19, B108 | 241 |  |  | IB8 | BB4
1400 | Barium | 4.3 | II | 4.3 | A19, B101, B106 | 241 |  |  | IB7 | BB2
1401 | Calcium | 4.3 | II | 4.3 | B101, B106 | 241 |  |  | IB7 | BB2
1402 | Calcium carbide | 4.3 | I | 4.3 | A1, A8, B55, B101, B106, N34 | 242 |  |  | IB4 | BB1
1402 | Calcium carbide | 4.3 | II | 4.3 | A1, A8, B55, B59, B101, B106, N34 | 241 |  |  | IB7 | BB2
1403 | Calcium cyanamide with more than 0.1 percent of calcium carbide | 4.3 | III | 4.3 | A1, A19, B105 | 241 |  |  | IB8 | BB4
1405 | Calcium silicide | 4.3 | II | 4.3 | A19, B105, B106 | 241 |  |  | IB7 | BB2
1405 | Calcium silicide | 4.3 | III | 4.3 | A1, A19, B106, B108 | 241 |  |  | IB8 | BB4
1407 | Cesium or Caesium | 4.3 | I | 4.3 | A19, B100, N34, N40 | 242 |  |  | IB1 | BB1
1408 | Ferrosilicon, with 30 percent or more but less than 90 percent silicon | 4.3 | III | 4.3, 6.1 | A1, A19 | 240 |  |  | IB8 | BB4
1409 | Metal hydrides, water-reactive, n.o.s | 4.3 | II | 4.3 | A19, B101, B106, N34, N40 | 242 |  |  | IB4
1415 | Lithium | 4.3 | I | 4.3 | A7, A19, B100, N45 | 244 |  |  | IB1 | BB1
1417 | Lithium silicon | 4.3 | II | 4.3 | A19, A20, B105, B106 | 241 |  |  | IB7 | BB2
1418 | Magnesium, powder or Magnesium alloys, powder | 4.3 | II | 4.3, 4.2 | A19, B56, B101, B106 | 241 |  |  | IB5 | BB2
1418 | Magnesium, powder or Magnesium alloys, powder | 4.3 | III | 4.3, 4.2 | A19, B56, B106, B108 | 241 |  |  | IB8 | BB4
1420 | Potassium, metal alloys | 4.3 | I | 4.3 | A19, A20, B27 | 244 |  |  | IB4 | BB1
1422 | Potassium sodium alloys | 4.3 | I | 4.3 | A19, B27, N34, N40, T15, T26 | 244 | T9 | TP3 TP7 | IB4 | BB1
1423 | Rubidium | 4.3 | I | 4.3 | 22, A7, A19, B100, N34, N40, N45 | 242 |  |  | IB1 | BB1
1428 | Sodium | 4.3 | I | 4.3 | A7, A8, A19, A20, B9, B48, B68, N34, T15, T29, T46 | 244 | T9 | TP3 TP7 TP46 | IB4 | BB1
1431 | Sodium methylate | 4.2 | II | 4.2, 8 | A19 | 242 |  |  | IB5 | BB2
1435 | Zinc ashes | 4.3 | III | 4.3 | A1, A19, B108 | 241 |  |  | IB8 | BB4
1436 | Zinc powder or Zinc dust | 4.3 | II | 4.3, 4.2 | A19, B109 | 242 |  |  | IB7 | BB2
1436 | Zinc powder or Zinc dust | 4.3 | III | 4.3, 4.2 | B108 | 242 |  |  | IB8 | BB4
1437 | Zirconium hydride | 4.1 | II | 4.1 | A19, A20, N34 | 240 |  |  | IB4 |
1438 | Aluminum nitrate | 5.1 | III | 5.1 | A1, A29 | 240 |  |  | IB8 | BB3
1439 | Ammonium dichromate | 5.1 | II | 5.1 |  | 242 |  |  | IB8 | BB2, BB4
1442 | Ammonium perchlorate | 5.1 | II | 5.1 | 107, A9 | 242 |  |  | IB6 | BB2
1444 | Ammonium persulfate | 5.1 | III | 5.1 | A1, A29 | 240 |  |  | IB8 | BB3
1445 | Barium chlorate | 5.1 | II | 5.1, 6.1 | A9, N34, T8 | 242 | T4 | TP1 | IB6 | BB2
1446 | Barium nitrate | 5.1 | II | 5.1, 6.1 |  | 242 |  |  | IB8 | BB2, BB4
1447 | Barium perchlorate | 5.1 | II | 5.1, 6.1 | T8 | 242 | T4 | TP1 | IB6 | BB2
1448 | Barium permanganate | 5.1 | II | 5.1, 6.1 |  | 242 |  |  | IB6 | BB2
1449 | Barium peroxide | 5.1 | II | 5.1, 6.1 |  | 242 |  |  | IB6 | BB2
1450 | Bromates, inorganic, n.o.s | 5.1 | II | 5.1 |  | 242 |  |  | IB8 | BB2, BB4
1451 | Cesium nitrate or Caesium nitrate | 5.1 | III | 5.1 | A1, A29 | 240 |  |  | IB8 | BB3
1452 | Calcium chlorate | 5.1 | II | 5.1 | N34 | 242 |  |  | IB8 | BB2, BB4
1453 | Calcium chlorite | 5.1 | II | 5.1 | A9, N34 | 242 |  |  | IB8 | BB2, BB4
1454 | Calcium nitrate | 5.1 | III | 5.1 | 34 | 240 |  |  | IB8 | BB3
1455 | Calcium perchlorate | 5.1 | II | 5.1 |  | 242 |  |  | IB6 | BB2
1456 | Calcium permanganate | 5.1 | II | 5.1 |  | 242 |  |  | IB6 | BB2
1457 | Calcium peroxide | 5.1 | II | 5.1 |  | 242 |  |  | IB6 | BB2
1458 | Chlorate and borate mixtures | 5.1 | II | 5.1 | A9, N34 | 240 |  |  | IB8 | BB2, BB4
1458 | Chlorate and borate mixtures | 5.1 | III | 5.1 | A9, N34 | 240 |  |  | IB8 | BB3
1459 | Chlorate and magnesium chloride mixtures | 5.1 | II | 5.1 | A9, N34, T8 | 240 | T4 | TP1 | IB8 | BB2, BB4
1459 | Chlorate and magnesium chloride mixtures | 5.1 | III | 5.1 | A9, N34, T8 | 240 | T4 | TP1 | IB8 | BB3
1461 | Chlorates, inorganic, n.o.s | 5.1 | II | 5.1 | A9, N34 | 242 |  |  | IB6 | BB2
1462 | Chlorites, inorganic, n.o.s | 5.1 | II | 5.1 | A7, N34 | 242 |  |  | IB6 | BB2
1463 | Chromium trioxide, anhydrous | 5.1 | II | 5.1, 8 | B106 | 242 |  |  | IB8 | BB4
1465 | Didymium nitrate | 5.1 | III | 5.1 | A1 | 240 |  |  | IB8 | BB3
1466 | Ferric nitrate | 5.1 | III | 5.1 | A1, A29 | 240 |  |  | IB8 | BB3
1467 | Guanidine nitrate | 5.1 | III | 5.1 | A1 | 240 |  |  | IB8 | BB3
1469 | Lead nitrate | 5.1 | II | 5.1, 6.1 |  | 242 |  |  | IB8 | BB2, BB4
1470 | Lead perchlorate, solid | 5.1 | II | 5.1, 6.1 | T8 | 242 | T4 | TP1 | IB6 | BB2
1470 | Lead perchlorate, solution | 5.1 | II | 5.1, 6.1 | T8 | 243 | T4 | TP1 | IB1 |
1471 | Lithium hypochlorite, dry or Lithium hypochlorite mixtures, dry | 5.1 | II | 5.1 | A9, N34 | 240 |  |  | IB8 | BB2, BB4
1472 | Lithium peroxide | 5.1 | II | 5.1 | A9, N34 | None |  |  | IB6 | BB2
1473 | Magnesium bromate | 5.1 | II | 5.1 | A1 | 242 |  |  | IB8 | BB4
1474 | Magnesium nitrate | 5.1 | III | 5.1 | A1 | 240 |  |  | IB8 | BB3
1475 | Magnesium perchlorate | 5.1 | II | 5.1 |  | 242 |  |  | IB6 | BB2
1476 | Magnesium peroxide | 5.1 | II | 5.1 |  | 242 |  |  | IB6 | BB2
1477 | Nitrates, inorganic, n.o.s | 5.1 | II | 5.1 |  | 240 |  |  | IB8 | BB2, BB4
1477 | Nitrates, inorganic, n.o.s | 5.1 | III | 5.1 |  | 240 |  |  | IB8 | BB3
1479 | Oxidizing solid, n.o.s. | 5.1 | I | 5.1 |  | 242 |  |  | IB6 | BB1
1479 | Oxidizing solid, n.o.s. | 5.1 | II | 5.1 |  | 240 |  |  | IB8 | BB2, BB4
1479 | Oxidizing solid, n.o.s. | 5.1 | III | 5.1 |  | 240 |  |  | IB8 | BB3
1481 | Perchlorates, inorganic, n.o.s. | 5.1 | II | 5.1 |  | 242 |  |  | IB6 | BB2
1481 | Perchlorates, inorganic, n.o.s | 5.1 | III | 5.1 |  | 240 |  |  | IB8 | BB3
1482 | Permanganates, inorganic, n.o.s | 5.1 | II | 5.1 | 26, A30 | 242 |  |  | IB6 | BB2
1482 | Permanganates, inorganic, n.o.s. | 5.1 | III | 5.1 | A26, A30 | 240 |  |  | IB8 | BB3
1483 | Peroxides, inorganic, n.o.s | 5.1 | II | 5.1 | A7, A20, N34 | 242 |  |  | IB6 | BB2
1483 | Peroxides, inorganic, n.o.s | 5.1 | III | 5.1 | A7, A20, N34 | 240 |  |  | IB8 | BB3
1484 | Potassium bromate | 5.1 | II | 5.1 |  | 242 |  |  | IB8 | BB4
1485 | Potassium chlorate | 5.1 | II | 5.1 | A9, N34 | 242 |  |  | IB8 | BB4
1486 | Potassium nitrate | 5.1 | III | 5.1 | A1, A29 | 240 |  |  | IB8 | BB3
1487 | Potassium nitrate and sodium nitrite mixtures | 5.1 | II | 5.1 | B78 | 240 |  |  | IB8 | BB4
1488 | Potassium nitrite | 5.1 | II | 5.1 |  | 242 |  |  | IB8 | BB4
1489 | Potassium perchlorate, solid | 5.1 | II | 5.1 |  | 242 |  |  | IB6 | BB2
1489 | Potassium perchlorate, solution | 5.1 | II | 5.1 |  | 242 | T4 | TP1 | IB2 |
1490 | Potassium permanganate | 5.1 | II | 5.1 |  | 240 |  |  | IB8 | BB4
1491 | Potassium peroxide | 5.1 | I | 5.1 | A20, N34 | None |  |  | IB6 | BB1
1492 | Potassium persulfate | 5.1 | III | 5.1 | A1, A29 | 240 |  |  | IB8 | BB3
1493 | Silver nitrate | 5.1 | II | 5.1 |  | 242 |  |  | IB8 | BB4
1494 | Sodium bromate | 5.1 | II | 5.1 |  | 242 |  |  | IB8 | BB4
1495 | Sodium chlorate | 5.1 | II | 5.1 | A9, N34, T8 | 240 | T4 | TP1 | IB8 | BB4
1496 | Sodium chlorite | 5.1 | II | 5.1 | A9, N34, T8 | 242 | T4 | TP1 | IB8 | BB2, BB4
1498 | Sodium nitrate | 5.1 | III | 5.1 | A1, A29 | 240 |  |  | IB8 | BB3
1499 | Sodium nitrate and potassium nitrate mixtures | 5.1 | III | 5.1 | A1, A29 | 240 |  |  | IB8 | BB3
1500 | Sodium nitrite | 5.1 | III | 5.1, 6.1 | A1, A29 | 240 |  |  | IB8 | BB3
1502 | Sodium perchlorate | 5.1 | II | 5.1 |  | 242 |  |  | IB6 | BB2
1503 | Sodium permanganate | 5.1 | II | 5.1 |  | 242 |  |  | IB6 | BB2
1504 | Sodium peroxide | 5.1 | I | 5.1 | A20, N34 | None |  |  | IB6 | BB1
1505 | Sodium persulfate | 5.1 | III | 5.1 | A1 | 240 |  |  | IB8 | BB3
1506 | Strontium chlorate | 5.1 | II | 5.1 | A1, A9, N34 | 242 |  |  | IB8 | BB2, BB4
1507 | Strontium nitrate | 5.1 | III | 5.1 | A1, A29 | 240 |  |  | IB8 | BB3
1508 | Strontium perchlorate | 5.1 | II | 5.1 |  | 242 |  |  | IB6 | BB2
1509 | Strontium peroxide | 5.1 | II | 5.1 |  | 242 |  |  | IB6 | BB2
1510 | Tetranitromethane | 5.1 | I | 5.1, 6.1 | 2, B9, B14, B32, B74, T38, T43, T45 | None | T20 | TP2 TP13 TP38 TP44 |  |
1511 | Urea hydrogen peroxide | 5.1 | III | 5.1, 8 | A1, A7, A29 | 240 |  |  | IB8 | BB3
1512 | Zinc ammonium nitrite | 5.1 | II | 5.1 |  | 242 |  |  | IB8 | BB4
1513 | Zinc chlorate | 5.1 | II | 5.1 | A9, N34 | 242 |  |  | IB8 | BB2, BB4
1514 | Zinc nitrate | 5.1 | II | 5.1 |  | 240 |  |  | IB8 | BB4
1515 | Zinc permanganate | 5.1 | II | 5.1 |  | 242 |  |  | IB6B | B2
1516 | Zinc peroxide | 5.1 | II | 5.1 |  | 242 |  |  | IB6 | BB2
1541 | Acetone cyanohydrin, stabilized | 6.1 | I | 6.1 | 2, A3, B9, B14, B32, B76, B77, N34, T38, T43, T45 | 244 | T20 | TP2 TP13 TP38 TP45
1544 | Alkaloids, solid, n.o.s. or Alkaloid salts, solid, n.o.s. poisonous | 6.1 | I | 6.1 |  | 242 |  |  | IB7 | BB1
1544 | Alkaloids, solid, n.o.s. or Alkaloid salts, solid, n.o.s. poisonous | 6.1 | II | 6.1 |  | 242 |  |  | IB8 | BB2, BB4
1544 | Alkaloids, solid, n.o.s. or Alkaloid salts, solid, n.o.s. poisonous | 6.1 | III | 6.1 |  | 240 |  |  | IB8 | BB3
1545 | Allyl isothiocyanate, stabilized | 6.1 | II | 6.1, 3 | A3, A7 | 243 | T7 | TP2 | IB2
1546 | Ammonium arsenate | 6.1 | II | 6.1 |  | 242 |  |  | IB8 | BB2, BB4
1547 | Aniline | 6.1 | II | 6.1 | T8 | 243 | T7 | TP2 | IB2
1548 | Aniline hydrochloride | 6.1 | III | 6.1 |  | 240 |  |  | IB8 | BB3
1549 | Antimony compounds, inorganic, solid, n.o.s | 6.1 | III | 6.1 | 35 | 240 |  |  | IB8 | BB3
1550 | Antimony lactate | 6.1 | III | 6.1 |  | 240 |  |  | IB8 | BB3
1551 | Antimony potassium tartrate | 6.1 | III | 6.1 |  | 240 |  |  | IB8 | BB3
1553 | Arsenic acid, liquid | 6.1 | I | 6.1 | T18, T27 | 243 | T20 | TP2 TP7 TP13
1554 | Arsenic acid, solid | 6.1 | II | 6.1 |  | 242 |  |  | IB8 | BB2, BB4
1555 | Arsenic bromide | 6.1 | II | 6.1 |  | 242 |  |  | IB8 | BB2, BB4
1556 | Arsenic compounds, liquid, n.o.s. inorganic, including arsenates n.o.s.; arsenites, n.o.s.; arsenic sulfides, n.o.s.; and organic compounds of arsenic, n.o.s | 6.1 | II | 6.1 |  | 243 |  |  | IB2
1556 | Arsenic compounds, liquid, n.o.s. inorganic, including arsenates n.o.s.; arsenites, n.o.s.; arsenic sulfides, n.o.s.; and organic compounds of arsenic, n.o.s | 6.1 | III | 6.1 |  | 241 |  |  | IB3
1557 | Arsenic compounds, solid, n.o.s. inorganic, including arsenates, n.o.s.; arsenites, n.o.s.; arsenic sulfides, n.o.s.; and organic compounds of arsenic, n.o.s | 6.1 | I | 6.1 |  | 242 |  |  | IB7 | BB1
1557 | Arsenic compounds, solid, n.o.s. inorganic, including arsenates, n.o.s.; arsenites, n.o.s.; arsenic sulfides, n.o.s.; and organic compounds of arsenic, n.o.s | 6.1 | II | 6.1 |  | 242 |  |  | IB8 | BB2, BB4
1557 | Arsenic compounds, solid, n.o.s. inorganic, including arsenates, n.o.s.; arsenites, n.o.s.; arsenic sulfides, n.o.s.; and organic compounds of arsenic, n.o.s | 6.1 | III | 6.1 |  | 240 |  |  | IB8 | BB3
1558 | Arsenic | 6.1 | II | 6.1 |  | 242 |  |  | IB8 | BB2, BB4
1559 | Arsenic pentoxide | 6.1 | II | 6.1 |  | 242 |  |  | IB8 | BB2, BB4
1560 | Arsenic trichloride | 6.1 | I | 6.1 | 2, B9, B14, B32, B74, T38, T43, T45 | 244 | T20 | TP2 TP13 TP38 TP45
1561 | Arsenic trioxide | 6.1 | II | 6.1 |  | 242 |  |  | IB8 | BB2, BB4
1562 | Arsenical dust | 6.1 | II | 6.1 |  | 242 |  |  | IB8 | BB2, BB4
1564 | Barium compounds, n.o.s | 6.1 | II | 6.1 |  | 242 |  |  | IB8 | BB2, BB4
1564 | Barium compounds, n.o.s | 6.1 | III | 6.1 |  | 240 |  |  | IB8 | BB3
1565 | Barium cyanide | 6.1 | I | 6.1 | N74, N75 | 242 |  |  | IB7 | BB1
1566 | Beryllium compounds, n.o.s | 6.1 | II | 6.1 |  | 242 |  |  | IB8 | BB2, BB4
1566 | Beryllium compounds, n.o.s | 6.1 | III | 6.1 |  | 240 |  |  | IB8 | BB3
1567 | Beryllium, powder | 6.1 | II | 6.1, 4.1 |  | 242 |  |  | IB8 | BB2, BB4
1569 | Bromoacetone | 6.1 | II | 6.1, 3 | 2 | 245 | T20 | TP2 TP13
1570 | Brucine | 6.1 | I | 6.1 |  | 242 |  |  | IB7 | BB1
1572 | Cacodylic acid | 6.1 | II | 6.1 |  | 242 |  |  | IB8 | BB2, BB4
1573 | Calcium arsenate | 6.1 | II | 6.1 |  | 242 |  |  | IB8 | BB2, BB4
1574 | Calcium arsenate and calcium arsenite, mixtures, solid | 6.1 | II | 6.1 |  | 242 |  |  | IB8 | BB2, BB4
1575 | Calcium cyanide | 6.1 | I | 6.1 | N79, N80 | 242 |  |  | IB7 | BB1
1577 | Chlorodinitrobenzenes | 6.1 | II | 6.1 | T14 | 242 | T7 | TP2 | IB8 | BB2, BB4
1578 | Chloronitrobenzenes meta or para, solid | 6.1 | II | 6.1 | T14 | 242 | T7 | TP2 | IB8 | BB2, BB4
1578 | Chloronitrobenzene, ortho, liquid | 6.1 | II | 6.1 | T14 | 243 | T11 | TP2 TP13 TP27 | IB2
1579 | 4-Chloro-o-toluidine hydrochloride | 6.1 | III | 6.1 |  | 240 |  |  | IB8 | BB3
1580 | Chloropicrin | 6.1 | I | 6.1 | 2, B7, B9, B14, B32, B46, B74, T38, T43, TP45 | 244 | T20 | TP2 TP13 TP38 T45
1581 | Chloropicrin and methyl bromide mixtures | 2.3 |  | 2.3 | 2, B9, B14 | 314, 315 | T50
1582 | Chloropicrin and methyl chloride mixtures | 2.3 |  | 2.3 | 2 | 245 | T50
1583 | Chloropicrin mixtures, n.o.s | 6.1 | II | 6.1 |  | 243 |  |  | IB2
1583 | Chloropicrin mixtures, n.o.s | 6.1 | III | 6.1 |  | 241 |  |  | IB3
1585 | Copper acetoarsenite | 6.1 | II | 6.1 |  | 242 |  |  | IB8 | BB2, BB4
1586 | Copper arsenite | 6.1 | II | 6.1 |  | 242 |  |  | IB8 | BB2, BB4
1587 | Copper cyanide | 6.1 | II | 6.1 |  | 242 |  |  | IB8 | BB2, BB4
1588 | Cyanides, inorganic, solid, n.o.s | 6.1 | I | 6.1 | N74, N75 | 242 |  |  | IB7 | BB1
1588 | Cyanides, inorganic, solid, n.o.s | 6.1 | II | 6.1 | N74, N75 | 242 |  |  | IB8 | BB2, BB4
1588 | Cyanides, inorganic, solid, n.o.s | 6.1 | III | 6.1 | N74, N75 | 240 |  |  | IB8 | BB3
1590 | Dichloroanilines, liquid | 6.1 | II | 6.1 | T14 | 243 | T7 | TP2 | IB2
1590 | Dichloroanilines, solid | 6.1 | II | 6.1 | T14 | 242 | T7 | TP2 | IB8 | BB2, BB4
1591 | o-Dichlorobenzene | 6.1 | III | 6.1 | T7 | 241 | T4 | TP1 | IB3
1593 | Dichloromethane | 6.1 | III | 6.1 | N36, T13 | 241 | T7 | TP2 | IB3 | BB8
1594 | Diethyl sulfate | 6.1 | II | 6.1 | B101, T14 | 243 | T7 | TP2 | IB2
1595 | Dimethyl sulfate | 6.1 | I | 6.1, 8 | 2, B9, B14, B32, B74, B77, T38, T43, T45 | 244 | T20 | TP2 TP13 TP38 TP45
1596 | Dinitroanilines | 6.1 | II | 6.1 | T14 | 242 | T7 | TP2 | IB8 | BB2, BB4
1597 | Dinitrobenzenes, liquid | 6.1 | II | 6.1 | 11, T14 | 243 | T7 | TP2 | IB2
1597 | Dinitrobenzenes, solid | 6.1 | II | 6.1 | 11 | 242 |  |  | IB8 | BB2, BB4
1598 | Dinitro-o-cresol, solid | 6.1 | II | 6.1 | T14 | 242 | T7 | TP2 | IB8 | BB2, BB4
1598 | Dinitro-o-cresol, solution | 6.1 | II | 6.1 | T14 | 243 | T7 | TP2 | IB2 | BB2, BB4
1599 | Dinitrophenol solutions | 6.1 | II | 6.1 | T8 | 243 | T7 | TP2 | IB2
1599 | Dinitrophenol solutions | 6.1 | III | 6.1 | T7 | 241 | T4 | TP1 | IB3
1600 | Dinitrotoluenes, molten | 6.1 | II | 6.1 | B100, T14 | 243 | T7 | TP3
1601 | Disinfectants, solid, toxic, n.o.s | 6.1 | II | 6.1 |  | 242 |  |  | IB8 | BB2, BB4
1601 | Disinfectants, solid, toxic, n.o.s | 6.1 | III | 6.1 |  | 240 |  |  | IB8 | BB3
1602 | Dyes, liquid, toxic, n.o.s or Dye intermediates, liquid, toxic, n.o.s | 6.1 | II | 6.1 |  | 243 |  |  | IB2
1602 | Dyes, liquid, toxic, n.o.s or Dye intermediates, liquid, toxic, n.o.s | 6.1 | III | 6.1 |  | 241 |  |  | IB3
1603 | Ethyl bromoacetate | 6.1 | II | 6.1, 3 | T14 | 243 | T7 | TP2 | IB2
1604 | Ethylenediamine | 8 | II | 8, 3 | T14 | 243 | T7 | TP2 | IB2
1605 | Ethylene dibromide | 6.1 | I | 6.1 | 2, B9, B14, B32, B74, B77, T38, T43, T45 | 244 | T20 | TP2 TP13 TP38 TP45
1606 | Ferric arsenate | 6.1 | II | 6.1 |  | 242 |  |  | IB8 | BB2, BB4
1607 | Ferric arsenite | 6.1 | II | 6.1 |  | 242 |  |  | IB8 | BB2, BB4
1608 | Ferrous arsenate | 6.1 | II | 6.1 |  | 242 |  |  | IB8 | BB2, BB4
1611 | Hexaethyl tetraphosphate, solid | 6.1 | II | 6.1 | N76 | 242 |  |  | IB8 | BB2, BB4
1611 | Hexaethyl tetraphosphate liquid | 6.1 | II | 6.1 | N76 | 243 |  |  | IB2 | BB2, BB4
1613 | Hydrocyanic acid, aqueous solutions or Hydrogen cyanide, aqueous solutions with not more than 20 percent hydrogen cyanide | 6.1 | I | 6.1 | 2, B61, B65, B77, B82 | 244 | T20 | TP2 TP13
1616 | Lead acetate | 6.1 | III | 6.1 |  | 240 |  |  | IB8 | BB3
1617 | Lead arsenates | 6.1 | II | 6.1 |  | 242 |  |  | IB8 | BB2, BB4
1618 | Lead arsenites | 6.1 | II | 6.1 |  | 242 |  |  | IB8 | BB2, BB4
1620 | Lead cyanide | 6.1 | II | 6.1 |  | 242 |  |  | IB8BB2, BB4
1621 | London purple | 6.1 | II | 6.1 |  | 242 |  |  | IB8 | BB2, BB4
1622 | Magnesium arsenate | 6.1 | II | 6.1 |  | 242 |  |  | IB8 | BB2, BB4
1623 | Mercuric arsenate | 6.1 | II | 6.1 |  | 242 |  |  | IB8 | BB2, BB4
1624 | Mercuric chloride | 6.1 | II | 6.1 |  | 242 |  |  | IB8 | BB2, BB4
1625 | Mercuric nitrate | 6.1 | II | 6.1 | N73 | 242 |  |  | IB8 | BB2, BB4
1626 | Mercuric potassium cyanide | 6.1 | I | 6.1 | N74, N75 | 242 |  |  | IB7 | BB1
1627 | Mercurous nitrate | 6.1 | II | 6.1 |  | 242 |  |  | IB8 | BB2, BB4
1629 | Mercury acetate | 6.1 | II | 6.1 |  | 242 |  |  | IB8 | BB2, BB4
1630 | Mercury ammonium chloride | 6.1 | II | 6.1 |  | 242 |  |  | IB8 | BB2, BB4
1631 | Mercury benzoate | 6.1 | II | 6.1 |  | 242 |  |  | IB8 | BB2, BB4
1634 | Mercury bromides | 6.1 | II | 6.1 |  | 242 |  |  | IB8 | BB2, BB4
1636 | Mercury cyanide | 6.1 | II | 6.1 | N74, N75 | 242 |  |  | IB8 | BB2, BB4
1637 | Mercury gluconate | 6.1 | II | 6.1 |  | 242 |  |  | IB8 | BB2, BB4
1638 | Mercury iodide, solution | 6.1 | II | 6.1 |  | 243 |  |  | IB8 | BB2, BB4
1638 | Mercury iodide, solid | 6.1 | II | 6.1 |  | 242 |  |  | IB2 | BB2, BB4
1639 | Mercury nucleate | 6.1 | II | 6.1 |  | 242 |  |  | IB8 | BB2, BB4
1640 | Mercury oleate | 6.1 | II | 6.1 |  | 242 |  |  | IB8 | BB2, BB4
1641 | Mercury oxide | 6.1 | II | 6.1 |  | 242 |  |  | IB8 | BB2, BB4
1642 | Mercury oxycyanide, desensitized | 6.1 | II | 6.1 |  | 242 |  |  | IB8 | BB2, BB4
1643 | Mercury potassium iodide | 6.1 | II | 6.1 |  | 242 |  |  | IB8 | BB2, BB4
1644 | Mercury salicylate | 6.1 | II | 6.1 |  | 242 |  |  | IB8 | BB2, BB4
1645 | Mercury sulfates | 6.1 | II | 6.1 |  | 242 |  |  | IB8 | BB2, BB4
1646 | Mercury thiocyanate | 6.1 | II | 6.1 |  | 242 |  |  | IB8 | BB2, BB4
1647 | Methyl bromide and ethylene dibromide mixtures, liquid | 6.1 | I | 6.1 | 2, B9, B14, B32, B74, N65, T38, T43, T45 | 244 | T20 | TP2 TP13 TP38 TP44 |  |
1648 | Acetonitrile | 3 | II | 3 | T14 | 242 | T7 | TP2 | IB2 |
1649 | Motor fuel anti-knock mixtures | 6.1 | I | 6.1, 3 | 14, B9, B90, T26, T39 | 244 | T14 | TP2 TP13 |
1650 | beta-Naphthylamine | 6.1 | II | 6.1 | T12, T26 | 242 | T7 | TP2 | IB8 | BB2, BB4
1651 | Naphthylthiourea | 6.1 | II | 6.1 |  | 242 |  |  | IB8 | BB2, BB4
1652 | Naphthylurea | 6.1 | II | 6.1 |  | 242 |  |  | IB8 | BB2, BB4
1653 | Nickel cyanide | 6.1 | II | 6.1 | N74, N75 | 242 |  |  | IB8 | BB2, BB4
1654 | Nicotine | 6.1 | II | 6.1 |  | 243 |  |  | IB2 |
1655 | Nicotine compounds, solid, n.o.s. or Nicotine preparations, solid, n.o.s. | 6.1 | I | 6.1 |  | 242 |  |  | IB7 | BB1
1655 | Nicotine compounds, solid, n.o.s. or Nicotine preparations, solid, n.o.s | 6.1 | II | 6.1 |  | 242 |  |  | IB8 | BB2, BB4
1655 | Nicotine compounds, solid, n.o.s. or Nicotine preparations, solid, n.o.s. | 6.1 | III | 6.1 |  | 240 |  |  | IB8 | BB3
1656 | Nicotine hydrochloride or Nicotine hydrochloride solution | 6.1 | II | 6.1 |  | 243 |  |  | IB2 | BB2, BB4
1657 | Nicotine salicylate | 6.1 | II | 6.1 |  | 242 |  |  | IB8 | BB2, BB4
1658 | Nicotine sulfate, solid | 6.1 | II | 6.1 |  | 242 |  |  | IB8 | BB2, BB4
1658 | Nicotine sulfate, solution | 6.1 | II | 6.1 | T14 | 243 | T7 | TP2 | IB2 |
1659 | Nicotine tartrate | 6.1 | II | 6.1 |  | 242 |  |  | IB8 | BB2, BB4
1661 | Nitroanilines (o-; m-; p-;) | 6.1 | II | 6.1 | T14 | 242 | T7 | TP2 | IB8 | BB2, BB4
1662 | Nitrobenzene | 6.1 | II | 6.1 | T14 | 243 | T7 | TP2 | IB2 |
1663 | Nitrophenols (o-; m-; p-;) | 6.1 | III | 6.1 | T8, T38 | 240 | T4 | TP3 TP38 | IB8 | BB3
1664 | Nitrotoluenes, solid m-, or p- | 6.1 | II | 6.1 | T14 | 242 | T7 | TP2 | IB8 | BB2, BB4
1664 | Nitrotoluenes, liquid o-; m-; p-; | 6.1 | II | 6.1 | T14 | 243 | T7 | TP2 | IB2 | BB2, BB4
1665 | Nitroxylenes, (o-; m-; p-) | 6.1 | II | 6.1 | T14 | 243 | T7 | TP2 | IB2 | BB2, BB4
1669 | Pentachloroethane | 6.1 | II | 6.1 | T14 | 243 | T7 | TP2 | IB2 |
1670 | Perchloromethyl mercaptan | 6.1 | I | 6.1 | 2, A3, A7, B9, B14, B32, B74, N34, T38, T43, T45 | 244 | T20 | TP2 TP13 TP38 T45
1671 | Phenol, solid | 6.1 | II | 6.1 | N78, T14 | 242 | T6 | TP2 | IB8 | BB2, BB4
1672 | Phenylcarbylamine chloride | 6.1 | I | 6.1 | 2, B9, B14, B32, B74, T38, T43, T45 | 244 | T20 | TP2 TP13 TP38 TP45 |  |
1673 | Phenylenediamines (o-; m-; p-;) | 6.1 | III | 6.1 |  | 240 | T7 | TP1 | IB8 | BB3
1674 | Phenylmercuric acetate | 6.1 | II | 6.1 |  | 242 |  |  | IB8 | BB2, BB4
1677 | Potassium arsenate | 6.1 | II | 6.1 |  | 242 |  |  | IB8 | BB2, BB4
1678 | Potassium arsenite | 6.1 | II | 6.1 |  | 242 |  |  | IB8 | BB2, BB4
1679 | Potassium cuprocyanide | 6.1 | II | 6.1 |  | 242 |  |  | IB8 | BB2, BB4
1680 | Potassium cyanide | 6.1 | I | 6.1 | B69, B77, N74, N75, T18, T26 | 242 | T14 | TP2 TP13 | IB7 | BB1
1683 | Silver arsenite | 6.1 | II | 6.1 |  | 242 |  |  | IB8 | BB2, BB4
1684 | Silver cyanide | 6.1 | II | 6.1 |  | 242 |  |  | IB8 | BB2, BB4
1685 | Sodium arsenate | 6.1 | II | 6.1 |  | 242 |  |  | IB8 | BB2, BB4
1686 | Sodium arsenite, aqueous solutions | 6.1 | II | 6.1 | T15 | 243 | T7 | TP2 | IB2 |
1686 | Sodium arsenite, aqueous solutions | 6.1 | III | 6.1 | T15 | 241 | T4 | TP2 | IB3 |
1687 | Sodium azide | 6.1 | II | 6.1 | B28 | 242 |  |  | IB8 | BB2, BB4
1688 | Sodium cacodylate | 6.1 | II | 6.1 |  | 242 |  |  | IB8 | BB2, BB4
1689 | Sodium cyanide | 6.1 | I | 6.1 | B69, B77, N74, N75, T42 | 242 | T14 | TP2 TP13 | IB7 | BB1
1690 | Sodium fluoride | 6.1 | III | 6.1 | T8 | 240 | T4 | TP1 | IB8 | BB3
1691 | Strontium arsenite | 6.1 | II | 6.1 |  | 242 |  |  | IB8 | BB2, BB4
1692 | Strychnine or Strychnine salts | 6.1 | I | 6.1 |  | 242 |  |  | IB7 | BB1
1693 | Tear gas substances, liquid, n.o.s | 6.1 | II | 6.1 |  | None |  |  | IB2 |
1693 | Tear gas substances, solid, n.o.s | 6.1 | II | 6.1 |  | None |  |  | IB8 | BB2, BB4
1694 | Bromobenzyl cyanides, solid | 6.1 | I | 6.1 | T18 | 242 | T14 | TP2 TP13 |  |
1694 | Bromobenzyl cyanides, liquid | 6.1 | I | 6.1 | T18 | 243 | T14 | TP2 TP13 |  |
1695 | Chloroacetone, stabilized | 6.1 | I | 6.1, 3, 8 | 2, B9, B14, B32, B74, N12, N32, N34, T38, T43, T45 | 244 | T20 | TP2 TP13 TP38 TP45 |  |
1697 | Chloroacetophenone (CN), liquid | 6.1 | II | 6.1 | A3, N12, N32, N33 | 243 | T11 | TP2 TP13 TP27 | IB2 |
1697 | Chloroacetophenone (CN), solid | 6.1 | II | 6.1 | A3, N12, N32, N33, N34 | None | T7 | TP2 TP13 | IB8 | BB2, BB4
1699 | Diphenylchloroarsine, solid | 6.1 | I | 6.1 | A8, B14, B32, N33, N34 | 242 |  |  | IB7 | BB1
1699 | Diphenylchloroarsine, liquid | 6.1 | I | 6.1 | A8, B14, B32, N33, N34 | 243 | T14 | TP2 TP13 TP27 |  |
1701 | Xylyl bromide | 6.1 | II | 6.1 | A3, A6, A7, N33 | None | T7 | TP2 TP13 | IB2 |
1702 | Tetrachloroethane | 6.1 | II | 6.1 | N36, T14 | 243 | T7 | TP2 | IB2 |
1704 | Tetraethyl dithiopyrophosphate | 6.1 | II | 6.1 |  | 242 |  |  | IB8 | BB2, BB4
1707 | Thallium compounds, n.o.s. | 6.1 | II | 6.1 |  | 242 |  |  | IB8 | BB2, BB4
1708 | Toluidines liquid | 6.1 | II | 6.1 | T14 | 243 | T7 | TP2 | IB2 |
1708 | Toluidines solid | 6.1 | II | 6.1 |  | 242 | T7 | TP2 | IB8 | BB2, BB4
1709 | 2,4-Toluylenediamine or 2,4-Toluenediamine | 6.1 | III | 6.1 | T7 | 240 | T4 | TP1 | IB8 | BB3
1710 | Trichloroethylene | 6.1 | III | 6.1 | N36, T1 | 241 | T4 | TP1 | IB3 |
1711 | Xylidines, solution | 6.1 | II | 6.1 | T14 | 243 | T7 | TP2 | IB2 |
1711 | Xylidines, solid | 6.1 | II | 6.1 | T14 | 242 | T7 | TP2 | IB8 | BB2, BB4
1712 | Zinc arsenate or Zinc arsenite or Zinc arsenate and zinc arsenite mixtures | 6.1 | II | 6.1 |  | 242 |  |  | IB8 | BB2, BB4
1713 | Zinc cyanide | 6.1 | I | 6.1 |  | 242 |  |  | IB7 | BB1
1715 | Acetic anhydride | 8 | II | 8, 3 | A3, A6, A7, A10, B2, T8 | 243 | T7 | TP2 | IB2 |
1716 | Acetyl bromide | 8 | II | 8 | B2, T12, T26 | 242 | T8 | TP2 TP12 | IB2 |
1717 | Acetyl chloride | 3 | II | 3, 8 | A3, A6, A7, B100, N34, T18, T26 | 243 | T8 | TP2 TP12 | IB1 |
1718 | Butyl acid phosphate | 8 | III | 8 | T7 | 241 | T4 | TP1 | IB3 |
1719 | Caustic alkali liquids, n.o.s | 8 | II | 8 | B2, T14 | 242 | T11 | TP2 TP27 | IB2 |
1719 | Caustic alkali liquids, n.o.s | 8 | III | 8 | T7 | 241 | T7 | TP1 TP28 | IB3 |
1722 | Allyl chloroformate | 6.1 | I | 6.1, 3, 8 | 2, B9, B14, B32, B74, N41, T38, T43, T45 | 244 | T20 | TP2 TP13 TP38 TP45 |  |
1723 | Allyl iodide | 3 | II | 3, 8 | A3, A6, B100, N34, T18 | 243 | T7 | TP2 TP13 | IB1 |
1724 | Allyltrichlorosilane, stablized | 8 | II | 8, 3 | A7, B2, B6, N34, T8, T26 | 243 | T7 | TP2 TP13 | IB2 |
1725 | Aluminum bromide, anhydrous | 8 | II | 8 | B106 | 240 |  |  | IB8 | BB2, BB4
1726 | Aluminum chloride, anhydrous | 8 | II | 8 | B106 | 240 |  |  | IB8 | BB2, BB4
1727 | Ammonium hydrogendifluoride, solid | 8 | II | 8 | B106, N34 | 240 |  |  | IB8 | BB2, BB4
1728 | Amyltrichlorosilane | 8 | II | 8 | A7, B2, B6, N34, T8, T26 | 242 | T7 | TP2 TP13 | IB2 |
1729 | Anisoyl chloride | 8 | II | 8 B2, T8 | 242 | T7 | TP2 | IB2 |
1730 | Antimony pentachloride, liquid | 8 | II | 8 B2, T8, T26 | 242 | T7 | TP2 | IB2 |
1731 | Antimony pentachloride, solutions | 8 | II | 8 B2, T8, T27 | 242 | T7 | TP2 | IB2 |
1731 | Antimony pentachloride, solutions | 8 | III | 8 | T7, T26 | 241 | T4 | TP1 | IB3 |
1732 | Antimony pentafluoride | 8 | II | 8, 6.1 | A3, A6, A7, A10, N3, T12, T26 | 243 | T7 | TP2 | IB2 |
1733 | Antimony trichloride, liquid | 8 | II | 8 | B2 | 242 |  |  | IB2 |
1733 | Antimony trichloride, solid | 8 | II | 8 | B106 | 240 |  |  | IB8 | BB2, BB4
1736 | Benzoyl chloride | 8 | II | 8 | B2, T9, T26 | 242 | T8 | TP2 TP12 | IB2 |
1737 | Benzyl bromide | 6.1 | II | 6.1, 8 | A3, A7, N33, N34, T12, T26 | 243 | T8 | TP2 TP12 TP13 | IB2 |
1738 | Benzyl chloride | 6.1 | II | 6.1, 8 | A3, A7, B70, N33, N42, T12, T26 | 243 | T8 | TP2 TP12 TP13 | IB2 |
1738 | Benzyl chloride unstabilized | 6.1 | II | 6.1, 8 | A3, A7, B8, B11, N33, N34, N43, T12, T26 | 243 | T8 | TP2 TP12 TP13 | IB2 |
1739 | Benzyl chloroformate | 8 | I | 8 | A3, A6, B4, N41, T18, T26 | 243 | T10 | TP2 TP12 TP13 |  |
1740 | Hydrogendifluorides, n.o.s. solutions | 8 | II | 8 | N3, N34 | 242 |  |  | IB2 |
1740 | Hydrogendifluorides, n.o.s. solutions | 8 | II | 8 | N3, N34 | 240 |  |  | IB5 | BB2, BB4
1740 | Hydrogendifluorides, n.o.s. solutions | 8 | III | 8 | N3, N34 | 241 |  |  | IB3 | BB3
1740 | Hydrogendifluorides, n.o.s. solutions | 8 | III | 8 | N3, N34 | 240 |  |  | IB8 | BB3
1742 | Boron trifluoride acetic acid complex | 8 | II | 8 | B2, B6, T9, T27 | 242 | T8 | TP2 TP12 | IB2 |
1743 | Boron trifluoride propionic acid complex | 8 | II | 8 | B2, T9, T27 | 242 | T8 TP2 TP12 | IB2 D
1744 | Bromine or Bromine solutions | 8 | I | 8, 6.1 | 1, A3, A6, B9, B64, B85, N34, N43, T18, T41 | 249 | T22 | TP2 TP10 TP12 TP13 |  |
1745 | Bromine pentafluoride | 5.1 | I | 5.1, 6.1, | 1, B9, B14, B30, B72, T38, T43, T44 | 244 | T22 | TP2 TP12 TP13, TP38 |  |
1746 | Bromine trifluoride | 5.1 | I | 5.1, 6.1, 8 | 2, B9, B14, B32, B74, T38, T43, T45 | 244 | T22 | TP2 TP12 TP13, TP38 |  |
1747 | Butyltrichlorosilane | 8 | II | 8, 3 | A7, B2, B6, N34, T8, T26 | 243 | T7 | TP2 TP13 | IB2 |
1748 | Calcium hypochlorite, dry or Calcium hypochlorite | 5.1 | II | 5.1 | A7, A9, N34 | None |  |  | IB8 | BB2, BB4
1750 | Chloroacetic acid, solution | 6.1 | II | 6.1, 8 | A7, N34, T8, T27 | 243 | T7 | TP2 | IB2 |
1751 | Chloroacetic acid, solid | 6.1 | II | 6.1, 8 | A3, A7, N34 | 242 |  |  | IB8 | BB4
1752 | Chloroacetyl chloride | 6.1 | I | 6.1, 8 | 2, A3, A6, A7, B3 B8, B9, B14, B32, B74, B77, N34, N43, T38, T43, T45 | 244 | T20 | TP2 TP13, TP38, TP45 |  |
1753 | Chlorophenyltrichlorosilane | 8 | II | 8 | A7, B2, B6, N34, T8, T26 | 242 | T7 | TP2 | IB2 |
1754 | Chlorosulfonic acid (with or without sulfur trioxide) | 8 | I | 8, 6.1 | 2, A3, A6, A10, B9, B10, B14, B32, B74, T38, T43, T45 | 244 | T20 | TP2 TP12 TP38, TP45 |  |
1755 | Chromic acid solution | 8 | II | 8 | B2, T9, T27 | 242 | T8 | TP2 TP12 | IB2 |
1755 | Chromic acid solution | 8 | III | 8 | T8, T26 | 241 | T4 TP1 TP12 | IB3 |
1756 | Chromic fluoride, solid | 8 | II | 8 |  | 240 |  |  | IB8 | BB2, BB4
1757 | Chromic fluoride, solution | 8 | II | 8 | B2, T8 | 242 | T7 | TP2 | IB2 |
1757 | Chronic fluoride, solution | 8 | III | 8 | T7 | 241 | T4 | TP1 | IB3 |
1758 | Chromium oxychloride | 8 | I | 8 | A3, A6, A7, B10, N34, T12, T26 | 243 DT10 | TP2 TP12 |  |
1759 | Corrosive solids, n.o.s | 8 | I | 8 |  | 242 |  |  | IB7 | BB1
1759 | Corrosive solids, n.o.s | 8 | II | 8 | 128 | 240 |  |  | IB8 | BB2, BB4
1759 | Corrosive solids, n.o.s | 8 | III | 8 | 128 | 240 |  |  | IB8 | BB3
1760 | Corrosive liquids, n.o.s | 8 | I | 8 | A7, B10, T42 | 243 | T14 | TP2 TP27 |  |
1760 | Corrosive liquids, n.o.s | 8 | II | 8 | B2, T14 | 242 | T11 | TP2 TP27 | IB2 |
1760 | Corrosive liquids, n.o.s | 8 | III | 8 | T7 | 241 | T7 | TP1 TP28 | IB3 |
1761 | Cupriethylenediamine solution | 8 | II | 8, | 8, T26 | 243 | T7 | TP2 | IB2 |
1761 | Cupriethylenediamine solution | 8 | III | 8, | T7 | 242 | T7 | TP1 TP28 | IB3 |
1762 | Cyclohexenyltrichlorosilane | 8 | II | 8 | A7, B2, N34, T8. T26 | 242 | T7 | TP2 TP13 | IB2 |
1763 | Cyclohexyltrichlorosilane | 8 | II | 8 | A7, B2, N34, T8, T26 | 242 | T7 | TP2 TP13 | IB2 |
1764 | Dichloroacetic acid | 8 | II | 8 | A3, A6, A7, B2, N34, T9, T27 | 242 | T8 | TP2 TP12 | IB2
1765 | Dichloroacetyl chloride | 8 | II | 8 | A3, A6, A7, B2, N34, T8, T26 | 242 | T7 | TP2 | IB2 |
1766 | Dichlorophenyltrichlorosilane | 8 | II | 8 | A7, B2, B6, N34, T8, T26 | 242 | T7 | TP2 TP13 | IB2
1767 | Diethyldichlorosilane | 8 | II | 8, 3 | A7, B6, B100, N34, T8, T26 | 243 | T7 | TP2 TP13 | IB2 |
1768 | Difluorophosphoric acid, anhydrous | 8 | II | 8 | A6, A7, B2, N5, N34, T9, T27 | 242 | T8 | TP2 TP12 | IB2 |
1769 | Diphenyldichlorosilane | 8 | II | 8 | A7, B2, N34, T8, T26 | 242 | T7 | TP2 TP13 | IB2 |
1770 | Diphenylmethyl bromide | 8 | II | 8 |  | 240 |  |  | IB8 | BB2, BB4
1771 | Dodecyltrichlorosilane | 8 | II | 8 | A7, B2, B6, N34, T8, T26 | 242 | T7 | TP2 TP13 | IB2 |
1773 | Ferric chloride, anhydrous | 8 | III | 8 |  | 240 |  |  | IB8 | BB3
1775 | Fluoroboric acid | 8 | II | 8 | A6, A7, B2, B15, N3, N34, T15, T27 | 242 | T7 | TP2 | IB2 |
1776 | Fluorophosphoric acid anhydrous | 8 | ll | 8 | A6, A7, B2, N3, N34, T9, T27 | 242 | T8 | TP2 TP12 | 1B2
1777 | Fluorosulfonic acid | 8 | l | 8 | A3, A6, A7, A10, B6, B10, N3, T9, T27 | 243 | T10 | TP2 TP12
1778 | Fluorosilicic acid | 8 | ll | 8 | A6, A7, B2, B15, N3, N34, T12, T27 | 242 | T8 | TP2 TP12 | 1B2
1779 | Formic acid | 8 | ll | 8 | B2, B28, T8 | 242 | T7 | TP2 | lB2
1780 | Fumaryl chloride | 8 | ll | 8 | B2, T8, T26 | 242 | T7 | TP2 | 1B2
1781 | Hexadecyltrichlorosilane | 8 | II | 8 | A7, B2, B6, N34, T8 | 242 | T7 | TP2 | 1B2
1782 | Hexafluorophosphoric acid | 8 | II | 8 | A6, A7, B2, N3, N34, T9, T27 | 242 | T8 | TP2 TP12 | 1B2
1783 | Hexamethylenediamine solution | 8 | II | 8 | T8 | 242 | T7 | TP2 | 1B2
1783 | Hexamethylenediamine solution | 8 | III | 8 | T7 | 241 | T4 | TP1 | 1B3
1784 | Hexyltrichlorosilane | 8 | ll | 8 | A7, B2, B6, N34, T8, T26 | 242 | T7 | TP2 TP13 | lB2
1786 | Hydrofluoric acid and Sulfuric acid mixtures | 8 | l | 8, 6.1 | A6, A7, B15, B23, N5, N34, T18, T27 | 243 | T10 | TP2 TP12 TP13
1787 | Hydriodic acid | 8 | II | 8 | A3, A6, B2, N41, T9, T27 | 242 | T7 | TP2 | lB2
1787 | Hydriodic acid | 8 | III | 8 | T8, T26 | 241 | T4 | TP1 | lB3
1788 | Hydrobromic acid, with not more than 49 percent hydrobromic acid | 8 | ll | 8 | A3, A6, B2, B15, N41, T9, T27 | 242 | T7 | TP2 | lB2
1788 | Hydrobromic acid, with more than 49 percent hydrobromic acid | 8 | ll | 8 | B2, B15, N41, T9, T27 | 242 | T7 | TP2 | lB2
1788 | Hydrobromic acid, with more than 49 percent hydrobromic acid | 8 | lll | 8 | T8, T26 | 241 | T4 | TP1 | lB3
1788 | Hydrobromic acid, with not more than 49 percent hydrobromic acid | 8 | lll | 8 | T8, T26 | 241 | T4 | TP1 | lB3
1789 | Hydrochloric acid | 8 | ll | 8 | A3, A6, B3, B15, N41, T9, T27 | 242 | T8 | TP2 TP12 | lB2
1789 | Hydrochloric acid | 8 | lll | 8 | T8, T26 | 241 | T4 | TP1 TP12 | lB3
1790 | Hydrofluoric acid, with more than 60 percent strength | 8 | l | 8, 6.1 | A6, A7, B4, B15, B23, N5, N34, T18, T27 | 243 | T10 | TP2 TP12 TP13
1790 | Hydrofluoric acid, with not more than 60 percent strength | 8 | ll | 8, 6.1 | A6, A7, B15, B110, N5, N34, T18, T27 | 243 | T8 | TP2 TP12 | lB2
1791 | Hypochlorite solutions | 8 | ll | 8 | A7, B2, B15, N34, T7 | 242 | T7 | TP2 TP24 | lB2 | BB5
1791 | Hypochlorite solutions | 8 | lll | 8 | B104, N34, T7 | 241 | T4 | TP2 TP24 | lB3
1792 | Iodine monochloride | 8 | ll | 8 | B6, N41, T8, T26 | 240 | T7 | TP2 | lB8 | BB2, BB4
1793 | Isopropyl acid phosphate | 8 | lll | 8 | T7 | 240 | T4 | TP1 | lB8 | BB3
1794 | Lead sulfate with more than 3 percent free acid | 8 | ll | 8 |  | 240 |  |  | lB8 | BB2, BB4
1796 | Nitrating acid mixtures with more than 50 percent nitric acid | 8 | l | 8, 5.1 | T12, T27 | 243 | T10 | TP2 TP12 TP13
1796 | Nitrating acid mixtures with not more than 50 percent nitric acid | 8 | ll | 8 | B2, T12, T27 | 242 | T8 | TP2 TP12 TP13 | lB2
1798 | Nitrohydrochloric acid | 8 | l | 8 | A3, B10, N41, T18, T27 | 243 | T10 | TP2 TP12 TP13
1799 | Nonytrichlorosilane | 8 | ll | 8 | A7, B2, B6, N34, T8, T26 | 242 | T7 | TP2 TP13 | lB2
1800 | Octadecyltrichlorosilane | 8 | ll | 8 | A7, B2, B6, T8, N34 | 242 | T7 | TP2 TP13 | lB2
1801 | Octyltrichlorosilane | 8 | ll | 8 | A7, B2, B6, N34, T8, T26 | 242 | T7 | TP2 TP13 | lB2
1802 | Perchloric acid with not more than 50 percent acid by mass | 8 | ll | 8, 5.1 | N41, T9 | 243 | T7 | TP2 | lB2
1803 | Phenolsulfonic acid, liquid | 8 | ll | 8 | B2, N41, T8 | 242 | T7 | TP2 | lB2
1804 | Phenyltrichlorosilane | 8 | ll | 8 | A7, B6, N34, T8 | 242 | T7 | TP2 | lB2
1805 | Phosphoric acid | 8 | lll | 8 | A7, N34, T7 | 241 | T4 | TP1 | lB3 | BB3
1806 | Phosphorus pentachloride | 8 | ll | 8 | A7, B106, N34 | 240 |  |  | lB8 | BB2, BB4
1807 | Phosphorus pentoxide | 8 | ll | 8 | A7, N34 | 240 |  |  | lB8 | BB2, BB4
1808 | Phosphorus tribromide | 8 | ll | 8 | A3, A6, A7, B2, B25, N34, N43, T8 | 242 | T7 | TP2 | lB2
1809 | Phosphorus trichloride | 6.1 | l | 6.1, 8 | 2, B9, B14, B15, B32, B74, B77, N34, T38, T43, T45 | 244 | T20 | TP2 TP13 TP38 TP45
1810 | Phosphorus oxychloride | 8 | ll | 8, 6.1 | 2, A7, B9, B14, B32, B74, B77, N34, T38, T43, T45 | 244 | T20 | TP2 TP38 TP45
1811 | Potassium hydrogendifluoride, solution | 8 | ll | 8, 6.1 | N3, N34, T8 | 243 | T7 | TP2 | lB8 | BB2, BB4
1811 | Potassium hydrogendifluoride, solid | 8 | ll | 8, 6.1 | B106, N3, N34, T8 | 240 | T7 | TP2 | lB2 | BB2, BB4
1812 | Potassium fluoride | 6.1 | lll | 6.1 | T8 | 240 | T4 | TP1 | lB8 | BB3
1813 | Potassium hydroxide, solid | 8 | ll | 8 |  | 240 |  |  | lB8 | BB2, BB4
1814 | Potassium hydroxide, solution | 8 | ll | 8 | B2, T8 | 242 | T7 | TP2 | lB2
1814 | Potassium hydroxide, solution | 8 | lll | 8 | T7 | 241 | T4 | TP1 | lB3
1815 | Propionyl chloride | 3 | ll | 3, 8 | B100, T8, T26 | 243 | T7 | TP1 | lB1
1816 | Propyltrichlorosilane | 8 | II | 8, 3 | A7, B2, B6, N34, T8, T26 | 243 | T7 | TP2 TP13 | IB2
1817 | Pyrosulfuryl chloride | 8 | II | 8 | B2, T9, T27 | 242 | T8 | TP2 TP12 | IB2
1818 | Silicon tetrachloride | 8 | II | 8 | A3, A6, B2, B6, | T18, T26, T29 | 242 | T7 | TP2 TP7 | IB2
1819 | Sodium aluminate, solution | 8 | II | 8 | B2, T8 | 242 | T7 | TP2 | IB2
1819 | Sodium aluminate, solution | 8 | III | 8 | T7 | 241 | T4 | TP1 | IB3
1823 | Sodium hydroxide, solid | 8 | II | 8 |  | 240 |  |  | IB8 | BB2, BB4
1824 | Sodium hydroxide solution | 8 | II | 8 | B2, N34, T8 | 242 | T7 | TP2 | IB2 |
1824 | Sodium hydroxide solution | 8 | III | 8 | N34, T7 | 241 | T4 | TP1 | IB3 |
1825 | Sodium monoxide | 8 | II | 8 |  | 240 |  |  | IB8 | BB2, BB4
1826 | Nitrating acid mixtures, spent with more than 50 percent nitric acid | 8 | I | 8, 5.1 | T12, T27 | 243 | T10 | TP2 TP12 TP13 |  |
1826 | Nitrating acid mixtures spent with not more than 50 percent nitric acid | 8 | II | 8 | B2, B100, T12, T27 | 242 | T8 | TP2 TP12 | IB2 |
1827 | Stannic chloride, anhydrous | 8 | II | 8 | B2, T8, T26 | 242 | T7 | TP2 | IB2 |
1828 | Sulfur chlorides | 8 | I | 8 | 5, A3, B10, B77, N34, T18, T27 | 243 | T20 | TP2 TP12
1829 | Sulfur trioxide, inhibited or Sulfur trioxide, stabilized | 8 | I | 8, 6.1 | 2, A7, B9, B14, B32, B49, B74, B77, N34, T38, T43, T45 | 244 | T20 | TP4 TP12 TP13 TP25 TP26 TP38 TP45 |  |
1830 | Sulfuric acid with more than 51 percent acid | 8 | II | 8 | A3, A7, B3, B83, B84, N34, T9, T27 | 242 | T8 | TP2 TP12 | IB2 |
1831 | Sulfuric acid, fuming with less than 30 percent free sulfur trioxide | 8 | I | 8 | A3, A7, B84, N34, T18, T27 | 243 | T20 | TP2 TP12 TP13 |  |
1831 | Sulfuric acid, fuming with 30 percent or more free sulfur trioxide | 8 | I | 8, 6.1 | 2, B9, B14, B32, B74, B77, B84, N34, T38, T43, T45 | 244 | T20 | TP2 TP12 TP13 |  |
1832 | Sulfuric acid, spent | 8 | II | 8 | A3, A7, B2, B83, B84, N34, T9, T27 | 242 | T8 | TP2 TP12 | IB2
1833 | Sulfurous acid | 8 | II | 8 | B3, T8 | 242 | T7 | TP2 | IB2
1834 | Sulfuryl chloride | 8 | I | 8, 6.1 | 1, A3, B6, B9, B10, B14, B30, B74, B77, N34, T38, T43, T44 | 244 | T22 | TP2 TP12 TP38 TP44 |  |
1835 | Tetra- methyl- ammonium hydroxide | 8 | II | 8 | B2, T8 | 242 | T7 | TP2 | IB2 |
1836 | Thionyl chloride | 8 | I | 8 | A7, B6, B10, N34, T18, T27 | 243 | T10 | TP2 TP12 TP13 |
1837 | Thiophosphoryl chloride | 8 | II | 8 | A3, A7, B2, B8, B25, B101, N34, T12 | 242 | T7 | TP2 | IB2 |
1838 | Titanium tetrachloride | 8 | II | 8, 6.1 | 2, A3, A6, B7, B9, B14, B32, B74, B77, T38, T43, T45 | 244 | T20 | TP2 TP13 TP38 TP45 |  |
1839 | Trichloroacetic acid | 8 | II | 8 | A7, N34 | 240 |  |  | IB8 | BB2, BB4
1840 | Zinc chloride, solution | 8 | III | 8 | T7 | 241 | T4 | TP1 | IB3 |
1841 | Acetaldehyde ammonia | 9 | III | 9 |  | 240 |  |  | IB8 | BB6
1843 | Ammonium dinitro-o-cresolate | 6.1 | II | 6.1 | T8 | 242 | T7 | TP2 | IB8 | BB2, BB4
1846 | Carbon tetrachloride | 6.1 | II | 6.1 | N36, T8 | 243 | T7 | TP2 | IB2 |
1847 | Potassium sulfide, hydrated with not less than 30 percent water of crystallization | 8 | II | 8 |  | 240 |  |  | IB8 | BB2, BB4
1848 | Propionic acid | 8 | III | 8 | T7 | 241 | T4 | TP1 | IB3 |
1849 | Sodium sulfide, hydrated with not less than 30 percent water | 8 | II | 8 | T8 | 240 | T7 | TP2 | IB8 | BB2, BB4
1858 | Hexafluoropropylene, compressed or Refrigerant gas R 1216 | 2.2 |  | 2.2 |  | 314, 315 | T50 |  |  |
1862 | Ethyl crotonate | 3 | II | 3 | T1 | 242 | T4 | TP2 | IB2 |
1863 | Fuel, aviation, turbine engine | 3 | I | 3 | T7 | 243 | T11 | TP1 TP8
1863 | Fuel, aviation, turbine engine | 3 | II | 3 | T1 | 242 | T4 | TP1 TP8 | IB2 |
1863 | Fuel, aviation, turbine engine | 3 | III | 3 | B1, T1 | 242 | T2 | TP1 | IB3 |
1865 | n-Propyl nitrate | 3 | II | 3 | T25 | None |  |  | IB2 | BB7
1866 | Resin solution, flammable | 3 | I | 3 | B52, T8, T31 | 243 | T11 | TP1 TP8 |  |
1866 | Resin solution, flammable | 3 | II | 3 | B52, T7, T30 | 242 | T4 | TP1 TP8 | IB2 |
1866 | Resin solution, flammable | 3 | III | 3 | B1, B52, T7, T30 | 242 | T2 | TP1 | IB3 |
1868 | Decaborane | 4.1 | II | 4.1, 6.1 | A19, A20 | None |  |  | IB6 | BB2
1869 | Magnesium or Magnesium alloys with more than 50 percent magnesium in pellets, turnings or ribbons | 4.1 | III | 4.1 | A1 | 240 |  |  | IB8 | BB3
1871 | Titanium hydride | 4.1 | II | 4.1 | A19, A20, N34 | 241 |  |  | IB4
1872 | Lead dioxide | 5.1 | III | 5.1 | A1 | 240 |  |  | IB8 | BB3
1873 | Perchloric acid with more than 50 percent but not more than 72 percent acid, by mass | 5.1 | I | 5.1, 8 | A2, A3, N41, T9, T27 | 243 | T10 | TP1 TP12
1884 | Barium oxide | 6.1 | III | 6.1 |  | 240 |  |  | IB8 | BB3
1885 | Benzidine | 6.1 | II | 6.1 |  | 242 |  |  | IB8 | BB2, BB4
1886 | Benzylidene chloride | 6.1 | II | 6.1 | T8 | 243 | T7 | TP2 | IB2 |
1887 | Bromochloromethane | 6.1 | III | 6.1 | T7 | 241 | T4 | TP1 | IB3 |
1888 | Chloroform | 6.1 | III | 6.1 | N36, T14 | 241 | T7 | TP2 | IB3 |
1891 | Ethyl bromide | 6.1 | II | 6.1 | B100, T17 | 243 | T7 | TP2 TP13 | IB2 | BB8
1892 | Ethyldichloroarsine | 6.1 | I | 6.1 | 2, B9, B14, B32, B74, T38, T43, T45 | 244 | T20 | TP2 TP13 TP38 TP45 |  |
1894 | Phenylmercuric hydroxide | 6.1 | II | 6.1 |  | 242 |  |  | IB8 | BB2, BB4
1895 | Phenylmercuric nitrate | 6.1 | II | 6.1 |  | 242 |  |  | IB8 | BB2, BB4
1897 | Tetrachloroethylene | 6.1 | III | 6.1 | N36, T1 | 241 | T4 | TP1 | IB3 |
1898 | Acetyl iodide | 8 | II | 8 | B2, B101, T9 | 242 | T7 | TP2 TP13 | IB2 |
1902 | Diisooctyl acid phosphate | 8 | III | 8 | T7 | 241 | T4 | TP1 | IB3 |
1903 | Disinfectant, liquid, corrosive, n.o.s | 8 | I | 8 | A7, B10, T42 | 243 | T14 | TP2 TP27 |  |
1903 | Disinfectants, liquid, corrosive n.o.s | 8 | II | 8 | B2 | 242 | T7 | TP2 | IB2 |
1903 | Disinfectants, liquid, corrosive n.o.s | 8 | III | 8 |  | 241 | T4 | TP1 | IB3 |
1905 | Selenic acid | 8 | I | 8 | N34 | 242 |  |  | IB7 | BB1
1906 | Sludge, acid | 8 | II | 8 | A3, A7, B2, N34, T9, T27 | 242 | T8 | TP2 TP12 | IB2 |
1907 | Soda lime with more than 4 percent sodium hydroxide | 8 | III | 8 |  | 240 |  |  | IB8 | BB3
1908 | Chlorite solution | 8 | II | 8 | A3, A6, A7,B2, N34, T8 | 242 | T7 | TP2 TP24 | IB2 |
1908 | Chlorite solution | 8 | III | 8 | A3, A6, A7, B2, N34, T8 | 241 | T4 | TP2 TP24 | IB3
1910 | Calcium oxide | 8 | III | 8 |  | 240 |  |  | IB8 | BB3
1912 | Methyl chloride and methylene chloride mixtures | 2.1 |  | 2.1 |  | 314, 315 | T50 |  |  |
1913 | Neon, refrigerated liquid (cryogenic liquid) | 2.2 |  | 2.2 |  | None | T75 |  |  |
1914 | Butyl propionates | 3 | III | 3 | B1, T1 | 242 | T2 | TP1 | IB3 |
1915 | Cyclohexanone | 3 | III | 3 | B1, T1 | 242 | T2 | TP1 | IB3 |
1916 | 2,2'-Dichlorodiethyl ether | 6.1 | II | 6.1, 3 | N33, N34, T8 | 243 | T7 | TP2 | IB2
1917 | Ethyl acrylate, inhibited | 3 | II | 3 | T8 | 242 | T4 | TP1 TP13 | IB2
1918 | Isopropylbenzene | 3 | III | 3 | B1, T1 | 242 | T2 | TP1 | IB3
1919 | Methyl acrylate, inhibited | 3 | II | 3 | T8 | 242 | T4 | TP1 TP13 | IB2
1920 | Nonanes | 3 | III | 3 | B1, T1 | 242 | T2 | TP1 | IB3
1921 | Propyleneimine, inhibited | 3 | I | 3, 6.1 | A3, N34, T25 | 243 | T14 | TP2 TP13
1922 | Pyrrolidine | 3 | II | 3, 8 | T1 | 243 | T7 | TP1 | IB2
1923 | Calcium dithionite or Calcium hydrosulfite | 4.2 | II | 4.2 | A19, A20 | 241 |  |  | IB6 | BB2
1929 | Potassium dithionite or Potassium hydrosulfite | 4.2 | II | 4.2 | A8, A19, A20 | 241 |  |  | IB6 | BB2
1931 | Zinc dithionite or Zinc hydrosulfite | 9 | III | None |  | 240 |  |  | IB8 |
1932 | Zirconium scrap | 4.2 | III | 4.2 | N34 | 240 |  |  | IB8 | BB3
1935 | Cyanide solutions, n.o.s | 6.1 | I | 6.1 | B37, T18, T26 | 243 | T14 | TP2 TP13 TP27 |  |
1935 | Cyanide solutions, n.o.s | 6.1 | II | 6.1 | T18, T26 | 243 | T11 | TP2 TP13 TP27 | IB2 |
1935 | Cyanide solutions, n.o.s | 6.1 | III | 6.1 | T18, T26 | 241 | T7 | TP2 TP13 TP28 | IB3
1938 | Bromoacetic acid, solid | 8 | II | 8 | A7, N34, T9 | 240 | T7 |  | IB8 | BB2, BB4
1938 | Bromoacetic acid, solution | 8 | II | 8 | B2, T9 | 242 | T7 | TP2 | IB2 |
1939 | Phosphorus oxybromide | 8 | II | 8 | B8, B106, N41, N43 | 240 | T7 | TP2 | IB8 | BB2, BB4
1940 | Thioglycolic acid | 8 | II | 8 | A7, B2, N34, T8 | 242 | T7 | TP2 | IB2 |
1941 | Dibromodifluoromethane, R12B2 | 9 | III | None | T22 | 241 | T11 | TP2 |  |
1942 | Ammonium nitrate, with not more than 0.2 percent of combustible substances, including any organic substance calculated as carbon, to the exclusion of any other added substance | 5.1 | III | 5.1 | A1, A29 | 240 |  |  | IB8 | BB3
1951 | Argon, refrigerated liquid (cryogenic liquid) | 2.2 |  | 2.2 |  | 318 | T75 |  |  |
1958 | 1,2-Dichloro-1,1,2,2-Tetrafluoroethane or Refrigerant gas R114 | 2.2 |  | 2.2 |  | 314, 315 | T50
1961 | Ethane, refrigerated liquid | 2.1 |  | 2.1 |  | 315 | T75 |  |  |
1963 | Helium, refrigerated liquid (cryogenic liquid) | 2.2 |  | 2.2 |  | 318 | T75
1965 | Hydrocarbon gas mixture, liquefied, n.o.s | 2.1 |  | 2.1 |  | 314, 315 | T50 |  |  |
1966 | Hydrogen, refrigerated liquid (cryogenic liquid) | 2.1 |  | 2.1 |  | 318, 319 | T75 |  |  |
1969 | Isobutane see also Petroleum gases, 315 liquefied | 2.1 |  | 2.1 | 19 | 314, 315 | T50 |  |  |
1970 | Krypton, refrigerated liquid (cryogenic liquid) | 2.2 |  | 2.2 |  | None | T75 |  |  |
1972 | Methane, refrigerated liquid (cryogenic liquid) or Natural gas, refrigerated liquid (cryogenic liquid), with high methane content) | 2.1 |  | 2.1 |  | 318 | T75 |  |  |
1973 | Chlorodifluoromethane and chloropentafluoroethane mixture or Refrigerant gas R 502 with fixed boiling point, with approximately 49 percent chlorodifluoromethane R502 | 2.2 |  | 2.2 |  | 314, 315 | T50 |  |  |
1974 | Chlorodifluorobromomethane or Refrigerant gas R 12B1 | 2.2 |  | 2.2 |  | 314, 315 | T50 |  |  |
1976 | Octafluorocyclobutane or Refrigerant gas RC318 | 2.2 |  | 2.2 |  | 314, 315 | T50 |  |  |
1977 | Nitrogen, refrigerated liquid cryogenic liquid | 2.2 |  | 2.2 |  | 318 | T75 |  |  |
1978 | Propane see also Petroleum gases, liquefied | 2.1 |  | 2.1 | 19 | 314, 315 | T50 |  |  |
1983 | 1-Chloro-2,2,2-trifluoroethane or Refrigerant gas R 133a | 2.2 |  | 2.2 |  | 314, 315 | T50 |  |  |
1986 | Alcohols, flammable, toxic, n.o.s | 3 | I | 3, 6.1 | T8, T31 | 243 | T14 | TP2 TP13 TP27 |  |
1986 | Alcohols, flammable, toxic, n.o.s | 3 | II | 3, 6.1 | T8, T31 | 243 | T11 | TP2 TP27 | IB2 |
1986 | Alcohols, flammable, toxic, n.o.s | 3 | III | 3, 6.1 | B1, T8, T31 | 242 | T7 | TP1 TP28 | IB3 |
1987 | Alcohols, n.o.s | 3 | I | 3 | T8, T31 | 243 | T11 | TP1 TP8 TP27 |  |
1987 | Alcohols, n.o.s | 3 | II | 3 | T8, T31 | 242 | T7 | TP1 TP8 TP28 | IB2 |
1987 | Alcohols, n.o.s | 3 | III | 3 | B1, T7, T30 | 242 | T4 | TP1 TP29 | IB3 |
1988 | Aldehydes, flammable, toxic, n.o.s | 3 | I | 3, 6.1 | T8, T31 | 243 | T14 | TP2 TP13 TP27 |
1988 | Aldehydes, flammable, toxic, n.o.s | 3 | II | 3, 6.1 | T8, T31 | 243 | T11 | TP2 TP27 | IB2 |
1988 | Aldehydes, flammable, toxic, n.o.s | 3 | III | 3, 6.1 | B1, T8, T31 | 242 | T7 | TP1 TP28 | IB3 |
1989 | Aldehydes, n.o.s | 3 | I | 3 | T8, T31 | 243 | T11 | TP1 TP27 |  |
1989 | Aldehydes, n.o.s | 3 | II | 3 | T8, T31 | 242 | T7 | TP1 TP8 TP 28 | IB2 |
1989 | Aldehydes, n.o.s | 3 | III | 3 | B1, T7, T30 | 242 | T4 | TP1 TP29 | IB3 |
1990 | Benzaldehyde | 9 | III | 9 | T1 | 241 | T2 | TP1 | IB3 |
1991 | Chloroprene, inhibited | 3 | I | 3, 6.1 | B57, T15 | 243 | T14 | TP2 TP6 TP13 |  |
1992 | Flammable liquids, toxic, n.o.s | 3 | I | 3, 6.1 | T42 | 243 | T14 | TP2 TP13 TP27 |  |
1992 | Flammable liquids, toxic, n.o.s | 3 | II | 3, 6.1 | T18 | 243 | T7 | TP2 TP13 | IB2 |
1992 | Flammable liquids, toxic, n.o.s | 3 | III | 3, 6.1 | B1, T18 | 242 | T7 | TP1 TP28 | IB3
1993 | Flammable liquids, n.o.s | 3 | I | 3 | T42 | 243 | T11 | TP1 |  |
1993 | Flammable liquids, n.o.s | 3 | II | 3 | T8, T31 | 242 | T7 | TP1 TP8 TP28 | IB2 |
1993 | Flammable liquids, n.o.s | 3 | III | 3 | B1, B52, T7, T30 | 242 | T4 | TP1 TP29 | IB3 |
1994 | Iron pentacarbonyl | 6.1 | I | 6.1, 3 | 1, B9, B14, B30, B72, B77, T38, T43, T44 | 244 | T22 | TP2 TP13 TP38 TP44 |
1999 | Tars, liquid including road asphalt and oils, bitumen and cut backs | 3 | II | 3 | B13, T7, T30 | 242 | T3 | TP3 TP29 | IB2 |
1999 | Tars, liquid including road asphalt and oils, bitumen and cut backs | 3 | III | 3 | B1, B13, T7, T30 | 242 | T1 | TP3 | IB3 |
2001 | Cobalt naphthenates, powder | 4.1 | III | 4.1 | A19 | 240 |  |  | IB8 | BB3
2002 | Celluloid, scrap | 4.2 | III | 4.2 |  | 241 |  |  | IB8 | BB3
2003 | Metal alkyls water-reactive, n.o.s. or Metal aryls water-reactive, n.o.s | 4.2 | I | 4.2, 4.3 | B11, T42 | 244 | T21 | TP2 TP7 |  |
2004 | Magnesium diamide | 4.2 | II | 4.2 | A8, A19, A20 | 241 |  |  | IB6 |
2008 | Zirconium powder, dry | 4.2 | II | 4.2 | A19, A20, N5, N34 | 241 |  |  | IB6 | BB2
2008 | Zirconium powder, dry | 4.2 | III | 4.2 |  | 241 |  |  | IB8 | BB3
2009 | Zirconium, dry, finished sheets, strip or coiled wire | 4.2 | III | 4.2 | A1, A19 | 240 |  |  | IB8 |
2014 | Hydrogen peroxide, aqueous solutions with more than 40 percent but not more than 60 percent hydrogen peroxide (stabilized as necessary) | 5.1 | II | 5.1, 8 | 12, A3, A6, B53, B80, B81, B85, B104, B110, T14, T37 | 243 | T7 | TP2 TP6 TP24 TP37 | IB2 | BB5
2014 | Hydrogen peroxide, aqueous solutions with not less than 20 percent but not more than 40 percent hydrogen peroxide (stabilized as necessary) | 5.1 | II | 5.1, 8 | A2, A3, A6, B53, B104, B110, T14, TP37 | 243 | T7 | TP2 TP6 TP24 T37 | IB2 | BB5
2015 | Hydrogen peroxide, stabilized or Hydrogen peroxide aqueous solutions, stabilized with more than 60 percent hydrogen peroxide | 5.1 | I | 5.1, 8 | 12, B53, B80, B81, B85, T15, T37 | 243 | T10 | TP2 TP6 TP24 TP37 |  |
2018 | Chloroanilines, solid | 6.1 | II | 6.1 | T14, T38 | 242 | T7 | TP2 TP38 | IB8 | BB2, BB4
2019 | Chloroanilines, liquid | 6.1 | II | 6.1 | T14 | 243 | T7 | TP2 | IB2 |
2020 | Chlorophenols, solid | 6.1 | III | 6.1 | T7 | 240 | T4 | TP1 | IB8 | BB3
2021 | Chlorophenols, liquid | 6.1 | III | 6.1 | T7 | 241 | T4 | TP1 | IB3 |
2022 | Cresylic acid | 6.1 | II | 6.1, 8 | B110, T8 | 243 | T7 | TP2 TP13 | IB2
2023 | Epichlorohydrin | 6.1 | II | 6.1, 3 | T14 | 243 | T7 | TP2 TP13 | IB2 |
2024 | Mercury compounds, liquid, n.o.s | 6.1 | II | 6.1 |  | 243 |  |  | IB2 |
2024 | Mercury compounds, liquid, n.o.s | 6.1 | III | 6.1 |  | 241 |  |  | IB3 |
2025 | Mercury compounds, solid, n.o.s | 6.1 | I | 6.1 |  | 242 |  |  | IB7 | BB1
2025 | Mercury compounds, solid, n.o.s | 6.1 | II | 6.1 |  | 242 |  |  | IB8 | BB2, BB4
2025 | Mercury compounds, solid, n.o.s | 6.1 | III | 6.1 |  | 240 |  |  | IB8 | BB3
2026 | Phenylmercuric compounds, n.o.s | 6.1 | I | 6.1 |  | 242 |  |  | IB7 | BB1
2026 | Phenylmercuric compounds, n.o.s | 6.1 | II | 6.1 |  | 242 |  |  | IB8 | BB2, BB4
2026 | Phenylmercuric compounds, n.o.s | 6.1 | III | 6.1 |  | 240 |  |  | IB8 | BB3
2027 | Sodium arsenite, solid | 6.1 | II | 6.1 |  | 242 |  |  | IB8 | BB2, BB4
2030 | Hydrazine hydrate or Hydrazine aqueous solutions, with not less than 37 percent but not more than 64 percent hydrazine, by mass | 8 | II | 8, 6.1 | B16, B53, B110, T15 | 243 | T7 | TP2 TP13 | IB2 |
2031 | Nitric acid other than red fuming, with more than 70 percent nitric acid | 8 | I | 8, 5.1 | B47, B53, T9, T27 | 243 | T10 | TP2 TP12 TP13 |  |
2031 | Nitric acid other than red fuming, with not more than 70 percent nitric acid | 8 | II | 8 | B2, B47, B53, T9, T27 | 242 | T8 | TP2 TP12 | IB2 |
2032 | Nitric acid, red fuming | 8 | I | 8, 5.1, 6.1 | 2, B9, B32, B74, T38, T43, T45 | 244 | T20 | TP2 TP12 TP13 TP38 TP45 |  |
2033 | Potassium monoxide | 8 | II | 8 |  | 240 |  |  | IB8 | BB2, BB4
2035 | 1,1,1-Trifluoroethane, compressed or Refrigerant gas R 143a | 2.1 |  | 2.1 |  | 314, 315 | T50
2038 | Dinitrotoluenes, liquid | 6.1 | II | 6.1 | T8 | 243 | T7 | TP2 | IB2
2038 | Dinitrotoluenes, solid | 6.1 | II | 6.1 | T8 | 242 | T7 | TP2 | IB8 | BB2, BB4
2045 | Isobutyraldehyde or Isobutyl aldehyde | 3 | II | 3 | T8 | 242 | T4 | TP1 | IB2
2046 | Cymenes | 3 | III | 3 | B1, T1 | 242 | T2 | TP1 | IB3
2047 | Dichloropropenes | 3 | II | 3 | T8 | 242 | T4 | TP1 | IB2
2047 | Dichloropropenes | 3 | III | 3 | B1, T8 | 242 | T2 | TP1 | IB3
2048 | Dicyclopentadiene | 3 | III | 3 | B1, T1 | 242 | T2 | TP1 | IB3
2049 | Diethylbenzene | 3 | III | 3 | B1, T1 | 242 | T2 | TP1 | IB3
2050 | Diisobutylene, isomeric compounds | 3 | II | 3 | T1 | 242 | T4 | TP1 | IB2
2051 | 2-Dimethylaminoethanol | 8 | II | 8, 3 | B2, T8 | 243 | T7 | TP2 | IB2
2052 | Dipentene | 3 | III | 3 | B1, T1 | 242 | T2 | TP1 | IB3
2053 | Methyl isobutyl carbinol | 3 | III | 3 | B1, T1 | 242 | T2 | TP1 | IB3
2054 | Morpholine | 3 | III | 3 | B1, T1 | 242 | T10 | TP2
2055 | Styrene monomer, inhibited | 3 | III | 3 | B1, T1 | 242 | T2 | TP1 | IB3
2056 | Tetrahydrofuran | 3 | II | 3 | T8 | 242 | T4 | TP1 | IB2
2057 | Tripropylene | 3 | II | 3 | T1 | 242 | T4 | TP1 | IB2
2057 | Tripropylene | 3 | III | 3 | B1, T1 | 242 | T2 | TP1 | IB3
2058 | Valeraldehyde | 3 | II | 3 | T1 | 242 | T4 | TP1 | IB2
2059 | Nitrocellulose, solution, flammable with not more than 12.6 percent nitrogen, by mass, and not more than 55 percent nitrocellulose | 3 | II | 3 | T8, T31 | 242 | T4 | TP1 TP8 | IB2
2059 | Nitrocellulose, solution, flammable with not more than 12.6 percent nitrogen, by mass, and not more than 55 percent nitrocellulose | 3 | III | 3 | B1, T7, T30 | 242 | T2 | TP1 | IB3
2067 | Ammonium nitrate fertilizers; uniform non-segregating mixtures of ammonium nitrate with added matter which is inorganic and chemically inert towards ammonium nitrate, with not less than 90 percent ammonium nitrate and not more than 0.2 percent | 5.1 | III | 5.1 | 52 | 240 |  |  | IB8 | BB3
2071 | Ammonium nitrate fertilizers: uniform non-segregating mixtures of nitrogen/phosphate or nitrogen/potash types or complete fertilizers of nitrogen/phosphate/potash type, with not more than 70 percent ammonium nitrate and not more than 0.4 percent total | 9 | III | 9 | 132 | 240 |  |  | IB8
2074 | Acrylamide | 6.1 | III | 6.1 | T8 | 240 | T4 | TP1 | IB8 | BB3
2075 | Chloral, anhydrous, inhibited | 6.1 | II | 6.1 | B101, T14 | 243 | T7 | TP2 | IB2
2076 | Cresols | 6.1 | II | 6.1, 8 | B110, T8 | 243 | T7 | TP2 | IB8 | BB2, BB4
2077 | alpha-Naphthylamine | 6.1 | III | 6.1 | T7 | 240 | T3 | TP1 | IB8 | BB3
2078 | Toluene diisocyanate | 6.1 | II | 6.1 | B110, T14 | 243 | T7 | TP2 TP13 | IB2
2079 | Diethylenetriamine | 8 | II | 8 | B2, T8 | 242 | T7 | TP2 | IB2
2187 | Carbon dioxide, refrigerated liquid | 2.2 |  | 2.2 |  | 314, 315 | T75
2201 | Nitrous oxide, refrigerated liquid | 2.2 |  | 2.2, 5.1 | B6 | 314, 315 | T75 | TP22
2205 | Adiponitrile | 6.1 | III | 6.1 | T1 | 241 | T3 | TP1 | IB3
2206 | Isocyanates, toxic, n.o.s. or Isocyanate, solutions, toxic, n.o.s., flash point more than 61 degrees C and boiling point less than 300 degrees C | 6.1 | II | 6.1 | T15 | 243 | T11 | TP2 TP13 TP27 | IB2
2206 | Isocyanates, toxic, n.o.s. or Isocyanate, solutions, toxic, n.o.s., flash point more than 61 degrees C and boiling point less than 300 degrees C | 6.1 | III | 6.1 | T8 | 241 | T7 | TP1 TP13 TP28 | IB3
2208 | Calcium hypochlorite mixtures, dry, with more than 10 percent but not more than 39 percent available chlorine | 5.1 | III | 5.1 | A1, A29, B103, N34 | 240 |  |  | IB8 | BB3
2209 | Formaldehyde, solutions, with not less than 25 percent formaldehyde | 8 | III | 8 | T1 | 241 | T4 | TP1 | IB3
2210 | Maneb or Maneb preparations with not less than 60 percent maneb | 4.2 | III | 4.2, 4.3 | 57, A1, A19, B105 | 242 |  |  | IB6
2211 | Polymeric beads, expandable, evolving flammable vapor | 9 | III | None | 32 | 221 |  |  | IB8 | BB6
2212 | Blue asbestos (Crocidolite) or Brown asbestos (amosite, mysorite) | 9 | II | 9 |  | 240 |  |  | IB8 | BB2, BB4
2213 | Paraformaldehyde | 4.1 | III | 4.1 | A1 | 240 |  |  | IB8 | BB3
2214 | Phthalic anhydride with more than .05 percent maleic anhydride | 8 | III | 8 | T7 | 240 | T4 | TP3 | IB8 | BB3
2215 | Maleic anhydride | 8 | III | 8 | T7 | 240 | T4 | TP1 | IB8 | BB3
2215 | Maleic anhydride | 8 | III | 8 | T7 | 240 | T4 | TP3
2216 | Fish meal, stabilized or Fish scrap, stabilized | 9 | III | None |  | 218 |  |  | IB8
2217 | Seed cake with not more than 1.5 percent oil and not more than 11 percent moisture | 4.2 | III | None | N7 | 241 |  |  | IB8 | BB3, BB6
2218 | Acrylic acid, inhibited | 8 | II | 8, 3 | B2, T8 | 243 | T7 | TP2 | IB2
2219 | Allyl glycidyl ether | 3 | III | 3 | B1, T7 | 242 | T2 | TP1 | IB3
2222 | Anisole | 3 | III | 3 | B1, T1 | 242 | T2 | TP1 | IB3
2224 | Benzonitrile | 6.1 | II | 6.1 | T14 | 243 | T7 | TP2 | IB2
2225 | Benzene sulfonyl chloride | 8 | III | 8 | T8 | 241 | T4 | TP1 | IB3
2226 | Benzotrichloride | 8 | II | 8 | B2, B101, T15 | 242 | T7 | TP2 | IB2
2227 | n-Butyl methacrylate, inhibited | 3 | III | 3 | B1, T1 | 242 | T2 | TP1 | IB3
2232 | 2-Chloroethanal | 6.1 | I | 6.1 | 2, B9, B14, B32, B74, T38, T43, T45 | 244 | T20 | TP2 TP13 TP38 TP45
2233 | Chloroanisidines | 6.1 | III | 6.1 |  | 240 |  |  | IB8 | BB3
2234 | Chlorobenzotrifluorides | 3 | III | 3 | B1, T1 | 242 | T2 | TP1 | IB3
2235 | Chlorobenzyl chlorides | 6.1 | III | 6.1 | T8 | 241 | T4 | TP1 | IB3
2236 | 3-Chloro-4-methylphenyl isocyanate | 6.1 | II | 6.1 |  | 243 |  |  | IB2
2237 | Chloronitroanilines | 6.1 | III | 6.1 |  | 240 |  |  | IB8 | BB3
2238 | Chlorotoluenes | 3 | III | 3 | B1, T1 | 242 | T2 | TP1 | IB3
2239 | Chlorotoluidines solid | 6.1 | III | 6.1 |  | 240 | T4 | TP1 | IB8 | BB3
2239 | Chlorotoluidines liquid | 6.1 | III | 6.1 | T7 | 241 | T7 | TP1 TP28 | IB3
2240 | Chromosulfuric acid | 8 | I | 8 | A3, A6, A7, B4, B6, N34, T12, T27 | 243 | T10 | TP2 TP12 TP13
2241 | Cycloheptane | 3 | II | 3 | T1 | 242 | T4 | TP1 | IB2
2242 | Cycloheptene | 3 | II | 3 | B1, T7 | 242 | T4 | TP1 | IB2
2243 | Cyclohexyl acetate | 3 | III | 3 | B1, T1 | 242 | T2 | TP1 | IB3
2244 | Cyclopentanol | 3 | III | 3 | B1, T1 | 242 | T2 | TP1 | IB3
2245 | Cyclopentanone | 3 | III | 3 | B1, T1 | 242 | T2 | TP1 | IB3
2246 | Cyclopentene | 3 | II | 3 | B101, T13 | 242 | T7 | TP2 | IB2 | BB8
2247 | n-Decane | 3 | III | 3 | B1, T1 | 242 | T2 | TP1 | IB3
2248 | Di-n-butylamine | 8 | II | 8, 3 | T8 | 243 | T7 | TP2 | IB2
2250 | Dichlorophenyl isocyanates | 6.1 | II | 6.1 |  | 242 | T7 | TP2 | IB8 | BB2, BB4
2251 | Bicyclo(2,2,1)hepta-2,5-diene, inhibited or 2,5-Norbornadiene, inhibited | 3 | II | 3 |  | 242 | T7 | TP2 | IB2
2252 | 1,2-Dimethoxyethane | 3 | II | 3 | T1 | 242 | T4 | TP1 | IB2
2253 | N,N-Dimethylaniline | 6.1 | II | 6.1 | T8 | 243 | T7 | TP2 | IB1
2256 | Cyclohexene | 3 | II | 3 | B101, T7 | 242 | T4 | TP1 | IB2
2257 | Potassium | 4.3 | I | 4.3 | A19, A20, B27, B100, N6, N34, T15, T26 | 244 | T9 | TP3 TP7 | IB1 | BB1
2258 | 1,2-Propylenediamine | 8 | II | 8, 3 | A3, A6, N34, T8 | 243 | T7 | TP2 | IB2
2259 | Triethylenetetramine | 8 | II | 8 | B2, T8 | 242 | T7 | TP2 | IB2
2260 | Tripropylamine | 3 | III | 3, 8 | B1, T8 | 242 | T4 | TP1 | IB3
2261 | Xylenols | 6.1 | II | 6.1 | T8 | 242 | T7 | TP2 | IB8 | BB2, BB4
2262 | Dimethylcarbamoyl chloride | 8 | II | 8 | B2, T8 | 242 | T7 | TP2 | IB2
2263 | Dimethylcyclohexanes | 3 | II | 3 | T1 | 242 | T4 | TP1 | IB2
2264 | Dimethylcyclohexylamine | 8 | II | 8, 3 | B2, T8 | 243 | T7 | TP2 | IB2
2265 | N,N-Dimethylformamide | 3 | III | 3 | B1, T1 | 242 | T2 | TP2 | IB3
2266 | Dimethyl-N-propylamine | 3 | II | 3,8 | T14, T26 | 243 | T7 | TP2 TP13 | IB2
2267 | Dimethyl thiophosphoryl chloride | 6.1 | II | 6.1, 8 | T7 | 243 | T7 | TP2 | IB2
2269 | 3,3′-Iminodipropylamine | 8 | III | 8 | T8 | 241 | T4 | TP2 | IB3
2270 | Ethylamine, aqueous solution with not less than 50 percent but not more than 70 percent ethylamine | 3 | II | 3, 8 | T14 | 243 | T7 | TP1 | IB2
2271 | Ethyl amyl ketone | 3 | III | 3 | B1, T1 | 242 | T2 | TP1 | IB3
2272 | N-Ethylaniline | 6.1 | III | 6.1 | T2 | 241 | T4 | TP1 | IB3
2273 | 2-Ethylaniline | 6.1 | III | 6.1 | T2 | 241 | T4 | TP1 | IB3
2274 | N-Ethyl-N-benzylaniline | 6.1 | III | 6.1 | T2 | 241 | T4 | TP1 | IB3
2275 | 2-Ethylbutanol | 3 | III | 3 | B1, T1 | 242 | T2 | TP1 | IB3
2276 | 2-Ethylhexylamine | 3 | III | 3, 8 | B1, T2 | 242 | T4 | TP1 | IB3
2277 | Ethyl methacrylate | 3 | II | 3 | T1 | 242 | T4 | TP1 | IB2
2278 | n-Heptene | 3 | II | 3 | B101, T8 | 242 | T4 | TP1 | IB2
2279 | Hexachlorobutadiene | 6.1 | III | 6.1 | T7 | 241 | T4 | TP1 | IB3
2280 | Hexamethylenediamine, solid | 8 | III | 8 |  | 240 | T4 | TP1 | IB8 | BB3
2281 | Hexamethylene diisocyanate | 6.1 | II | 6.1 | B101, T14 | 243 | T7 | TP2 TP13 | IB2
2282 | Hexanols | 3 | III | 3 | B1, T1 | 242 | T2 | TP1 | IB3
2283 | Isobutyl methacrylate, inhibited | 3 | III | 3 | B1, T1 | 242 | T2 | TP1 | IB3
2284 | Isobutyronitrile | 3 | II | 3, 6.1 | T17 | 243 | T7 | TP2 TP13 | IB2
2285 | Isocyanatobenzotrifluorides | 6.1 | II | 6.1, 3 | 5, B101, T14 | 243 | T7 | TP2 | IB2
2286 | Pentamethylheptane | 3 | III | 3 | B1, T1 | 242 | T2 | TP1 | IB3
2287 | Isoheptenes | 3 | II | 3 | T7 | 242 | T4 | TP1 | IB2
2288 | Isohexenes | 3 | II | 3 | T7 | 242 | T11 | TP1 | IB2 | BB8
2289 | Isophoronediamine | 8 | III | 8 | T8 | 241 | T4 | TP1 | IB3
2290 | Isophorone diisocyanate | 6.1 | III | 6.1 | T7 | 241 | T4 | TP2 | IB3
2291 | Lead compounds, soluble, n.o.s. | 6.1 | III | 6.1 | 138 | 240 |  |  | IB8 | BB3
2293 | 4-Methoxy-4-methylpentan-2-one | 3 | III | 3 | B1, T1 | 242 | T2 | TP1 | IB3
2294 | N-Methylaniline | 6.1 | III | 6.1 | T7 | 241 | T4 | TP1 | IB3
2295 | Methyl chloroacetate | 6.1 | I | 6.1, 3 | T42 | 243 | T14 | TP2 TP13
2296 | Methylcyclohexane | 3 | II | 3 | B1, T1 | 242 | T4 | TP1 | IB2
2297 | Methylcyclohexanone | 3 | III | 3 | B1, T1 | 242 | T2 | TP1 | IB3
2298 | Methylcyclopentane | 3 | II | 3 | T8 | 242 | T4 | TP1 | IB2
2299 | Methyl dichloroacetate | 6.1 | III | 6.1 | T1 | 241 | T4 | TP1 | IB3
2300 | 2-Methyl-5-ethylpyridine | 6.1 | III | 6.1 | T7 | 241 | T4 | TP1 | IB3
2301 | 2-Methylfuran | 3 | II | 3 | T7 | 242 | T4 | TP1 | IB2
2302 | 5-Methylhexan-2-one | 3 | III | 3 | B1, T1 | 242 | T2 | TP1 | IB3
2303 | Isopropenylbenzene | 3 | III | 3 | B1, T1 | 242 | T2 | TP1 | IB3
2304 | Naphthalene, molten | 4.1 | III | 4.1 | A1,T8 | 241 | T1 | TP3 | IB1
2305 | Nitrobenzenesulfonic acid | 8 | II | 8 |  | 242 |  |  | IB2
2306 | Nitrobenzotrifluorides | 6.1 | II | 6.1 | T8 | 243 | T7 | TP2 | IB2
2307 | 3-Nitro-4-chlorobenzotrifluoride | 6.1 | II | 6.1 | T8 | 243 | T7 | TP2 | IB2
2308 | Nitrosylsulfuric acid | 8 | II | 8 | A3, A6, A7, B2, N34, T9, T27 | 242 | T8 | TP2 TP12 | IB2
2309 | Octadiene | 3 | II | 3 | B1, T1 | 242 | T4 | TP1 | IB2
2310 | Pentane-2,4-dione | 3 | III | 3, 6.1 | B1, T1 | 242 | T4 | TP1 | IB3
2311 | Phenetidines | 6.1 | III | 6.1 | T7 | 241 | T4 | TP1 | IB3
2312 | Phenol, molten | 6.1 | II | 6.1 | B14, B100, T8 | 243 | T7 | TP3
2313 | Picolines | 3 | III | 3 | B1, T8 | 242 | T4 | TP1 | IB3
2315 | Polychlorinated biphenyls, liquid | 9 | II | 9 | 9, 81 | 241 | T4 | TP1 | IB3
2315 | Polychlorinated biphenyls, solid | 9 | II | 9 | 9, 81 | 240 |  |  | IB7
2316 | Sodium cuprocyanide, solid | 6.1 | I | 6.1 |  | 242 |  |  | IB7 | BB1
2317 | Sodium cuprocyanide, solution | 6.1 | I | 6.1 | T8, T26 | 243 | T14 | TP2 TP13
2318 | Sodium hydrosulfide, with less than 25 percent water of crystallization | 4.2 | II | 4.2 | A7, A19, A20 | 241 |  |  | IB6 | BB2
2319 | Terpene hydrocarbons, n.o.s | 3 | III | 3 | B1 T1 | 242 | T4 | TP1 TP29 | IB3
2320 | Tetraethylenepentamine | 8 | III | 8 | T2 | 241 | T4 | TP1 | IB3
2321 | Trichlorobenzenes, liquid | 6.1 | III | 6.1 | T7 | 241 | T4 | TP1 | IB3
2322 | Trichlorobutene | 6.1 | II | 6.1 | T8 | 243 | T7 | TP2 | IB2
2323 | Triethyl phosphite | 3 | III | 3 | B1, T1 | 242 | T2 | TP1 | IB3
2324 | Triisobutylene | 3 | III | 3 | B1, T7, T30 | 242 | T4 | TP1 | IB3
2325 | 1,3,5-Trimethylbenzene | 3 | III | 3 | B1, T1 | 242 | T2 | TP1 | IB3
2326 | Trimethylcyclohexylamine | 8 | III | 8 | T2 | 241 | T4 | TP1 | IB3
2327 | Trimethylhexamethyl- enediamines | 8 | III | 8 | T7 | 241 | T4 | TP1 | IB3
2328 | Trimethylhexamethylene diisocyanate | 6.1 | III | 6.1 | T8 | 241 | T4 | TP2 TP13 | IB3
2329 | Trimethyl phosphite | 3 | III | 3 | B1, T1 | 242 | T2 | TP1 | IB3
2330 | Undecane | 3 | III | 3 | B1, T1 | 242 | T2 | TP1 | IB3
2331 | Zinc chloride, anhydrous | 8 | III | 8 |  | 240 |  |  | IB8 | BB3
2332 | Acetaldehyde oxime | 3 | III | 3 | B1 T8 | 242 | T4 | TP1 | IB3
2333 | Allyl acetate | 3 | II | 3, 6.1 | T8 | 243 | T7 | TP1 TP13 | IB2
2334 | Allylamine | 6.1 | I | 6.1, 3 | 2, B9, B14, B32, B74, T38, T43, T45 | 244 | T20 | TP2 TP13 TP38 TP45
2335 | Allyl Dethyl ether | 3 | II | 3, 6.1 | T8 | 243 | T7 | TP1 TP13 | IB2
2336 | Allyl formate | 3 | I | 3, 6.1 | T18, T26 | 243 | T14 | TP2 TP13
2337 | Phenyl mercaptan | 6.1 | I | 6.1, 3 | 2, B9, B14, B32, B74, B77, T38, T43, T45 | 244 | T20 | TP2 TP13 TP38 TP45
2338 | Benzotrifluoride | 3 | II | 3 | T2 | 242 | T4 | TP1 | IB2
2339 | 2-Bromobutane | 3 | II | 3 | B1, T1 | 242 | T4 | TP1 | IB2
2340 | 2-Bromoethyl ethyl ether | 3 | II | 3 | T7 | 242 | T4 | TP1 | IB2
2341 | 1-Bromo-3-methylbutane | 3 | III | 3 | B1, T7, T30 | 242 | T2 | TP1 | IB3
2342 | Bromomethylpropanes | 3 | II | 3 | T7, T30 | 242 | T4 | TP1 | IB2
2343 | 2-Bromopentane | 3 | II | 3 | T1 | 242 | T4 | TP1 | IB2
2344 | Bromopropanes | 3 | II | 3 | T7 | 242 | T4 | TP1 | IB2
2344 | Bromopropanes | 3 | III | 3 | T2 | 242 | T2 | TP1 | IB3
2345 | 3-Bromopropyne | 3 | II | 3 | T8 | 242 | T4 | TP1 | IB2
2346 | Butanedione | 3 | II | 3 | T1 | 242 | T4 | TP1 | IB2
2347 | Butyl mercaptans | 3 | II | 3 | A3, T8 | 242 | T4 | TP1 | IB2
2348 | Butyl acrylates, inhibited | 3 | III | 3 | B1, T8, T31 | 242 | T2 | TP1 | IB3
2350 | Butyl methyl ether | 3 | II | 3 | T8 | 242 | T4 | TP1 | IB2
2351 | Butyl nitrites | 3 | I | 3 | T8 | 243 | T11 | TP1 TP8 TP27
2351 | Butyl nitrites | 3 | II | 3 | T8 | 242 | T4 | TP1 | IB2
2351 | Butyl nitrites | 3 | III | 3 | B1, T8 | 242 | T2 | TP1 | IB3
2352 | Butyl vinyl ether, inhibited | 3 | II | 3 | B101, T7 | 242 | T4 | TP1 | IB2
2353 | Butyryl chloride | 3 | II | 3, 8 | B100, T9, T26 | 243 | T8 | TP2 TP12 TP13 | IB2
2354 | Chloromethyl ethyl ether | 3 | II | 3, 61 | T8 | 243 | T7 | TP1 | IB2
2356 | 2-Chloropropane | 3 | I | 3 | N36, T14 | 243 | T11 | TP2 TP13
2357 | Cyclohexylamine | 8 | II | 8, 3 | B101, T8, T26 | 243 | T7 | TP2 | IB2
2358 | Cyclooctatetraene | 3 | II | 3 | T8 | 242 | T4 | TP1 | IB2
2359 | Diallylamine | 3 | II | 3, 6.1, 8 | T8 | 243 | T7 | TP1 | IB2
2360 | Diallylether | 3 | II | 3, 6.1 | N12, T8 | 243 | T7 | TP1 TP13 | IB2
2361 | Diisobutylamine | 3 | III | 3, 8 | B1, T1 | 242 | T4 | TP1 | IB3
2362 | 1,1-Dichloroethane | 3 | II | 3 | B101, T7 | 242 | T4 | TP1 | IB2
2363 | Ethyl mercaptan | 3 | I | 3 | T21 | 243 | T11 | TP2 TP13
2364 | n-Propyl benzene | 3 | III | 3 | B1, T1 | 242 | T2 | TP1 | IB3
2366 | Diethyl carbonate | 3 | III | 3 | B1, T1 | 242 | T2 | TP1 | IB3
2367 | alpha-Methylvaleraldehyde | 3 | II | 3 | B1, T1 | 242 | T4 | TP1 | IB2
2368 | alpha-Pinene | 3 | III | 3 | B1, T1 | 242 | T2 | TP1 | IB3
2370 | 1-Hexene | 3 | II | 3 | B101, T8 | 242 | T4 | TP1 | IB2
2371 | Isopentenes | 3 | I | 3 | T20 | 243 | T11 | TP2
2372 | 1,2-Di-(dimethylamino)ethane | 3 | II | 3 | T8 | 242 | T4 | TP1 | IB2
2373 | Diethoxymethane | 3 | II | 3 | T8 | 242 | T4 | TP1 | IB2
2374 | 3,3-Diethoxypropene | 3 | II | 3 | T1 | 242 | T4 | TP1 | IB2
2375 | Diethyl sulfide | 3 | II | 3 | B101, T14 | 243 | T7 | TP1 TP13 | IB2
2376 | 2,3-Dihydropyran | 3 | II | 3 | T7 | 242 | T4 | TP1 | IB2
2377 | 1,1-Dimethoxyethane | 3 | II | 3 | T13 | 242 | T7 | TP1 | IB2
2378 | 2-Dimethylaminoacetonitrile | 3 | II | 3, 6.1 | T8 | 243 | T7 | TP1 | IB2
2379 | 1,3-Dimethylbutylamine | 3 | II | 3, 8 | T8 | 243 | T7 | TP1 | IB2
2380 | Dimethyl diethoxysilane | 3 | II | 3 | T8 | 242 | T4 | TP1 | IB2
2381 | Dimethyl disulfide | 3 | II | 3 | T8 | 242 | T4 | TP1 | IB2
2382 | Dimethyl hydrazine, symmetrical | 6.1 | I | 6.1, 3 | 2, B9, B14, B32, B74, B77, T38, T43, T45 | 244 | T20 | TP2 TP13 TP38 TP45
2383 | Dipropyl amine | 3 | II | 3, 8 | T8 | 243 | T7 | TP1 | IB2
2384 | Di-n-propyl ether | 3 | II | 3 | T1 | 242 | T4 | TP1 | IB2
2385 | Ethyl isobutyrate | 3 | II | 3 | T1 | 242 | T4 | TP1 | IB2
2386 | 1-Ethylpiperidine | 3 | II | 3, 8 | T8 | 243 | T7 | TP1 | IB2
2387 | Fluorobenzene | 3 | II | 3 | B101, T8 | 242 | T4 | TP1 | IB2
2388 | Fluorotoluenes | 3 | II | 3 | T8 | 242 | T4 | TP1 | IB2
2389 | Furan | 3 | I | 3 | T18 | 243 | T12 | TP2 TP13
2390 | 2-Iodobutane | 3 | II | 3 | T8 | 242 | T4 | TP1 | IB2
2391 | Iodomethylpropanes | 3 | II | 3 | T8 | 242 | T4 | TP1 | IB2
2392 | Iodopropanes | 3 | III | 3 | B1, T8 | 242 | T2 | TP1 | IB3
2393 | Isobutyl formate | 3 | II | 3 | T1 | 242 | T4 | TP1 | IB2
2394 | Isobutyl propionate | 3 | III | 3 | B1, T1 | 242 | T2 | TP1 | IB3
2395 | Isobutyryl chloride | 3 | II | 3, 8 | B100, T9, T26 | 243 | T7 | TP2 | IB1
2396 | Methacrylaldehyde, inhibited | 3 | II | 3, 6.1 | 45, T8 | 243 | T7 | TP1 TP13 | IB2
2397 | 3-Methylbutan-2-one | 3 | II | 3 | T1 | 242 | T4 | TP1 | IB2
2398 | Methyl tert-butyl ether | 3 | II | 3 | B101, T14 | 242 | T7 | TP1 | IB2
2399 | 1-Methylpiperidine | 3 | II | 3, 8 | T8 | 243 | T7 | TP1 | IB2
2400 | Methyl isovalerate | 3 | II | 3 | T1 | 242 | T4 | TP1 | IB2
2401 | Piperidine | 8 | I | 3, 88, 3 | T2, T17 | 243 | T10 | TP2
2402 | Propanethiols | 3 | II | 3 | T8 | 242 | T4 | TP1 TP13 | IB2
2403 | Isopropenyl acetate | 3 | II | 3 | T1 | 242 | T4 | TP1 | IB2
2404 | Propionitrile | 3 | II | 3, 6.1 | T14 | 243 | T7 | TP1 TP13 | IB2
2405 | Isopropyl butyrate | 3 | III | 3 | B1, T1 | 242 | T2 | TP1 | IB3
2406 | Isopropyl isobutyrate | 3 | II | 3 | T1 | 242 | T4 | TP1 | IB2
2407 | Isopropyl chloroformate | 6.1 | I | 6.1, 3, 8 | 2, B9, B14, B32, B74, B77, T38, T43, T45 | 244 | T20 | TP2 TP13 TP38 TP44
2409 | Isopropyl propionate | 3 | II | 3 | T1 | 242 | T4 | TP1 | IB2
2410 | 1,2,3,6-Tetrahydropyridine | 3 | II | 3 | T8 | 242 | T4 | TP1 | IB2
2411 | Butyronitrile | 3 | II | 3, 6.1 | T14 | 243 | T7 | TP1 TP13 | IB2
2412 | Tetrahydrothiophene | 3 | II | 3 | T7 | 242 | T4 | TP1 | IB2
2413 | Tetrapropylorthotitanate | 3 | III | 3 | B1, T8 | 242 | T4 | TP1 | IB3
2414 | Thiophene | 3 | II | 3 | B101, T2 | 242 | T4 | TP1 | IB2
2416 | Trimethyl borate | 3 | II | 3 | T14 | 242 | T7 | TP1 | IB2
2424 | Octafluoropropane or Refrigerant gas R 218 | 2.2 |  | 2.2 |  | 314, 315 | T50
2426 | Ammonium nitrate, liquid (hot concentrated solution) | 5.1 |  | 5.1 | B5, B100, T25 | 243 | T7
2427 | Potassium chlorate, aqueous solution | 5.1 | II | 5.1 | A2, T8 | 241 | T4 | TP1 | IB2
2427 | Potassium chlorate, aqueous solution | 5.1 | III | 5.1 | A2, T8 | 241 | T4 | TP1 | IB2
2428 | Sodium chlorate, aqueous solution | 5.1 | II | 5.1 | A2, B6, T8 | 241 | T4 | TP1 | IB2
2428 | Sodium chlorate, aqueous solution | 5.1 | III | 5.1 | A2, T8 | 241 | T4 | TP1 | IB2
2429 | Calcium chlorate aqueous solution | 5.1 | II | 5.1 | A2, N41, T8 | 242 | T4 | TP1 | IB2
2429 | Calcium chlorate aqueous solution | 5.1 | III | 5.1 | A2, N41, T8 | 241 | T4 | TP1 | IB2
2430 | Alkylphenols, solid, n.o.s. (including C2-C12 homologues) | 8 | I | 8 | T8 | 242 | T10 | TP2 TP28 | IB7 | BB1
2430 | Alkylphenols, solid, n.o.s. (including C2-C12 homologues) | 8 | II | 8 | T8 | 240 | T3 | TP2 | IB8 | BB2, BB4
2430 | Alkylphenols, solid, n.o.s. (including C2-C12 homologues) | 8 | III | 8 | T8 | 240 | T3 | TP1 | IB8 | BB3
2431 | Anisidines | 6.1 | III | 6.1 | T1 | 241 | T4 | TP1 | IB3
2432 | N,N-Diethylaniline | 6.1 | III | 6.1 | T2 | 241 | T4 | TP1 | IB3
2433 | Chloronitrotoluenes, solid | 6.1 | III | 6.1 |  | 240 |  |  | IB8 | BB3
2433 | Chloronitrotoluenes liquid | 6.1 | III | 6.1 |  | 241 | T4 | TP1 | IB3
2434 | Dibenzyldichlorosilane | 8 | II | 8 | B2, T8, T26 | 242 | T7 | TP2 TP13 | IB2
2435 | Ethylphenyldichlorosilane | 8 | II | 8 | A7, B2, N34, T8, T26 | 242 | T7 | TP2 TP13 | IB2
2436 | Thioacetic acid | 3 | II | 3 | T8 | 242 | T4 | TP1 | IB2
2437 | Methylphenyldichlorosilane | 8 | II | 8 | T8, T26 | 242 | T7 | TP2 TP13 | IB2
2438 | Trimethylacetyl chloride | 6.1 | I | 6.1, 8, 3 | 2, A3, A6, A7, B3, B9, B14, B32, B74, N34, T38, T43, T45 | 244 | T20 | TP2 TP13 TP38 TP45
2439 | Sodium hydrogendifluoride solution | 8 | II | 8 | N3, N34 | 242 |  |  | IB8 | BB2, BB4
2439 | Sodium hydrogendifluoride, solid | 8 | II | 8 | B106, N3, N34 | 240 |  |  | IB8 | BB2, BB4 s
2440 | Stannic chloride, pentahydrate | 8 | III | 8 |  | 240 |  |  | IB8 | BB3
2442 | Trichloroacetyl chloride | 8 | II | 8, 6.1 | 2, A3, A7, B9, B14, B32, B74, N34, T38, T43, T45 | 244 | T20 | TP2 TP38, TP45
2443 | Vanadium oxytrichloride | 8 | II | 8 | A3, A6, A7, B2, B16, N34, T8, T26 | 242 | T7 | TP2 | IB2
2444 | Vanadium tetrachloride | 8 | I | 8 | A3, A6, A7, B4, N34, T8, T26 | 243 | T10 | TP2
2445 | Lithium alkyls | 4.2 | I | 4.2, 4.3 | B11, T28, T40 | 244 | T21 | TP2 TP7
2446 | Nitrocresols | 6.1 | III | 6.1 |  | 240 |  |  | IB8 | BB3
2447 | Phosphorus white, molten | 4.2 | I | 4.2, 6.1 | B9, B26, N34, T15, T26, T29 | 243 | T21 | TP3 TP7 TP26
2448 | Sulfur, molten | 4.1 | III | 4.1 | T9, T38 | 247 | T1 | TP3 TP38 | IB1
2456 | 2-Chloropropene | 3 | I | 3 | A3, N36, T20 | 243 | T11 | TP2
2457 | 2,3-Dimethylbutane | 3 | II | 3 | T13 | 242 | T7 | TP1 | IB2
2458 | Hexadienes | 3 | II | 3 | B101, T7 | 242 | T4 | TP1 | IB2
2459 | 2-Methyl-1-butene | 3 | I | 3 | T14 | 243 | T11 | TP2
2460 | 2-Methyl-2-butene | 3 | II | 3 | T14 | 242 | T7 | TP1 | IB2 | BB8
2461 | Methylpentadienes | 3 | II | 3 | T7 | 242 | T4 | TP1 | IB2
2464 | Berylium nitrate | 5.1 | II | 5.1, 6.1 |  | 242 |  |  | IB8 | BB2, BB4
2465 | Dichloroisocyanuric acid, dry or Dichloroisocyanuric acid salts | 5.1 | II | 5.1 | 28 | 240 |  |  | IB8 | BB4
2466 | Potassium superoxide | 5.1 | I | 5.1 | A20 | None |  |  | IB6 | BB1
2468 | Trichloroisocyanuric acid, dry | 5.1 | II | 5.1 |  | 240 |  |  | IB8 | BB4
2469 | Zinc bromate | 5.1 | III | 5.1 | A1, A29 | 240 |  |  | IB8 | BB3
2470 | Phenylacetonitrile, liquid | 6.1 | III | 6.1 | T8 | 241 | T4 | TP1 | IB3
2471 | Osmium tetroxide | 6.1 | I | 6.1 | A8, B100, N33, N34 | 242 |  |  | IB7 | BB1
2473 | Sodium arsanilate | 6.1 | III | 6.1 |  | 240 |  |  | IB8 | BB3
2474 | Thiophosgene | 6.1 | II | 6.1 | 2, A7, B9, B14, B32, B74, N33, N34, T38, T43, T45 | 244 | T20 | TP2 TP38 TP45
2475 | Vanadium trichloride | 8 | III | 8 |  | 240 |  |  | IB8 | BB3
2477 | Methyl isothiocyanate | 6.1 | I | 6.1, 3 | 2, B9, B14, B32, B74, T38, T43, T45 | 244 | T20 | TP2 TP13 TP38 TP45
2478 | Isocyanates, flammable, toxic, n.o.s. or Isocyanate solutions, flammable, toxic, n.o.s. flashpoint less than 23 degrees C | 3 | II | 3, 6.1 | 5, A3, A7, T15 | 243 | T11 | TP2 TP13 TP27 | IB2
2480 | Methyl isocyanate | 6.1 | I | 6.1, 3 | 1, B9, B14, B30, B72, T38, T43, T44 | 244 | T22 | TP2 TP13 TP38 TP44
2481 | Ethyl isocyanate | 3 | I | 3, 6.1 | 1, A7, B9, B14, B30, B72, T38, T43, T44 | 244 | T22 | TP2 TP13 TP38 TP44
2482 | n-Propyl isocyanate | 6.1 | I | 6.1, 3 | 1, B9, B14, B30, B72, T38, T43, T44 | 244 | T22 | TP2 TP13 TP38 TP44
2483 | Isopropyl isocyanate | 3 | I | 3, 6.1 | 1, B9, B14, B30, B72, T38, T43, T44 | 244 | T22 | TP2 TP13 TP38 TP44
2484 | tert-Butyl isocyanate | 6.1 | I | 6.1, 3 | 1, A7, B9, B14, B30, B72, T38, T43, T44 | 244 | T22 | TP2 TP13 TP38 TP44
2485 | n-Butyl isocyanate | 6.1 | I | 6.1, 3 | 2, A7, B9, B14, B32, B74, B77, T38, T43, T45 | 244 | T20 | TP2 TP13 TP38 TP45
2486 | Isobutyl isocyanate | 3 | I | 3, 6.1 | 1, B9, B14, B30, B72, T38, T43, T44 | 244 | T22 | TP2 TP13 TP27
2487 | Phenyl isocyanate | 6.1 | I | 6.1, 3 | 2, B9, B14, B32, B74, B77, N33, N34, T38, T43, T45 | 244 | T20 | TP2 TP13 TP38 TP45
2488 | Cyclohexyl isocyanate | 6.1 | I | 6.1, 3 | 2, B9, B14, B32, B74, B77, T38, T43, T45 | 244 | T20 | TP2 TP13 TP38 TP45
2490 | Dichloroisopropyl ether | 6.1 | II | 6.1 | T8 | 243 | T7 | TP2 | IB2
2491 | Ethanolamine or Ethanolamine solutions | 8 | III | 8 | T7 | 241 | T4 | TP1 | IB3
2493 | Hexamethyleneimine | 3 | II | 3, 8 | B101, T8 | 243 | T7 | TP1 | IB2
2496 | Propionic anhydride | 8 | III | 8 | T2 | 241 | T4 | TP1 | IB3
2498 | 1, 2, 3, 6-Tetrahydrobenzaldehyde | 3 | III | 3 | B1, T1 | 242 | T2 | TP1 | IB3
2501 | Tris-(1-aziridinyl)phosphine oxide, solution | 6.1 | II | 6.1 | T8 | 243 | T7 | TP2 | IB2
2501 | Tris-(1-aziridinyl)phosphine oxide, solution | 6.1 | III | 6.1 | T7 | 241 | T4 | TP1 | IB3
2502 | Valeryl chloride | 8 | II | 8, 3 | A3, A6, A7, B2, N34, T8 | 243 | T7 | TP2 | IB2
2503 | Zirconium tetrachloride | 8 | III | 8 |  | 240 |  |  | IB8 | BB3
2504 | Tetrabromoethane | 6.1 | III | 6.1 | T7 | 241 | T4 | TP1 | IB3
2505 | Ammonium fluoride | 6.1 | III | 6.1 |  | 240 |  |  | IB8 | BB3
2506 | Ammonium hydrogen sulfate | 8 | II | 8 |  | 240 |  |  | IB8 | BB2, BB4
2507 | Chloroplatinic acid, solid | 8 | III | 8 |  | 240 |  |  | IB8 | BB3
2508 | Molybdenum pentachloride | 8 | III | 8 | T8, T26 | 240 | T4 | TP1 | IB8 | BB3
2509 | Potassium hydrogen sulfate | 8 | II | 8 | A7, N34 | 240 |  |  | IB8 | BB2, BB4
2511 | 2-Chloropropionic acid | 8 | III | 8 | T8 | 241 | TP2 | IB3
2512 | Aminophenols (o-; m-; p-) | 6.1 | III | 6.1 | T1 | 240 | T4 | TP1 | IB8 | BB3
2513 | Bromoacetyl bromide | 8 | II | 8 | B2, T9, T26 | 242 | T8 | TP2 TP12 | IB2
2514 | Bromobenzene | 3 | III | 3 | B1, T1 | 242 | T2 | TP1 | IB3
2515 | Bromoform | 6.1 | III | 6.1 | T7 | 241 | T4 | TP1 | IB3
2516 | Carbon tetrabromide | 6.1 | III | 6.1 |  | 240 |  |  | IB8 | BB3
2517 | 1-Chloro-1,1-difluoroethanes or Refrigerant gas R 142b | 2.1 |  | 2.1 |  | 314, 315 | T50
2518 | 1,5,9-Cyclododecatriene | 6.1 | III | 6.1 | T7 | 241 | T4 | TP1 | IB3
2520 | Cyclooctadienes | 3 | III | 3 | B1, T1 | 242 | T2 | TP1 | IB3
2521 | Diketene, inhibited | 6.1 | I | 6.1, 3 | 2, B9, B14, B32, B74, T38, T43, T45 | 244 | T20 | TP2 TP13 TP38 TP45
2522 | 2-Dimethylaminoethyl methacrylate | 6.1 | II | 6.1 | T8 | 243 | T7 | TP2 | IB2
2524 | Ethyl orthoformate | 3 | III | 3 | B1, T7 | 242 | T2 | TP1 | IB3
2525 | Ethyl oxalate | 6.1 | III | 6.1 | T1 | 241 | T4 | TP1 | IB3
2526 | Furfurylamine | 3 | III | 3, 8 | B1, T1 | 242 | T4 | TP1 | IB3
2527 | Isobutyl acrylate, inhibited | 3 | III | 3 | B1, T1 | 242 | T2 | TP1 | IB3
2528 | Isobutyl isobutyrate | 3 | III | 3 | B1, T1 | 242 | T2 | TP1 | IB3
2529 | Isobutyric acid | 3 | III | 3, 8 | B1, T1 | 242 | T4 | TP1 | IB3
2531 | Methacrylic acid, inhibited | 8 | III | 8 | T8, T47 | 241 | T4 | TP1 TP18 | IB3
2533 | Methyl trichloroacetate | 6.1 | III | 6.1 | T1 | 241 | T4 | TP1 | IB3
2535 | 4-Methylmorpholine or n-methylmorpholine | 3 | II | 3, 8 | B6, T8 | 243 | T7 | TP1 | IB2
2536 | Methyltetrahydrofuran | 3 | II | 3 | B101, T7 | 242 | T4 | TP1 | IB2
2538 | Nitronaphthalene | 4.1 | III | 4.1 | A1 | 240 |  |  | IB8 | BB3
2541 | Terpinolene | 3 | III | 3 | B1, T1 | 242 | T2 | TP1 | IB3
2542 | Tributylamine | 6.1 | II | 6.1 | B110, T14 | 243 | T7 | TP2 | IB2
2545 | Hafnium powder, dry | 4.2 | II | 4.2 | A19, A20, B101, B106, N34 | 241 |  |  | IB6 | BB2
2545 | Hafnium powder, dry | 4.2 | III | 4.2 | B100, B106 | 241 |  |  | IB8 | BB3
2546 | Titanium powder, dry | 4.2 | II | 4.2 | A19, A20, N5, N34 | 241 |  |  | IB6 | BB2
2546 | Titanium powder, dry | 4.2 | III | 4.2 |  | 241 |  |  | IB8 | BB3
2547 | Sodium superoxide | 5.1 | I | 5.1 | A20, N34 | None |  |  | IB6 | BB1
2552 | Hexafluoroacetone hydrate | 6.1 | II | 6.1 | T14 | 243 | T7 | TP2 | IB2
2554 | Methyl allyl chloride | 3 | II | 3 | B101, T8 | 242 | T4 | TP1 TP13 | IB2
2558 | Epibromohydrin | 6.1 | I | 6.1, 3 | T18, T26 | 243 | T14 | TP2 TP13
2560 | 2-Methylpentan-2-ol | 3 | III | 3 | B1, T1 | 242 | T2 | TP1 | IB3
2561 | 3-Methyl-1-butene | 3 | I | 3 | T20 | 243 | T11 | TP2
2564 | Trichloroacetic acid, solution | 8 | II | 8 | A3, A6, A7, B2, N34, T8 | 242 | T7 | TP2 | IB2
2564 | Trichloroacetic acid, solution | 8 | III | 8 | A3, A6, A7, N34, T7 | 241 | T4 | TP1 | IB3
2565 | Dicyclohexylamine | 8 | III | 8 | T8 | 241 | T4 | TP1 | IB3
2567 | Sodium pentachlorophenate | 6.1 | II | 6.1 |  | 242 |  |  | IB8 | BB2, BB4
2570 | Cadmium compounds | 6.1 | I | 6.1 |  | 242 |  |  | IB7 | BB1
2570 | Cadmium compounds | 6.1 | II | 6.1 |  | 242 |  |  | IB8 | BB2, BB4
2570 | Cadmium compounds | 6.1 | III | 6.1 |  | 240 |  |  | IB8 | BB3
2571 | Alkylsulfuric acids | 8 | II | 8 | B2, T9, T27 | 242 | T8 | TP2 TP12 TP13 | IB2
2572 | Phenylhydrazine | 6.1 | II | 6.1 | T8 | 243 | T7 | TP2 | IB2
2573 | Thallium chlorate | 5.1 | II | 5.1, 6.1 |  | 242 |  |  | IB6 | BB2
2574 | Tricresyl phosphate with more than 3 percent ortho isomer | 6.1 | II | 6.1 | A3, N33, N34, T8 | 243 | T7 | TP2 | IB2
2576 | Phosphorus oxybromide, molten | 8 | II | 8 | B2, B8, N41, N43, T8, T27 | 242 | T7 | TP3 TP13 | IB1
2577 | Phenylacetyl chloride | 8 | II | 8 | B2, T8, T26 | 242 | T7 | TP2 | IB2
2578 | Phosphorus trioxide | 8 | III | 8 |  | 240 |  |  | IB8 | BB3
2579 | Piperazine | 8 | III | 8 | T7 | 240 | T4 | TP1 | IB8 | BB3
2580 | Aluminum bromide, solution | 8 | III | 8 | T8 | 241 | T4 | TP1 | IB3
2581 | Aluminum chloride, solution | 8 | III | 8 | T8 | 241 | T4 | TP1 | IB3
2582 | Ferric chloride, solution | 8 | III | 8 | B15, T8 | 241 | T4 | TP1 | IB3
2583 | Alkyl sulfonic acids, solid or Aryl sulfonic acids, solid, with more than 5 percent free sulfuric acid | 8 | II | 8 |  | 240 |  |  | IB8 | BB2, BB4
2584 | Alkyl sulfonic acids, liquid or Aryl sulfonic acids, liquid with more than 5 percent free sulfuric acid | 8 | II | 8 | B2, T8, T27 | 242 | T8 | TP2 TP12 TP13 | IB2
2585 | Alkyl sulfonic acids, solid or Aryl sulfonic acids, solid with not more than 5 percent free sulfuric acid | 8 | III | 8 |  | 240 |  |  | IB8 | BB3
2586 | Alkyl sulfonic acids, liquid or Aryl sulfonic acids, liquid with not more than 5 percent free sulfuric acid | 8 | III | 8 | T8 | 241 | T4 | TP1 | IB3
2587 | Benzoquinone | 6.1 | II | 6.1 |  | 242 |  |  | IB8 | BB2, BB4
2588 | Pesticides, solid, toxic, n.o.s. | 6.1 | I | 6.1 |  | 242 |  |  | IB7
2588 | Pesticides, solid, toxic, n.o.s. | 6.1 | II | 6.1 |  | 242 |  |  | IB8 | BB2, BB4
2588 | Pesticides, solid, toxic, n.o.s. | 6.1 | III | 6.1 |  | 240 |  |  | IB8 | BB3
2589 | Vinyl chloroacetate | 6.1 | II | 6.1, 3 | T14 | 243 | T7 | TP2 | IB2
2590 | White asbestos (chrysotile, actinolite, anthophyllite, tremolite) | 9 | III | 9 |  | 240 |  |  | IB8 | BB2, BB3
2591 | Xenon, refrigerated liquid (cryogenic liquids) | 2.2 |  | 2.2 |  | None | T75
2602 | Dichlorodifluoromethane and difluoroethane azeotropic mixture or Refrigerant gas R 500 with approximately 74 percent dichlorodifluoromethane | 2.2 |  | 2.2 |  | 314, 315 | T50
2603 | Cycloheptatriene | 3 | II | 3, 6.1 | T14 | 243 | T7 | TP1 TP13 | IB2
2604 | Boron trifluoride diethyl etherate | 8 | I | 8, 3 | A19, T8, T26 | 243 | T10 | TP2
2605 | Methoxymethyl isocyanate | 3 | I | 3, 6.1 | 1, B9, B14, B30, B72, T38, T43, T44 | 244 | T22 | TP2 TP13 TP38 TP44
2606 | Methyl orthosilicate | 6.1 | I | 6.1, 3 | 2, B9, B14, B32, B74, T38, T43, T45 | 244 | T20 | TP2 TP13 TP38 TP45
2607 | Acrolein dimer, stabilized | 3 | III | 3 | B1, T1 | 242 | T2 | TP1 | IB3
2608 | Nitropropanes | 3 | III | 3 | B1, T1 | 242 | T2 | TP1 | IB3
2609 | Triallyl borate | 6.1 | III | 6.1 |  | 241 |  |  | IB3
2610 | Triallylamine | 3 | III | 3, 8 | B1, T1 | 242 | T4 | TP1 | IB3
2611 | Propylene chlorohydrin | 6.1 | II | 6.1, 3 | T9 | 243 | T7 | TP2 TP13 | IB2
2612 | Methyl propyl ether | 3 | II | 3 | T14 | 242 | T7 | TP2 | IB2 | BB8
2614 | Methallyl alcohol | 3 | III | 3 | B1, T1 | 242 | T2 | TP1 | IB3
2615 | Ethyl propyl ether | 3 | II | 3 | B101, T8 | 242 | T4 | TP1 | IB2
2616 | Triisopropyl borate | 3 | II | 3 | T8, T31 | 242 | T4 | TP1 | IB2
2616 | Triisopropyl borate | 3 | III | 3 | B1, T8, T31 | 242 | T2 | TP1 | IB3
2617 | Methylcyclohexanols, flammable | 3 | III | 3 | B1, T2 | 242 | T2 | TP1 | IB3
2618 | Vinyltoluenes, inhibited | 3 | III | 3 | B1, T1 | 242 | T2 | TP1 | IB3
2619 | Benzyldimethylamine | 8 | II | 8, 3 | B2, T1 | 243 | T7 | TP2 | IB2
2620 | Amyl butyrates | 3 | III | 3 | B1, T1 | 242 | T2 | TP1 | IB3
2621 | Acetyl methyl carbinol | 3 | III | 3 | B1, T1 | 242 | T2 | TP1 | IB3
2622 | Glycidaldehyde | 3 | II | 3, 6.1 | T8 | 243 | T7 | TP1 | IB2 | BB8
2624 | Magnesium silicide | 4.3 | II | 4.3 | A19, A20, B105, B106 | 241 |  |  | IB7 | BB2
2626 | Chloric acid aqueous solution, with not more than 10 percent chloric acid | 5.1 | II | 5.1 | T25 | None |  |  | IB2
2627 | Nitrites, inorganic, n.o.s. | 5.1 | II | 5.1 | 33 | None |  |  | IB8 | BB4
2628 | Potassium fluoroacetate | 6.1 | I | 6.1 |  | 242 |  |  | IB7 | BB1
2629 | Sodium fluoroacetate | 6.1 | I | 6.1 |  | 242 |  |  | IB7 | BB1
2630 | Selenates or Selenites | 6.1 | I | 6.1 |  | 242 |  |  | IB7 | BB1
2642 | Fluoroacetic acid | 6.1 | I | 6.1 | B100 | 242 |  |  | IB7 | BB1
2643 | Methyl bromoacetate | 6.1 | II | 6.1 | B100, T8 | 243 | T7 | TP2 | IB2
2644 | Methyl iodide | 6.1 | I | 6.1 | 2, B9, B14, B32, B74, T38, T43, T45 | 244 | T20 | TP2 TP13 TP38 TP45 |  |
2645 | Phenacyl bromide | 6.1 | II | 6.1 | B106 | 242 |  |  | IB8 | BB2, BB4
2646 | Hexachlorocyclopentadiene | 6.1 | I | 6.1 | 2, B9, B14, B32, B74, B77, T38, T43, T45 | 244 | T20 | TP2 TP13 TP38 TP45 |  |
2647 | Malononitrile | 6.1 | II | 6.1 |  | 242 |  |  | IB8 | BB2, BB4
2648 | 1,2-Dibromobutan-3-one | 6.1 | II | 6.1 |  | 243 |  |  | IB2 |
2649 | 1,3-Dichloroacetone | 6.1 | II | 6.1 |  | 242 |  |  | IB8 | BB2, BB4
2650 | 1,1-Dichloro-1-nitroethane | 6.1 | II | 6.1 | T8 | 243 | T7 | TP2 | IB2 |
2651 | 4,4'-Diaminodiphenyl methane | 6.1 | III | 6.1 |  | 240 | T4 | TP1 | IB8 | BB3
2653 | Benzyl iodide | 6.1 | II | 6.1 | T8 | 243 | T7 | TP2 | IB2 |
2655 | Potassium fluorosilicate | 6.1 | III | 6.1 |  | 240 |  |  | IB8 | BB3
2656 | Quinoline | 6.1 | III | 6.1 | T8 | 241 | T4 | TP1 | IB3 |
2657 | Selenium disulfide | 6.1 | II | 6.1 |  | 242 |  |  | IB8 | BB2, BB4
2659 | Sodium chloroacetate | 6.1 | III | 6.1 |  | 240 |  |  | IB8 | BB3
2660 | Nitrotoluidines (mono) | 6.1 | III | 6.1 |  | 240 |  |  | IB8 | BB3
2661 | Hexachloroacetone | 6.1 | III | 6.1 | T8 | 241 | T4 | TP1 | IB3 |
2662 | Hydroquinone | 6.1 | III | 6.1 |  | 240 | T4 | TP1 | IB8 | BB3
2664 | Dibromomethane | 6.1 | III | 6.1 | T7 | 241 | T4 | TP1 | IB3 |
2667 | Butyltoluenes | 6.1 | III | 6.1 | T2 | 241 | T4 | TP1 | IB3 |
2668 | Chloroacetonitrile | 6.1 | II | 6.1, 3 | 2, B9, B14, B32, B74, T38, T43, T45 | 244 | T20 | TP2 TP38 TP45 | IBC99 |
2669 | Chlorocresols, solid | 6.1 | II | 6.1 |  | 242 | T7 |  | IB8 | BB2, BB3
2669 | Chlorocresols, liquid | 6.1 | II | 6.1 | T8 | 243 | T7 | TP2 | IB2 |
2670 | Cyanuric chloride | 8 | II | 8 |  | 240 |  |  | IB8 | BB2, BB4
2671 | Aminopyridines (o-; m-; p-) | 6.1 | II | 6.1 | T7 | 242 | T7 | TP2 | IB8 | BB2, BB4
2672 | Ammonia solutions, relative density between 0.880 and 0.957 at 15 degrees C in water, with more than 10 percent but not more than 35 percent ammonia | 8 | III | 8 | T14 | 241 | T7 | TP1 | IB3 |
2673 | 2-Amino-4-chlorophenol | 6.1 | II | 6.1 |  | 242 |  |  | IB8 | BB2, BB4
2674 | Sodium fluorosilicate | 6.1 | III | 6.1 |  | 240 |  |  | IB8 | BB3
2677 | Rubidium hydroxide solution | 8 | II | 8 | B2, T8 | 242 | T7 | TP2 | IB2 |
2677 | Rubidium hydroxide solution | 8 | III | 8 | T7 | 241 | T4 | TP1 | IB3 |
2678 | Rubidium hydroxide | 8 | II | 8 | T8 | 240 | T7 | TP2 | IB8 | BB2, BB4
2679 | Lithium hydroxide, solution | 8 | II | 8 | B2, T8 | 242 | T7 | TP2 | IB2 |
2679 | Lithium hydroxide, solution | 8 | III | 8 | T8 | 241 | T4 | TP2 | IB3 |
2680 | Lithium hydroxide, monohydrate or Lithium hydroxide, solid | 8 | II | 8 |  | 240 |  |  | IB8 | BB2, BB4
2681 | Caesium hydroxide solution or Cesium hydroxide solution | 8 | II | 8 | B2, T8 | 242 | T7 | TP2 | IB2 |
2681 | Caesium hydroxide solution or Cesium hydroxide solution | 8 | III | 8 | T7 | 241 | T4 | TP1 | IB3 |
2682 | Caesium hydroxide or Cesium hydroxide | 8 | II | 8 |  | 240 |  |  | IB8 | BB2, BB4
2683 | Ammonium sulfide solution | 8 | II | 8, 6.1, 3 | T14 | 243 | T7 | TP2 TP13 | IB1 |
2684 | Diethylaminopropylamine | 3 | III | 3, 8 | B1, T8 | 242 | T4 | TP1 | IB3 |
2685 | N,N-Diethylethylenediamine | 8 | II | 8, 3 | T8 | 243 | T7 | TP2 | IB2 |
2686 | 2-Diethylaminoethanol | 8 | II | 8, 3 | B2, T15, T26 | 243 | T7 | TP2 | IB2 |
2687 | Dicyclohexylammonium nitrite | 4.1 | III | 4.1 |  | 240 |  |  | IB8 | BB3
2688 | 1-Chloro-3-bromopropane | 6.1 | III | 6.1 | T2 | 241 | T4 | TP1 | IB3 |
2689 | Glycerol alpha- monochlorohydrin | 6.1 | III | 6.1 | T2 | 241 | T4 | TP1 | IB3 |
2690 | N-n-Butyl imidazole | 6.1 | II | 6.1 | T8 | 243 | T7 | TP2 | IB2 |
2691 | Phosphorus pentabromide | 8 | II | 8 | A7, B106, N34 | 240 |  |  | IB8 | BB2, BB4
2692 | Boron tribromide | 8 | I | 8, 6.1 | 2, A3, A7, B9, B14, B32, B74, N34, T38, T43, T45 | 244 | T20 | TP2 TP12 TP13 TP38 TP45 |  |
2693 | Bisulfites, aqueous solutions, n.o.s | 8 | III | 8 | T8 | 241 | T7 | TP1 TP28 | IB3 |
2698 | Tetrahydrophthalic anhydrides with more than 0.05 percent of maleic anhydride | 8 | III | 8 |  | 240 |  |  | IB8 | BB3
2699 | Trifluoroacetic acid | 8 | I | 8 | A3, A6, A7, B4, N3, N34, T18, T27 | 243 | T10 | TP2 TP12 |  |
2705 | 1-Pentol | 8 | II | 8 | B2, T8 | 242 | T7 | TP2 | IB2 |
2707 | Dimethyldioxanes | 3 | II | 3 | T8, T31 | 242 | T4 | TP1 | IB2 |
2707 | Dimethyldioxanes | 3 | III | 3 | B1, T7, T30 | 242 | T2 | TP1 | IB3 |
2709 | Butyl benzenes | 3 | III | 3 | B1, T1 | 242 | T2 | TP1 | IB3 |
2710 | Dipropyl ketone | 3 | III | 3 | B1, T1 | 242 | T2 | TP1 | IB3 |
2713 | Acridine | 6.1 | III | 6.1 |  | 240 |  |  | IB8 | BB3
2714 | Zinc resinate | 4.1 | III | 4.1 | A1 | 240 |  |  | IB6 |
2715 | Aluminum resinate | 4.1 | III | 4.1 |  | 240 |  |  | IB6 |
2716 | 1,4-Butynediol | 6.1 | III | 6.1 | A1 | 240 |  |  | IB8 | BB3
2717 | Camphor, synthetic | 4.1 | III | 4.1 | A1 | 240 |  |  | IB8 | BB3
2719 | Barium bromate | 5.1 | II | 5.1, 6.1 |  | 242 |  |  | IB8 | BB2, BB4
2720 | Chromium nitrate | 5.1 | III | 5.1 | A1, A29 | 240 |  |  | IB8 | BB3
2721 | Copper chlorate | 5.1 | II | 5.1 | A1 | 242 |  |  | IB8 | BB2, BB4
2722 | Lithium nitrate | 5.1 | III | 5.1 | A1 | 240 |  |  | IB8 | BB3
2723 | Magnesium chlorate | 5.1 | II | 5.1 |  | 242 |  |  | IB8 | BB2, BB4
2724 | Manganese nitrate | 5.1 | III | 5.1 | A1 | 240 |  |  | IB8 | BB3
2725 | Nickel nitrate | 5.1 | III | 5.1 | A1 | 240 |  |  | IB8 | BB3
2726 | Nickel nitrite | 5.1 | III | 5.1 | A1 | 240 |  |  | IB8 | BB3
2727 | Thallium nitrate | 6.1 | II | 6.1, 5.1 |  | 242 |  |  | IB6 | BB2
2728 | Zirconium nitrate | 5.1 | III | 5.1 | A1, A29 | 240 |  |  | IB8 | BB3
2729 | Hexachlorobenzene | 6.1 | III | 6.1 |  | 241 |  |  | IB3 |
2730 | Nitroanisole | 6.1 | III | 6.1 | T8 | 240 | T4 | TP1 | IB8 | BB3
2732 | Nitrobromobenzenes solid | 6.1 | III | 6.1 |  | 240 | T4 | TP1 | IB8 | BB3
2732 | Nitrobromobenzenes liquid | 6.1 | III | 6.1 | T8, T38 | 241 | T4 | TP1 TP38 | IB3
2733 | Amines, flammable, corrosive, n.o.s. or Polyamines, flammable, corrosive, n.o.s | 3 | I | 3, 8 | T42 | 243 | T14 | TP1 TP27
2733 | Amines, flammable, corrosive, n.o.s. or Polyamines, flammable, corrosive, n.o.s | 3 | II | 3, 8 | T8, T31 | 243 | T11 | TP1 TP27 | IB2
2733 | Amines, flammable, corrosive, n.o.s. or Polyamines, flammable, corrosive, n.o.s | 3 | III | 3, 8 | B1, T8, T31 | 242 | T7 | TP1 TP28 | IB3
2734 | Amines, liquid, corrosive, flammable, n.o.s. or Polyamines, liquid, corrosive, flammable, n.o.s | 8 | I | 8, 3 | A3, A6, N34, T8, T31 | 243 | T14 | TP2 TP27
2734 | Amines, liquid, corrosive, flammable, n.o.s. or Polyamines, liquid, corrosive, flammable, n.o.s | 8 | II | 8, 3 | T8, T31 | 243 | T11 | TP2 TP27 | IB2
2735 | Amines, liquid, corrosive, n.o.s, or Polyamines, liquid, corrosive, n.o.s | 8 | I | 8 | A3, A6, B10, N34, T42 | 243 | T14 | TP2 TP27
2735 | Amines, liquid, corrosive, n.o.s, or Polyamines, liquid, corrosive, n.o.s | 8 | II | 8 | B2, T8 | 242 | T11 | TP1 TP27 | IB2
2735 | Amines, liquid, corrosive, n.o.s, or Polyamines, liquid, corrosive, n.o.s | 8 | III | 8 | T8 | 241 | T7 | TP1 TP28 | IB3
2738 | N-Butylaniline | 6.1 | II | 6.1 | T8 | 243 | T7 | TP2 | IB2
2739 | Butyric anhydride | 8 | III | 8 | T2 | 241 | T4 | TP1 | IB3
2740 | n-Propyl chloroformate | 6.1 | I | 6.1, 3, 8 | 2, A3, A6, A7, B9, B14, B32, B74, B77, N34, T38, T43, T45 | 244 | T20 | TP2 TP13 TP38 TP44
2741 | Barium hypochlorite with more than 22 percent available chlorine | 5.1 | II | 5.1, 6.1 | A7, A9, N34 | None |  |  | IB8 | BB2, BB4
2742 | Chloroformates, toxic, corrosive, flammable, n.o.s | 6.1 | II | 6.1, 8, 3 | 5 | 243 | T7 | TP2 | IB1
2743 | n-Butyl chloroformate | 6.1 | I | 6.1, 8, 3 | 2, B9, B14, B32, B74, T38, T43, T45 | 244 | T20 | TP2 TP13 TP38 TP45
2744 | Cyclobutyl chloroformate | 6.1 | II | 6.1, 8, 3 | T18 | 243 | T7 | TP2 TP13 | IB1
2745 | Chloromethyl chloroformate | 6.1 | II | 6.1, 8 | T18 | 243 | T7 | TP2 TP13 | IB2
2746 | Phenyl chloroformate | 6.1 | II | 6.1, 8 | T12 | 243 | T7 | TP2 TP13 | IB2
2747 | tert-Butylcyclohexylchloroformate | 6.1 | III | 6.1 | T8 | 241 | T4 | TP1 | IB3
2748 | 2-Ethylhexyl chloroformate | 6.1 | II | 6.1, 8 | T12 | 243 | T7 | TP2 TP13 | IB2
2749 | Tetramethylsilane | 3 | I | 3 | T21, T26 | 243 | T14 | TP2
2750 | 1,3-Dichloropropanol-2 | 6.1 | II | 6.1 | T8 | 243 | T7 | TP2 | IB2
2751 | Diethylthiophosphoryl chloride | 8 | II | 8 | B2, T8 | 240 | T7 | TP2 | IB8 | BB2, BB4
2752 | 1,2-Epoxy-3-ethoxypropane | 3 | III | 3 | B1, T1 | 242 | T2 | TP1 | IB3
2753 | N-Ethylbenzyltoluidines solid | 6.1 | III | 6.1 |  | 240 | T7 | TP1 | IB8 | BB3
2753 | N-Ethylbenzyltoluidines liquid | 6.1 | III | 6.1 | T14 | 241 | T7 | TP1 | IB3
2754 | N-Ethyltoluidines | 6.1 | II | 6.1 | T14 | 243 | T7 | TP2 | IB2
2757 | Carbamate pesticides, solid, toxic | 6.1 | I | 6.1 |  | 242 |  |  | IB7 | BB1
2757 | Carbamate pesticides, solid, toxic | 6.1 | II | 6.1 |  | 242 |  |  | IB8 | BB2, BB4
2757 | Carbamate pesticides, solid, toxic | 6.1 | III | 6.1 |  | 240 |  |  | IB8 | BB3
2758 | Carbamate pesticides, liquid, flammable, toxic, flash point less than 23 degrees C | 3 | I | 3, 6.1 |  | 243 | T14 | TP2 TP13 TP27
2758 | Carbamate pesticides, liquid, flammable, toxic, flash point less than 23 degrees C | 3 | II | 3, 6.1 |  | 243 | T11 | TP2 TP13 TP27 | IB2
2759 | Arsenical pesticides, solid, toxic | 6.1 | I | 6.1 |  | 242 |  |  | IB7 | BB1
2759 | Arsenical pesticides, solid, toxic | 6.1 | II | 6.1 |  | 242 |  |  | IB8 | BB2, BB4
2759 | Arsenical pesticides, solid, toxic | 6.1 | III | 6.1 |  | 240 |  |  | IB8 | BB3
2760 | Arsenical pesticides, liquid, flammable, toxic, flash point less than 23 degrees C | 3 | I | 3, 6.1 |  | 243 | T14 | TP2 TP13 TP27
2760 | Arsenical pesticides, liquid, flammable, toxic, flash point less than 23 degrees C | 3 | II | 3, 6.1 |  | 243 | T11 | TP2 TP13 TP27 | IB2
2761 | Organochlorine pesticides, solid toxic | 6.1 | I | 6.1 |  | 242 |  |  | IB7 | BB1
2761 | Organochlorine pesticides, solid toxic | 6.1 | II | 6.1 |  | 242 |  |  | IB8 | BB2, BB4
2761 | Organochlorine pesticides, solid toxic | 6.1 | III | 6.1 |  | 240 |  |  | IB8 | BB3
2762 | Organochlorine pesticides liquid, flammable, toxic, flash point less than 23 degrees C | 3 | I | 3, 6.1 |  | 243 | T14 | TP2 TP13 TP27
2762 | Organochlorine pesticides liquid, flammable, toxic, flash point less than 23 degrees C | 3 | II | 3, 6.1 |  | 243 | T11 | TP2 TP13 TP27 | IB2
2763 | Triazine pesticides, solid, toxic | 6.1 | I | 6.1 |  | 242 |  |  | IB7 | BB1
2763 | Triazine pesticides, solid, toxic | 6.1 | II | 6.1 |  | 242 |  |  | IB8 | BB2, BB4
2763 | Triazine pesticides, solid, toxic | 6.1 | III | 6.1 |  | 240 |  |  | IB8 | BB3
2764 | Triazine pesticides, liquid, flammable, toxic, flash point less than 23 degrees C | 3 | I | 3, 6.1 |  | 243 | T14 | TP2 TP13 TP27
2764 | Triazine pesticides, liquid, flammable, toxic, flash point less than 23 degrees C | 3 | II | 3, 6.1 |  | 243 | T11 | TP2 TP13 TP27 | IB2
2771 | Thiocarbamate pesticides, solid, toxic | 6.1 | I | 6.1 |  | 242 |  |  | IB7 | BB1
2771 | Thiocarbamate pesticides, solid, toxic | 6.1 | II | 6.1 |  | 242 |  |  | IB8 | BB2, BB4
2771 | Thiocarbamate pesticides, solid, toxic | 6.1 | III | 6.1 |  | 240 |  |  | IB8 | BB3
2772 | Thiocarbomate pesticide, liquid, flammable, toxic, flashpoint less than 23 degrees C | 3 | I | 3, 6.1 |  | 243 | T14 | TP2 TP13 TP27
2772 | Thiocarbomate pesticide, liquid, flammable, toxic, flashpoint less than 23 degrees C. | 3 | II | 3, 6.1 |  | 243 | T11 | TP2 TP13 TP27 | IB2
2775 | Copper based pesticides, solid, toxic | 6.1 | I | 6.1 |  | 242 |  |  | IB7 | BB1
2775 | Copper based pesticides, solid, toxic | 6.1 | II | 6.1 |  | 242 |  |  | IB8 | BB2, BB4
2775 | Copper based pesticides, solid, toxic | 6.1 | III | 6.1 |  | 240 |  |  | IB8 | BB3
2776 | Copper based pesticides, liquid, flammable, tox, flash point less than 23 degrees C | 3 | I | 3, 6.1 |  | 243 | T14 | TP2 TP13 TP27
2776 | Copper based pesticides, liquid, flammable, toxic, flash point less than 23 degrees C | 3 | II | 3, 6.1 |  | 243 | T11 | TP2 TP13 TP27 | IB2
2777 | Mercury based pesticides, solid, toxic | 6.1 | I | 6.1 |  | 242 |  |  | IB7 | BB1
2777 | Mercury based pesticides, solid, toxic | 6.1 | II | 6.1 |  | 242 |  |  | IB8 | BB2, BB4
2777 | Mercury based pesticides, solid, toxic | 6.1 | III | 6.1 |  | 240 |  |  | IB8 | BB3
2778 | Mercury based pesticides, liquid, flammable, toxic, flash point less than 23 degrees C | 3 | I | 3, 6.1 |  | 243 | T14 | TP2 TP13 TP27
2778 | Mercury based pesticides, liquid, flammable, toxic, flash point less than 23 degrees C | 3 | II | 3, 6.1 |  | 243 | T11 | TP2 TP13 TP27 | IB2
2779 | Substituted nitrophenol pesticides, solid, toxic | 6.1 | I | 6.1 |  | 242 |  |  | IB7 | BB1
2779 | Substituted nitrophenol pesticides, solid, toxic | 6.1 | II | 6.1 |  | 242 |  |  | IB8 | BB2, BB4
2779 | Substituted nitrophenol pesticides, solid, toxic | 6.1 | III | 6.1 |  | 240 |  |  | IB8 | BB3
2780 | Substituted nitrophenol pesticides, liquid, flammable, toxic, flash point less than 23 degrees C | 3 | I | 3, 6.1 |  | 243 | T14 | TP2 TP13 T27
2780 | Substituted nitrophenol pesticides, liquid, flammable, toxic, flash point less than 23 degrees C | 3 | II | 3, 6.1 |  | 243 | T11 | TP2 TP13 TP27 | IB2
2781 | Bipyridilium pesticides, solid, toxic | 6.1 | I | 6.1 |  | 242 |  |  | IB7 | BB1
2781 | Bipyridilium pesticides, solid, toxic | 6.1 | II | 6.1 |  | 242 |  |  | IB8 | BB2, BB4
2781 | Bipyridilium pesticides, solid, toxic | 6.1 | III | 6.1 |  | 240 |  |  | IB8 | BB3
2782 | Bipyridilium pesticides, liquid, flammable, toxic, flash point less than 23 degrees C | 3 | I | 3, 6.1 |  | 243 | T14 | TP2 TP13 TP27
2782 | Bipyridilium pesticides, liquid, flammable, toxic, flash point less than 23 degrees C | 3 | II | 3, 6.1 |  | 243 | T11 | TP2 TP13 TP27 | IB2
2783 | Organophosphorus pesticides, solid, toxic | 6.1 | I | 6.1 | N77 | 242 |  |  | IB7 | BB1
2783 | Organophosphorus pesticides, solid, toxic | 6.1 | II | 6.1 | N77 | 242 |  |  | IB8 | BB2, BB4
2783 | Organophosphorus pesticides, solid, toxic | 6.1 | III | 6.1 | N77 | 240 |  |  | IB8 | BB3
2784 | Organophosphorus pesticides, liquid, flammable, toxic, flash point less than 23 degrees C | 3 | l | 3, 6.1 | T42 | 243 | T14 | TP2 TP13 TP27
2784 | Organophosphorus pesticides, liquid, flammable, toxic, flash point less than 23 degrees C | 3 | ll | 3, 6.1 | T18 | 243 | T11 | TP2 TP13 TP27 | lB2
2785 | 4-Thiapentanal | 6.1 | lll | 6.1 | T8 | 241 | T4 | TP1 | lB3
2786 | Organotin pesticides, solid, toxic | 6.1 | l | 6.1 |  | 242 |  |  | lB7 | BBl
2786 | Organotin pesticides, solid, toxic | 6.1 | ll | 6.1 |  | 242 |  |  | lB8 | BB2, BB4
2786 | Organotin pesticides, solid, toxic | 6.1 | lll | 6.1 |  | 240 |  |  | lB8 | BB3
2787 | Organotin pesticides, liquid, flammable, toxic, flash point less than 23 degrees C | 3 | l | 3, 6.1 |  | 243 | T14 | TP2 TP13 TP27
2787 | Organotin pesticides, liquid, flammable, toxic, flash point less than 23 degrees C | 3 | ll | 3, 6.1 |  | 243 | T11 | TP2 TP13 TP27 | lB2
2788 | Organotin compounds, liquid, n.o.s | 6.1 | l | 6.1 | A3, N33, N34, T42 | 243 | T14 | TP2 TP13 TP27
2788 | Organotin compounds, liquid, n.o.s | 6.1 | ll | 6.1 | A3, N33, N34, T14 | 243 | T11 | TP2 TP13 TP27 | lB2
2788 | Organotin compounds, liquid, n.o.s | 6.1 | lll | 6.1 | T14 | 241 | T7 | TP2 TP28 | lB3
2789 | Acetic acid, glacial or Acetic acid solution, with more than 80 percent acid, by mass | 8 | ll | 8, 3 | A3, A6, A7, A10, B2, T8 | 243 | T7 | TP2 | lB2
2790 | Acetic acid solution, not less than 50 percent but not more than 80 percent acid, by mass | 8 | ll | 8 | A3, A6, A7, A10, B2, T8 | 242 | T7 | TP2 | lB2
2790 | Acetic acid solution, with more than 10 percent and less than 50 percent acid by mass | 8 | lll | 8 | T8 | 242 | T4 | TP1 | lB3
2793 | Ferrous metal borings or Ferrous metal shavings or Ferrous metal turnings or Ferrous metal cuttings in a form liable to self-heating | 4.2 | lll | 4.2 | A1, A19, B101 | 241 |  |  | lB8 | BB3, BB6
2796 | Battery fluid, acid | 8 | ll | 8 | A3, A7, B2, B15, N6, N34, T9, T27 | 242 | T8 | TP2 TP12 | lB2
2796 | Sulfuric acid with not more than 51% acid | 8 | ll | 8 | A3, A7, B2, B15, N6, N34, T9, T27 | 242 | T8 | TP2 TP12 | lB2
2797 | Battery fluid, alkali | 8 | ll | 8 | B2, N6, T8 | 242 | T7 | TP2 | lB2
2798 | Phenyl phosphorus dichloride | 8 | ll | 8 | B2, B15, T8, T26 | 242 | T7 | TP2 | lB2
2799 | Phenyl phosphorus thiodichloride | 8 | ll | 8 | B2, B15, T8, T26 | 242 | T7 | TP2 | lB2
2801 | Dyes, liquid, corrosive, n.o.s. or Dye intermediates liquid, corrosive, n.o.s | 8 | l | 8 | 11, B10 | 243 | T14 | TP2 TP27
2801 | Dyes, liquid, corrosive, n.o.s. or Dye intermediates, liquid, corrosive, n.o.s | 8 | ll | 8 | 11, B2, T14 | 242 | T11 | TP2 TP27 | lB2
2801 | Dyes, liquid, corrosive, n.o.s. or Dye intermediates liquid, corrosive, n.o.s | 8 | lll | 8 | 11, T7 | 241 | T7 | TP1 TP28 | lB3
2802 | Copper chloride | 8 | lll | 8 |  | 240 |  |  | lB8 | BB3
2805 | Lithium hydride, fused solid | 4.3 | ll | 4.3 | A8, A19, A20, B101, B106 | 241 |  |  | lB4
2806 | Lithium nitride | 4.3 | l | 4.3 | A19, B101, B106, N40 | 242 |  |  | lB4 | BB1
2810 | Toxic, liquids, organic, n.o.s. Inhalation hazard, Packing Group I, Zone A | 6.1 | l | 6.1 | 1, B9, B14, B30, B72, T38, T43, T44 | 244 | T22 | TP2 TP13 TP27 TP38 TP44
2810 | Toxic, liquids, organic, n.o.s. Inhalation hazard, Packing Group I, Zone B | 6.1 | l | 6.1 | 2, B9, B14, B32, B74, T38, T43, T45 | 244 | T20 | TP2 TP13 TP27 TP38 TP45
2810 | Toxic, liquids, organic, n.o.s | 6.1 | l | 6.1 | T42 | 243 | T14 | TP2 TP13 TP27
2810 | Toxic, liquids, organic, n.o.s | 6.1 | ll | 6.1 | B110, T14 | 243 | T11 | TP2 TP13 TP27 | lB2
2810 | Toxic, liquids, organic, n.o.s | 6.1 | lll | 6.1 | T7 | 241 | T7 | TP1 TP28 | lB3
2811 | Toxic solids, organic, n.o.s | 6.1 | l | 6.1 |  | 242 |  |  | lB7
2811 | Toxic solids, organic, n.o.s | 6.1 | ll | 6.1 |  | 242 |  |  | lB8 | BB2, BB4
2811 | Toxic solids, organic, n.o.s | 6.1 | lll | 6.1 |  | 240 |  |  | lB8 | BB3
2812 | Sodium aluminate, solid | 8 | lll | 8 |  | 240 |  |  | lB8 | BB3
2813 | Water reactive solid, n.o.s | 4.3 | 1 | 4.3 | B101, B106, N40 | 240 |  |  | IB4 |
2813 | Water-reactive solid, n.o.s | 4.3 | ll | 4.3 | B101, B106 | 242 |  |  | lB7 | BB2
2813 | Water-reactive solid, n.o.s | 4.3 | lll | 4.3 | B105, B106 | T7 | 241 |  | lB8 | BB4
2815 | N-Aminoethylpiperazine | 8 | lll | 8 | T7 | 241 | T4 | TP1 | lB3
2817 | Ammonium hydrogendifluoride, solution | 8 | ll | 8, 6.1 | N34, T15 | 243 | T8 | TP2 TP12 TP13 | lB2
2817 | Ammonium hydrogendifluoride, solution | 8 | lll | 8, 6.1 | T8 | 241 | T4 | TP1 TP12 TP13 | lB3
2818 | Ammonium polysulfide, solution | 8 | ll | 8, 6.1 | T14 | 243 | T7 | TP2 TP13 | lB2
2818 | Ammonium polysulfide, solution | 8 | lll | 8, 6.1 | T7 | 241 | T4 | TP1 TP13 | lB3
2819 | Amyl acid phosphate | 8 | lll | 8 | T7 | 241 | T4 | TP1 | lB3
2820 | Butyric acid | 8 | lll | 8 | T1 | 241 | T4 | TP1 | lB3
2821 | Phenol solutions | 6.1 | ll | 6.1 | T14 | 243 | T7 | TP2 | lB2
2821 | Phenol solutions | 6.1 | lll | 6.1 | T7 | 241 | T4 | TP1 | lB3
2822 | 2-Chloropyridine | 6.1 | ll | 6.1 | T14 | 243 | T7 | TP2 | lB2
2823 | Crotonic acid, solid | 8 | lll | 8 |  | 240 |  |  | lB8 | BB3
2823 | Crotonic acid liquid | 8 | lll | 8 |  | 241 | T4 | TP1 | lB3
2826 | Ethyl chlorothioformate | 8 | II | 8, 6.1, 3 | 2, B9, B14, B32, B74, T38, T43, T45 | 244 | T20 | TP2 TP38 TP45
2829 | Caproic acid | 8 | III | 8 | T1 | 241 | T4 | TP1 | IB3
2830 | Lithium ferrosilicon | 4.3 | II | 4.3 | A19, B105, B106 | 241 |  |  | IB7 | BB2
2831 | 1,1,1-Trichloroethane | 6.1 | III | 6.1 | N36, T7 | 241 | T4 | TP1 | IB3
2834 | Phosphorous acid | 8 | III | 8 | T7 | 240 | T3 | TP1 | IB8 | BB3
2835 | Sodium aluminum hydride | 4.3 | II | 4.3 | A8, A19, A20, B100 | 242 |  |  | IB1
2837 | Bisulfate, aqueous solution | 8 | II | 8 | A7, B2, N34, T8, T26 | 242 | T7 | TP2 | IB2
2837 | Bisulfate, aqueous solution | 8 | III | 8 | A7, N34, T7, T26 | 241 | T4 | TP1 | IB3
2838 | Vinyl butyrate, inhibited | 3 | II | 3 | T7 | 242 | T4 | TP1 | IB2
2839 | Aldol | 6.1 | II | 6.1 | T8 | 243 | T7 | TP2 | IB2
2840 | Butyraldoxime | 3 | III | 3 | B1, T1 | 242 | T2 | TP1 | IB3
2841 | Di-n-amylamine | 3 | III | 3, 6.1 | B1, T8 | 242 | T4 | TP1 | IB3
2842 | Nitroethane | 3 | III | 3 | B1, T8 | 242 | T2 | TP1 | IB3
2844 | Calcium manganese silicon | 4.3 | III | 4.3 | A1, A19, B105, B106 | 241 |  |  | IB8 | BB2, BB4
2845 | Pyrophoric liquids, organic, n.o.s | 4.2 | I | 4.2 | B11, T42 | 244 | T22 | TP2 TP7 TP38 TP45
2849 | 3-Chloropropanol-1 | 6.1 | III | 6.1 | T8 | 241 | T4 | TP1 | IB3
2850 | Propylene tetramer | 3 | III | 3 | B1, T1 | 242 | T2 | TP1 | IB3
2851 | Boron trifluoride dihydrate | 8 | II | 8 | T9, T27 | 240 | T7 | TP2 | IB8 | BB2, BB4
2853 | Magnesium fluorosilicate | 6.1 | III | 6.1 |  | 240 |  |  | IB8 | BB3
2854 | Ammonium fluorosilicate | 6.1 | III | 6.1 |  | 240 |  |  | IB8 | BB3
2855 | Zinc fluorosilicate | 6.1 | III | 6.1 |  | 240 |  |  | IB8 | BB3
2856 | Fluorosilicates, n.o.s | 6.1 | III | 6.1 |  | 240 |  |  | IB8 | BB3
2858 | Zirconium, dry, coiled wire, finished metal sheets, strip (thinner than 254 microns but not thinner than 18 microns) | 4.1 | III | 4.1 | A1 | 240 |  |  | IB8
2859 | Ammonium metavanadate | 6.1 | II | 6.1 |  | 242 |  |  | IB8 | BB2, BB4
2861 | Ammonium polyvanadate | 6.1 | II | 6.1 |  | 242 |  |  | IB8 | BB2, BB4
2862 | Vanadium pentoxide, non-fused form | 6.1 | III | 6.1 |  | 240 |  |  | IB8 | BB3
2863 | Sodium ammonium vanadate | 6.1 | II | 6.1 |  | 242 |  |  | IB8 | BB2, BB4
2864 | Potassium metavanadate | 6.1 | II | 6.1 |  | 242 |  |  | IB8 | BB2, BB4
2865 | Hydroxylamine sulfate | 8 | III | 8 |  | 240 |  |  | IB8 | BB3
2869 | Titanium trichloride mixtures | 8 | II | 8 | A7, B106, N34 | 240 |  |  | IB8 | BB2, BB4
2869 | Titanium trichloride mixtures | 8 | III | 8 | A7, N34 | 240 |  |  | IB8 | BB3
2871 | Antimony powder | 6.1 | III | 6.1 |  | 240 |  |  | IB8 | BB3
2872 | Dibromochloropropane | 6.1 | III | 6.1 | T7 | 241 | T4 | TP1 | IB3
2873 | Dibutylaminoethanol | 6.1 | III | 6.1 | T1 | 241 | T4 | TP1 | IB3
2874 | Furfuryl alcohol | 6.1 | III | 6.1 | T2 | 241 | T4 | TP1 | IB3
2875 | Hexachlorophene | 6.1 | III | 6.1 |  | 240 |  |  | IB8 | BB3
2876 | Resorcinol | 6.1 | III | 6.1 |  | 240 |  |  | IB8 | BB3
2878 | Titanium sponge granules or Titanium sponge powders | 4.1 | III | 4.1 | A1 | 240 |  |  | IB8 | BB3
2879 | Selenium oxychloride | 8 | I | 8, 6.1 | A3, A6, A7, N34, T12, T27 | 243 | T10 | TP2 TP12 TP13
2880 | Calcium hypochlorite, hydrated or Calcium hypochlorite, hydrated mixtures, with not less than 5.5 percent but not more than 10 percent water | 5.1 | II | 5.1 |  | 240 |  |  | IB8 | BB2, BB4
2881 | Metal catalyst, dry | 4.2 | II | 4.2 | N34 | 242 |  |  | IB6 | BB2
2881 | Metal catalyst, dry | 4.2 | III | 4.2 | N34 | 241 |  |  | IB8 | BB3
2902 | Pesticides, liquid, toxic, n.o.s | 6.1 | I | 6.1 | T42 | 243 | T14 | TP2 TP13 TP27
2902 | Pesticides, liquid, toxic, n.o.s | 6.1 | II | 6.1 | T14 | 243 | T11 | TP2 TP13 TP27 | IB2
2902 | Pesticides, liquid, toxic, n.o.s | 6.1 | III | 6.1 | T14 | 241 | T7 | TP2 TP28 | IB3
2903 | Pesticides, liquid, toxic, flammable, n.o.s flashpoint not less than 23 degrees C | 6.1 | I | 6.1, 3 | T42 | 243 | T14 | TP2 TP13 TP27
2903 | Pesticides, liquid, toxic, flammable, n.o.s flashpoint not less than 23 degrees C | 6.1 | II | 6.1,3 | T14 | 243 | T11 | TP2 TP13 TP27 | IB2
2903 | Pesticides, liquid, toxic, flammable, n.o.s flashpoint not less than 23 degrees C | 6.1 | III | 6.1, 3 | B1, T14 | 242 | T7 | TP2 | IB3
2904 | Chlorophenolates, liquid or Phenolates, liquid | 8 | III | 8 |  | 241 |  |  | IB3
2905 | Chlorophenolates, solid or Phenolates, solid | 8 | III | 8 |  | 240 |  |  | IB8 | BB3
2907 | Isosorbide dinitrate mixture with not less than 60 percent lactose, mannose, starch or calcium hydrogen phosphate | 4.1 | II | 4.1 |  | None |  |  | IB6 | BB2
2912 | Radioactive material, low specific activity, n.o.s or Radioactive material, LSA, n.o.s | 7 |  | 7 |  | 427 | T5 | TP4
2913 | Radioactive material, surface contaminated object, n.o.s or Radioactive material, SCO | 7 |  | 7 |  | 427 | T5 | TP4
2920 | Corrosive liquids, flammable, n.o.s | 8 | I | 8, 3 | B10, T42 | 243 | T14 | TP2 TP27
2920 | Corrosive liquids, flammable, n.o.s | 8 | II | 8, 3 | B2, T15, T26 | 243 | T11 | TP2 TP27 | IB2
2921 | Corrosive solids, flammable, n.o.s | 8 | I | 8, 4.1 | B106 | 242 |  |  | IB6
2921 | Corrosive solids, flammable, n.o.s | 8 | II | 8, 4.1 |  | 242 |  |  | IB8 | BB2, BB4
2922 | Corrosive liquids, toxic, n.o.s | 8 | I | 8, 6.1 | A7, B10, T18, T27 | 243 | T14 | TP2 TP13 TP27
2922 | Corrosive liquids, toxic, n.o.s | 8 | II | 8, 6.1 | B3, T18, T26 | 243 | T7 | TP2 | IB2
2922 | Corrosive liquids, toxic, n.o.s | 8 | III | 8, 6.1 | T8 | 241 | T7 | TP1 TP28 | IB3
2923 | Corrosive solids, toxic, n.o.s | 8 | I | 8, 6.1 |  | 242 |  |  | IB7
2923 | Corrosive solids, toxic, n.o.s | 8 | II | 8, 6.1 |  | 240 |  |  | IB8
2923 | Corrosive solids, toxic, n.o.s | 8 | III | 8, 6.1 |  | 240 |  |  | IB8 | BB3
2924 | Flammable liquids, corrosive, n.o.s | 3 | I | 3, 8 | T42 | 243 | T14 | TP2
2924 | Flammable liquids, corrosive, n.o.s | 3 | II | 3, 8 | T15, T26 | 243 | T11 | TP2 TP27 | IB2
2924 | Flammable liquids, corrosive, n.o.s | 3 | III | 3, 8 | B1, T15, T26 | 242 | T7 | TP1 TP28 | IB3
2925 | Flammable solids, corrosive, organic, n.o.s | 4.1 | II | 4.1, 8 | A1, B106 | 242 |  |  | IB6 | BB2
2925 | Flammable solids, corrosive, organic, n.o.s | 4.1 | III | 4.1, 8 | A1, B106 | 242 |  |  | IB6
2926 | Flammable solids, toxic, organic, n.o.s | 4.1 | II | 4.1, 6.1 | A1, B106 | 242 |  |  | IB6 | BB2
2926 | Flammable solids, toxic, organic, n.o.s | 4.1 | III | 4.1, 6.1 | A1, B106 | 242 |  |  | IB6
2927 | Toxic liquids, corrosive, organic, n.o.s, inhalation hazard, Packing Group I, Zone B | 6.1 | I | 6.1, 8 | 2, B9, B14, B32, B74, T38, T43, T45 | 244 | T20 | TP2 TP13 TP27 TP38 TP45
2927 | Toxic liquids, corrosive, organic, n.o.s | 6.1 | I | 6.1, 8 | T42 | 243 | T14 | TP2 TP13 TP27
2927 | Toxic liquids, corrosive, organic, n.o.s, inhalation hazard, Packing Group I, Zone A | 6.1 | I | 6.1, 8 | 1, B9, B14, B30, B72, T38, T43, T44 | 244 | T22 | TP2 TP13 TP27 TP38 TP44
2927 | Toxic liquids, corrosive, organic, n.o.s | 6.1 | II | 6.1, 8 | T42 | 243 | T11 | TP2 TP27 | IB2
2928 | Toxic solids, corrosive, organic, n.o.s | 6.1 | I | 6.1, 8 |  | 242 |  |  | IB7
2928 | Toxic solids, corrosive, organic, n.o.s | 6.1 | II | 6.1, 8 |  | 242 |  |  | IB6 | BB2
2929 | Toxic liquids, flammable, organic, n.o.s, inhalation hazard, Packing Group I, Zone B | 6.1 | I | 6.1, 3 | 2, B9, B14, B32, B74, T38, T43, T45 | 244 | T20 | TP2 TP13 TP27 TP38 TP45
2929 | Toxic liquids, flammable, organic, n.o.s | 6.1 | I | 6.1, 3 | T42 | 243 | T14 | TP2 TP13 TP27
2929 | Toxic liquids, flammable, organic, n.o.s, inhalation hazard, Packing Group I, Zone A | 6.1 | I | 6.1, 3 | 1, B9, B14, B30, B72, T38, T43, T44 | 244 | T22 | TP2 TP13 TP27 TP38 TP44
2929 | Toxic liquids, flammable, organic, n.o.s | 6.1 | II | 6.1, 3 | T15 | 243 | T11 | TP2 TP13 TP27 | IB2
2930 | Toxic solids, flammable, organic, n.o.s | 6.1 | I | 6.1, 4.1 | B106 | 242 |  |  | IB6
2930 | Toxic solids, flammable, organic, n.o.s | 6.1 | II | 6.1, 4.1 | B106 | 242 |  |  | IB8 | BB2, BB4
2931 | Vanadyl sulfate | 6.1 | II | 6.1 |  | 242 |  |  | IB8 | BB2, BB4
2933 | Methyl 2-chloropropionate | 3 | III | 3 | B1, T7 | 242 | T2 | TP1 | IB3
2934 | Isopropyl 2-chloropropionate | 3 | III | 3 | B1, T1 | 242 | T2 | TP1 | IB3
2935 | Ethyl 2-chloropropionate | 3 | III | 3 | B1, T1 | 242 | T2 | TP1 | IB3
2936 | Thiolactic acid | 6.1 | II | 6.1 | T8 | 242 | T7 | TP2 | IB8 | BB2, BB4
2937 | alpha-Methylbenzyl alcohol | 6.1 | III | 6.1 | T1 | 241 | T4 | TP1 | IB3
2940 | 9-Phosphabicyclononanes or Cyclooctadiene phosphines | 4.2 | II | 4.2 | A19 | 241 |  |  | IB6 | BB2
2941 | Fluoroanilines | 6.1 | III | 6.1 | T8 | 241 | T4 | TP1 | IB3
2942 | 2-Trifluoromethylaniline | 6.1 | III | 6.1 |  | 241 |  |  | IB3
2943 | Tetrahydrofurfurylamine | 3 | III | 3 | B1, T1 | 242 | T2 | TP1 | IB3
2945 | N-Methylbutylamine | 3 | II | 3, 8 | T8 | 243 | T7 | TP1 | IB2
2946 | 2-Amino-5-diethylaminopentane | 6.1 | III | 6.1 | T1 | 241 | T4 | TP1 | IB3
2947 | Isopropyl chloroacetate | 3 | III | 3 | B1, T1 | 242 | T2 | TP1 | IB3
2948 | 3-Trifluoromethylaniline | 6.1 | II | 6.1 | T14 | 243 | T7 | TP2 | IB2
2949 | Sodium hydrosulfide with not less than 25 percent water of crystallization | 8 | II | 8 | A7 | 240 | T7 | TP2 | IB8 | BB2, BB4
2950 | Magnesium granules, coated particle size not less than 149 microns | 4.3 | III | 4.3 | A1, A19, B108 | 240 |  |  | IB8 | BB4
2965 | Boron trifluoride dimethyl etherate | 4.3 | I | 4.3, 8, 3 | A19, T12, T26 | 243 | T10 | TP2 TP7
2966 | Thioglycol | 6.1 | II | 6.1 | T8 | 243 | T7 | TP2 | IB2
2967 | Sulfamic acid | 8 | III | 8 |  | 240 |  |  | IB8 | BB3
2968 | Maneb stabilized or Maneb preparations, stabilized against self-heating | 4.3 | III | 4.3 | 54, A1, A19, B108 | 242 |  |  | IB8 | BB4
2969 | Castor beans or Castor meal or Castor pomace or Castor flake | 9 | II | None |  | 240 |  |  | IB8 | BB2, BB4
2983 | Ethyene oxide and propylene oxide mixtures, with not more than 30 percent ethylene oxide | 3 | I | 3, 6.1 | 5, A11, N4, N34, T24, T29 | 243 | T14 | TP2 TP7 TP13
2984 | Hydrogen peroxide, aqueous solutions with not less than 8 percent but less than 20 percent hydrogen peroxide (stabilized as necessary) | 5.1 | III | 5.1 | 17, A1, B104, T8, T37 | 241 | T4 | TP1 TP6 TP24 TP37 | IB2 | BB5
2985 | Chlorosilanes, flammable, corrosive, n.o.s | 3 | II | 3, 8 | B100, T17, T26 | 243 | T11 | TP2 TP13 TP27 | IB1
2986 | Chlorosilanes, corrosive, flammable, n.o.s | 8 | II | 8, 3 | B100, T18, T26 | 243 | T11 | TP2 TP27 | IB2
2987 | Chlorosilanes, corrosive, n.o.s | 8 | II | 8 | B2, T14, T26 | 242 | T14 | TP2 TP27 | IB2
2988 | Chlorosilanes, water-reactive, flammable, corrosive, n.o.s | 4.3 | I | 4.3, 3, 8 | A2, T24, T26 | 244 | T10 | TP2 TP7 TP13
2989 | Lead phosphite, dibasic | 4.1 | II | 4.1 |  | 240 |  |  | IB8 | BB2, BB4
2989 | Lead phosphite, dibasic | 4.1 | III | 4.1 |  | 240 |  |  | IB8 | BB3
2991 | Carbamate pesticides, liquid, toxic, flammable, flash point not less than 23 degrees C | 6.1 | I | 6.1, 3 | T42 | 243 | T14 | TP2 TP13 TP27
2991 | Carbamate pesticides, liquid, toxic, flammable, flash point not less than 23 degrees C | 6.1 | II | 6.1, 3 | T14 | 243 | T11 | TP2 TP13 TP27 | IB2
2991 | Carbamate pesticides, liquid, toxic, flammable, flash point not less than 23 degrees C | 6.1 | III | 6.1, 3 | B1, T14 | 242 | T7 | TP2 TP28 | IB3
2992 | Carbamate pesticides, liquid, toxic | 6.1 | I | 6.1 | T42 | 243 | T14 | TP2 TP13 TP27
2992 | Carbamate pesticides, liquid, toxic | 6.1 | II | 6.1 | T14 | 243 | T11 | TP2 TP13 TP27
2992 | Carbamate pesticides, liquid, toxic | 6.1 | III | 6.1 | T14 | 241 | T7 | TP2 TP28 | IB3
2993 | Arsenical pesticides, liquid, toxic, flammable flashpoint not less than 23 degrees C | 6.1 | I | 6.1, 3 | T42 | 243 | T14 | TP2 TP13 TP27
2993 | Arsenical pesticides, liquid, toxic, flammable flashpoint not less than 23 degrees C | 6.1 | II | 6.1, 3 | T14 | 243 | T11 | TP2 TP13 TP27 | IB2
2993 | Arsenical pesticides, liquid, toxic, flammable flashpoint not less than 23 degrees C | 6.1 | III | 6.1, 3 | B1, T14 | 242 | T7 | TP2 TP28 | IB3
2994 | Arsenical pesticides, liquid, toxic | 6.1 | I | 6.1 | T42 | 243 | T14 | TP2 TP13 TP27
2994 | Arsenical pesticides, liquid, toxic | 6.1 | II | 6.1 | T14 | 243 | T11 | TP2 TP13 TP27 | IB2
2994 | Arsenical pesticides, liquid, toxic | 6.1 | III | 6.1 | T14 | 241 | T7 | TP2 TP28 | IB3
2995 | Organochlorine pesticides, liquid, toxic, flammable, flashpoint not less than 23 degrees C | 6.1 | I | 6.1, 3 | T42 | 243 | T14 | TP2 TP13 TP27
2995 | Organochlorine pesticides, liquid, toxic, flammable, flashpoint not less than 23 degrees C | 6.1 | II | 6.1, 3 | T14 | 243 | T11 | TP2 TP13 TP27 | IB2
2995 | Organochlorine pesticides, liquid, toxic, flammable, flashpoint not less than 23 degrees C | 6.1 | III | 6.1, 3 | B1, T14 | 242 | T7 | TP2 TP28 | IB3
2996 | Organochlorine pesticides, liquid, toxic | 6.1 | I | 6.1 | T42 | 243 | T14 | TP2 TP13 TP27
2996 | Organochlorine pesticides, liquid, toxic | 6.1 | II | 6.1 | T14 | 243 | T11 | TP2 TP13 TP27 | IB2
2996 | Organochlorine pesticides, liquid, toxic | 6.1 | III | 6.1 | T14 | 241 | T7 | TP2 TP28 | IB3
2997 | Triazine pesticides, liquid, toxic, flammable, flashpoint not less than 23 degrees C | 6.1 | II | 6.1, 3 | T42 | 243 | T14 | TP2 TP13 TP27
2997 | Triazine pesticides, liquid, toxic, flammable, flashpoint not less than 23 degrees C | 6.1 | II | 6.1, 3 | T14 | 243 | T11 | TP2 TP13 TP27 | IB2
2997 | Triazine pesticides, liquid, toxic, flammable, flashpoint not less than 23 degrees C | 6.1 | III | 6.1, 3 | T14 | 242 | T7 | TP2 TP28 | IB3
2998 | Triazine pesticides, liquid, toxic | 6.1 | I | 6.1 | T42 | 243 | T14 | TP2 TP13 TP27
2998 | Triazine pesticides, liquid, toxic | 6.1 | II | 6.1 | T14 | 243 | T11 | TP2 TP13 TP27 | IB2
2998 | Triazine pesticides, liquid, toxic | 6.1 | III | 6.1 | T14 | 241 | T7 | TP2 TP28 | IB3
3002 | Phenyl urea pesticides, liquid, toxic | 6.1 | I | 6.1 | T42 | 243 | T14 | TP2 TP27
3002 | Phenyl urea pesticides, liquid, toxic | 6.1 | II | 6.1 | T14 | 243 | T7 | TP2
3002 | Phenyl urea pesticides, liquid, toxic | 6.1 | III | 6.1 | T14 | 241 | T4 | TP1
3005 | Thiocarbamate pesticides, liquid, flammable, toxic, flashpoint not less than 23 degrees C | 6.1 | I | 6.1, 3 | T42 | 243 | T14 | TP2 TP13
3005 | Thiocarbamate pesticides, liquid, flammable, toxic, flashpoint not less than 23 degrees C | 6.1 | II | 6.1, 3 | T14 | 243 | T11 | TP2 TP13 TP27 | IB2
3005 | Thiocarbamate pesticides, liquid, flammable, toxic, flashpoint not less than 23 degrees C | 6.1 | III | 6.1, 3 | T14 | 242 | T7 | TP2 TP28 | IB3
3006 | Thiocarbamate pesticides, liquid, toxic | 6.1 | I | 6.1 | T42 | 243 | T14 | TP2 TP13
3006 | Thiocarbamate pesticides, liquid, toxic | 6.1 | II | 6.1 | T14 | 243 | T11 | TP2 TP13 TP27 | IB2 |
3006 | Thiocarbamate pesticides, liquid, toxic | 6.1 | III | 6.1 | T14 | 241 | T7 | TP2 TP28 | IB3 |
3009 | Copper based pesticides, liquid, toxic, flammable flashpoint not less than 23 degrees C | 6.1 | I | 6.1, 3 | T42 | 243 | T14 | TP2 TP13 TP27 |  |
3009 | Copper based pesticides, liquid, toxic, flammable flashpoint not less than 23 degrees C | 6.1 | II | 6.1, 3 | T14 | 243 | T11 | TP2 TP13 TP27 | IB2 |
3009 | Copper based pesticides, liquid, toxic, flammable flashpoint not less than 23 degrees C | 6.1 | III | 6.1, 3 | B1, T14 | 242 | T7 | TP2 TP28 | IB3 |
3010 | Copper based pesticides, liquid, toxic | 6.1 | I | 6.1 | T42 | 243 | T14 | TP2 TP13 TP27 |  |
3010 | Copper based pesticides, liquid, toxic | 6.1 | II | 6.1 | T14 | 243 | T11 | TP2 TP13 TP27 | IB2 |
3010 | Copper based pesticides, liquid, toxic | 6.1 | III | 6.1 | T14 | 241 | T7 | TP2 TP28 | IB3 |
3011 | Mercury based pesticides, liquid, toxic, flammable, flashpoint not less than 23 degrees C | 6.1 | I | 6.1, 3 | T42 | 243 | T14 | TP2 TP13 TP27 |  |
3011 | Mercury based pesticides, liquid, toxic, flammable, flashpoint not less than 23 degrees C | 6.1 | II | 6.1, 3 | T14 | 243 | T11 | TP2 TP13 TP27 | IB2 |
3011 | Mercury based pesticides, liquid, toxic, flammable, flashpoint not less than 23 degrees C | 6.1 | III | 6.1, 3 | T14 | 242 | T7 | TP2 TP28 | IB3 |
3012 | Mercury based pesticides, liquid, toxic | 6.1 | I | 6.1 | T42 | 243 | T14 | TP2 TP13 TP27 |  |
3012 | Mercury based pesticides, liquid, toxic | 6.1 | II | 6.1 | T14 | 243 | T11 | TP2 TP13 TP27 | IB2 |
3012 | Mercury based pesticides, liquid, toxic | 6.1 | III | 6.1 | T14 | 241 | T7 | TP2 TP28 | IB3 |
3013 | Substituted nitrophenol pesticides, liquid, toxic, flammable flashpoint not less than 23 degrees C | 6.1 | I | 6.1, 3 | T42 | 243 | T14 | TP2 TP13 TP27 |  |
3013 | Substituted nitrophenol pesticides, liquid, toxic, flammable flashpoint not less than 23 degrees C | 6.1 | II | 6.1, 3 | T14 | 243 | T11 | TP2 TP13 TP27 | IB2 |
3013 | Substituted nitrophenol pesticides, liquid, toxic, flammable flashpoint not less than 23 degrees C | 6.1 | III | 6.1, 3 | B1, T14 | 242 | T7 | TP2 TP28 | IB3 |
3014 | Substituted nitrophenol pesticides, liquid, toxic | 6.1 | I | 6.1 | T42 | 243 | T14 | TP2 TP13 TP27 |  |
3014 | Substituted nitrophenol pesticides, liquid, toxic | 6.1 | II | 6.1 | T14 | 243 | T11 | TP2 TP13 TP27 | IB2 |
3014 | Substituted nitrophenol pesticides, liquid, toxic | 6.1 | III | 6.1 | T14 | 241 | T7 | TP2 TP28 | IB3 |
3015 | Bipyridilium pesticides, liquid, toxic, flammable, flashpoint not less than 23 degrees C | 6.1 | I | 6.1, | T42 | 243 | T14 | TP2 TP13 TP27 |  |
3015 | Bipyridilium pesticides, liquid, toxic, flammable, flashpoint not less than 23 degrees C | 6.1 | II | 6.1, 4 | T14 | 243 | T11 | TP2 TP13 TP27 | IB2 |
3015 | Bipyridilium pesticides, liquid, toxic, flammable, flashpoint not less than 23 degrees C | 6.1 | III | 6.1, | B1, T14 | 242 | T7 | TP2 TP28 | IB3 |
3016 | Bipyridilium pesticides, liquid, toxic | 6.1 | I | 6.1 | T42 | 243 | T14 | TP2 TP13 TP27 |  |
3016 | Bipyridilium pesticides, liquid, toxic | 6.1 | II | 6.1 | T14 | 243 | T11 | TP2 TP13 TP27 | IB2 |
3016 | Bipyridilium pesticides, liquid, toxic | 6.1 | III | 6.1 | T14 | 241 | T7 | TP2 TP28 | IB3 |
3017 | Organophosphorus pesticides, liquid, toxic, flammable, flashpoint not less than 23 degrees C | 6.1 | I | 6.1, 3 | N76, T42 | 243 | T14 | TP2 TP13 TP27 |  |
3017 | Organophosphorus pesticides, liquid, toxic, flammable, flashpoint not less than 23 degrees C | 6.1 | II | 6.1, 3 | N76, T14 | 243 | T11 | TP2 TP13 TP27 | IB2 |
3017 | Organophosphorus pesticides, liquid, toxic, flammable, flashpoint not less than 23 degrees C | 6.1 | III | 6.1, 3 | B1, N76, T14 | 242 | T7 | TP2 TP28 | IB3 |
3018 | Organophosphorus pesticides, liquid, toxic | 6.1 | I | 6.1 | N76, T42 | 243 | T14 | TP2 TP13 TP27 |  |
3018 | Organophosphorus pesticides, liquid, toxic | 6.1 | II | 6.1 | N76, T14 | 243 | T11 | TP2 TP13 TP27 | IB2 |
3018 | Organophosphorus pesticides, liquid, toxic | 6.1 | III | 6.1 | N76, T14 | 241 | T7 | TP2 TP28 | IB3
3019 | Organotin pesticides, liquid, toxic, flammable, flashpoint not less than 23 degrees C | 6.1 | I | 6.1, 3 | T42 | 243 | T14 | TP2 TP13 TP27 |  |
3019 | Organotin pesticides, liquid, toxic, flammable, flashpoint not less than 23 degrees C | 6.1 | II | 6.1, 3 | T14 | 243 | T11 | TP2 TP13 TP27 | IB2 |
3019 | Organotin pesticides, liquid, toxic, flammable, flashpoint not less than 23 degrees C | 6.1 | III | 6.1, 3 | B1, T14 | 242 | T7 | TP2 TP28 | IB3 |
3020 | Organotin pesticides, liquid, toxic | 6.1 | I | 6.1 | T42 | 243 | T14 | TP2 TP13 TP27 |  |
3020 | Organotin pesticides, liquid, toxic | 6.1 | II | 6.1 | T14 | 243 | T11 | TP2 TP13 TP27 | IB2 |
3020 | Organotin pesticides, liquid, toxic | 6.1 | III | 6.1 | T14 | 241 | T7 | TP2 TP28 | IB3 |
3021 | Pesticides, liquid, flammable, toxic, flashpoint less than 23 degrees C | 3 | I | 3, 6.1 | B5 | 243 | T14 | TP2 TP13 TP27 |  |
3021 | Pesticides, liquid, flammable, toxic, flashpoint less than 23 degrees C | 3 | II | 3, 6.1 |  | 243 | T11 | TP2 TP13 TP27 | IB2 |
3022 | 1,2-Butylene oxide, stabilized | 3 | II | 3 | T8 | 242 | T4 | TP1 | IB2 |
3023 | 2-Methyl-2-heptanethiol | 6.1 | I | 6.1, 3 | 2, B9, B14, B32, B74, T38, T43, T45 | 244 | T20 | TP2 TP13 TP38 TP45 |  |
3024 | Coumarin derivative pesticides, liquid, flammable, toxic, flashpoint less than 23 degrees C | 3 | I | 3, 6.1 |  | 243 | T14 | TP2 TP13 TP27 |  |
3024 | Coumarin derivative pesticides, liquid, flammable, toxic, flashpoint less than 23 degrees C | 3 | II | 3, 6.1 |  | 243 | T11 | TP2 TP13 TP27 | IB2 |
3025 | Coumarin derivative pesticides, liquid, toxic, flammable flashpoint not less than 23 degrees C | 6.1 | I | 6.1, 3 |  | 243 | T14 | TP2 TP13 TP27 |  |
3025 | Coumarin derivative pesticides, liquid, toxic, flammable flashpoint not less than 23 degrees C | 6.1 | II | 6.1, 3 |  | 243 | T11 | TP2 TP13 TP27 | IB2 |
3025 | Coumarin derivative pesticides, liquid, toxic, flammable flashpoint not less than 23 degrees C | 6.1 | III | 6.1, 3 | B1 | 242 | T7 | TP1 TP28 | IB3 |
3026 | Coumarin derivative pesticides, liquid, toxic | 6.1 | I | 6.1 |  | 243 | T14 | TP2 TP13 TP27 |  |
3026 | Coumarin derivative pesticides, liquid, toxic | 6.1 | II | 6.1 |  | 243 | T11 | TP2 TP27 | IB2 |
3026 | Coumarin derivative pesticides, liquid, toxic | 6.1 | III | 6.1 |  | 241 | T7 | TP1 TP28 | IB3 |
3027 | Coumarin derivative pesticides, solid, toxic | 6.1 | I | 6.1 |  | 242 | T14 | TP2 TP27 | IB7 | BB1
3027 | Coumarin derivative pesticides, solid, toxic | 6.1 | II | 6.1 |  | 242 | T11 | TP2 TP27 | IB8 | BB2, BB4
3027 | Coumarin derivative pesticides, solid, toxic | 6.1 | III | 6.1 |  | 240 | T7 | TP1 TP28 | IB8 | BB3
3048 | Aluminum phosphide pesticides | 6.1 | I | 6.1 | A8 | 242 |  |  | IB7 | BB1
3049 | Metal alkyl halides water-reactive, n.o.s. or Metal aryl halides water-reactive, n.o.s | 4.2 | I | 4.2, 4.3 | B9, B11, T28, T29, T40 | 244 | T21 | TP2 TP7 |  |
3050 | Metal alkyl hydrides water-reactive, n.o.s. or Metal aryl hydrides water-reactive, n.o.s | 4.2 | I | 4.2, 4.3 | B9, B11, T28, T29, T40 | 244 | T21 | TP2 TP7 |  |
3051 | Aluminum alkyls | 4.2 | I | 4.2, 4.3 | B9, B11, T28, T29, T40 | 244 | T21 | TP2 TP7 |  |
3052 | Aluminum alkyl halides | 4.2 | I | 4.2, 4.3 | B9, B11, T28, T29, T40 | 244 | T21 | TP2 TP7 |  |
3052 | Aluminum alkyl halides | 4.2 | I | 4.2, 4.3 | B9, B11, T28, T29, T40 | 244 | T21 | TP2 TP7 |  |
3053 | Magnesium alkyls | 4.2 | I | 4.2, 4.3 | B11, T28, T29, T40 | 244 | T21 | TP2 TP7 |  |
3054 | Cyclohexyl mercaptan | 3 | III | 3 | B1, T1 | 242 | T2 | TP1 | IB3 |
3055 | 2-(2-Aminoethoxy) ethanol | 8 | III | 8 | T2 | 241 | T4 | TP1 | IB3 |
3056 | n-Heptaldehyde | 3 | III | 3 | B1, T1 | 242 | T2 | TP1 | IB3 |
3057 | Trifluoroacetyl chloride | 2.3, 8 |  | 2.3, 8 | 2, B7, B9, B14 | 314, 315 | T50 | TP21 |  |
3065 | Alcoholic beverages | 3 | II | 3 | 24, B1, T1 | 242 | T4 | TP1 | IB2 |
3065 | Alcoholic beverages | 3 | III | 3 | 24, B1, N11, T1 | 242 | T2 | TP1 | IB3 |
3066 | Paint or Paint related material | 8 | II | 8 | B2, T14 | 242 | T7 | TP2 | IB2 |
3066 | Paint or Paint related material | 8 | III | 8 | B52, T7 | 241 | T4 | TP1 | IB3 |
3070 | Ethylene oxide and dichlorodifluoromethane mixture, with not more than 12.5 percent ethylene oxide | 2.2 |  | 2.2 |  | 314, 315 | T50 |  |  |
3071 | Mercaptans, liquid, toxic, flammable, n.o.s. or Mercaptan mixtures, liquid, toxic, flammable, n.o.s., flash point not less than 23 degrees C | 6.1 | II | 6.1, 3 | T14 | 243 | T11 | TP2 TP13 TP27 | IB2 |
3073 | Vinylpyridines, inhibited | 6.1 | II | 6.1, 3, 8 | B100, T8 | 243 | T7 | TP2 TP13 | IB1 |
3076 | Aluminum alkyl hydrides | 4.2 | I | 4.2, 4.3 | B9, B11, T28, T29, T40 | 244 | T21 | TP2 TP7 |  |
3077 | Environmentally hazardous substances, solid, n.o.s | 9 | III | 9 | 8, B54, N20 | 240 |  |  | IB8 |
3078 | Cerium, turnings or gritty powder | 4.3 | II | 4.3 | A1, B106, B109 | 242 |  |  | IB7 | BB2
3079 | Methacrylonitrile, inhibited | 3 | I | 3, 6.1 | 2, B9, B14, B32, B74, T38, T43, T45 | 244 | T20 | TP2 TP13 TP38 TP45 |  |
3080 | Isocyanates, toxic, flammable, n.o.s. or Isocyanate solutions, toxic, flammable, n.o.s., flash point not less than 23 degrees C but not more than 61 degrees C and boiling point less than 300 degrees C | 6.1 | II | 6.1, 3 | T15 | 243 | T11 | TP2 TP13 TP27 | IB2 |
3082 | Environmentally hazardous substances, liquid, n.o.s | 9 | III | 9 | 8, T1 | 241 | T4 | TP1 TP29 | IB3 |
3084 | Corrosive solids, oxidizing, n.o.s | 8 | II | 8, 5.1 | B100 | 242 |  |  | IB6 | BB2
3085 | Oxidizing solid, corrosive, n.o.s | 5.1 | II | 5.1, 8 |  | 242 |  |  | IB6 | BB2
3085 | Oxidizing solid, corrosive, n.o.s | 5.1 | III | 5.1, 8 |  | 240 |  |  | IB8 | BB3
3086 | Toxic solids, oxidizing, n.o.s | 6.1 | II | 6.1, 5.1 |  | 242 |  |  | IB6 | BB2
3087 | Oxidizing solid, toxic, n.o.s | 5.1 | II | 5.1, 6.1 |  | 242 |  |  | IB6 | BB2
3087 | Oxidizing solid, toxic, n.o.s | 5.1 | III | 5.1, 6.1 |  | 240 |  |  | IB8 | BB3
3088 | Self-heating, solid, organic, n.o.s | 4.2 | II | 4.2 | B101 | 241 |  |  | IB6 | BB2
3088 | Self-heating, solid, organic, n.o.s | 4.2 | III | 4.2 | B101 | 241 |  |  | IB8 | BB3
3089 | Metal powders, flammable, n.o.s | 4.1 | II | 4.1 |  | 240 |  |  | IB8 | BB2, BB4
3089 | Metal powders, flammable, n.o.s | 4.1 | III | 4.1 |  | 240 |  |  | IB6 |
3092 | 1-Methoxy-2-propanol | 3 | III | 3 | B1, T1 | 242 | T2 | TP1 | IB3 |
3093 | Corrosive liquids, oxidizing, n.o.s | 8 | II | 8, 5.1 |  | 243 |  |  | IB2 |
3095 | Corrosive solids, self-heating, n.o.s | 8 | II | 8, 4.2 |  | 242 |  |  | IB6 | BB2
3096 | Corrosive solids, water-reactive, n.o.s | 8 | II | 8, 4.3 | B105 | 242 |  |  | IB6 | BB2
3098 | Oxidizing liquid, corrosive, n.o.s | 5.1 | II | 5.1, 8 |  | 243 |  |  | IB1 |
3098 | Oxidizing liquid, corrosive, n.o.s | 5.1 | III | 5.1, 8 |  | 242 |  |  | IB2 |
3099 | Oxidizing liquid, toxic, n.o.s | 5.1 | II | 5.1, 6.1 |  | 243 |  |  | IB1 |
3099 | Oxidizing liquid, toxic, n.o.s | 5.1 | III | 5.1, 6.1 |  | 242 |  |  | IB2 |
3109 | Organic peroxide type F, liquid | 5.2 | II | 5.2 | 225 | T23 |  |  | IB52 | BB5
3110 | Organic peroxide type F, solid | 5.2 | II | 5.2 | T42 | 225 | T23
3119 | Organic peroxide type F, liquid, temperature controlled | 5.2 | II | 5.2 |  | 225 | T23 |  | IB52 | BB5
3120 | Organic peroxide type F, solid, temperature controlled | 5.2 | II | 5.2 |  | 225 | T23
3122 | Toxic liquids, oxidizing, n.o.s. Inhalation Hazard, Packing Group I, Zone B | 6.1 | I | 6.1, 5.1 | 2, B9, B14, B32, T38, T43, T45 | 244 | T20 | TP2 TP13 TP38 TP44
3122 | Toxic liquids, oxidizing, n.o.s. Inhalation hazard, Packing Group I, Zone A | 6.1 | I | 6.1, 5.1 | 1, B9, B14, B30, B72, T38, T43, T44 | 244 | T22 | TP2 TP13 TP38 TP44
3122 | Toxic liquids, oxidizing, n.o.s | 6.1 | II | 6.1, 5.1 |  | 243 |  |  | IB2
3123 | Toxic liquids, water-reactive, n.o.s. Inhalation hazard, packing group I, Zone A | 6.1 | I | 6.1, 4.3 | 1, B9, B14, B30, B72, T38, T43, T44 | 244 | T22 | TP2 TP13 TP38 TP44
3123 | Toxic liquids, water-reactive, n.o.s. Inhalation hazard, Packing group I, Zone B | 6.1 | I | 6.1, 4.3 | 2, B9, B14, B32, B74, T38, T43, T45 | 244 | T20 | TP2 TP13 TP38 TP44
3123 | Toxic liquids, water-reactive, n.o.s | 6.1 | II | 6.1, 4.3 |  | 243 |  |  | IB2
3124 | Toxic solids, self-heating, n.o.s | 6.1 | II | 6.1, 4.2 |  | 242 |  |  | IB6 | BB2
3125 | Toxic solids, water-reactive, n.o.s | 6.1 | II | 6.1, 4.3 |  | B101 | 242 |  | IB6 | BB2
3126 | Self-heating, solid, corrosive, organic, n.o.s | 4.2 | II | 4.2, 8 |  | 242 |  |  | IB5 | BB2
3126 | Self-heating, solid, corrosive, organic, n.o.s | 4.2 | III | 4.2, 8 |  | 242 |  |  | IB8 | BB3
3128 | Self-heating, solid, toxic, organic, n.o.s | 4.2 | II | 4.2, 6.1 |  | 242 |  |  | IB5 | BB2
3128 | Self-heating, solid, toxic, organic, n.o.s | 4.2 | III | 4.2, 6.1 |  | 242 |  |  | IB8 | BB3
3129 | Water-reactive liquid, corrosive, n.o.s | 4.3 | II | 4.3, 8 | B106 | 243 |  |  | IB1
3129 | Water-reactive liquid, corrosive, n.o.s | 4.3 | III | 4.3, 8 | B106 | 242 |  |  | IB2
3130 | Water-reactive liquid, toxic, n.o.s | 4.3 | II | 4.3, 6.1 | B106 | 243 |  |  | IB1
3130 | Water-reactive liquid, toxic, n.o.s | 4.3 | III | 4.3, 6.1 | B106 | 242 |  |  | IB2
3131 | Water-reactive solid, corrosive, n.o.s | 4.3 | II | 4.3, 8 | B101, B106 | 242 |  |  | IB6 | BB2
3131 | Water-reactive solid, corrosive, n.o.s | 4.3 | III | 4.3, 8 | B105, B106 | 241 |  |  | IB8 | BB4
3132 | Water-reactive solid, flammable, n.o.s | 4.3 | I | 4.3, 4.1 | B101, B106, N40 | 242 |  |  | IB4
3132 | Water-reactive solid, flammable, n.o.s | 4.3 | II | 4.3, 4.1 | B101, B106 | 242 |  |  | IB4
3132 | Water-reactive solid, flammable, n.o.s | 4.3 | III | 4.3, 4.1 | B105, B106 | 241 |  |  | IB6
3134 | Water-reactive solid, toxic, n.o.s | 4.3 | II | 4.3, 6.1 | B105, B106 | 242 |  |  | IB5 | BB2
3134 | Water-reactive solid, toxic, n.o.s | 4.3 | III | 4.3, 6.1 | B105, B106 | 241 |  |  | IB8 | BB4
3135 | Water-reactive solid, self-heating, n.o.s | 4.3 | II | 4.3, 4.2 | B101, B106 | 242 |  |  | IB5 | BB2
3135 | Water-reactive solid, self-heating, n.o.s | 4.3 | III | 4.3, 4.2 | B101, B106 | 241 |  |  | IB8 | BB4
3136 | Trifluoromethane, refrigerated liquid | 2.2 |  | 2.2 |  | 314, 315 | T75
3138 | Ethylene, acetylene and propylene mixture, refrigerated liquid with at least 71.5 percent ethylene with not more than 22.5 percent acetylene and not more than 6 percent propylene | 2.1 |  | 2.1 |  | 314, 315 | T75
3139 | Oxidizing liquid, n.o.s | 5.1 | II | 5.1 | 127, A2 | 242 |  |  | IB2
3139 | Oxidizing liquid, n.o.s | 5.1 | III | 5.1 | 127, A2 | 241 |  |  | IB2
3140 | Alkaloids, liquid, n.o.s., or Alkaloid salts, liquid, n.o.s | 6.1 | I | 6.1 | A4, T42 | 243 | T14 | TP2 TP27
3140 | Alkaloids, liquid, n.o.s., or Alkaloid salts, liquid, n.o.s | 6.1 | II | 6.1 | T14 | 243 | T11 | TP2 TP27 | IB2
3140 | Alkaloids, liquid, n.o.s., or Alkaloid salts, liquid, n.o.s | 6.1 | III | 6.1 | T7 | 241 | T7 | TP1 TP28 | IB3
3141 | Atimony compounds, inorganic, liquid, n.o.s | 6.1 | III | 6.1 | 35, T7 | 241 | T7 | TP1 TP28 | IB3
3142 | Disinfectants, liquid, toxic, n.o.s | 6.1 | I | 6.1 | A4, T42 | 243 | T14 | TP2 TP27
3142 | Disinfectants, liquid, toxic, n.o.s | 6.1 | II | 6.1 | T14 | 243 | T11 | TP2 TP27 | IB2
3142 | Disinfectants, liquid, toxic, n.o.s | 6.1 | III | 6.1 | T7 | 241 | T7 | TP1 TP28 | IB3
3143 | Dyes, solid, toxic, n.o.s. or Dye intermediates, solid, toxic, n.o.s | 6.1 | I | 6.1 | A5 | 242 | T14 | TP2 TP27 | IB7 | BB1
3143 | Dyes, solid, toxic, n.o.s. or Dye intermediates, solid, toxic, n.o.s | 6.1 | II | 6.1 |  | 242 |  |  | IB8 | BB2, BB4
3143 | Dyes, solid, toxic, n.o.s. or Dye intermediates, solid, toxic, n.o.s | 6.1 | III | 6.1 | 240 |  |  |  | IB8 | BB3
3144 | Nicotine compounds, liquid, n.o.s. or Nicotine preparations, liquid, n.o.s | 6.1 | II | 6.1 | T14 | 243 | T11 | TP2 TP27 | IB2
3144 | Nicotine compounds, liquid, n.o.s. or Nicotine preparations, liquid, n.o.s | 6.1 | III | 6.1 | T7 | 241 | T7 | TP1 TP28 | IB3
3145 | Alkylphenols, liquid, n.o.s. (including C2-C12 homologues) | 8 | I | 8 | T8 | 243 | T14 | TP2
3145 | Alkylphenols, liquid, n.o.s. (including C2-C12 homologues) | 8 | II | 8 | T8 | 242 | T11 | TP2 TP27 | IB2
3145 | Alkylphenols, liquid, n.o.s. (including C2-C12 homologues) | 8 | III | 8 | T7 | 241 | T7 | TP1 TP28 | IB3
3146 | Organotin compounds, solid, n.o.s | 6.1 | I | 6.1 | A5 | 242 |  |  | IB7 | BB1
3146 | Organotin compounds, solid, n.o.s | 6.1 | II | 6.1 |  | 242 |  |  | IB8 | BB2, BB4
3146 | Organotin compounds, solid, n.o.s | 6.1 | III | 6.1 |  | 240 |  |  | IB8 | BB3
3147 | Dyes, solid, corrosive, n.o.s or Dye intermediates corrosive, n.o.s solid | 8 | I | 8 |  | 242 |  |  | IB7 | BB1
3147 | Dyes, solid, corrosive, n.o.s. or Dye intermediates, solid, corrosive, n.o.s | 8 | II | 8 | 240 |  |  |  | IB8 | BB2, BB4
3147 | Dyes, solid, corrosive, n.o.s. or Dye intermediates, solid, corrosive, n.o.s | 8 | III | 8 |  | 240 |  |  | IB8 | BB3
3148 | Water-reactive liquid, n.o.s | 4.3 | II | 4.3 | B106 | 243 |  |  | IB1
3148 | Water-reactive liquid, n.o.s | 4.3 | III | 4.3 | B106 | 242 |  |  | IB2
3149 | Hydrogen peroxide and peroxyacetic acid mixtures, stabilized with acids, water and not more than 5 percent peroxyacetic acid | 5.1 | II | 5.1, 8 | A2, A3, A6, B53, B104, B110, T14 | 243 | T7 | TP2 TP6 TP24 | IB2 | BB5
3151 | Polyhalogenated biphenyls, liquid or Polyhalogenated terphenyls liquid | 9 | II | 9 |  | 241 |  |  | IB3
3152 | Polyhalogenated biphenyls, solid or Polyhalogenated terphenyls, solid | 9 | II | 9 |  | 241 |  |  | IB8 | BB2, BB4
3153 | Perfluoro(methyl vinyl ether) | 2.1 |  | 2.1 |  | 314, 315 | T50
3155 | Pentachlorophenol | 6.1 | II | 6.1 |  | 242 |  |  | IB8 | BB2, BB4
3158 | Gas, refrigerated liquid, n.o.s. (cryogenic liquid) | 2.2 |  | 2.2 |  | 318 | T75
3159 | 1,1,1,2-Tetrafluoroethane or Refrigerant gas R 134a | 2.2 |  | 2.2 |  | 314, 315 | T50
3161 | Liquefied gas, flammable, n.o.s | 2.1 |  | 2.1 |  | 314, 315 | T50
3163 | Liquefied gas, n.o.s | 2.2 |  | 2.2 |  | 314, 315 | T50
3170 | Aluminum smelting by-products or Aluminum remelting by-products | 4.3 | II | 4.3 | 128, B106, B115 | 242 |  |  | IB7 | BB2
3170 | Aluminum smelting by-products or Aluminum remelting by-products | 4.3 | III | 4.3 | 128, B106, B115 | 241 |  |  | IB8 | BB4
3174 | Titanium disulphide | 4.2 | III | 4.2 |  | 241 |  |  | IB8 | BB3
3175 | Solids containing flammable liquid, n.o.s | 4.1 | II | 4.1 | 47 | 240 |  |  | IB6 | BB2
3176 | Flammable solid, organic, molten, n.o.s | 4.1 | II | 4.1 | T9 | 240 | T3 | TP3 TP26 | IB1
3176 | Flammable solid, organic, molten, n.o.s | 4.1 | III | 4.1 | T9 | 240 | T1 | TP3 TP26 | IB1
3178 | Flammable solid, inorganic, n.o.s | 4.1 | II | 4.1 | A1 | 240 |  |  | IB8 | BB2, BB4
3178 | Flammable solid, inorganic, n.o.s | 4.1 | III | 4.1 | A1 | 240 |  |  | IB8 | BB3
3179 | Flammable solid, toxic, inorganic, n.o.s | 4.1 | II | 4.1, 6.1 | A1, B106 | 242 |  |  | IB6 | BB2
3179 | Flammable solid, toxic, inorganic, n.o.s | 4.1 | III | 4.1, 6.1 | A1, B106 | 242 |  |  | IB6
3180 | Flammable solid, corrosive, inorganic, n.o.s | 4.1 | II | 4.1, 8 | A1, B106 | 242 |  |  | IB6 | BB2
3180 | Flammable solid, corrosive, inorganic, n.o.s | 4.1 | III | 4.1, 8 | A1, B106 | 242 |  |  | IB6
3181 | Metal salts of organic compounds, flammable, n.o.s | 4.1 | II | 4.1 | A1 | 240 |  |  | IB8 | BB2, BB4
3181 | Metal salts of organic compounds, flammable, n.o.s | 4.1 | III | 4.1 | A1 | 240 |  |  | IB8 | BB3
3182 | Metal hydrides, flammable, n.o.s | 4.1 | II | 4.1 | A1 | 240 |  |  | IB4
3182 | Metal hydrides, flammable, n.o.s | 4.1 | III | 4.1 | A1 | 240 |  |  | IB4
3183 | Self-heating liquid, organic, n.o.s | 4.2 | II | 4.2 |  | 242 |  |  | IB2
3183 | Self-heating liquid, organic, n.o.s. | 4.2 | III | 4.2 |  | 241 |  |  | IB2
3184 | Self-heating liquid, toxic, organic, n.o.s | 4.2 | II | 4.2, 6.1 |  | 243 |  |  | IB2
3184 | Self-heating liquid, toxic, organic, n.o.s | 4.2 | III | 4.2, 6.1 |  | 241 |  |  | IB2
3185 | Self-heating liquid, corrosive, organic, n.o.s | 4.2 | II | 4.2, 8 |  | 243 |  |  | IB2
3185 | Self-heating liquid, corrosive, organic, n.o.s | 4.2 | III | 4.2, 8 |  | 241 |  |  | IB2
3186 | Self-heating liquid, inorganic, n.o.s | 4.2 | II | 4.2 |  | 242 |  |  | IB2
3186 | Self-heating liquid, inorganic, n.o.s | 4.2 | III | 4.2 |  | 241 |  |  | IB2
3187 | Self-heating liquid, toxic, inorganic, n.o.s | 4.2 | II | 4.2, 6.1 |  | 243 |  |  | IB2
3187 | Self-heating liquid, toxic, inorganic, n.o.s | 4.2 | III | 4.2, 6.1 |  | 241 |  |  | IB2
3188 | Self-heating liquid, corrosive, inorganic, n.o.s | 4.2 | II | 4.2, 8 |  | 243 |  |  | IB2
3188 | Self-heating liquid, corrosive, inorganic, n.o.s | 4.2 | III | 4.2, 8 |  | 241 |  |  | IB2
3189 | Metal powder, self-heating, n.o.s | 4.2 | II | 4.2 |  | 241 |  |  | IB6 | BB2
3189 | Metal powder, self-heating, n.o.s | 4.2 | III | 4.2 |  | 241 |  |  | IB8 | BB3
3190 | Self-heating solid, inorganic, n.o.s | 4.2 | II | 4.2 |  | 241 |  |  | IB6 | BB2
3190 | Self-heating solid, inorganic, n.o.s | 4.2 | III | 4.2 |  | 241 |  |  | IB8 | BB3
3191 | Self-heating solid, toxic, inorganic, n.o.s | 4.2 | II | 4.2, 6.1 |  | 242 |  |  | IB5 | BB2
3191 | Self-heating solid, toxic, inorganic, n.o.s | 4.2 | III | 4.2, 6.1 |  | 242 |  |  | IB8 | BB3
3192 | Self-heating solid, corrosive, inorganic, n.o.s | 4.2 | II | 4.2, 8 |  | 242 |  |  | IB5 | BB2
3192 | Self-heating solid, corrosive, inorganic, n.o.s | 4.2 | III | 4.2, 8 |  | 242 |  |  | IB8 | BB3
3203 | Pyrophoric organometallic compound, water-reactive, n.o.s | 4.2 | I | 4.2, 4.3 | T28, T40 | 242 | T21 | TP2 TP7
3203 | Pyrophoric organometallic compound, water-reactive, n.o.s | 4.2 | I | 4.2, 4.3 | T28, T40 | 242 | T21 | TP2 TP7
3205 | Alkaline earth metal alcoholates, n.o.s | 4.2 | II | 4.2 | 65 | 241 |  |  | IB6 | BB2
3205 | Alkaline earth metal alcoholates, n.o.s | 4.2 | III | 4.2 | 65 | 241 |  |  | IB8 | BB3
3206 | Alkali metal alcoholates, self-heating, corrosive, n.o.s | 4.2 | II | 4.2, 8 | 64 | 242 |  |  | IB5 | BB2
3206 | Alkali metal alcoholates, self-heating, corrosive, n.o.s | 4.2 | III | 4.2, 8 | 64 | 242 |  |  | IB8 | BB3
3207 | Organometallic compound or Compound solution or Compound dispersion, water-reactive, flammable, n.o.s | 4.3 | I | 4.3, 3 | T28 | 244 | T13 | TP2 TP7
3207 | Organometallic compound or Compound solution or Compound dispersion, water-reactive, flammable, n.o.s | 4.3 | II | 4.3, 3 | T28 | 243 | T7 | TP2 TP7 | IB1 | BB2
3207 | Organometallic compound or Compound solution or Compound dispersion, water-reactive, flammable, n.o.s | 4.3 | III | 4.3, 3 | T28, B101, B106 | 242 | T7 | TP2 TP7 | IB2 | BB4
3208 | Metallic substance, water-reactive, n.o.s | 4.3 | I | 4.3 | B101, B106 | 242 |  |  | IB4
3208 | Metallic substance, water-reactive, n.o.s | 4.3 | II | 4.3 | B101, B106 | 242 |  |  | IB7 | BB2
3208 | Metallic substance, water-reactive, n.o.s | 4.3 | III | 4.3 | B105, B108 | 241 |  |  | IB8 | BB4
3209 | Metallic substance, water-reactive, self-heating, n.o.s | 4.3 | II | 4.3, 4.2 | B101, B106 | 242 |  |  | IB5 | BB2
3209 | Metallic substance, water-reactive, self-heating, n.o.s | 4.3 | III | 4.3, 4.2 | B101, B106 | 242 |  |  | IB8 | BB4
3210 | Chlorates, inorganic, aqueous solution, n.o.s | 5.1 | II | 5.1 | T8 | 242 | T4 | TP1 | IB2
3211 | Perchlorates, inorganic, aqueous solution, n.o.s | 5.1 | II | 5.1 | T8 | 242 | T4 | TP1 | IB2
3211 | Perchlorates, inorganic, aqueous solution, n.o.s | 5.1 | III | 5.1 | T8 | 241 | T4 | TP1 | IB2
3212 | Hypochlorites, inorganic, n.o.s | 5.1 | II | 5.1 |  | 240 |  |  | IB8 | BB2, BB4
3213 | Bromates, inorganic, aqueous solution, n.o.s | 5.1 | II | 5.1 | T8 | 242 | T4 | TP1 | IB2
3214 | Permanganates, inorganic, aqueous solution, n.o.s | 5.1 | II | 5.1 | 26, T8 | 242 | T4 | TP1 | IB2
3215 | Persulfates, inorganic, n.o.s | 5.1 | III | 5.1 |  | 240 |  |  | IB8 | BB3
3216 | Persulfates, inorganic, aqueous solution, n.o.s | 5.1 | III | 5.1 | T2 | 241 | T4 | TP1 TP29 | IB2
3218 | Nitrates, inorganic, aqueous solution, n.o.s | 5.1 | II | 5.1 | 58, T8 | 242 | T4 | TP1 | IB2
3218 | Nitrates, inorganic, aqueous solution, n.o.s | 5.1 | III | 5.1 | 58, T8 | 241 | T4 | TP1 | IB2
3219 | Nitrites, inorganic, aqueous solution, n.o.s | 5.1 | II | 5.1 | T8 | 242 | T4 | TP1 | IB1
3219 | Nitrites, inorganic, aqueous solution, n.o.s | 5.1 | III | 5.1 | T8 | 241 | T4 | TP1 | IB2
3220 | Pentafluoroethane or Refrigerant gas R 125 | 2.2 |  | 2.2 |  | 314, 315 | T50
3241 | 2-Bromo-2-nitropropane-1,3-diol | 4.1 | III | 4.1 | 46 | None |  |  | IB8 | BB3
3242 | Azodicarbonamide | 4.1 | II | 4.1 | 38 | 240 |  |  | IB8
3243 | Solids containing toxic liquid, n.o.s | 6.1 | II | 6.1 | 48 | 240 |  |  | IB2
3244 | Solids containing corrosive liquid, n.o.s | 8 | II | 8 | 49 | 240 |  |  | IB5
3246 | Methanesulfonyl chloride | 6.1 | I | 6.1, 8 | 2, 25, B9, B14, B32, B74, T38, T43, T45 | 244 | T20 | TP2 TP12 TP13 TP38 TP45
3247 | Sodium peroxoborate, anhydrous | 5.1 | II | 5.1 |  | 240 |  |  | IB8 | BB4
3248 | Medicine, liquid, flammable, toxic, n.o.s | 3 | II | 3, 6.1 | 36 | None |  |  | IB2
3248 | Medicine, liquid, flammable, toxic, n.o.s | 3 | III | 3, 6.1 | 36 | None |  |  | IB3
3250 | Chloroacetic acid, molten | 6.1 | II | 6.1, 8 | T9 | 243 | T7 | TP3 | IB1
3251 | Isosorbide-5-mononitrate | 4.1 | III | 4.1 | 66 | 240 |  |  | IB8 |
3252 | Difluoromethane or Refrigerant gas R 32 | 2.1 |  | 2.1 |  | 314, 315 | T50 |  |  |
3253 | Disodium trioxosilicate | 8 | III | 8 |  | 240 |  |  | IB8 | BB3
3256 | Elevated temperature liquid, flammable, n.o.s, with flash point above 37.8 C, at or above its flash point | 3 | III | 3 | T1 | 247 | T3 | TP3 TP29 | IB1 |
3257 | Elevated temperature liquid, n.o.s, at or above 100 C and below its flash point (including molten metals, molten salts, etc.) | 9 | III | 9 | T1 | 247 | T3 | TP3 TP29 | IB1 |
3259 | Amines, solid, corrosive, n.o.s, or Polyamines, solid, corrosive n.o.s | 8 | I | 8 |  | 242 |  |  | IB7 | BB1
3259 | Amines, solid, corrosive, n.o.s, or Polyamines, solid, corrosive n.o.s | 8 | II | 8 |  | 240 |  |  | IB8 | BB2, BB4
3259 | Amines, solid, corrosive, n.o.s, or Polyamines, solid, corrosive n.o.s | 8 | III | 8 |  | 240 |  |  | IB8 | BB3
3260 | Corrosive solid, acidic, inorganic, n.o.s | 8 | I | 8 |  | 242 |  |  | IB7 | BB1
3260 | Corrosive solid, acidic, inorganic, n.o.s | 8 | II | 8 |  | 240 |  |  | IB8 | BB2, BB4
3260 | Corrosive solid, acidic, inorganic, n.o.s | 8 | III | 8 |  | 240 |  |  | IB8 | BB3
3261 | Corrosive solid, acidic, organic, n.o.s | 8 | I | 8 |  | 242 |  |  | IB7 | BB1
3261 | Corrosive solid, acidic, organic, n.o.s | 8 | II | 8 |  | 240 |  |  | IB8 | BB2, BB4
3261 | Corrosive solid, acidic, organic, n.o.s | 8 | III | 8 |  | 240 |  |  | IB8 | BB3
3262 | Corrosive solid, basic, inorganic, n.o.s | 8 | I | 8 |  | 242 |  |  | IB7 | BB1
3262 | Corrosive solid, basic, inorganic, n.o.s | 8 | II | 8 |  | 240 |  |  | IB8 | BB2, BB4
3262 | Corrosive solid, basic, inorganic, n.o.s | 8 | III | 8 |  | 240 |  |  | IB8 | BB3
3263 | Corrosive solid, basic, organic, n.o.s | 8 | I | 8 |  | 242 |  |  | IB7 | BB1
3263 | Corrosive solid, basic, organic, n.o.s | 8 | II | 8 |  | 240 |  |  | IB8 | BB2, BB4
3263 | Corrosive solid, basic, organic, n.o.s | 8 | III | 8 |  | 240 |  |  | IB8 | BB3
3264 | Corrosive liquid, acidic, inorganic, n.o.s | 8 | I | 8 | B10 | 243 | T14 | TP2 TP27 |  |
3264 | Corrosive liquid, acidic, inorganic, n.o.s | 8 | II | 8 | B2, T14 | 242 | T11 | TP2 TP27 | IB2 |
3264 | Corrosive liquid, acidic, inorganic, n.o.s | 8 | III | 8 | T7 | 241 | T7 | TP1 TP28 | IB3 |
3265 | Corrosive liquid, acidic, organic, n.o.s | 8 | I | 8 | B10 | 243 | T14 | TP2 TP27 |  |
3265 | Corrosive liquid, acidic, organic, n.o.s | 8 | II | 8 | B2, T14 | 242 | T11 | TP2 TP27 | IB2 |
3265 | Corrosive liquid, acidic, organic, n.o.s | 8 | III | 8 | T7 | 241 | T7 | TP1 TP28 | IB3 |
3266 | Corrosive liquid, basic, inorganic, n.o.s | 8 | I | 8 | B10 | 243 | T14 | TP2 TP27 |  |
3266 | Corrosive liquid, basic, inorganic, n.o.s | 8 | II | 8 | B2, T14 | 242 | T11 | TP2 TP27 | IB2 |
3266 | Corrosive liquid, basic, inorganic, n.o.s | 8 | III | 8 | T7 | 241 | T7 | TP1 TP28 | IB3 |
3267 | Corrosive liquid, basic, organic, n.o.s | 8 | I | 8 | B10 | 243 | T14 | TP2 TP27 |  |
3267 | Corrosive liquid, basic, organic, n.o.s | 8 | II | 8 | B2, T14 | 242 | T11 | TP2 TP27 | IB2 |
3267 | Corrosive liquid, basic, organic, n.o.s | 8 | III | 8 | T7 | 241 | T7 | TP1 TP28 | IB3 |
3271 | Ethers, n.o.s | 3 | II | 3 | T8 | 242 | T7 | TP1 TP8 TP28 | IB2 |
3271 | Ethers, n.o.s | 3 | III | 3 | B1, T7 | 242 | T4 | TP1 TP29 | IB3 |
3272 | Esters, n.o.s | 3 | II | 3 | T8 | 242 | T7 | TP1 TP8 TP28 | IB2 |
3272 | Esters, n.o.s | 3 | III | 3 | B1, T7 | 242 | T4 | TP1 TP29 | IB3 |
3273 | Nitriles, flammable, toxic, n.o.s | 3 | I | 3, 6.1 |  | 243 | T14 | TP2 TP13 TP27 |  |
3273 | Nitriles, flammable, toxic, n.o.s | 3 | II | 3, 6.1 | T14 | 243 | T11 | TP2 TP13 TP27 | IB2 |
3274 | Alcoholates solution, n.o.s, in alcohol | 3 | II | 3, 8 |  | 243 |  |  | IB2 |
3275 | Nitriles, toxic, flammable, n.o.s | 6.1 | I | 6.1, 3 | 5 | 243 | T14 | TP2 TP13 TP27 |  |
3275 | Nitriles, toxic, flammable, n.o.s | 6.1 | II | 6.1, 3 | T14 | 243 | T11 | TP2 TP13 TP27 | IB2 |
3276 | Nitriles, toxic, n.o.s | 6.1 | I | 6.1 | 5 | 243 | T14 | TP2 TP13 TP27 |  |
3276 | Nitriles, toxic, n.o.s | 6.1 | II | 6.1 | T14 | 243 | T11 | TP2 TP27 | IB2 |
3276 | Nitriles, toxic, n.o.s | 6.1 | III | 6.1 | T7 | 241 | T7 | TP1 TP28 | IB3 |
3277 | Chloroformates, toxic, corrosive, n.o.s | 6.1 | II | 6.1, 8 | T12, T26 | 243 | T8 | TP2 TP13 TP28 | IB2 |
3278 | Organophosphorus compound, toxic n.o.s | 6.1 | I | 6.1 | 5 | 243 | T14 | TP2 TP13 TP27 | IB7 |
3278 | Organophosphorus compound, toxic n.o.s | 6.1 | II | 6.1 | T14 | 243 | T11 | TP2 TP27 | IB2 |
3278 | Organophosphorus compound, toxic n.o.s | 6.1 | III | 6.1 | T7 | 241 | T7 | TP1 TP28 | IB3 |
3279 | Organophosphorus compound, toxic, flammable, n.o.s | 6.1 | I | 6.1, 3 | 5 | 243 | T14 | TP2 TP13 |  |
3279 | Organophosphorus compound, toxic, flammable, n.o.s | 6.1 | II | 6.1, 3 | T14 | 243 | T11 | TP2 TP13 TP27 | IB2 |
3280 | Organoarsenic compound, n.o.s | 6.1 | I | 6.1 | 5 | 242 | T14 | TP2 TP27 | IB7 | BB1
3280 | Organoarsenic compound, n.o.s | 6.1 | II | 6.1 | T14 | 242 | T11 | TP2 TP27 | IB8 | BB2, BB4
3280 | Organoarsenic compound, n.o.s | 6.1 | III | 6.1 | T7 | 240 | T7 | TP1 TP28 | IB8 | BB3
3281 | Metal carbonyls, n.o.s | 6.1 | I | 6.1 | 5 | 243 | T14 | TP2 TP13 TP27 |  |
3281 | Metal carbonyls, n.o.s | 6.1 | II | 6.1 | T14 | 243 | T11 | TP2 TP27 | IB2 |
3281 | Metal carbonyls, n.o.s | 6.1 | III | 6.1 | T7 | 241 | T7 | TP1 TP28 | IB3 |
3282 | Organometallic compound, toxic n.o.s | 6.1 | I | 6.1 | B106 | 242 | T14 | TP2 TP27 | IB7 | BB1
3282 | Organometallic compound, toxic n.o.s | 6.1 | II | 6.1 | T14 | 242 | T11 | TP2 TP27 | IB8 | BB2, BB4
3282 | Organometallic compound, toxic n.o.s | 6.1 | III | 6.1 | T7 | 240 | T7 | TP1 TP28 | IB8 | BB3
3283 | Selenium compound, n.o.s | 6.1 | I | 6.1 |  | 242 | T14 | TP2 TP27 | IB7 | BB1
3283 | Selenium compound, n.o.s | 6.1 | II | 6.1 | T14 | 242 | T11 | TP2 TP27 | IB8 | BB2, BB4
3283 | Selenium compound, n.o.s | 6.1 | III | 6.1 | T7 | 240 | T7 | TP1 TP28 | IB8 | BB3
3284 | Tellurium compound, n.o.s | 6.1 | I | 6.1 |  | 242 | T14 | TP2 TP27 | IB7 | BB1
3284 | Tellurium compound, n.o.s | 6.1 | II | 6.1 | T14 | 242 | T11 | TP2 TP27 | IB8 | BB2, BB4
3284 | Tellurium compound, n.o.s | 6.1 | III | 6.1 | T7 | 240 | T7 | TP1 TP28 | IB8 | BB3
3285 | Vanadium compound, n.o.s | 6.1 | I | 6.1 | 242 | T14 | TP2 TP27 | IB7 | BB1
3285 | Vanadium compound, n.o.s | 6.1 | II | 6.1 | T14 | 242 | T11 | TP2 TP27 | IB8 | BB2, BB4
3285 | Vanadium compound, n.o.s | 6.1 | III | 6.1 | T7 | 240 | T7 | TP1 TP28 | IB8 | BB3
3286 | Flammable liquid, toxic, corrosive, n.o.s | 3 | I | 3, 6.1, 8 |  | 243 | T14 | TP2 TP13 TP27
3286 | Flammable liquid, toxic, corrosive, n.o.s | 3 | II | 3, 6.1, 8 | T14 | 243 | T11 | TP2 TP13 TP27 | IB2
3287 | Toxic liquid, inorganic, n.o.s | 6.1 | I | 6.1 | T42 | 243 | T14 | TP2 TP13 TP27
3287 | Toxic liquid, inorganic, n.o.s Inhalation Hazard, Packing Group I, Zone A | 6.1 | I | 6.1 | 1, B9, B14, B30, B72, T38, T43, T44 | 244 | T22 | TP2 TP13 TP27 T38 T44
3287 | Toxic liquid, inorganic, n.o.s Inhalation Hazard, Packing Group I, Zone B | 6.1 | I | 6.1 | 2, B9, B14, B32, B74, T38, T43, T45 | 244 | T20 | TP2 TP13 TP27 T38, T45
3287 | Toxic liquid, inorganic, n.o.s | 6.1 | II | 6.1 | B110, T14 | 243 | T11 | TP2 TP27 | IB2
3287 | Toxic liquid, inorganic, n.o.s | 6.1 | III | 6.1 | T7 | 241 | T7 | TP1 TP28 | IB3
3288 | Toxic solid, inorganic, n.o.s | 6.1 | I | 6.1 |  | 242 |  |  | IB7
3288 | Toxic solid, inorganic, n.o.s | 6.1 | II | 6.1 |  | 242 |  |  | IB8 | BB2, BB4
3288 | Toxic solid, inorganic, n.o.s | 6.1 | III | 6.1 |  | 240 |  |  | IB8 | BB3
3289 | Toxic liquid, corrosive, inorganic, n.o.s | 6.1 | I | 6.1, 8 | T42 | 243 | T14 | TP2 TP13 TP27
3289 | Toxic liquid, corrosive, inorganic, n.o.s Inhalation Hazard, Packing Group I, Zone B | 6.1 | I | 6.1, 8 | 2, B9, B14, B32, B74, T38, T43, T45 | 244 | T20 | TP2 TP13 TP27 TP38 TP45
3289 | Toxic liquid, corrosive, inorganic, n.o.s inhalation Hazard, Packing Group I, Zone A | 6.1 | I | 6.1, 8 | 1, B9, B14, B30, B72, T38, T43, T44 | 244 | T22 | TP2 TP13 TP27 TP38 TP44
3289 | Toxic liquid, corrosive, inorganic, n.o.s | 6.1 | II | 6.1, 8 | T14 | 243 | T11 | TP2 TP27 | IB2
3290 | Toxic solid, corrosive, inorganic, n.o.s | 6.1 | I | 6.1, 8 |  | 242 |  |  | IB7
3290 | Toxic solid, corrosive, inorganic, n.o.s | 6.1 | II | 6.1, 8 |  | 242 |  |  | IB6 | BB2
3293 | Hydrazine, aqueous solution with not more than 37 percent hydrazine, by mass | 6.1 | III | 6.1 | T7 | 241 | T4 | TP1 | IB3
3294 | Hydrogen cyanide, solution in alcohol with not more than 45 percent hydrogen cyanide | 6.1 | I | 6.1, 3 | 2, 25, B9, B14, B32, B74, T38, T43, T45 | 244 | T20 | TP2 TP13 TP38 TP45
3295 | Hydrocarbons, liquid, n.o.s | 3 | I | 3 | T8, T31 | 243 | T11 | TP1 TP8
3295 | Hydrocarbons, liquid, n.o.s | 3 | II | 3 | T8, T31 | 242 | T7 | TP1 TP8 TP28 | IB2
3295 | Hydrocarbons, liquid, n.o.s | 3 | III | 3 | B1, T7, T30 | 242 | T4 | TP1 TP29 | IB3
3296 | Heptafluoropropane or Refrigerant gas R 227 | 2.2 |  | 2.2 |  | 314, 315 | T50
3297 | Ethylene oxide and chlorotetrafluoroethane mixture with not more than 8.8 percent | 2.2 |  | 2.2 |  | 314, 315 | T50
3298 | Ethylene oxide and pentafluoroethane mixture with not more than 7.9 percent ethylene oxide | 2.2 |  | 2.2 |  | 314, 315 | T50
3299 | Ethylene oxide and tetrafluoroethane mixture with not more than 5.6 percent ethylene oxide | 2.2 |  | 2.2 |  | 314, 315 | T50
3301 | Corrosive liquid, self-heating, n.o.s | 8 | II | 8, 4.2 | B2 | 242 |  |  | IB1
3302 | 2-Dimethylaminoethyl acrylate | 6.1 | II | 6.1 | T8 | 243 | T7 | TP2 | IB2
3311 | Gas, refrigerated liquid, flammable, n.o.s (crygoenic liquid) | 2.2 |  | 2.2, 5.1 |  | 318 | T75
3312 | Gas, refrigerated liquid, flammable, n.o.s (cryogenic liquid) | 2.1 |  | 2.1 |  | 318 | T75
3313 | Organic pigments, self-heating | 4.2 | II | 4.2 |  | 241 |  |  | IB8 | BB4
3313 | Organic pigments, self-heating | 4.2 | III | 4.2 | B101 | 241 |  |  | IB8 | BB3
3314 | Plastic molding compound in dough, sheet or extruded rope form evolving flammable vapor | 9 | III | 9 | 32 | 221 |  |  | IB8 | BB6
3318 | Ammonia solution, relative density less than 0.880 at 15 degrees C in water, with more than 50 percent ammonia | 2.2 |  | 2.2 | 13 | 314, 315 | T50
3318 | Ammonia solution, relative density less than 0.880 at 15 degrees C in water, with more than 50 percent ammonia | 2.3 |  | 2.3, 8 | 4 | 314, 315 | T50
3320 | Sodium borohydride and sodium hydroxide solution, with not more than 12 percent sodium borohydride and not more than 40 percent sodium hydroxide by mass | 8 | II | 8 | B2, N34, T8 | 242 | T7 | TP2 | IB2
3320 | Sodium borohydride and sodium hydroxide solution, with not more than 12 percent sodium borohydride and not more than 40 percent sodium hydroxide by mass | 8 | III | 8 | B2, N34, T7 | 241 | T4 | TP2 | IB3
3336 | Mercaptans, liquid, flammable, n.o.s., or Mercaptan mixture, liquid, flammable, n.o.s | 3 | I | 3 | T23 | 243 | T11 | TP2
3336 | Mercaptans, liquid, flammable, n.o.s., or Mercaptan mixture, liquid, flammable, n.o.s | 3 | II | 3 | T8, T31 | 242 | T7 | TP1 TP8 TP28 | IB2
3336 | Mercaptans, liquid, flammable, n.o.s., or Mercaptan mixture, liquid, flammable, n.o.s | 3 | III | 3 | B1, B52, T7, T30 | 241 | T4 | TP1 TP29 | IB3
3337 | Refrigerant gas R 404A | 2.2 |  |  |  | 314, 315 | T50
3338 | Refrigerant gas R 407A | 2.2 |  |  |  | 314, 315 | T50
3339 | Refrigerant gas R 407B | 2.2 |  |  |  | 314, 315 | T50
3340 | Refrigerant gas R 407C | 2.2 |  |  |  | 314, 315 | T50
3341 | Thiourea dioxide | 4.2 | II | 4.2 |  | 241 |  |  | IB6 | BB2
3341 | Thiourea dioxide | 4.2 | III | 4.2 |  | 241 |  |  | IB8 | BB3
3342 | Xanthates | 4.2 | II | 4.2 |  | 241 |  |  | IB6 | BB2
3342 | Xanthates | 4.2 | III | 4.2 |  | 241 |  |  | IB8 | BB3
3345 | Phenoxyacetic acid derivative pesticide, solid, toxic | 6.1 | I | 6.1 |  | 242 |  |  | IB7 | BB1
3345 | Phenoxyacetic acid derivative pesticide, solid, toxic | 6.1 | II | 6.1 |  | 242 |  |  | IB8 | BB2, BB4
3345 | Phenoxyacetic acid derivative pesticide, solid, toxic | 6.1 | III | 6.1 |  | 240 |  |  | IB8 | BB3
3346 | Phenoxyacetic acid derivative pesticide, liquid flammable, toxic flashpoint less than 23° C | 3 | I | 3, 6.1 | T23 | 243 | T14 | TP2 TP13 TP27
3346 | Phenoxyacetic acid derivative pesticide, liquid flammable, toxic flashpoint less than 23° C | 3 | II | 3, 6.1 | T14 | 243 | T11 | TP2 TP13 TP27 | IB2
3347 | Phenoxyacetic acid derivative pesticide, liquid, toxic, flammable, flashpoint not less than 23° C | 6.1 | I | 6.1, 3 | T24, T26 | 243 | T14 | TP2 TP13 TP27
3347 | Phenoxyacetic acid derivative pesticide, liquid, toxic, flammable, flashpoint not less than 23° C | 6.1 | II | 6.1, 3 | T14 | 243 | T11 | TP2 TP13 TP27 | IB2
3347 | Phenoxyacetic acid derivative pesticide, liquid, toxic, flammable, flashpoint not less than 23° C | 6.1 | III | 6.1, 3 | T14 | 241 | T7 | TP2 TP28 | IB3
3348 | Phenoxyacetic acid derivative pesticide, liquid, toxic | 6.1 | I | 6.1 | T24, T26 | 243 | T14 | TP2 TP13 TP27
3348 | Phenoxyacetic acid derivative pesticide, liquid, toxic | 6.1 | II | 6.1 | T14 | 243 | T11 | TP2 TP27 | IB2
3348 | Phenoxyacetic acid derivative pesticide, liquid, toxic | 6.1 | III | 6.1 | T14 | 241 | T7 | TP2 TP28 | IB3
3349 | Pyrethroid pesticide, solid, toxic | 6.1 | I | 6.1 |  | 242 |  |  | IB7 | BB1
3349 | Pyrethroid pesticide, solid, toxic | 6.1 | II | 6.1 |  | 242 |  |  | IB8 | BB2, BB4
3349 | Pyrethroid pesticide, solid, toxic | 6.1 | III | 6.1 |  | 230 |  |  | IB8 | BB3
3350 | Pyrethroid pesticide, liquid, flammable, toxic, flashpoint less than 23° C | 3 | I | 3, 6.1 | T24, T26 | 243 | T14 | TP2 TP13 TP27
3350 | Pyrethroid pesticide, liquid, flammable, toxic, flashpoint less than 23° C | 3 | II | 3, 6.1 | T14 | 243 | T11 | TP2 TP13 TP27 | IB2
3351 | Pyrethroid pesticide, liquid, flammable, toxic, flashpoint not less than 23° C | 6.1 | I | 6.1, 3 | T24, T26 | 243 | T14 | TP2 TP13 TP27
3351 | Pyrethroid pesticide, liquid, flammable, toxic, flashpoint not less than 23° C | 6.1 | II | 6.1, 3 | T14 | 243 | T11 | TP2 TP13 TP27 | IB2
3351 | Pyrethroid pesticide, liquid, flammable, toxic, flashpoint not less than 23° C | 6.1 | III | 6.1, 3 | T14 | 241 | T7 | TP2 TP28 | IB3
3352 | Pyrethroid pesticide, liquid toxic | 6.1 | I | 6.1 |  | 242 | T14 | TP2 TP13 TP27
3352 | Pyrethroid pesticide, liquid toxic | 6.1 | II | 6.1 |  | 242 | T11 | TP2 TP27 | IB2
3352 | Pyrethroid pesticide, liquid toxic | 6.1 | III | 6.1 |  | 240 | T7 | TP2 TP28 | IB3

f. In Columns (9A) and (9B), the following entries would be revised as follows:

Note to readers: *** means no change to current limit.

Column (2) | Column (4) | Column (5) | Column (9A) Revise to read: | Column (9B) Revise to read:
Acetone cyanohydrin, stabilized | UN1541 | I | *** | Forbidden.
Boron tribromide | UN2692 | I | *** | Forbidden.
n-Butyl chloroformate | UN2743 | I | Forbidden | Forbidden.
n-Butyl isocyanate | UN2485 | I | *** | Forbidden.
Bisulfites, aqueous solutions, n.o.s | UN2693 | III | 5 L | 60 L.
Cells, containing sodium | UN3292 | II | 25 kg gross |
Chloroacetonitrile | UN2668 | II | *** | Forbidden.
Chloroform | UN1888 | III | 60 L | 220 L.
Crotonaldehyde, stabilized | UN1143 | I |  | Forbidden.
Diethyl sulfide | UN2375 | II | 5 L
Divinyl ether, inhibited | UN1167 | I |  | 30 L.
Lithium battery | UN3090 | II | 5 kg gross | ***
Methacrylonitrile, inhibited | UN3079 | I | *** | Forbidden.
Methyl bromide and ethylene dibromide mixtures, liquid | UN1647 | I | *** | Forbidden.
Methyl orthosilicate | UN2606 | I | *** | Forbidden.
Nitrogen trifluoride, compressed | UN2451 |  | 75 kg | 150 kg.
Nitrous oxide, refrigerated liquid | UN2201 |  | Forbidden | Forbidden.
Nitromethane | UN1261 | II | *** | Forbidden.
Phosphorus oxychloride | UN1810 | II | *** | Forbidden.
n-Propyl chloroformate | UN2740 | I | *** | Forbidden.
Sulfur trioxide, inhibited or Sulfur trioxide, stabilized | UN1829 | I | *** | Forbidden.
Tear gas substances, solid, n.o.s. | UN1693 | I | *** | 15 kg.
Titanium tetrachloride | UN1838 | II | *** | Forbidden.
Thiophosgene | UN2474 | II | *** | Forbidden.

g. In Columns (10A) and (10B), the following entries would be revised as follows:

Column (2) entry | Column (4) entry | Column (10a) revise to read: | Column (10b) revise to read:
Ammonium nitrate-fuel oil mixture containing only prilled ammonium nitrate and fuel oil | NA0331 | 10 | 19E
Ammonium nitrate, with more than 0.2 percent combustible substances, including any organic substance calculated as carbon, to the exclusion of any other added substance | UN0222 | 10 | 19E
Ammonium perchlorate | UN0402 | 10 | 19E
Ammonium picrate, dry or wetted with less than 10 percent water, by mass | UN0004 | 10 | 5E, 19E
Ammunition, illuminating with or without burster, expelling charge or propelling charge | UN0171 | 03 |
Ammunition, illuminating with or without burster, expelling charge or propelling charge | UN0254 | 03 |
Ammunition, illuminating with or without burster, expelling charge or propelling charge | UN0297 | 02 |
Ammunition, incendiary liquid or gel, with burster, expelling charge or propelling charge | UN0247 | 04 | 23E
Ammunition, incendiary, white phosphorus, with burster, expelling charge or propelling charge | UN0243 | 08 | 8E, 14E, 15E, 17E
Ammunition, incendiary, white phosphorus, with burster, expelling charge or propelling charge | UN0244 | 08 | 8E, 14E, 15E, 17E
Ammunition, incendiary with or without burster, expelling charge or propelling charge | UN0009 | 03 |
Ammunition, incendiary with or without burster, expelling charge, or propelling charge | UN0010 | 03
Ammunition, incendiary with or without burster, expelling charge, or propelling charge | UN0300 | 02 |
Ammunition, practice | UN0362 | 02
Ammunition, practice | UN0488 | 03 |
Ammunition, proof | UN0363 | 02 |
Ammunition, smoke, white phosphorus with burster,expelling charge, or propelling charge | UN0245 | 08 | 8E, 14E, 15E, 17E
Ammunition, smoke, white phosphorus with burster, expelling charge, or propelling charge | UN0246 | 08 | 8E, 14E, 15E, 17E
Ammunition, smoke with or without burster, expelling charge or propelling charge | UN0015 |  | 8E, 17E, 20E
Ammunition, smoke with or without burster, expelling charge or propelling charge | UN0016 |  | 8E, 17E, 20E
Ammunition, smoke with or without burster, expelling charge or propelling charge | UN0303 |  | 7E, 8E, 14E, 15E, 17E
Ammunition, tear-producing with burster, expelling charge or propelling charge | UN0018 |  | 8E, 17E, 20E
Ammunition, tear-producing with burster, expelling charge or propelling charge | UN0019 |  | 8E, 17E, 20E
Ammunition, tear-producing with burster, expelling charge or propelling charge | UN0301 |  | 7E, 8E, 14E, 15E, 17E
Ammunition, toxic with burster, expelling charge, or propelling charge | UN0020 | 08 | 8E, 14E, 15E, 17E
Ammunition, toxic with burster, expelling charge, or propelling charge | UN0021 | 08 | 8E, 14E, 15E, 17E
Articles, explosive, extremely insensitive or Articles, EEI | UN0486 | 07 |
Articles, explosive, n.o.s | UN0349 | 05 |
Articles, explosive, n.o.s | UN0350 | 06 |
Articles, explosive, n.o.s | UN0351 | 06 |
Articles, explosive, n.o.s | UN0352 | 06 |
Articles, explosive, n.o.s | UN0353 | 06 |
Articles, explosive, n.o.s | UN0354 | 08 | 8E, 14E, 15E, 17E
Articles, explosive, n.o.s | UN0355 | 08 | 8E, 14E, 15E, 17E
Articles, explosive, n.o.s | UN0356 | 08 | 8E, 14E, 15E, 17E
Articles, explosive, n.o.s | UN0462 | 07 |
Articles, explosive, n.o.s | UN0463 | 07 |
Articles, explosive, n.o.s | UN0464 | 07 |
Articles, explosive, n.o.s | UN0465 | 08 |
Articles, explosive, n.o.s | UN0466 | 07 |
Articles, explosive, n.o.s | UN0467 | 07 |
Articles, explosive, n.o.s | UN0468 | 07 |
Articles, explosive, n.o.s | UN0469 | 08 |
Articles, explosive, n.o.s | UN0470 | 07 |
Articles, explosive, n.o.s | UN0471 | 06 |
Articles, explosive, n.o.s | UN0472 | 08 |
Articles, pyrophoric | UN0380 | 08 | 8E, 14E, 15E, 17E
Articles, pyrotechnic for technical purposes | UN0428 | 07 |
Articles, pyrotechnic for technical purposes | UN0429 | 07 |
Articles, pyrotechnic for technical purposes | UN0430 | 07 |
Articles, pyrotechnic for technical purposes | UN0431 | 06 |
Articles, pyrotechnic for technical purposes | UN0432 | 05 |
Barium azide, dry or wetted with less than 50 percent water, by mass. | UN0224 | 12 |
Barium styphnate | NA0473
Black powder, compressed or Gunpowder, compressed or Black powder, in pellets or Gunpowder, in pellets | UN0028 | 10 |
Black powder or Gunpowder, granular or as a meal | UN0027 | 10 |
Bombs, photo-flash | UN0037 | 08 |
Bombs, photo-flash | UN0038 | 03 |
Bombs, photo-flash | UN0039 | 03 |
Bombs, photo-flash | UN0299 | 03 |
Bombs, with bursting charge | UN0033 | 08 |
Bombs, with bursting charge | UN0034 | 03 |
Bombs, with bursting charge | UN0035 | 03 |
Bombs, with bursting charge | UN0291 | 08 |
Bombs with flammable liquid, with bursting charge | UN0399 | 04 | 23E
Bombs with flammable liquid, with bursting charge | UN0400 | 04 | 23E
Boosters with detonator | UN0225 | 11 |
Boosters with detonator | UN0268 | 07 |
Boosters, without detonator | UN0042 | 07
Boosters, without detonator | UN0283 | 07
Bursters, explosive | UN0043 | 07
Cartridges, flash | UN0049 | 07
Cartridges, flash | UN0050 | 07
Cartridges for weapons, blank | UN0326 | 07
Cartridges for weapons, blank | UN0413 | 07
Cartridges for weapons, blank or Cartridges, small arms, blank | UN0014 | 05
Cartridges for weapons, blank or Cartridges, small arms, blank | UN0327 | 07
Cartridges for weapons, blank or Cartridges, small arms, blank | UN0338 | 06
Cartridges for weapons, inert projectile | UN0328 | 03
Cartridges for weapons, inert projectile or Cartridges, small arms | UN0012 | 05
Cartridges for weapons, inert projectile or Cartridges, small arms | UN0339 | 06
Cartridges for weapons, inert projectile or Cartridges, small arms | UN0417 | 06
Cartridges for weapons, with bursting charge | UN0005 | 08
Cartridges for weapons, with bursting charge | UN0006 | 03
Cartridges for weapons, with bursting charge | UN0007 | 08
Cartridges for weapons, with bursting charge | UN0321 | 03
Cartridges for weapons, with bursting charge | UN0348 | 08
Cartridges for weapons, with bursting charge | UN0412 | 02
Cartridges, oil well | UN0277 | 07
Cartridges, oil well | UN0278 | 06
Cartridges, power device | UN0275 | 07
Cartridges, power device | UN0276 | 06
Cartridges, power device | UN0323 | 05
Cartridges, power device | UN0381 | 07
Cartridges, signal | UN0054 | 07
Cartridges, signal | UN0312 | 06
Cartridges, signal | UN0405 | 05
Cases, cartridge, empty with primer | UN0055 | 05
Cases, cartridges, empty with primer | UN0379 | 06
Cases, combustible, empty, without primer | UN0446 | 06
Cases, combustible, empty, without primer | UN0447 | 07
Charges, bursting, plastics bonded | UN0457 | 07
Charges, bursting, plastics bonded | UN0458 | 07
Charges, bursting, plastics bonded | UN0459 | 06
Charges, bursting, plastics bonded | UN0460 | 05
Charges, demolition | UN0048 | 03
Charges, depth | UN0056 | 03
Charges, explosive, commercial without detonator | UN0442 | 07
Charges, explosive, commercial without detonator | UN0443 | 07
Charges, explosive, commercial without detonator | UN0444 | 06
Charges, explosive, commercial without detonator | UN0445 | 05
Charges, propelling | UN0271 | 07
Charges, propelling | UN0272 | 07
Charges, propelling | UN0415 | 07
Charges, propelling | UN0491 | 06
Charges, propelling, for cannon | UN0242 | 10
Charges, propelling, for cannon | UN0279 | 10
Charges, propelling, for cannon | UN0414 | 10
Charges, shaped, flexible, linear | UN0237 | 06
Charges, shaped, flexible, linear | UN0288 | 07
Charges, shaped, without detonator | UN0059 | 07
Charges, shaped, without detonator | UN0439 | 07
Charges, shaped, without detonator | UN0440 | 06
Charges, shaped, without detonator | UN0441 | 05
Charges, supplementary explosive | UN0060 | 10
Components, explosive train, n.o.s | UN0382 | 11
Components, explosive train, n.o.s | UN0383 | 06
Components, explosive train, n.o.s | UN0384 | 05
Components, explosive train, n.o.s | UN0461 | 11
Contrivances, water-activated, with burster, expelling charge or propelling charge | UN0248 | 08 | 8E, 14E, 15E, 17E
Contrivances, water-activated, with burster, expelling charge or propelling charge | UN0249 | 08 | 8E, 14E, 15E, 17E
Cord, detonating, flexible | UN0065 | 07
Cord, detonating, flexible | UN0289 | 06
Cord detonating or Fuse detonating metal clad | UN0102 | 07
Cord, detonating or Fuse, detonating metal clad | UN0290 | 07
Cord, detonating, mild effect or Fuse, detonating, mild effect metal clad | UN0104 | 06
Cord, igniter | UN0066 | 06
Cutters, cable, explosive | UN0070 | 05
Cyclotetramethylenetetranitramine, desensitized or Octogen, desensitized or HMX, desensitized | UN0484 | 10
Cyclotetramethylenetetranitramine, wetted or HMX, wetted or Octogen, wetted with not less than 15 percent water, by mass | UN0226 | 10
Cyclotrimethylenetrinitramine, desensitized or Cyclonite, desensitized or Hexogen, desensitized or RDX, desensitized | UN0483 | 10
Cyclotrimethylenetrinitramine, wetted or Cyclonite, wetted or Hexogen, wetted or RDX, wetted with not less than 15 percent water by mass | UN0072 | 10
Deflagrating metal salts of aromatic nitroderivatives, n.o.s | UN0132 | 10 | 5E
Detonator assemblies, non-electric for blasting | UN0360 | 11
Detonator assemblies, non-electric for blasting | UN0361 | 06
Detonator assemblies, non-electric for blasting | UN0500 | 05
Detonators, electric, for blasting | UN0030 | 11
Detonators, electric, for blasting | UN0255 | 06
Detonators, electric for blasting | UN0456 | 05
Detonators for ammunition | UN0073 | 11
Detonators for ammunition | UN0364 | 11
Detonators for ammunition | UN0365 | 06
Detonators for ammunition | UN0366 | 05
Detonators, non-electric, for blasting | UN0029 | 11
Detonators, non-electric, for blasting | UN0267 | 06
Detonators, non-electric for blasting | UN0455 | 05
Diazodinitrophenol, wetted with not less than 40 percent water or mixture of alcohol and water, by mass | UN0074 | 12
Diethyleneglycol dinitrate, desensitized with not less than 25 percent non-volatile, water-insoluble phlegmatizer, by mass | UN0075 | 13 | 21E
Dinitroglycoluril or Dingu | UN0489 | 10
Dinitrophenol, dry or wetted with less than 15 percent water, by mass | UN0076 | 10 | 5E
Dinitrophenolates alkali metals, dry or wetted with less than 15 percent water, by mass | UN0077 | 10 | 5E
Dinitroresorcinol, dry or wetted with less than 15 percent water, by mass | UN0078 | 10 | 5E
Dinitrosobenzene | UN0406 | 10
Dipicryl sulfide, dry or wetted with less than 10 percent water, by mass | UN0401 | 10 |
Explosive, blasting, type A | UN0081 | 10 | 21E
Explosive, blasting, type B | UN0082 | 10 |
Explosive, blasting, type B or Agent blasting, Type B | UN0331 | 10 |
Explosive, blasting, type C | UN0083 | 10 | 22E
Explosive, blasting, type D | UN0084 | 10 |
Explosive, blasting, type E | UN0241 | 10 | 19E
Explosive, blasting, type E or Agent blasting, Type E | UN0332 | 10 |
Fireworks | UN0333 | 07 |
Fireworks | UN0334 | 07 |
Fireworks | UN0335 | 07 |
Fireworks | UN0336 | 06 |
Fireworks | UN0337 | 05 |
Flares, aerial | UN0093 | 07 |
Flares, aerial | UN0403 | 06 |
Flares, aerial | UN0404 | 05 |
Flares, aerial | UN0420 | 07 |
Flares, aerial | UN0421 | 07 |
Flares, surface | UN0092 | 07 |
Flares, surface | UN0418 | 07 |
Flares, surface | UN0419 | 07 |
Flash powder | UN0094 | 15 |
Flash powder | UN0305 | 15 |
Fracturing devices, explosive, without detonators for oil wells | UN0099 | 07 |
Fuse, igniter tubular metal clad | UN0103 | 06 |
Fuse, non-detonating instantaneous or quickmatch | UN0101 | 07 |
Fuse, safety | UN0105 | 05 |
Fuzes, detonating | UN0106 | 11 |
Fuzes, detonating | UN0107 | 11 |
Fuzes, detonating | UN0257 | 06 |
Fuzes, detonating | UN0367 | 05 |
Fuzes, detonating, with protective features | UN0408 | 07 |
Fuzes, detonating, with protective features | UN0409 | 07 |
Fuzes, detonating, with protective features | UN0410 | 06 |
Fuzes, igniting | UN0316 | 07 |
Fuzes, igniting | UN0317 | 06 |
Fuzes, igniting | UN0368 | 05 |
Grenades, empty primed | NA0349 | 05 |
Grenades, hand or rifle, with bursting charge | UN0284 | 07 |
Grenades, hand or rifle, with bursting charge | UN0285 | 07 |
Grenades, hand or rifle, with bursting charge | UN0292 | 08 |
Grenades, hand or rifle, with bursting charge | UN0293 | 08 |
Grenades, practice, hand or rifle | UN0110 | 05 |
Grenades, practice, hand or rifle | UN0318 | 07 |
Grenades, practice, hand or rifle | UN0372 | 07 |
Grenades, practice, Hand or rifle | UN0452 | 06 |
Guanyl nitrosaminoguanylidene hydrazine, wetted with not less than 30 percent water, by mass | UN0113 | 12 |
Guanyl nitrosaminoguanyltetrazene, wetted or Tetrazene, wetted with not less than 30 percent water or mixture of alcohol and water, by mass | UN0114 | 12 |
Hexanitrodiphenylamine or Dipicrylamine or Hexyl | UN0079 | 10 |
Hexanitrostilbene | UN0392 | 10 |
Hexolite, or Hexotol dry or wetted with less than 15 percent water, by mass | UN0118 | 10 |
Hexotonal | UN0393 | 10 |
Igniters | UN0121 | 07 |
Igniters | UN0314 | 07 |
Igniters | UN0315 | 07 |
Igniters | UN0325 | 06 |
Igniters | UN0454 | 05 |
Jet perforating guns, charged oil well, with detonator | NA0124 | 07 |
Jet perforating guns, charged oil well, with detonator | NA0494 | 06 |
Jet perforating guns, charged, oil well, without detonator | UN0124 | 07 |
Jet perforating guns, charged, oil well, without detonator | UN0494 | 06 |
Lead azide, wetted with not less than 20 percent water or mixture of alcohol and water, by mass | UN0129 | 12 |
Lead mononitroresorcinate | NA0473 | 12 |
Lead styphnate, wetted or Lead trinitroresorcinate, wetted with not less than 20 percent water or mixture of alcohol and water, by mass | UN0130 | 12 |
Lighters, fuse | UN0131 | 05 |
Mannitol hexanitrate, wetted or Nitromannite, wetted with not less than 40 percent water, or mixture of alcohol and water, by mass | UN0133 | 10 |
5-Mercaptotertrazol-1-acetic acid | UN0448 | 09 |
Mercury fulminate, wetted with not less than 20 percent water, or mixture of alcohol and water, by mass | UN0135 | 12 |
Mines with bursting charge | UN0136 | 08 |
Mines with bursting charge | UN0137 | 03 |
Mines with bursting charge | UN0138 | 03 |
Mines with bursting charge | UN0294 | 08 |
Model rocket motor | NA0276 | 06 |
Model rocket motor | NA0323 | 05 |
Nitro urea | UN0147 | 10 |
5-Nitrobenzotriazol | UN0385 | 10 |
Nitrocellulose, dry or wetted with less than 25 percent water (or alcohol), by mass | UN0340 | 13 | 27E
Nitrocellulose, plasticized with not less than 18 percent plasticizing substance, by mass | UN0343 | 10 |
Nitrocellulose, unmodified or plasticized with less than 18 percent plasticizing substance, by mass | UN0341 | 13 | 27E
Nitrocellulose, wetted with not less than 25 percent alcohol, by mass | UN0342 | 10 |
Nitroglycerin, desensitized with not less than 40 percent non-volatile water insoluble phlegmatizer, by mass | UN0143 | 13 | 21E
Nitroglycerin, solution in alcohol, with more than 1 percent but not more than 10 percent nitrogylcerin | UN0144 | 10 | 21E
Nitroguanidine or Picrite, dry or wetted with less than 20 percent water, by mass | UN0282 | 10 |
Nitrostarch, dry or wetted with less than 20 percent water, by mass | UN0146 | 10 |
Nitrotriazolone or NTO | UN0490 | 10 |
Octolite or Octol, dry or wetted with less than 15 percent water, by mass | UN0266 | 10 |
Octonal | UN0496 | 10 |
Pentaerythrite tetranitrate or Pentaerythritol tetranitrate or PETN, with not less than 7 percent wax by mass | UN0411 | 10
Pentaerythrite tetranitrate, wetted or Pentaerythritol tetranitrate, wetted, or PETN, wetted with not less than 25 percent water, by mass, or Pentaerythrite tetranitrate, or Pentaerythritol tetranitrate or PETN, desensitized with not less than 15 percent phlegmatizer by mass | UN0150 | 10
Pentolite, dry or wetted with less than 15 percent water, by mass | UN0151 | 10
Powder cake, wetted or Powder paste, wetted with not less than 17 percent alcohol by mass | UN0433 | 10
Powder cake, wetted or Powder paste, wetted with not less than 25 percent water, by mass | UN0159 | 10
Powder, smokeless | UN0160 |  | 26E
Powder, smokeless | UN0161 |  | 26E
Primers, cap type | UN0044 | 05
Primers, cap type | UN0377 | 11
Primers, cap type | UN0378 | 06
Primers, tubular | UN0319 | 07
Primers, tubular | UN0320 | 06
Primers, tubular | UN0376 | 05
Projectiles, inert with tracer | UN0345 | 01
Projectiles, inert, with tracer | UN0424 | 03
Projectiles, inert, with tracer | UN0425 | 02
Projectiles, with burster or expelling charge | UN0346 | 03
Projectiles, with burster or expelling charge | UN0347 | 02
Projectiles, with burster or expelling charge | UN0426 | 08
Projectiles, with burster or expelling charge | UN0427 | 08
Projectiles, with burster or expelling charge | UN0434 | 03
Projectiles, with burster or expelling charge | UN0435 | 02
Projectiles, with bursting charge | UN0167 | 08
Projectiles, with bursting charge | UN0168 | 03
Projectiles, with bursting charge | UN0169 | 03
Projectiles, with bursting charge | UN0324 | 08
Projectiles, with bursting charge | UN0344 | 02
Propellant, liquid | UN0495 | 10
Propellant, liquid | UN0497 | 10
Propellant, solid | UN0498 |  | 26E
Propellant, solid | UN0499 |  | 26E
RDX and HMX mixtures, wetted with not less than 15 percent water by mass or RDX and HMX mixtures, desensitized with not less than 10 percent phlegmatizer by mass | UN0391 | 10
Release devices, explosive | UN0173 | 05
Rivets, explosive | UN0174 | 05
Rocket motors | UN0186 | 03
Rocket motors | UN0280 | 03
Rocket motors | UN0281 | 03
Rocket motors, liquid fueled | UN0395 | 04 | 23E
Rocket motors, liquid fueled | UN0396 | 04 | 23E
Rocket motors with hypergolic liquids with or without an expelling charge | UN0250 | 08 | 8E, 14E, 15E,
Rocket motors with hypergolic liquids with or without an expelling charge | UN0322 | 08 | 8E, 14E, 15E,
Rockets, line-throwing | UN0238 | 07
Rockets, line-throwing | UN0240 | 07
Rockets, line-throwing | UN0453 | 06
Rockets, liquid fueled with bursting charge | UN0397 | 04 | 23E
Rockets, liquid fueled with bursting charge | UN0398 | 04 | 23E
Rockets, with bursting charge | UN0180 | 08
Rockets, with bursting charge | UN0181 | 03
Rockets, with bursting charge | UN0182 | 03
Rockets, with bursting charge | UN0295 | 08
Rockets, with expelling charge | UN0436 | 03
Rockets, with expelling charge | UN0437 | 03
Rockets, with expelling charge | UN0438 | 02
Rockets, with inert head | UN0183 | 03
Samples, explosive, other than initiating explosives | UN0190 | 14
Signal devices, hand | UN0191 | 06
Signal devices, hand | UN0373 | 05
Signals, distress, ship | UN0194 | 07
Signals, distress, ship | UN0195 | 07
Signals, railway track, explosive | UN0192 | 07
Signals, railway track, explosive | UN0193 | 05
Signals, railway track, explosive | UN0492 | 07
Signals, railway track, explosive | UN0493 | 06
Signals, smoke | UN0196 | 07
Signals, smoke | UN0197 | 06
Signals, smoke | UN0313 | 07
Signals, smoke | UN0487 | 07
Sodium dinitro-o-cresolate, dry or wetted with less than 15 percent water, by mass | UN0234 | 10 | 5E
Sodium picramate, dry or wetted with less than 20 percent water, by mass | UN0235 | 10 | 5E
Sounding devices, explosive | UN0204 | 08
Sounding devices, explosive | UN0296 | 08
Sounding devices, explosive | UN0374 | 07
Sounding devices, explosive | UN0375 | 07
Substances, explosive, n.o.s | UN0357 |  | 8E, 14E, 15E, 17E
Substances, explosive, n.o.s | UN0358 |  | 8E, 14E, 15E, 17E
Substances, explosive, n.o.s | UN0359 |  | 8E, 14E, 15E, 17E
Substances, explosive, n.o.s | UN0473 | 12
Substances, explosive, n.o.s | UN0474 | 10
Substances, explosive, n.o.s | UN0475 | 10
Substances, explosive, n.o.s | UN0476 | 08
Substances, explosive, n.o.s | UN0477 | 10
Substances, explosive, n.o.s | UN0478 | 08
Substances, explosive, n.o.s | UN0479 | 09
Substances, explosive, n.o.s | UN0480 | 09
Substances, explosive, n.o.s | UN0481 | 05
Substances, explosive, n.o.s | UN0485 | 08
Substances, explosive, very insensitive, n.o.s., or Substances, EVI, n.o.s | UN0482 | 10
Tetranitroaniline | UN0207 | 10
Tetrazol-1-acetic acid | UN0407 | 09
Torpedoes, liquid fueled, with inert head | UN0450 | 04 | 23E
Torpedoes, liquid fueled, with or without bursting charge | UN0449 | 04 | 23E
Torpedoes with bursting charge | UN0329 | 03
Torpedoes with bursting charge | UN0330 | 08
Torpedoes with bursting charge | UN0451 | 03
Toy Caps | NA0337 | 05
Tracers for ammunition | UN0212 | 07
Tracers for ammunition | UN0306 | 06
Trinitro-meta-cresol | UN0216 | 10 | 5E
Trinitroaniline or Picramide | UN0153 | 10
Trinitroanisole | UN0213 | 10
Trinitrobenzene, dry or wetted with less than 30 percent water, by mass | UN0214 | 10
Trinitrobenzenesulfonic acid | UN0386 | 10 | 5E
Trinitrobenzoic acid, dry or wetted with less than 30 percent water, by mass | UN0215 | 10 | 5E
Trinitrochlorobenzene or Picryl chloride. | UN0155 | 10
Trinitrofluorenone | UN0387 | 10
Trinitronaphthalene | UN0217 | 10
Trinitrophenetole | UN0218 | 10
Trinitrophenol or Picric acid, dry or wetted with less than 30 percent water, by mass | UN0154 | 10 | 5E
Trinitrophenylmethylnitramine or Tetryl. | UN0208 | 10
Trinitroresorcinol or Styphnic acid, dry or wetted with less than 20 percent water, or mixture of alcohol and water, by mass | UN0219 | 10 | 5E
Trinitroresorcinol, wetted or Styphnic acid, wetted with not less than 20 percent water, or mixture of alcohol and water by mass | UN0394 | 10 | 5E
Trinitrotoluene and Trinitrobenzene mixtures or TNT and trinitrobenzene mixtures or TNT and hexanitrostilbene mixtures or Trinitrotoluene and hexanitrostilnene mixtures | UN0388 | 10
Trinitrotoluene mixtures containing Trinitrobenzene and Hexanitrostilbene or TNT mixtures containing trinitrobenzene and hexanitrostilbene | UN0389 | 10
Trinitrotoluene or TNT, dry or wetted with less than 30 percent water, by mass | UN0209 | 10
Tritonal | UN0390 | 10
Urea nitrate, dry or wetted with less than 20 percent water, by mass | UN0220 | 10
Warheads, rocket with burster or expelling charge | UN0370 | 02
Warheads, rocket with burster or expelling charge | UN0371 | 08
Warheads, rocket with bursting charge | UN0286 | 03
Warheads, rocket with bursting charge | UN0287 | 03
Warheads, rocket with bursting charge | UN0369 | 08
Warheads, torpedo with bursting charge | UN0221 | 03
Zirconium picramate, dry or wetted with less than 20 percent water, by mass. | UN0236 | 10 | 5E

13. In Appendix B to § 172.101, paragraphs 1. and 2. would be revised and the List of Marine Pollutants would be amended by removing 73 entries, adding 2 entries and revising 2 entries in appropriate alphabetical order to read as follows:

Appendix B to § 172.101—List of Marine Pollutants

1. See § 171.4 of this subchapter for applicability of marine pollutants. This appendix lists potential marine pollutants as defined in § 171.8 of this subchapter.

2. Marine pollutants listed in this appendix are not necessarily listed by name in the § 172.101 Table. If a marine pollutant not listed by name or by synonym in the § 172.101 Table meets the definition of any hazard Class 1 through 8, then you must determine the class and division of the material in accordance with § 173.2a of this subchapter. You must also select the most appropriate hazardous material description and proper shipping name. If a marine pollutant not listed by name or by synonym in the § 172.101 Table does not meet the definition of any Class 1 through 8, then you must offer it for transportation under the most appropriate of the following two Class 9 entries: “Environmentally hazardous substances, liquid, n.o.s.,” UN3082, or “Environmentally hazardous substances, solid, n.o.s.,” UN3077.

* * * * *

List of Marine Pollutants
S.M.P. | Marine pollutant
(1) | (2)
[Remove:] | Acetal
| Acetaldehyde
| Amyl mercaptans
| Anisole
| Benzaldehyde
| Butyl benzenes
| n-Butyl butyrate
| Butylphenols, liquid
| Butylphenols, solid
| Butyraldehyde
| Calcium naphthenate
| Camphor oil
| Chlorotoluenes (ortho-, meta-, para-)
| Coal tar
| Coal tar naphtha
| Creosote (coal tar)
| Creosote (wood tar)
| Cresols (o-; m-; p-)
| Cresylic acid
| Cresylic acid sodium salt
| normal-Decaldehyde
| normal-Decanol
| Decyl acrylate
| Dichlorobenzene (meta; ortho; para)
| Dichlorophenols, liquid
| Dichlorophenols, solid
| 2,4-Dichlorophenoxyacetic acid (see also 2,4D)
| 2,4 Dichlorophenoxyacetic acid diethanolamine salt
| 2,4 Dichlorophenoxyacetic acid dimethylamine salt
| 2,4-Dichlorophenoxyacetic acid triisopropylamine salt
| Diethybenzenes (mixed isomers)
| Diisopropylnaphthalene
| Dimethyl disulphide
| Dimethyl glyoxal (butanedione)
| Dimethyl sulphide
| Diphenyl ether
| Diphenyl ether/biphenyl phenyl ether mixtures
| Diphenyl/diphenyl ether (mixtures)
| EPTC (ISO)
| Ethyl acrylate, inhibited
| 2-Ethylbutyraldehyde
| 2-Ethylhexenal
| Ethyl chlorothioformate
| 2,4-Hexadiene aldehyde
| normal-Hexaldehyde
| Iron oxide, spent
| Iron sponge, spent
| Isobutyl aldehyde
| Isobutyl isobutyrate
| Isobutyl priopionate
| Isobutyraldehyde
| Isodecaldehyde
| Isodecanol
| Isononanol
| Isooctanol
| Isopropylbenzene
| Isovaleraldehyde
| 1-Methyl-4-ethylbenzene
| 2-Methyl-5-ethylpyridine
| Methyl salicylate
| 2-Methylbutyraldehyde
| Methylnaphthalenes, liquid
| Methylnaphthalenes, solid
| Naphthalene, crude or refined
| Naphthalene, molten
| Naphthenic acids, liquid
| Naphthenic acids, solid
| Nitrocresols
| Nitrotolueunes (ortho-;meta-;para-), liquid
| Nitrotoluenes (ortho-;meta-;para-), solid
| 1-Nonanal
| 1-Nonanol
| 1-Octanol
| alpha-Pinene
| Propanethiols
| Propionaldehyde
| n-Propylbenzene
| Styrene monomer, inhibited
| n-Tetramethylbenzenes
| 4-Thiapentanal
| 1,2,3-Trimethylbenzene
| 1,2,4-Trimethyl benzene
| 1,3,5-Trimethyl benzene
| Turpentine
| 1-Undecanol
| normal-Valeraldehyde
| Vinyltoluenes, inhibited mixed isomers
| Xylenols
[Add:]
* * * * * * *
| Chlorotoluenes (meta-;para-)
* * * * * * *
| Desmedipham
* * * * * * *
PP | Diclofop-methyl
* * * * * * *
| Dichlorobenzene (para)
* * * * * * *
| Diisopropylnaphthalenes, mixed isomers
* * * * * * *
PP | Fenchlorazole-ethyl
* * * * * * *
PP | Fenoxapro-ethyl
* * * * * * *
PP | Fenoxaprop-P-ethyl
* * * * * * *
| Linuron
* * * * * * *
PP | Silafluofen
* * * * * * *
PP | 1,2,3-Trichlorobenzene
* * * * * * *
[Revise:]
* * * * * * *
PP | Dodecyl hydroxypropyl sulfide
* * * * * * *

14. In § 172.102, in paragraph (c)(1), Special Provisions 43, 110, 128 and 136 would be revised and Special Provisions 139, 142 and 143 would be added; paragraph (c)(3) introductory text, Special Provisions B53 and B69 and paragraphs (c)(4) and (c)(7) would be revised; and in paragraph (c)(8), Specials Provisions W7, W8 and W9 would be added in numerical order to read as follows:

§ 172.102 Special provisions.

* * * * *

(c) * * *

(1) * * *

Code/Special Provisions

* * * * *

43 The membrane filters, including paper separators and coating or backing materials, that are present in transport, must not be able to propagate a detonation as tested by one of the tests described in the UN Manual of Tests and Criteria, Part I, Test series 1(a). On the basis of the results of suitable burning rate tests, and taking into account the standard tests in the UN Manual of Tests and Criteria, Part III, subsection 33.2.1, nitrocellulose membrane filters in the form in which they are to be transported that do not meet the criteria for a Division 4.1 material are not subject to the requirements of this subchapter. Packagings must be so constructed that explosion is not possible by reason of increased internal pressure. Nitrocellulose membrane filters covered by this entry, each with a mass not exceeding 0.5 g, are not subject to the requirements of this subchapter when contained individually in an article or a sealed packet.

* * * * *

110 Fire extinguishers transported under UN1044 may include installed actuating cartridges (cartridges, power device of Division 1.4C or 1.4S), without changing the classification of Division 2.2, provided the aggregate quantity of deflagrating (propellant) explosives does not exceed 3.2 grams per extinguishing unit.

* * * * *

128 Regardless of the provisions of § 172.101(c)(12), aluminum smelting by-products, aluminum remelting by-products and coated magnesium granules described under these entries meeting the definition of Class 8, Packing Group II or III, may be classed as a Division 4.3 material and transported under this entry. The presence of a Class 8 hazard must be communicated as required by this part for subsidiary hazards.

* * * * *

136 This entry only applies to machinery and apparatus containing hazardous materials as in integral element of the machinery or apparatus. It may not be used to describe machinery or apparatus for which a proper shipping name exists in the § 172.101 Table. Except when approved by the Associate Administrator, machinery or apparatus may only contain hazardous materials for which exceptions are referenced in Column (8) of the § 172.101 Table and are provided in part 173, subpart D, of this subchapter. Hazardous materials shipped under this entry are excepted from the labeling requirements of this subchapter unless offered for transportation or transported by aircraft and are not subject to the placarding requirements of subpart F of part 173 of this subchapter. Orientation markings as described in § 172.312 (a)(2) are required when liquid hazardous materials may escape due to incorrect orientation. The machinery or apparatus, if unpackaged, or the packaging in which it is contained shall be marked “Dangerous goods in machinery” or “Dangerous goods in apparatus”, as appropriate, with the identification number UN3363. For transportation by aircraft, machinery or apparatus may not contain any material forbidden for transportation by passenger or cargo aircraft. The Associate Administrator may except from the requirements of this subchapter, equipment, machinery and apparatus provided:

a. It is shown that it does not pose a significant risk in transportation;

b. The quantities of hazardous materials do not exceed those specified in § 173.4 of this subchapter; and

c. The equipment, machinery or apparatus conforms with § 173.222 of this subchapter.

* * * * *

139 Use of the “special arrangement” proper shipping names for international shipments must be made under an IAEA Certificate of Competent Authority issued by the U.S. Competent Authority in accordance with the requirements in § 173.471, § 173.472, or § 173.473 of this subchapter. Use of these proper shipping names for domestic shipments may be made only under a DOT exemption, as defined in, and in accordance with the requirements of subpart B of part 107 of this subchapter.

* * * * *

142 These hazardous materials may not be classified and transported unless authorized by the Associate Administrator. The Associate Administrator will base the authorization on results from Series 2 tests and a Series 6(c) test from the UN Manual of Tests and Criteria on packages as prepared for transport in accordance with the requirements of this subchapter.

143 These articles may contain:

a. Division 2.2 compressed gases, including oxygen;

b. Signal devices (Class 1) which may include smoke and illumination signal flares. Signal devices must be packed in plastic or fiberboard inner packagings;

c. Electric storage batteries;

d. First aid kits; or

e. Strike anywhere matches.

* * * * *

(3) “B” codes. These provisions apply only to bulk packagings, other than IBCs:

Code/Special Provisions

* * * * *

B53 Packagings must be made of either aluminum or steel.

* * * * *

B69 Dry sodium cyanide or potassium cyanide may be shipped in sift-proof weather-resistant metal covered hopper cars, covered motor vehicles, portable tanks or non-specification bins. Bins must be approved by the Associate Administrator.

* * * * *

(4) Table 1—IBC Codes and BB Special IBC Packing Provisions. These provisions apply only to transportation in IBCs:

Table 1.—IBC Codes¹
IBC Code | Authorized IBCs
IB1 | Authorized IBCs: Metal (31A, 31B and 31N).
| Additional Requirement: Only liquids with a vapor pressure less than or equal to 110 kPa at 50 °C (1.1 bar at 122 °F), or 130 kPa at 55 °C (1.3 bar at 131 °F) are authorized.
IB2 | Authorized IBCs: Metal (31A, 31B and 31N); Rigid plastics (31H1 and 31H2); Composite (31HZ1).
| Additional Requirement: Only liquids with a vapor pressure less than or equal to 110 kPa at 50 °C (1.1 bar at 122 °F), or 130kPa at 55 °C (1.3 bar at 131 °F) are authorized.
IB3 | Authorized IBCs: Metal (31A, 31B and 31N); Rigid plastics (31H1 and 31H2); Composite (31HZ1 and 31HA2, 31HB2, 31HN2, 31HD2 and 31HH2).
| Additional Requirement: Only liquids with a vapor pressure less than or equal to 110 kPa at 50 °C (1.1 bar at 122 °F), or 130 kPa at 55 °C (1.3 bar at 131 °F) are authorized.
IB4 | Authorized IBCs: Metal (11A, 11B, 11N, 21A, 21B, 21N, 31A, 31B and 31N).
IB5 | Authorized IBCs: Metal (11A, 11B, 11N, 21A, 21B, 21N, 31A, 31B and 31N);
| Rigid plastics (11H1, 11H2, 21H1, 21H2, 31H1 and 31H2); Composite (11HZ1, 21HZ1 and 31HZ1).
IB6 | Authorized IBCs: Metal (11A, 11B, 11N, 21A, 21B, 21N, 31A, 31B and 31N); Rigid plastics (11H1, 11H2, 21H1, 21H2, 31H1 and 31H2); Composite (11HZ1, 11HZ2, 21HZ1, 21HZ2, 31HZ1 and 31HZ2).
| Additional Requirement: Composite IBCs 11HZ2 and 21HZ2 may not be used when the hazardous materials being transported may become liquid during transport.
IB7 | Authorized IBCs: Metal (11A, 11B, 11N, 21A, 21B, 21N, 31A, 31B and 31N); Rigid plastics (11H1, 11H2, 21H1, 21H2, 31H1 and 31H2); Composite (11HZ1, 11HZ2, 21HZ1, 21HZ2, 31HZ1 and 31HZ2); Wooden (11C, 11D and 11F).
| Additional Requirement: Liners of wooden IBCs must be sift-proof.
IB8 | Authorized IBCs: Metal (11A, 11B, 11N, 21A, 21B, 21N, 31A, 31B and 31N); Rigid plastics (11H1, 11H2, 21H1, 21H2, 31H1 and 31H2); Composite (11HZ1, 11HZ2, 21HZ1, 21HZ2, 31HZ1 and 31HZ2); Fiberboard (11G); Wooden (11C, 11D and 11F); Flexible (13H1, 13H2, 13H3, 13H4, 13H5, 13L1, 13L2, 13L3, 13L4, 13M1 or 13M2).
IB99 | IBCs are only authorized if approved by the Associate Administrator.
¹ 1 IBCs may be used for the transportation of hazardous materials when no IBC code is assigned in the § 172.101 Hazardous Materials Table for the specific material if approved by the Associate Administrator.

Table 2.—Organic Peroxide IBC Code (IB52)¹
UN No. | Organic peroxide | Type of IBC | Maximum quantity (liters) | Control temperature (°C) | Emergency temperature (°C)
3109 | ORGANIC PEROXIDE, TYPE F, LIQUID |  |  |
| tert-Butyl hydroperoxide, not more than 72% with water | 31A | 1250 |  |
| tert-Butyl peroxyacetate, not more than 32% in diluent type A | 31A 31HA1 | 1250 1000 |  |
| tert-Butyl peroxy-3,5,5-trimethylhexanoate, not more than 32% in diluent type A | 31A 31HA1 | 1250 1000 |  |
| Cumyl hydroperoxide, not more than 90% in diluent type A | 31HA1 | 1250 |  |
| Dibenzoyl peroxide, not more than 42% as a stable dispersion | 31H1 | 1000 |  |
| Di-tert-butyl peroxide, not more than 52% in diluent type A | 31A 31HA1 | 1250 1000 |  |
| 1,1-Di-(tert-butylperoxy) cyclohexane, not more than 42% in diluent type A | 31H1 | 1000 |  |
| Dilauroyl peroxide, not more than 42%, stable dispersion, in water | 31HA1 | 1000 |  |
| Isopropyl cumyl hydroperoxide, not more than 72% in diluent type A | 31HA1 | 1250 |  |
| p-Menthyl hydroperoxide, not more than 72% in diluent type A | 31HA1 | 1250 |  |
| Peroxyacetic acid, stabilized, not more than 17% | 31H1 31HA1 31A | 1500 1500 1500 |  |
3119 | ORGANIC PEROXIDE, TYPE F, LIQUID, TEMPERATURE CONTROLLED |  |  |
| tert-Butyl peroxy-2-ethylhexanoate, not more than 32% in diluent type B | 31HA1 31A | 1000 1250 | +30 +30 | +35 +35
| tert-Butyl peroxyneodecanoate, not more than 32% in diluent type A | 31A | 1250 | 0 | +10
| tert-Butyl peroxyneodecanoate, not more than 42% stable dispersion, in water | 31A | 1250 | −5 | +5
| tert-Butyl peroxypivalate, not more than 27% in diluent type B | 31HA1 31A | 1000 1250 | +10 +10 | +15 +15
| Cumyl peroxyneodecanoate, not more than 52%, stable dispersion, in water | 31A | 1250 | −15 | −5
| Di-(4-tert-butylcyclohexyl) peroxydicarbonate, not more than 42%, stable dispersion, in water | 31HA1 | 1000 | +30 | +35
| Dicetyl peroxydicarbonate, not more than 42%, stable dispersion, in water | 31HA1 | 1000 | +30 | +35
| Di-(2-ethylhexyl) peroxydicarbonate, not more than 52%, stable dispersion, in water | 31A | 1250 | −20 | −10
| Dimyristyl peroxydicarbonate, not more than 42%, stable dispersion, in water | 31HA1 | 1000 | +15 | +20
| Di-(3,5,5-trimethylhexanoyl) peroxide, not more than 38% in diluent type A | 31HA1 31A | 1000 1250 | +10 C +10 C | +15 +15
| Di-(3,5,5-trimethylhexanoyl) peroxide, not more than 52%, stable dispersion, in water | 31A | 1250 | +10 | +15
| 1,1,3,3-Tetramethylbutyl peroxyneodecanoate, not more than 52%, stable dispersion, in water | 31A | 1250 | −5 | +5
¹ This IBC Code applies to organic peroxides of type F. For formulations not listed in this table, only IBCs that are approved by the Associate Administrator may be used.

Table 3.—BB Codes
BB1 | IBCs must be packed in closed freight containers or a closed transport vehicle.
BB2 | When IBCs other than metal or rigid plastics IBCs are used, they must be offered for transportation in a closed freight container or a closed transport vehicle.
BB3 | Flexible IBCs shall be sift-proof and water-resistant or shall be fitted with a sift-proof and water-resistant liner.
BB4 | Flexible, fiberboard or wooden IBCs must be sift-proof and water-resistant or be fitted with a sift-proof and water-resistant liner.
BB5 | IBCs must be provided with a device to allow venting. The inlet to the venting device must be located in the vapor space of the IBC under maximum filling conditions.
BB6 | Non-specification bulk bins are authorized.
BB7 | For UN identification numbers 1327, 1363, 1364, 1365, 1386, 1841, 2211, 2217, 2793 and 3314, IBCs are not required to meet the IBC performance tests specified in part 178 of this subchapter.

* * * * *

(7) “T” codes. (i) These provisions apply to the transportation of UN portable tanks. Portable tank instructions specify the requirements applicable to a portable tank when used for the transportation of a specific hazardous material. These requirements must be met in addition to the design and construction specifications in part 178 of this subchapter. Portable tank instructions T1 through T22 specify the applicable minimum test pressure, the minimum shell thickness (in reference steel), bottom opening requirements and pressure relief requirements. In T23, the organic peroxides and self-reactive substances which are authorized to be transported in portable tanks are listed along with the applicable control and emergency temperatures. Liquefied compressed gases are assigned to portable tank instruction T50. T50 provides the maximum allowable working pressures, bottom opening requirements, pressure relief requirements and degree of filling requirements for liquefied compressed gases permitted for transport in portable tanks. Refrigerated liquefied gases which are authorized to be transported in portable tanks are specified in tank instruction T75.

(ii) The following table specifies the portable tank requirements applicable to T Codes T1 through T22. Column 1 specifies the T Code. Column 2 specifies the minimum test pressure, in bar (1 bar = 14.5 psig), at which the periodic hydrostatic testing required by § 173.32b of this subchapter must be conducted. Column 3 specifies the section reference for minimum shell thickness or, alternatively, the minimum shell thickness value. Column 4 specifies the applicability of § 178.275(f)(3) of this subchapter for the pressure relief devices. When the word “Normal” is indicated, § 178.275(f)(3) of this subchapter does not apply. Column 5 either references the applicable requirements for bottom openings in part 178 of this subchapter, or references “Prohibited” which means bottom openings are prohibited. The table follows:

Table of Portable Tank T Codes
[Portable Tank Instructions: T1-T22—Portable tank instructions. T1-T22 apply to liquid and solid hazardous materials of Classes 3 through 9 which are transported in portable tanks.]
Portable tank instruction | Minimum test pressure (bar) | Minimum shell thickness (in mm-reference steel) (See § 178.274(d)) | Pressure-relief requirements (See § 178.275(f)) | Bottom opening requirements (See § 178.275(c))
(1) | (2) | (3) | (4) | (5)
T1 | 1.5 | § 178.274(d)(2) | Normal | § 178.274(c)(2).
T2 | 1.5 | § 178.274(d)(2) | Normal | § 178.275(c)(3).
T3 | 2.65 | § 178.274(d)(2) | Normal | § 178.275(c)(2).
T4 | 2.65 | § 178.274(d)(2) | Normal | § 178.275(c)(3).
T5 | 2.65 | § 178.274(d)(2) | § 178.275(f)(3) | Prohibited.
T6 | 4 | § 178.274(d)(2) | Normal | § 178.275(c)(2).
T7 | 4 | § 178.274(d)(2) | Normal | § 178.275(c)(3).
T8 | 4 | § 178.274(d)(2) | Normal | Prohibited.
T9 | 4 | 6 mm | Normal | Prohibited.
T10 | 4 | 6 mm | § 178.275(f)(3) | Prohibited.
T11 | 6 | § 178.274(d)(2) | Normal | § 178.275(c)(3).
T12 | 6 | § 178.274(d)(2) | § 178.275(f)(3) | § 178.275(c)(3).
T13 | 6 | 6 mm | Normal | Prohibited.
T14 | 6 | 6 mm | § 178.275(f)(3) | Prohibited.
T15 | 10 | § 178.274(d)(2) | Normal | § 178.275(c)(3).
T16 | 10 | § 178.274(d)(2) | § 178.275(f)(3) | § 178.275(c)(3).
T17 | 10 | 6 mm | Normal | § 178.275(c)(3).
T18 | 10 | 6 mm | § 178.275(f)(3) | § 178.275(c)(3).
T19 | 10 | 6 mm | § 178.275(f)(3) | Prohibited.
T20 | 10 | 8 mm | § 178.275(f)(3) | Prohibited.
T21 | 10 | 10 mm | Normal | Prohibited.
T22 | 10 | 10 mm | § 178.275(f)(3) | Prohibited.

(iii) The following table specifies the portable tank requirements applicable to T23 for self-reactive substances of Division 4.1 and organic peroxides of Division 5.2 which are authorized to be transported in portable tanks:

Portable Tank Instruction
[T23—Portable tank instruction. T23 applies to self-reactive substances of Division 4.1 and organic peroxides of Division 5.2.]
UN No. | Hazardous material | Minimum test pressure (bar) | Minimum shell thickness (mm-reference steel) | Bottom opening requirements | Pressure-relief requirements | Filling limits | Control temperature (°C) | Emergency temperature (°C)
3109 | Organic peroxide, Type F, liquid | 444444 | See § 178.274(d)(2) | See § 178.275(c)(3) | See § 178.275(j)(1) | Not more than 90% at 59 °F (15 °C)
| tert-Butyl hydroperoxide not more than 72% water. (Provided that steps have been taken to achieve the safety equivalence of 65% tert-Butyl hydroperoxide and 35% water.) |  | § 178.274(d)(2) | § 178.275(c)(3) | § 178.275(j)(1) | Not more than 90% at 59 °F (15 °C)
| Cumyl hydro-peroxide, not more than 90% in diluent type A |  | § 178.274(d)(2) | § 178.275(c)(3) | § 178.275(j)(1) | Not more than 90% at 59 °F (15 °C)
| Di-tert-butyl peroxide, not more than 32% in diluent type A |  | § 178.274(d)(2) | § 178.275(c)(3) | § 178.275(j)(1) | Not more than 90% at 59 °F (15 °C)
| Isopropyl cumyl hydro-peroxide, not more than 72% in diluent type A |  | § 178.274(d)(2) | § 178.275(c)(3) | § 178.275(j)(1) | Not more than 90% at 59 °F (15 °C)
| p-Menthyl hydro-peroxide, not more than 72% in diluent type A |  | § 178.274(d)(2) | § 178.275(c)(3) | § 178.275(j)(1) | Not more than 90% at 59 °F (15 °C)
| Pinanyl hydro-peroxide, not more than 50% in diluent type A |  | § 178.274(d)(2) | § 178.275(c)(3) | § 178.275(j)(1) | Not more than 90% at 59 °F (15 °C)
3110 | Organic peroxide, Type F, solid | 4 | § 178.274(d)(2) | § 178.275(c)(3) | § 178.275(j)(1) | Not more than 90% at 59 °F (15 °C)
| Dicumyl peroxide. Maximum quantity per portable tank 2,000 kg |
3119 | Organic peroxide, Type F, liquid, temperature controlled | 444444 | See § 178.274(d)(2) | See § 178.275(c)(3) | See § 178.275(j)(1) | Not more than 90% at 59 °F (15 °C) | As approved by Assoc. Admin. for HMS | As approved by Assoc. Admin. for HMS.
| tert-Butyl peroxyacetate, not more than 32% in diluent type B |  | § 178.274(d)(2) | § 178.275(c)(3) | § 178.275(j)(1) | Not more than 90% at 59 °F (15 °C) | +30 | +35
| tert-Butyl peroxy-2-ethylhexanoate, not more than 32% in diluent type B |  | § 178.274(d)(2) | § 178.275(c)(3) | § 178.275(j)(1) | Not more than 90% at 59 °F (15 °C) | +15 | +20
| tert-Butyl peroxypivalate, not more than 27% in diluent type B |  | § 178.274(d)(2) | § 178.275(c)(3) | § 178.275(j)(1) | Not more than 90% at 59 °F (15 °C) | −5 | +10
| tert-Butyl peroxy-3,5,5-trimethyl-hexanoate, not more than 32% in diluent type B |  | § 178.274(d)(2) | § 178.275(c)(3) | § 178.275(j)(1) | Not more than 90% at 59 °F (15 °C) | +35 | +40
| Di-(3,5,-trimethyl-hexanoyl) peroxide, not more than 38% in diluent type A |  | § 178.274(d)(2) | § 178.275(c)(3) | § 178.275(j)(1) | Not more than 90% at 59 °F (15 °C) | 0 | +5
3120 | Organic peroxide, Type F, solid, temperature controlled | 4 | § 178.274(d)(2) | § 178.275(c)(3) | § 178.275(j)(1) | Not more than 90% at 59 °F (15 °C) | As approved by Assoc. Admin. for HMS | As approved by Assoc. Admin. for HMS.
3229 | Self-reactive liquid Type F | 4 | § 178.274(d)(2) | § 178.275(c)(3) | § 178.275(j)(1) | Not more than 90% at 59 °F (15 °C)
3230 | Self-Reactive solid Type F | 4 | § 178.274(d)(2) | § 178.275(c)(3) | § 178.275(j)(1) | Not more than 90% at 59 °F (15 °C)
3239 | Self-reactive liquid Type F, temperature controlled | 4 | § 178.274(d)(2) | § 178.275(c)(3) | § 178.275(j)(1) | Not more than 90% at 59 °F (15 °C) | As approved by Assoc. Admin. for HMS | As approved by Assoc. Admin. for HMS.
3240 | Self-reactive solid Type F, temperature controlled | 4 | § 178.274(d)(2) | § 178.275(c)(3) | § 178.275(j)(1) | Not more than 90% at 59 °F (15 °C) | As approved by Assoc. Admin. for HMS | As approved by Assoc. Admin. for HMS.

(iv) The following portable tank instruction applies to portable tanks used for the transportation of liquefied compressed gases. The T50 table provides the UN identification number and proper shipping name for each liquefied compressed gas authorized to be transported in a T50 portable tank. The following table provides maximum allowable working pressures, bottom opening requirements, pressure relief device requirements and degree of filling requirements for each liquefied compressed gases permitted for transportation in a T50 portable tank:

Note to reader: We are proposing to revise the word “stabilized” in the proper shipping names below to read “inhibited” (see preamble discussion under § 172.101).

Portable Tank Instruction
[T50—Portable tank instruction 50 applies to liquefied compressed gases.]
UN No. | Non-refrigerated liquefied compressed gasses | Max. allowable working pressure (bar) Small; Bare; Sunshield Insulated | Openings below liquid level | Pressure relief requirements (See § 178.276(e)) | Maximum filing density (kg/l)
1005 | Ammonia, anhydrous | 29.0 25.7 22.0 19.7 | Allowed | § 178.276(e) | 0.53
1009 | Bromotrifluoromethane or Refrigerant gas R 13B1 | 38.0 34.0 30.0 27.5 | ......do | Normal | 1.13
1010 | Butadienes, stabilized | 7.5 7.0 7.0 7.0 | ......do | ......do | 0.55
1011 | Butane | 7.0 7.0 7.0 7.0 | ......do | ......do | 0.51
1012 | Butylene | 8.0 7.0 7.0 7.0 | ......do | ......do | 0.53
017 | Chlorine | 19.0 17.0 15.0 13.5 | Not allowed | § 178.276(e) | 1.25
1018 | Chlorodifluoromethane or Refrigerant gas R 22 | 26.0 24.0 21.0 19.0 | Allowed | Normal | 1.03
1020 | Chloropentafluoroethane or Refrigerant gas R 115 | 23.0 20.0 18.0 16.0 | ......do | ......do | 1.06
1021 | 1-Chloro-1,2,2,2-tetrafluoroethane or Refrigerant gas R 124 | 10.3 9.8 7.9 7.0 | ......do | ......do | 1.2
1027 | Cyclopropane | 18.0 16.0 14.5 13.0 | ......do | ......do | 0.53
1028 | Dichlorodifluoromethane or Refrigerant gas R 12 | 16.0 15.0 13.0 11.5 | ......do | ......do | 1.15
1029 | Dichlorofluoromethane or Refrigerant gas R 21 | 7.0 7.0 7.0 7.0 | ......do | ......do | 1.23
1030 | 1,1-Difluoroethane or Refrigerant gas R 152a | 16.0 14.0 12.4 11.0 | ......do | ......do | 0.79
1032 | Dimethylamine, anhydrous | 7.0 7.0 7.0 7.0 | ......do | ......do | 0.59
1033 | Dimethyl ether | 15.5 13.8 12.0 10.6 | ......do | ......do | 0.58
1036 | Thylamine | 7.0 7.0 7.0 7.0 | ......do | ......do | 0.61
1037 | Ethyl chloride | 7.0 7.0 7.0 7.0 | ......do | ......do | 0.8
1040 | Ethylene oxide with nitrogen up to a total pressure of 1MPa (10 bar) at 50 °C | −10 | Not allowed | § 178.276(e) | .078
1041 | Ethylene oxide and carbon dioxide mixture with more than 9% but no more than 87% ethylene oxide | ¹ | Allowed | Normal | See § 173.32(f)
1055 | Isobutylene | 8.1 7.0 7.0 7.0 | ......do | ......do | 0.52
1060 |  | Methyl acetylene and propadiene mixture, stabilized | 28.0 24.5 22.0 20.0 | ......do | ......do | 0.43
1061 | Methylamine, anhydrous | 10.8 9.6 7.8 7.0 | ......do | ......do | 0.58
1062 | Methyl bromide | 7.0 7.0 7.0 7.0 | Not allowed | § 178.276(e) | 1.51
1063 | Methyl chloride or Refrigerant gas R 40 | 14.5 12.7 11.3 10.0 | Allowed | Normal | .081
1064 | Methyl mercaptan | 7.0 7.0 7.0 7.0 | Not allowed | § 178.276(e) | 0.78
1067 | Dinitrogen tetroxide | 7.0 7.0 7.0 7.0 | ....do | § 178.276(e) | 1.3
1075 | Petroleum gas, liquefied | (¹) | Allowed | Normal | See § 173.32(f)
1077 | Propylene | 28.0 24.5 22.0 20.0 | ......do | ......do | 0.43
1078 | Refrigerant gas, n.o.s | (¹) | ......do | ......do | See § 173.32(f)
1079 | Sulphur dioxide | 11.6 10.3 8.5 7.6 | Not Allowed | § 178.276(e) | 1.23
1082 | Trifluorochloroethylene, stabilized or Refrigerant gas R 1113 | 17.0 15.0 13.1 11.6 | ......do | § 178.276(e) | 1.13
1083 | Trimethylamine, anhydrous | 7.0 7.0 7.0 7.0 | Allowed | Normal | 0.56
1085 | Vinyl bromide, stabilized | 7.0 7.0 7.0 7.0 | ......do | ......do | 1.37
1086 | Vinyl chloride, stabilized | 10.6 9.3 8.0 7.0 | ......do | ......do | 0.81
1087 | Vinyl methyl ether, stabilized | 7.0 7.0 7.0 7.0 | ......do | ......do | 0.67
1581 | Chloropicrin and methyl bromide mixture | 7.0 7.0 7.0 7.0 | Not allowed | § 178.276(e) | 1.51
1582 | Chloropicrin and methyl chloride mixture | 19.2 16.9 15.1 13.1 | ......do | § 178.276(e) | 0.81
1858 | Hexafluoropropylene compressed or Refrigerant gas R 1216 | 19.2 16.9 15.1 13.1 | Allowed | Normal | 1.11
1912 | Methyl chloride and methylene chloride mixture | 15.2 13.0 11.6 10.1 | ......do | ......do | 0.81
1958 | 1,2-Dichloro-1,1,2,2-tetrafluoroethane or Refrigerant gas R 114 | 7.0 7.0 7.0 7.0 | ......do | ......do | 1.3
1965 | Hydrocarbon gas, mixture liquefied, n.o.s | (¹) | ......do | ......do | See § 173.32(f)
1969 | Isobutane | 8.5 7.5 7.0 7.0 | ......do | ......do | 0.49
1973 | Chlorodifluoromethane and chloropentafluoroethane mixture with fixed boiling point, with approximately 49% chlorodifluoromethane or Refrigerant gas R 502 | 28.3 25.3 22.8 20.3 | ......do | ......do | 1.05
1974 | Chlorodifluorobromomethane or Refrigerant gas R 12B1 | 7.4 7.0 7.0 7.0 | ......do | ......do | 1.61
1976 | Octafluorocyclobutane or Refrigerant gas RC 318 | 8.8 7.8 7.0 7.0 | ......do | ......do | 1.34
1978 | Propane | 22.5 20.4 18.0 16.5 | ......do | ......do | 0.42
1983 | 1-Chloro-2,2,2-trifluoroethane or Refrigerant gas R 133a | 7.0 7.0 7.0 7.0 | ......do | ......do | 1.18
2035 | 1,1,1-Trifluoroethane compressed or Refrigerant gas R 143a | 31.0 27.5 24.2 21.8 | ......do | ......do | 0.76
2424 | Octafluoropropane or Refrigerant gas R 218 | 23.1 20.8 18.6 16.6 | ......do | ......do | 1.07
2517 | 1-Chloro-1,1-difluoroethane or Refrigerant gas R 142b | 8.9 7.8 7.0 7.0 | ......do | ......do | 0.99
2602 | Dichlorodifluoromethane and difluoroethane azeotropic mixture with approximately 74% dichlorodifluoromethane or Refrigerant gas R 500 | 20.0 18.0 16.0 14.5 | ......do | ......do | 1.01
3057 | Trifluoroacetyl chloride | 14.6 12.9 11.3 9.9 | Not allowed | § 178.276(e) | 1.17
3070 | Ethylene oxide and dichlorodifluoromethane mixture with not more than 12.5% ethylene oxide | 14.0 12.0 11.0 9.0 | Allowed | § 178.276(e) | 1.09
3153 | Perfluoro (methyl vinyl ether) | 14.3 13.4 11.2 10.2 | ......do | Normal | 1.14
3159 | 1,1,1,2-Tetrafluoroethane or Refrigerant gas R 134a | 17.7 15.7 13.8 12.1 | ......do | ......do | 1.04
3161 | Liquefied gas, flammable, n.o.s. | (¹) | ......do | ......do | See § 173.32(f)
3163 | Liquefied gas, n.o.s. | (¹) | ......do | ......do | See § 173.32(f)
3220 | Pentafluoroethane or Refrigerant gas R 125 | 34.4 30.8 27.5 24.5 | ......do | ......do | 0.95
3252 | Difluoromethane or Refrigerant gas R 32 | 43.0 39.0 34.4 30.5 | ......do | ......do | 0.78
3296 | Heptafluoropropane or Refrigerant gas R 227 | 16.0 14.0 12.5 11.0 | ......do | ......do | 1.2
3297 | Ethylene oxide and chlorotetrafluoroethane mixture, with not more than 8.8% ethylene oxide | 8.1 7.0 7.0 7.0 | ......do | ......do | 1.16
3298 | Ethylene oxide and pentafluoroethane mixture, with not more than 7.9% ethylene oxide | 25.9 23.4 20.9 18.6 | ......do | ......do | 1.02
3299 | Ethylene oxide and tetrafluoroethane mixture, with not more than 5.6% ethylene oxide | 16.7 14.7 12.9 11.2 | ......do | ......do | 1.03
3318 | Ammonia solution, relative density less than 0.880 at 15 °C in water, with more than 50% ammonia | (¹) | .....do | § 178.276(e) | § 173.32(f)
3337 | Refrigerant gas R 404A | 31.6 28.3 25.3 22.5 | ......do | Normal | 0.84
3338 | Refrigerant gas R 407A | 31.3 28.1 25.1 22.4 | ......do | ......do | 0.95
3339 | Refrigerant gas R 407B | 33.0 29.6 26.5 23.6 | ......do | ......do | 0.95
3340 | Refrigerant gas R 407C | 29.9 26.8 23.9 21.3 | ......do | ......do | 0.95
¹ See MAWP definition in § 178.276(a).

(v) When portable tank instruction T75 is referenced in Column (7) of the § 172.101 Table, the applicable refrigerated liquefied gases are authorized to be transported in portable tanks in accordance with the requirements of § 178.277 of this subchapter.

(vi) When a specific portable tank instruction is specified by a T Code in Column (7) of the § 172.101 Table for a specific hazardous material, a Specification portable tank conforming to an alternative tank instruction may be used if:

(A) the portable tank has a higher or equivalent test pressure (for example, 4 bar when 2.65 bar is specified);

(B) the portable tank has greater or equivalent wall thickness (for example, 10 bar when 6 bar is specified);

(C) the portable tank has a pressure relief device as specified in the T Code or is preceded by a frangible disc when no frangible disc is required. If a frangible disc is required in series with the pressure relief device, the alternative portable tank must be fitted with a frangible disc; and

(D) the portable tank is fitted with bottom openings having two or three effective means of closure or no bottom openings when two effective means of closure are specified; or the portable tank has no bottom openings or three effective means of closure when three effective means of closure are specified. If no bottom openings are authorized, the alternative portable tank must not have bottom openings.

(vii) When a hazardous material is not assigned a portable tank T Code or TP 9 is referenced in Column (7) of the § 172.101 Table, the hazardous material may only be transported in a portable tank if approved by the Associate Administrator.

(viii) Portable tank special provisions are assigned to certain hazardous materials to specify requirements that are in addition to those provided by the portable tank instructions or the requirements in part 178 of this subchapter. Portable tank special provisions are designated with the abbreviation TP (tank provision) and are assigned to specific hazardous materials in Column (7) of the § 172.101 Table. The following is a list of the portable tank special provisions:

Code/Special Provisions

TP1 The maximum degree of filling must not exceed the degree of filling determined by the following (see Note 1 following TP3 for an explanation of the coefficients):

TP2 The maximum degree of filling must not exceed the degree of filling determined by the following (see Note 1 following TP3):

TP3 a. For liquids transported under elevated temperature, the maximum degree of filling is determined by the following:

Where: α is the mean coefficient of cubical expansion of the liquid between the mean temperature of the liquid during filling (tf) and the maximum mean bulk temperature during transportation (tr) both in degrees celsius.

b. For liquids transported under ambient conditions α may be calculated using the formula:

Where: d15 and d50 are the densities of the liquid at 15 °C (59 °F) and 50 °C (122 °F), respectively.

TP4 The maximum degree of filling for portable tanks must not exceed 90%.

TP5 [Reserved.]

TP6 To prevent the tank from bursting in an event, including fire engulfment under the conditions prescribed in CGA pamphlet S-1.2 (see § 171.7 of this subchapter), it must be equipped with pressure relief devices that are adequate in relation to the capacity of the tank and the nature of the hazardous material transported.

TP7 The vapor space must be purged of air by nitrogen or other means.

TP8 A portable tank having a minimum test pressure of 1.5 bar (150 kPa) may be used when the flashpoint of the hazardous material transported is greater than 0 °C (32 °F).

TP9 A hazardous material assigned to special provision TP9 in Column (7) of the § 172.101 Table may only be transported in a portable tank if approved by the Associate Administrator.

TP10 The portable tank must be fitted with a lead lining at least 5 mm (0.2 inches) thick. The lead lining must be tested annually to ensure that it is intact and functional. Another suitable lining material may be used if approved by the Associate Administrator.

TP12 This material is considered highly corrosive to steel.

TP13 Self-contained breathing apparatus must be provided when this hazardous material is transported by sea.

TP16 The tank must be protected against over and under pressurization which may be experienced during transportation. The means of protection must be approved by the approval agency designated to approve the portable tank in accordance with the procedures in subpart E, part 107 of this subchapter. The pressure relief device must be preceded by a frangible disk in accordance with the requirements of § 178.275(f)(3) of this subchapter to prevent crystallization of the product in the pressure relief device.

TP17 Only inorganic non-combustible materials may be used for thermal insulation of the tank.

TP18 The temperature of this material must be maintained between 18 °C (64.4 °F) and 40 °C (104 °F) while in transportation. Portable tanks containing solidified methacrylic acid must not be reheated during transportation.

TP19 The calculated wall thickness must be increased by 3 mm at the time of construction. Wall thickness must be verified ultrasonically at intervals midway between periodic hydraulic tests (every 2.5 years). The portable tank must not be used if the wall thickness is less than that prescribed by the applicable T code in Column (7) of the Table for this material.

TP20 This hazardous material must only be transported in insulated tanks under a nitrogen blanket.

TP21 The wall thickness must not be less than 8 mm. Tanks must be hydraulically tested and internally inspected at intervals not exceeding 2.5 years.

TP22 Lubricants for portable tank fittings must be oxygen compatible.

TP24 The portable tank may be fitted with a device to prevent the build up of excess pressure due to the slow decomposition of the hazardous material being transported. The device must be in the vapor space when the tank is filled under maximum filling conditions. This device must also prevent an unacceptable amount of leakage of liquid in the case of overturning.

TP25 Sulphur trioxide 99.95% pure and above may be transported in tanks without an inhibitor provided that it is maintained at a temperature equal to or above 32.5 °C (90.5 °F).

TP26 The heating device must be exterior to the shell. For UN 3176, this requirement only applies when the hazardous material reacts dangerously with water.

TP27 A portable tank having a minimum test pressure of 4 bar (400 kPa) may be used provided the calculated test pressure is 4 bar or less based on the MAWP of the hazardous material, as defined in § 178.275, where the test pressure is 1.5 times the MAWP.

TP28 A portable tank having a minimum test pressure of 2.65 bar (265 kPa) may be used provided the calculated test pressure is 2.65 bar or less based on the MAWP of the hazardous material, as defined in § 178.275 of this subchapter, where the test pressure is 1.5 times the MAWP.

TP29 A portable tank having a minimum test pressure of 1.5 bar (150.0 kPa) may be used provided the calculated test pressure is 1.5 bar or less based on the MAWP of the hazardous materials, as defined in § 178.275 of this subchapter, where the test pressure is 1.5 times the MAWP.

TP30 This hazardous material may only be transported in insulated tanks.

TP31 This hazardous material may only be transported in tanks in the solid state.

TP37 IM portable tanks are only authorized for the shipment of hydrogen peroxide solutions in water containing 72% or less hydrogen peroxide by weight. Pressure relief devices shall be designed to prevent the entry of foreign matter, the leakage of liquid and the development of any dangerous excess pressure. In addition, the portable tank must be designed so that internal surfaces may be effectively cleaned and passivated. Each tank must be equipped with pressure relief devices conforming to the following requirements:

Concentration of hydrogen peroxide solution | Total venting capacity in standard cubic feet per hour (S.C.F.H.) per pound of hydrogen peroxide solution
52% or less | 11
Over 52%, but not greater than 60% | 22
Over 60%, but not greater than 72% | 32

TP38 Each tank must be insulated with an insulating material so that the overall thermal conductance at 15.5 °C (60 °F) is no more than 1.5333 kilojoules per hour per square meter per degree Celsius (0.075 Btu per hour per square foot per degree Fahrenheit) temperature differential. Insulating materials may not promote corrosion to steel when wet.

TP44 Each portable tank must be made of stainless steel, except that steel other than stainless steel may be used in accordance with the provisions of § 173.24b(b) of this subchapter. Thickness of stainless steel for tank shell and heads must be the greater of 7.62 mm (0.300 inch) or the thickness required for a portable tank with a design pressure at least equal to 1.5 times the vapor pressure of the hazardous material at 46 °C (115 °F).

TP45 Each portable tank must be made of stainless steel, except that steel other than stainless steel may be used in accordance with the provisions of 173.24b(b) of this subchapter. Thickness of stainless steel for portable tank shells and heads must be the greater of 6.35 mm (0.250 inch) or the thickness required for a portable tank with a design pressure at least equal to 1.3 times the vapor pressure of the hazardous material at 46 °C (115 °F).

TP46 Portable tanks in sodium metal service are not required to be hydrostatically retested.

TP47 This hazardous material is not permitted for transport in IM portable tanks.

* * * * *

(8) * * *

Code/Special Provisions

W7 Vessel stowage category for uranyl nitrate hexahydrate solution is “D” as defined in § 172.101(k)(4).

W8 Vessel stowage category for pyrophoric thorium metal or pyrophoric uranium metal is “D” as defined in § 172.101(k)(4).

W9 When offered for transportation by water, the following Specification packagings are not authorized unless approved by the Associate Administrator: Woven plastic bags, plastic film bags, textile bags, paper bags, IBCs and bulk packagings.

* * * * *

13. In addition, in § 172.102, in paragraph (c)(3), Special Provisions B100, B101, B103, B104, B105, B106, B108, B109 and B110 would be removed.

14. In § 172.203, paragraph (d)(11) would be revised, new paragraphs (i)(5) and (i)(6) would be added, and paragraph (n) would be revised to read as follows:

§ 172.203 Additional description requirements.

* * * * *

(d) * * *

(11) For a shipment of low specific activity material or surface contaminated objects, the appropriate group notation of LSA-I, LSA-II, LSA-III, SCO-I, or SCO-II, unless these symbols are contained in the proper shipping name.

* * * * *

(i) * * *

(5) Minimum flashpoint if 61°C or below (in °C closed cup (c.c.).

(6) Subsidiary hazards not communicated in the proper shipping name.

* * * * *

(n) Elevated temperature materials. If a liquid material in a package meets the definition of an elevated temperature material in § 171.8 of this subchapter, and the fact that it is an elevated temperature material is not disclosed in the proper shipping name (for example, when the words “Molten” or “Elevated temperature” are part of the proper shipping name), the word “HOT” must immediately precede the proper shipping name of the material on the shipping paper.

* * * * *

15. In § 172.402, paragraph (b) would be revised to read as follows:

§ 172.402 Additional labeling requirements.

* * * * *

(b) Display of hazard class on labels. The appropriate hazard class or division number must be displayed in the lower corner of a primary hazard label and a subsidiary hazard label. A subsidiary label meeting the specifications of this section which were in effect on [Date of publication of final rule] (such as, a label without the hazard class or division number displayed in the lower corner of the label) may continue to be used as a subsidiary label in domestic transportation by rail or highway until October 1, 2005, provided the color tolerances are maintained and are in accordance with the display requirements in this subchapter.

* * * * *

§ 172.405 [Amended]

16. In § 172.405, the following changes would be made:

a. In paragraph (a) introductory text, the wording “subsidiary label when—” would be removed and “subsidiary label.” would be added in its place.

b. Paragraphs (a)(1) and (a)(2) would be removed.

17. In § 172.411, the section heading, the text of paragraph (c) preceding the labels, and paragraph (d) would be revised to read as follows:

§ 172.411 EXPLOSIVE 1.1, 1.2, 1.3, 1.4, 1.5 and 1.6 labels.

* * * * *

(c) Except for size and color, the EXPLOSIVE 1.4, EXPLOSIVE 1.5 and EXPLOSIVE 1.6 labels must be as follows:

* * * * *

(d) In addition to complying with § 172.407, the background color on the EXPLOSIVE 1.4, EXPLOSIVE 1.5, EXPLOSIVE 1.6 and EXPLOSIVE subsidiary label must be orange. The “*” shall be replaced with the appropriate compatibility group. The compatibility group letter must be shown as a capitalized Roman letter. Division numerals must measure at least 30 mm (1.2 inches) in height and at least 5 mm (0.2 inches) in width.

18. In addition, in § 172.411, in paragraph (c), the wording “EXPLOSIVE SUBSIDIARY LABEL:” and the label following it would be removed.

19. In § 172.504, in paragraph (g), a sentence would be added at the end of the existing text and paragraphs (g)(1) through (g)(4) would be added to read as follows:

§ 172.504 General placarding requirements.

* * * * *

(g) * * * When more than one compatibility group placard is required for Class 1 materials, only one placard is required to be displayed as follows:

(1) Explosive articles of compatibility groups C, D or E may be placarded displaying compatibility group E.

(2) Explosive articles of compatibility groups C, D, E or N may be placarded displaying compatibility group D.

(3) Explosive substances of compatibility groups C and D may be placarded displaying compatibility group D.

(4) Explosive articles of compatibility groups C, D, E or G, except for fireworks, may be placarded displaying compatibility group E.

20. In § 172.519, paragraph (b)(4) would be revised to read as follows:

§ 172.519 General specifications for placards.

* * * * *

(b) * * *

(4) For a placard corresponding to the primary or subsidiary hazard class of a material, the hazard class or division number must be displayed in the lower corner of the placard. A permanently affixed subsidiary placard meeting the specifications of this section which were in effect on [date of publication of final rule] (such as, a placard without the hazard class or division number displayed in the lower corner of the placard) and which was installed prior to October 1, 2001, may continue to be used as a subsidiary placard in domestic transportation by rail or highway, provided the color tolerances are maintained and are in accordance with the display requirements in this subchapter. Stocks of non-permanently affixed subsidiary placards in compliance with the requirements in effect on [date of publication of final rule], may continue to be used in domestic transportation by rail or highway until October 1, 2005, or until current stocks are depleted, whichever occurs first.

* * * * *

PART 173—SHIPPERS—GENERAL REQUIREMENTS FOR SHIPMENTS AND PACKAGINGS

21. The authority citation for part 173 would continue to read as follows:

Authority: 49 U.S.C. 5101-5127, 44701; 49 CFR 1.53.

22. In § 173.2a, in paragraph (b), in the Precedence of Hazard Table, in the first column, the first three entries would be amended by adding a footnote reference “²” immediately following “I”, “II”, and “III”, respectively, and in footnote 2 at the end of the table would be revised to read as follows:

§ 173.2a Classification of a material having more than one hazard.

* * * * *

(b) * * *

Precedence of Hazard Table
| * * * * * * *
² Materials of Division 4.1 other than self-reactive substances and solid desensitized explosives, and materials of Class 3 other than liquid desensitized explosives.

* * * * *

23. In § 173.4, paragraph (a)(1) introductory text is revised to read as follows:

§ 173.4 Small quantity exceptions.

(a) * * *

(1) The maximum quantity of material per inner receptacle or article is limited to:

* * * * *

24. In § 173.24b, paragraph (e) would be added to read as follows:

§ 173.24b Additional general requirements for bulk packagings.

* * * * *

(e) Specification packagings and UN standard packagings manufactured outside the United States—(1) UN portable tanks. A UN portable tank manufactured in the United States must conform in all details to the applicable requirements in this part, the specification requirements in part 178 of this subchapter and the retest requirements in part 180 of this subchapter.

(2) UN portable tanks manufactured outside the United States. A UN portable tank manufactured outside the United States, in accordance with national or international regulations based on the UN Recommendations on the Transport of Dangerous Goods and is an authorized packaging, it may be filled, offered and transported in the United States, if the § 172.101 Table of this subchapter authorizes the hazardous material and it conforms to the applicable T code and tank provision codes assigned to the hazardous material in Column (7) of the Table. In addition, the portable tank must be in accordance with the following:

(i) Conform to applicable provisions in the UN Recommendations on the Transport of Dangerous Goods (Incorporated by reference, see § 171.7 of this subchapter) and the requirements of this subpart;

(ii) Be capable of passing the prescribed tests in part 178 of this subchapter applicable to the UN portable tank specification;

(iii) Be designed and manufactured according to the ASME Code (Incorporated by reference, see § 171.7 of this subchapter) or a pressure vessel design code approved by the Associate Administrator;

(iv) Be approved by the Associate Administrator when the portable tank is designed and constructed under the provisions of an alternative arrangement (see § 178.274(a)(2) of this subchapter); and

(v) When manufactured in a country other than the United States, the competent authority of the country of manufacture must provide reciprocal treatment for UN portable tanks manufactured in the United States.

25. Section 173.32 would be revised to read as follows:

§ 173.32 Requirements for the use of portable tanks.

(a) General requirements. No person may offer a hazardous material for transportation in a portable tank except as authorized by this subchapter.

(1) Except as otherwise provided in this subpart, a portable tank may not be used for the transportation of a hazardous material unless it meets the requirements of this subchapter.

(2) No person may fill and offer for transportation a portable tank when the prescribed periodic test or inspection under subpart G of part 180 of this subchapter has become due until the test or inspection has been successfully completed. This requirement does not apply to any portable tank filled prior to the test or inspection due date.

(3) When a portable tank is used as a cargo tank container, it shall conform to all the requirements prescribed for cargo tank containers. (See § 173.33.)

(b) Substitute packagings. A particular Specification portable tank may be substituted for another portable tank as follows:

(1) An IM or UN portable tank may be used whenever an IM or UN portable tank having less stringent requirements is authorized provided the portable tank meets or exceeds the requirements for pressure-relief devices, bottom outlets and any other special provisions specified in § 172.102(c)(7)(vi) of this subchapter.

(2) Where a Specification IM101 or IM102 portable tank is prescribed, a Specification 51 portable tank otherwise conforming to the special commodity requirements of § 172.102(c)(7) of this subchapter may be used.

(3) A DOT Specification 51 portable tank may be used whenever a DOT Specification 56, 57, or 60 portable tank is authorized. A DOT Specification 60 portable tank may be used whenever a DOT Specification 56 or 57 portable tank is authorized. A higher integrity tank used instead of a specified portable tank must meet the same design profile; for example, a DOT Specification 51 portable tank must be lined if used instead of a lined DOT Specification 60 portable tank.

(c) Grandfather provisions for portable tanks—(1) Continued use of specification 56 and 57 portable tanks. Continued use of an existing portable tank constructed to DOT Specification 56 or 57 is authorized only for a tank constructed before October 1, 1996. A stainless steel portable tank internally lined with polyethylene that was constructed on or before October 1, 1996, and that meets all requirements of DOT Specification 57 except for being equipped with a polypropylene discharge ball valve and polypropylene secondary discharge opening closure, may be marked as a Specification 57 portable tank and used in accordance with the provisions of this section.

(2) A DOT Specification 51 and IM 101 or IM 102 portable tank may not be manufactured after January 1, 2003 may continue to be used for the transportation of a hazardous material provided they fulfill the requirements of this subchapter, including the specification requirements and the requirements of this subchapter for the transportation of the particular hazardous material (see § 171.14(d)(5) of this subchapter), and provided it conforms to the periodic inspection and tests specified for the particular portable tank in subpart G of part 180 of this subchapter. On and after January 1, 2003, all newly manufactured portable tanks must conform to the requirements for the design, construction and approval of UN portable tanks as specified in §§ 178.273, 178.274, 178.275, 178.276 and 178.277 of this subchapter.

(3) A DOT Specification portable tank manufactured prior to January 1, 1992 that is equipped with a non-reclosable pressure relief device may continue in service for the hazardous materials for which it is authorized. Except for a DOT Specification 56 or 57 portable tank, a DOT Specification portable tank manufactured after January 1, 1992, used for materials meeting the definition for Division 6.1 liquids, Packing Group I or II, Class 2 gases, or Class 3 or 4 liquids, must be equipped with a re-closing pressure relief valve having adequately sized venting capacity.

(d) Maximum Allowable Working Pressure. (1) Prior to filling and offering a portable tank for transportation, the shipper must confirm that the portable tank conforms to the specification required for the hazardous material and that the maximum allowable working pressure (MAWP) of the portable tank is greater than or equal to the highest pressure obtained under the following conditions:

(i) For compressed gases and certain refrigerated liquids that are not cryogenic liquids and that are not transported in a UN portable tank, the pressure prescribed in § 173.315. For liquefied compressed gases transported in a UN portable tank, the pressures prescribed in T50 in § 172.102 of this subchapter.

(ii) For liquid hazardous materials the pressures specified in § 178.275(a) of this subchapter used for determining the MAWP.

(iii) The maximum pressure used to load or unload the hazardous material.

(2) Unless otherwise specified, where a portable tank is authorized, the minimum tank design pressure is 172 kPa (25 psig) for any Packing Group I or Packing Group II liquid hazardous material that meets more than one hazard class definition.

(e) External inspection prior to filling. Each portable tank must be given a complete external inspection. Any unsafe condition must be corrected prior to its being offered for transportation. The external inspection shall include a visual inspection of:

(1) The shell, piping, valves and other appurtenances for corroded areas, dents, defects in welds and other defects such as missing, damaged, or leaking gaskets;

(2) All flanged connections or blank flanges for missing or loose nuts and bolts;

(3) All emergency devices for corrosion, distortion, or any damage or defect that could prevent their normal operation;

(4) All required markings on the tank for legibility; and

(5) Any device for tightening manhole covers to ensure such devices are operative and adequate to prevent leakage at the manhole cover.

(f) Loading requirements. (1) A hazardous material may not be loaded in a portable tank if the part of the tank or any of its appurtenances having contact with the material during transportation would be damaged, would cause a dangerous reaction with the material or would compromise the ability of the portable tank to retain the hazardous material.

(2) A hazardous material may not be loaded in a portable tank unless it has pressure relief devices providing total relieving capacity meeting the requirements of this subchapter.

(3) Except during a hydrostatic test, a portable tank may not be subjected to a pressure greater than its maximum allowable working pressure.

(4) A portable tank may not be loaded to a gross weight greater than the maximum allowable gross weight specified on its identification plate.

(5) Except for a non-flowable solid or a liquid with a viscosity of 2,680 centistokes (millimeters squared per second) or greater at 20°C (68 °F), a portable tank or compartment thereof having a volume greater than 7,500 L (1,980 gallons) may not be loaded to a filling density of more than 20% and less than 80% by volume. This filling restriction does not apply if a portable tank is divided by partitions or surge plates into compartments of not more than 7,500 L (1,980) capacity. Portable tanks must not be offered for transportation in an ullage condition liable to produce an unacceptable hydraulic force due to surge.

(6) The outage for a portable tank may not be less than 2% at a temperature of 50 °C (122 °F). For UN portable tanks, the applicable maximum filling limits apply as specified according to the assigned TP codes in Column (7) of the § 172.101 Table of this subchapter except when transported domestically.

(7) Each tell-tale indicator for the space between a frangible disc and a safety relief valve mounted in series must be checked after the tank is filled and prior to transportation to ensure that the frangible disc is leak free. Any leakage through the frangible disc must be corrected prior to offering the tank for transportation. The tell-tale device must be designed to prevent the loss of any hazardous material through the device itself while the tank is in transportation.

(8) During filling, the temperature of the hazardous materials shall not exceed the limits of the design temperature range of the portable tank.

(9) The maximum mass of liquefied compressed gas per liter (gallon) of shell capacity (kg/L or lbs./gal.) may not exceed the density of the liquefied compressed gas at 50 °C (122 °F). The portable tank must not be liquid full at 60 °C (140 °F).

(g) Relief system. Any DOT Specification portable tank manufactured prior to January 1, 1992 that is equipped with a non-reclosable pressure relief device may continue in service for the hazardous materials for which it it is authorized. Except for DOT Specification 56 and 57 portable tanks, any DOT Specification portable tank manufactured after January 1, 1992 used for materials meeting the definition for Division 6.1 liquids Packing Group I or II, Class 2 gases, or Class 3 or 4 liquids must be equipped with a reclosing pressure relief valve having adequately sized venting capacity.

(h) Additional requirements for specific modal transport. In addition to other applicable requirements, the following apply:

(1) A portable tank containing a hazardous material may not be loaded on a highway or rail transport vehicle unless loaded entirely within the horizontal outline thereof, without overhang or projection of any part of the tank assembly. In addition, for unloading a portable tank, see § 177.834(h) of this subchapter.

(2) A portable tank used for the transportation of flammable liquids by rail may not be fitted with non-reclosing pressure relief devices except in series with reclosing pressure relief valves.

(3) A portable tank or Specification 106A or 110A multi-unit tank car containing a hazardous material may not be offered for transportation aboard a passenger vessel unless:

(i) The vessel is operating under a change to its character of vessel certification as defined in § 171.8 of this subchapter; and

(ii) The material is permitted to be transported aboard a passenger vessel in the § 172.101 Table of this subchapter.

(i) Additional general commodity specific requirements. In addition to other applicable requirements, the following requirements apply:

(1) Each uninsulated portable tank used for the transportation of liquefied compressed gases must have an exterior surface finish that is significantly reflective, such as a light-reflecting color if painted, or a bright reflective metal or other material if unpainted.

(2) If a hazardous material is being transported in a molten state, the portable tank must be thermally insulated with suitable insulation material of sufficient thickness that the overall thermal conductance is not more than 0.080 Btu per hour per square foot per degree Fahrenheit differential.

(j) Additional requirements for portable tanks other than IM specification and UN portable tanks. (1) The bursting strength of any piping and fittings must be at least four times the design pressure of the tank, and at least four times the pressure to which, in any instance, it may be subjected in service by the action of a pump or other device (not including safety relief valves) that may subject piping to pressures greater than the design pressure of the tank.

(2) Pipe joints must be threaded, welded or flanged. If threaded pipe is used, the pipe and pipe fittings must not be lighter than (Schedule 80) weight. Non-malleable metals must not be used in the construction of valves or fittings. Where copper tubing is permitted, joints must be brazed or be of equally strong metal union type. The melting point of brazing material may not be lower than 1,000 °F (537.8°C). The method of joining tubing must not decrease the strength of the tubing such as by the cutting of threads.

(3) Non-malleable metals may not be used in the construction of valves or fittings.

(4) Suitable provision must be made in every case to allow for expansion, contraction, jarring and vibration of all pipe. Slip joints may not be used for this purpose.

(5) Piping and fittings must be grouped in the smallest practicable space and must be protected from damage as required by the specification.

(6) All piping, valves and fittings on every portable tank must be leakage tested with gas or air after installation and proved tight at not less than the design pressure of the portable tank on which they are used. In the event of replacement, all such piping, valves, or fittings so replaced must be tested in accordance with the requirements of this section before the portable tank is returned to transportation service. The requirements of this section apply to all hoses used on portable tanks, except that hoses may be tested either before or after installation on the portable tank.

(7) All materials used in the construction of portable tanks and their appurtenances may not be subject to destructive attack by the contents of the tank.

(8) All parts of the portable tanks and appurtenances for anhydrous ammonia must be steel. No aluminum, copper, silver, zinc, nor their alloys may be used. Brazed joints may not be used.

(9) Each outlet of a portable tank used for the transportation of liquefied compressed gases, except carbon dioxide, must be provided with a suitable automatic excess-flow valve (see definition in § 178.337-1(g) of this subchapter). These valves must be located inside the portable tank or at a point outside the portable tank where the line enters or leaves the portable tank. The valve seat must be located inside the portable tank or may be located within a welded flange or its companion flange, or within a nozzle or within a coupling. The installation must be made in such a manner as to reasonably assure that any undue strain which causes failure requiring functioning of the valve shall cause failure in such a manner that it will not impair the operation of the valve.

(i) Safety device connections and liquid level gauging devices that are constructed so that the outward flow of tank contents willl not exceed that passed by an opening of 0.1397 cm (0.0550 inches) are not required to be equipped with excess-flow valves.

(ii) An excess-flow valve must close automatically if the flow reaches the rated flow of gas or liquid specified by the original valve manufacturer when piping mounted directly on the valve is sheared off before the first valve, pump, or fitting downstream from the excess flow valve.

(iii) An excess-flow valve may be designed with a by-pass, not to exceed a 0.1016 cm (0.040 inches) diameter opening to allow equalization of pressure.

(iv) Filling and discharge lines must be provided with manually operated shut-off valves located as close to the tank as practical. The use of “Stop-Check” valves to satisfy with one valve the requirements of this section is forbidden.

(10) Each portable tank used for carbon dioxide and nitrous oxide must be lagged with a suitable insulation material of such thickness that the overall thermal conductance is not more than 0.08 Btu per square foot per degree Fahrenheit differential in temperature per hour. The conductance must be determined at 60° Fahrenheit. Insulation material used on portable tanks for nitrous oxide must be noncombustible.

(11) A refrigerating and/or heating coil or coils must be installed in portable tanks used for carbon dioxide and nitrous oxide. Such coils must be tested externally to at least the same pressure as the test pressure of the portable tank. The coils must also be tested internally to at least twice the working pressure of the heating or refrigerating system to be used, but in no case less than the test pressure of the portable tank. Such coils must be securely anchored. The refrigerant or heating medium to be circulated through the coil or coils must be such as to cause no adverse chemical reaction with the portable tank or its contents in the event of leakage.

§ 173.32a [Removed]

26. § 173.32a would be removed.

§ 173.32b [Removed]

27. § 173.32b would be removed.

§ 173.32c [Removed]

28. § 173.32c would be removed.

29. In § 173.61, paragraph (e)(3) would be revised and a new paragraph (e)(8) would be added to read as follows:

§ 173.61 Mixed packaging requirements.

* * * * *

(e) * * *

(3) Explosives of compatibility group S may be packaged together with explosives of all other compatibility groups except A and L, and the entire package shall be treated as belonging to any of the packaged compatibility groups except S.

* * * * *

(8) Explosive articles of compatibility groups C, D, E and G, except for fireworks and articles requiring special packaging, may be packaged together and the entire package shall be treated as belonging to compatibility group E.

§ 173.62 [Amended]

30. In § 173.62, in paragraph (c), in the Explosives Packing Instructions Table, in the fourth column, the following changes would be made in appropriate packaging specification number order:

a. For packing instruction entries, 112(a), 112(b), 112(c), 113, 115, 116, 130, 131, 134, 135, 136, 138, 140, 141, 142 and 144, under the word “Drums”, the wording “plywood (1D)” would be added in the alpha-numeric order of the parenthetical.

b. For the packing instruction entries, 112(c), 113, 115, 134, 138 and 140, under the word “Drums”, the wording “plastics, removable head (1H2)” would be added in the alpha-numeric order of the parenthetical.

c. For the packing instruction entries, 134 and 138, under the word “Drums”, the wording “fiberboard (1G)” would be added in the alpha-numeric order of the parenthetical.

d. For the packing instruction entry, 144, under the wording “plastics, expanded (4H1)”, the word “Drums.” would be added and under the new word “Drums.”, the wording, “steel, removable head (1A2)”, “Aluminum, removable head (1B2)” and “plastics, removable head (1H2)” would be added in the alpha-numeric order of the parenthetical.

e. For the packing instruction entry, 144, under the word “Boxes”, the wording “plastics, solid (4H2)” would be added in the alpha-numeric order of the parenthetical.

f. For the packing instruction entries, 112(c) and 113, under the word “Boxes”, the wording “aluminum (4B)” would be added in the alpha-numeric order of the parenthetical.

31. In § 173.128, paragraph (d)(1)(ii) would be revised to read as follows:

§ 173.128 Class 5, Division 5.2—Definitions and types.

* * * * *

(a) * * *

(1) * * *

(ii) A mixture of organic peroxides prepared according to § 173.225(c)(3); or

* * * * *

32. In § 173.150, paragraph (d)(2) is revised to read as follows:

§ 173.150 Exceptions for Class 3 (flammable) and combustible liquids.

* * * * *

(d) * * *

(2) Is in an inner packaging of five liters (1.3 gallons) or less, and is not transported as checked or carry-on baggage by passenger aircraft, except as provided in § 175.10(a)(17) of this subchapter; or

* * * * *

33. In § 173.162, paragraph (a) introductory text and (a)(1) would be revised to read as follows:

§ 173.162 Gallium.

(a) Except when packaged in cylinders or steel flasks, gallium must be packaged in packagings which meet the requirements of part 178 of this subchapter at the Packing Group I performance level for transportation by aircraft, and at the Packing Group III performance level for transport by highway, rail or vessel, as follows:

(1) In combination packagings intended to contain liquids consisting of glass, earthenware or rigid plastic inner packagings with a maximum net mass of 15 kg (33 pounds) each. The inner packagings must be packed in wood boxes (4C1, 4C2, 4D, 4F), fiberboard boxes (4G), plastic boxes (4H1, 4H2), fiber drums (1G) or removable head steel and plastic drums or jerricans (1A2, 1H2, 3A2 or 3H2) with sufficient cushioning materials to prevent breakage. Either the inner packagings or the outer packagings must have inner liners or bags of strong leakproof and puncture-resistant material impervious to the contents and completely surrounding the contents to prevent it from escaping from the package, irrespective of its position.

* * * * *

34. In § 173.185, a new sentence would be added at the end of paragraph (a), paragraphs (b) introductory text, (b)(1), (b)(2), (b)(5), (c)(1), (c)(2), and (c)(3) would be revised, and a heading would be added to paragraph (c) to read as follows:

§ 173.185 Lithium batteries and cells.

(a) * * * For the purposes of this subchapter, “lithium content” means the mass of lithium in the anode of a lithium metal or lithium alloy cell, except in the case of a lithium ion cell where the “equivalent lithium content” in grams is calculated to be 0.3 times the rated capacity in ampere-hours.

(b) Exceptions. Cells and batteries are not subject to the requirements of this subchapter if they meet the following requirements:

(1) Each cell with a liquid cathode may contain no more than 0.5 g of lithium content. Each cell with a solid cathode may contain no more than 1.0 g lithium content. Each lithium ion cell may contain no more than 1.5 g of equivalent lithium content;

(2) Each battery with a liquid cathode may contain an aggregate quantity of no more than 1.0 g lithium content. Each battery with a solid cathode may contain an aggregate quantity of no more than 2.0 g of lithium content. Each lithium-ion battery may contain an aggregate quantity of no more than 8.0 grams of equivalent lithium content;

* * * * *

(5) If when fully charged, the aggregate lithium content of the anodes in a liquid cathode battery is more than 0.5 g, or the aggregate lithium content of the anodes in a solid cathode battery is more than 1.0 g, then the battery may not contain a liquid or gas that is a hazardous material according to this subchapter unless the liquid or gas, if free, would be completely absorbed or neutralized by other materials in the battery.

(c) Additional exceptions. * * *

(1) The lithium content of the anode of each cell, when fully charged, is not more than 5 g;

(2) The aggregate lithium content of the anodes of each battery, when fully charged, is not more than 25 g;

(3) Each cell or battery is of the type proven to be non-dangerous by testing in accordance with tests in the UN Manual of Tests and Criteria (incorporated by reference, see § 171.7 of this subchapter). Such testing must be carried out on each type of cell or battery prior to the initial transport of that type; and

* * * * *

35. In § 173.224, paragraph (b)(4) would be revised; in the table following paragraph (b)(7), the following entry would be added in the appropriate alphabetical order; and paragraph (d) would be removed, to read as follows:

§ 173.224 Packaging and control and emergency temperatures for self-reactive materials.

* * * * *

(b) * * *

(4) Packing method. Column 4 specifies the highest packing method which is authorized for the self-reactive material. A packing method corresponding to a smaller package size may be used, but a packing method corresponding to a larger package size may not be used. The Table of Packing Methods in § 173.225(d) defines the packing methods. Bulk packagings are authorized as specified in § 173.225(d) for Type F self-reactive substances. Additional bulk packagings are authorized if approved by the Associate Administrator.

* * * * *

(7) * * *

Self-Reactive Substances
Self-reactive substance | Identification No. | Concentration—(%) | Packing method | Control temperature—(°C) | Emergency temperature | Notes
(1) | (2) | (3) | (4) | (5) | (6) | (7)
* * * * * * *
2,2′-Azodi(isobutyronitrile) as a water based paste | 3224 | ≤50% | OP6 |  |  |
* * * * * * *

* * * * *

36. In § 173.225, in paragraph (b), in the Organic Peroxide Table, the following entries would be removed and added in the appropriate alphabetical order; in Column (8), “7” and “10” would be removed each place they appear; and in the “NOTES” immediately following the Table, Notes “7” and “10” would be removed and reserved and Notes “26” and “27” would be added in the appropriate numerical order; and paragraphs (e) introductory text, (e)(3), and (e)(5) would be revised to read as follows:

§ 173.225 Packaging requirements and other provisions for organic peroxides.

* * * * *

(b) * * *

Organic Peroxide Table
Technical name | ID number | Concentration (mass %) | Diluent (mass %): A | Diluent (mass %): B | Diluent (mass %): I | Water (mass %) | Packing method | Temperature (°C): Control | Temperature (°C): Emergency | Note
(1) | (2) | (3) | (4a) | (4b) | (4c) | (5) | (6) | (7a) | (7b) | (8)
* * * * * * *
[REMOVE:]
tert-Amyl peroxybenzoate | UN3105 | ≤96 | ≥4 |  |  |  | OP7 |  |  |
* * * * * * *
tert-Butyl peroxy-2-ethylhexanoate | UN3119 | ≤32 |  | ≥68 |  |  | Bulk | 10 | 15 | 14
* * * * * * *
tert-Butyl peroxyneodecanoate [as a stable dispersion in water] | UN3117 | ≤42 |  |  |  |  | OP8 | 0 | 10
* * * * * * *
tert-Butyl peroxyneoheptanoate | UN3115 | ≤77 | ≥23 |  |  |  | OP7 | 10 | 15
* * * * * * *
tert-Butyl peroxypivalate | UN3119 | ≤27 |  | ≥73 |  |  | Bulk | −5 | 5 | 14
* * * * * * *
Cumyl peroxyneoheptanoate | UN3115 | ≤77 | ≥23 |  |  |  | OP7 | 0 | 10
* * * * * * *
Cyclohexanone peroxide(s) | UN3105 | ≤72 |  | ≥28 |  |  | OP7 |  |  | 5
* * * * * * *
1,1-Di-(tert-butylperoxy)-3,5,5- trimethylcyclohexane | UN3101 | >90-100 |  |  |  |  | OP5
1,1-Di-(tert-butylperoxy)-3,5,5- trimethylcyclohexane | UN3103 | >57-90 | ≥10 |  |  |  | OP5
1,1-Di-(tert-butylperoxy)-3,5,5-trimethylcyclohexane | UN3106 | ≤57 |  |  | ≥43 |  | OP7.
1,1-Di-(tert-butylperoxy)-3,5,5-trimethylcyclohexane | UN3107 | ≤57 | ≥43 |  |  |  | OP8
1,1-Di-(tert-butylperoxy)-3,5,5-trimethylcyclohexane | UN3107 | ≤32 | ≥26 | ≥42 |  |  | OP8
* * * * * * *
Di-(2-ethylhexyl) peroxydicarbonate | UN3115 | ≤77 |  | ≥23 |  |  | OP7 | −15 | −5
* * * * * * *
Diisopropyl peroxydicarbonate | UN3115 | ≤52 |  | ≥48 |  |  | OP7 | −10 | 0
* * * * * * *
2,5-Dimethyl-2,5-di-(2-ethylhexanoylperoxy)hexane | UN3115 | ≤100 |  |  |  |  | OP7 | 20 | 25 |
* * * * * * *
Dimyristyl peroxydicarbonate [as a stable dispersion in water] | UN3119 | ≤42 |  |  |  |  | IBC | 15 | 25 | 10
* * * * * * * −
Di-n-propyl peroxydicarbonate | UN3113 | ≤100 |  |  |  |  | OP4 | −25 | −15 |
* * * * * * *
Di-(3,5,5-trimethylhexanoyl) peroxide | UN3119 | ≤38 | ≥62 |  |  |  | Bulk | −10 | 0 | 14
* * * * * * *
Isopropyl sec-butyl peroxydicarbonate [and] Di-sec-butyl peroxy-dicarbonate [and] Di-isopropyl peroxydicarbonate | UN3115 | ≤32 +≤15-18 +≤12-15 | ≥38 |  |  |  | OP7 | −20 | −10 |
* * * * * * *
2,4,4-Trimethylpentyl-2-peroxyneodecanoate | UN3115 | ≤72 |  | ≥28 |  |  | OP7 | −5 | 5 |
2,4,4-Trimethylpentyl-2-peroxyneodecanoate [as a stable dispersion in water]. | UN3119 | ≤52 |  |  |  |  | OP8 | −5 | 5
2,4,4-Trimethylpentyl-2-peroxy phenoxyacetate | UN3115 | ≤37 |  | ≥63 |  |  | OP7 | −10 | 0
[ADD:]
tert-Amyl peroxybenzoate | UN3103 | ≤100 |  |  |  |  | OP5 |  |  |
* * * * * * *
tert-Butyl peroxy-2-ethylhexanoate | UN3119 | ≤32 |  | ≥68 |  |  | Bulk | 15 | 20 | 14
* * * * * * *
tert-Butyl peroxyneodecanoate [as a stable dispersion in water] | UN3117 | ≤52 |  |  |  |  | OP8 | 0 | 10 |
* * * * * * *
tert-Butyl peroxyneodecanoate [as a stable dispersion in water] | UN3119 | ≤42 |  |  |  |  | IBC | −5 | 5 | 10
* * * * * * *
tert-Butyl peroxyneodecanoate | UN3119 | ≤32 | ≥68 |  |  |  | IBC | 0 | 10 | 10
* * * * * * *
tert-Butyl peroxyneoheptanoate | UN3115 | ≤77 | ≥23 |  |  |  | OP7 | 0 | 10 |
* * * * * * *
tert-Butyl peroxypivalate | UN3119 | ≤27 |  | ≥73 |  |  | Bulk | 5 | 10 | 14
* * * * * * *
Cumyl peroxyneodecanoate [as a stable dispersion in water] | UN3119 | ≤52 |  |  |  |  | IBC | −15 | −5 |
* * * * * * *
Cumyl peroxyneoheptanoate | UN3115 | ≤77 | ≥23 |  |  |  | OP7 | −10 | 0 |
* * * * * * *
Cyclohexanone peroxide(s) | UN3105 | ≤72 | ≥28 |  |  |  | OP7 |  |  | 5
* * * * * * *
1,1-Di-(tert-butylperoxy)-3,3,5-trimethylcyclohexane | UN3101 | >90-100 |  |  |  |  | OP5 |  |  |
1,1-Di-(tert-butylperoxy)-3,3,5-trimethylcyclohexane | UN3103 | >57-90 | ≥10 |  |  |  | OP5 |  |  |
1,1-Di-(tert-butylperoxy)-3,3,5-trimethylcyclohexane | UN3105 | ≤77 |  | ≥23 |  |  | OP7 |  |  |
1,1-Di-(tert-butylperoxy)-3,3,5-trimethylcyclohexane | UN3106 | ≤57 |  |  | ≥43 |  | OP7 |  |  |
1,1-Di-(tert-butylperoxy)-3,3,5-trimethylcyclohexane | UN3107 | ≤57 | ≥43 |  |  |  | OP8
1,1-Di-(tert-butylperoxy)-3,3,5-trimethylcyclohexane | UN3107 | ≤32 | ≥26 | ≥42 |  |  | OP8 |  |  |
* * * * * * *
2,2-Di-(4,4-di-(tert-butylperoxy cyclohexyl) propane | UN3107 | ≤ 22 |  | ≥78 |  |  | OP8 |  |  |
* * * * * * *
Di-(2-ethylhexyl) peroydicarbonate [as a stable dispersion in water] | UN3119 | ≤52 |  |  |  |  | IBC | −20 | −10 |
* * * * * * *
Di-(2-ethoxyethyl) peroxydicarbonate | UN3115 | ≤52 |  | ≥48 |  |  | OP7 | −10 | 0 |
* * * * * * *
Di-(2-ethylhexyl) peroxydicarbonate | UN3115 | ≤77 | ≥23 |  |  |  | OP7 | −15 | −5 |
* * * * * * *
Di-(2-ethylhexyl) peroxydicarbonate [as a stable dispersion in water] | UN3117 | ≤ 62 |  |  |  |  | OP8 | −15 | −5 |
* * * * * * *
Diisopropyl peroxydicarbonate | UN3115 | ≤52 |  | ≥48 |  |  | OP7 | −20 | −10 |
* * * * * * *
Di-(3-methoxybutyl) peroxydicarbonate | UN3115 | ≤ 52 |  | ≥48 |  |  | OP7 | −5 | 5
* * * * * * *
Di-(3-methylbenzoyl) peroxide+Benzoyl (3-methylbenzoyl) peroxide+Dibenzoyl peroxide | UN3115 | ≤ 20+ ≤18+ ≤4 |  | ≥58 |  |  | OP7 | 35 | 40 |
* * * * * * *
2,5-Dimethyl-2,5-di-(tert-butylperoxy)hexane | UN3108 | ≤77 |  |  | ≥23 |  | OP8 |  |  |
* * * * * * *
2,5-Dimethyl-2,5-di-(tert-butylperoxy)hexyne-3 | UN3101 | >86-100 |  |  |  |  | OP5 |  |  |
* * * * * * *
Dimyristyl peroxydicarbonate [as a stable dispersion in water] | UN3119 | ≤42 |  |  |  |  | IBC | 15 | 20 | 10
* * * * * * *
Di-n-propyl peroxydicarbonate | UN3113 | ≤100 |  |  |  |  | OP3 | −25 | −15 |
* * * * * * *
Di-n-propyl peroxydicarbonate | UN3113 | ≤77 |  | ≥23 |  |  | OP5 | −20 | −10 |
* * * * * * *
tert-Hexyl peroxyneodecanoate | UN3115 | ≤71 | ≥29 |  |  |  | OP7 | 0 | 10 |
* * * * * * *
tert-Hexyl peroxypivalate | UN3115 | ≤72 |  | ≥28 |  |  | OP7 | 10 | 15 |
* * * * * * *
Methyl ethyl ketone peroxide(s) | UN3105 | ≤37 | ≥55 |  |  | ≥8 | OP7 26 |  |  |
* * * * * * *
1,1,3,3-Tetramethylbutyl peroxyneodecanoate | UN3115 | ≤72 |  | ≥28 |  |  | OP7 | −5 | 5 |
1,1,3,3-Tetramethylbutyl peroxyneodecanoate [as a stable dispersion in water] | UN3119 | ≤52 |  |  |  |  | IBC −5 | −5 | −10
1,1,3,3-Tetramethylbutyl peroxy phenoxyacetate | UN3115 | ≤37 |  | ≥63 |  |  | OP7 | −10 | 0 |
* * * * * * *
3,6,9-Triethyl-3,6,9-trimethyl-1,4,7-triperoxonane | UN3105 | ≤42 | ≥58 |  |  |  | OP7 |  |  | 27
* * * * * * *

Notes:

* * * * *

26. Available oxygen must be ≤ 10%.

27. Available oxygen must be ≤ 7.6%.

* * * * *

(e) Bulk packagings for organic peroxides. The following bulk packagings are authorized:

* * * * *

(3) Portable tanks. The following requirements apply to portable tanks intended for the transport of Type F organic peroxides or Type F self-reactive substances. DOT 51, 57, IM 101 portable tanks, and UN portable tanks that conform to the requirements of T23 (see § 172.102(c)(7) of this subchapter), when T23 is specified in Column (7) of the § 171.101 Table of this subchapter for the Type F organic peroxide or Type F self-reactive substance. Type F organic peroxide or self-reactive substance formulations other than those indicated in T23 may be transported in portable tanks if approved by the Associate Administrator. The following conditions also apply:

(i) The portable tank must be designed for a test pressure of at least 0.4 MPa (4 bar).

(ii) Portable tanks must be fitted with temperature-sensing devices.

(iii) Portable tanks must be fitted with pressure relief devices and emergency-relief devices. Vacuum-relief devices may also be used. Pressure relief devices must operate at pressures determined according to both the properties of the hazardous material and the construction characteristics of the portable tank. Fusible elements are not allowed in the shell.

(iv) The pressure relief devices must consist of reclosing devices fitted to prevent significant build-up within the portable tank of the decomposition products and vapors released at a temperature of 50 °C (122 °F). The capacity and start-to-discharge pressure of the relief devices must be in accordance with the applicable requirements of this subchapter specified for the portable tank. The start-to-discharge pressure must in no case be such that liquid would escape from the pressure relief devices if the portable tank were overturned.

(v)(A) The emergency-relief devices may be of the reclosing or frangible types, or a combination of the two, designed to vent all the decomposition products and vapors evolved during a period of not less than one hour of complete fire engulfment as calculated by the following formula:

Where:

q = heat absorption (W)

A = wetted area (m²)

(B) Insulation factor (F) in the formula in paragraph (e)(3)(v)(A) of this section equals 1 for non-insulated vessels and for insulated vessels F is calculated using the following formula:

Where:

U = K/L = heat transfer coefficient of the insulation (W·m⁻²·K⁻¹); where K = heat conductivity of insulation layer (W·m⁻¹·K⁻¹), and L = thickness of insulation layer (m).

TPO = temperature of material at relieving conditions (K).

(vi) The start-to-discharge pressure of emergency-relief devices must be higher than that specified for the pressure relief devices in paragraph (e)(3)(iv) of this section. The emergency-relief devices must be sized and designed in such a way that the maximum pressure in the shell never exceeds the test pressure of the portable tank.

Note to Paragraph (e)(3)(vi): An example of a method to determine the size of emergency-relief devices is given in Appendix 5 of the UN Manual of Tests and Criteria (incorporated by reference, see § 171.7 of this subchapter).

(vii) For insulated portable tanks, the capacity and setting of emergency-relief devices must be determined assuming a loss of insulation from 1 percent of the surface area.

(ix) Vacuum-relief devices and reclosing devices on portable tanks used for flammable hazardous materials must be provided with flame arresters. Any reduction of the relief capacity caused by the flame arrester must be taken into account and the appropriate relief capacity must be provided.

(x) Service equipment such as devices and external piping must be designed and constructed so that no hazardous material remains in them after filling the portable tank.

(xi) Portable tanks may be either insulated or protected by a sun-shield. If the SADT of the hazardous material in the portable tank is 55 °C (131 °F) or less, the portable tank must be completely insulated. The outer surface must be finished in white or bright metal.

(xii) The degree of filling must not exceed 90% at 15 °C (59 °F).

(xiii) DOT 57 metal portable tanks are authorized only for tert-butyl cumyl peroxide, di-(2-tert-butylperoxyisopropyl-benzene(s), dicumyl peroxide and mixtures of two or more of these peroxides.

* * * * *

(5) IBCs. IBCs are authorized subject to the conditions and limitations of this section provided the IBC type is authorized according to IB52 (see 172.102(c)(4) of this subchapter), as applicable, and the IBC conforms to the requirements in part 178 of this subchapter at the Packing Group II performance level. The following additional requirements also apply:

(i) IBCs shall be provided with a device to allow venting during transportation. The inlet to the pressure relief device shall be sited in the vapor space of the IBC under maximum filling conditions during transportation.

(ii) To prevent explosive rupture of metal IBCs or composite IBCs with complete metal casing, the emergency-relief devices shall be designed to vent all the decomposition products and vapors evolved during self-accelerating decomposition or during a period of not less than one hour of complete fire-engulfment as calculated by the formula in paragraph (e)(3)(v) of this section. The control and emergency temperatures specified in IB52 are based on a non-insulated IBC.

37. In § 173.240, paragraphs (c) and (d) would be revised to read as follows:

§ 173.240 Bulk packagings for certain low hazard solid materials.

* * * * *

(c) Portable tanks and closed bulk bins. DOT 51, 56, 57 and 60 portable tanks; IMO type 1, 2 and 5, and IM 101 and IM 102 portable tanks; UN portable tanks; marine portable tanks conforming to 46 CFR part 64; and sift-proof non-DOT Specification portable tanks and closed bulk bins are authorized.

(d) IBCs. IBCs are authorized subject to the conditions and limitations of this section provided the IBC type is authorized according to the IBC packaging code specified for the specific hazardous material in Column (7) of the § 172.101 Table of this subchapter and the IBC conforms to the requirements in part 178 of this subchapter at the Packing Group performance level as specified in Column (5) of the § 172.101 Table of this subchapter for the material being transported.

(1) IBCs may not be used for the following hazardous materials:

(i) Packing Group I liquids; and

(ii) Packing Group I solids that may become liquid during transportation.

(2) The following IBCs may not be used for Packing Group II and III solids that may become liquid during transportation:

(i) Wooden: 11C, 11D and 11;

(ii) Fiberboard: 11G;

(iii) Flexible: 13H1, 13H2, 13H3, 13H4, 13H5, 13L1, 13L2, 13L3, 13L4, 13M1 and 13M2; and

(iv) Composite: 11HZ2 and 21HZ2.

38. In § 173.241, paragraphs (c) and (d) would be revised to read as follows:

§ 173.241 Bulk packagings for certain low hazard liquid and solid materials.

* * * * *

(c) Portable tanks. DOT Specification 51, 56, 57 and 60 portable tanks; IMO type 1, 2 and 5, and IM 101 and IM 102 portable tanks; UN portable tanks; marine portable tanks conforming to 46 CFR part 64; and non-DOT Specification portable tanks suitable for transport of liquids are authorized.

(d) IBCs. IBCs are authorized subject to the conditions and limitations of this section provided the IBC type is authorized according to the IBC packaging code specified for the specific hazardous material in Column (7) of the § 172.101 Table of this subchapter and the IBC conforms to the requirements in part 178 of this subchapter at the Packing Group performance level as specified in Column (5) of the § 172.101 Table for the material being transported.

(1) IBCs may not be used for the following hazardous materials:

(i) Packing Group I liquids; and

(ii) Packing Group I solids that may become liquid during transportation.

(2) The following IBCs may not be used for Packing Group II and III solids that may become liquid during transportation:

(i) Wooden: 11C, 11D and 11F;

(ii) Fiberboard: 11G;

(iii) Flexible: 13H1, 13H2, 13H3, 13H4, 13H5, 13L1, 13L2, 13L3, 13L4, 13M1 and 13M2; and

(iv) Composite: 11HZ2 and 21HZ2.

39. In § 173.242, paragraphs (c) introductory text and (d) would be revised to read as follows:

§ 173.242 Bulk packagings for certain medium hazard liquids and solids, including solids with dual hazards.

* * * * *

(c) Portable tanks. DOT Specification 51, 56, 57 and 60 portable tanks; Specification IM and UN portable tanks when a T Code is specified in Column (7) of the § 172.101 Hazardous Materials Table for a specific hazardous material; and marine portable tanks conforming to 46 CFR part 64 are authorized. DOT Specification 57 portable tanks used for the transport by vessel of Class 3, Packaging Group II materials must conform to the following:

* * * * *

(d) IBCs. IBCs are authorized subject to the conditions and limitations of this section provided the IBC type is authorized according to the IBC packaging code specified for the specific hazardous material in Column (7) of the § 172.101 Table of this subchapter and the IBC conforms to the requirements in part 178 of this subchapter at the Packing Group performance level as specified in Column (5) of the § 172.101 Table of this subchapter for the material being transported.

(1) IBCs may not be used for the following hazardous materials:

(i) Packing Group I liquids; and

(ii) Packing Group I solids that may become liquid during transportation.

(2) The following IBCs may not be used for Packing Group II and III solids that may become liquid during transportation:

(i) Wooden: 11C, 11D and 11F;

(ii) Fiberboard: 11G;

(iii) Flexible: 13H1, 13H2, 13H3, 13H4, 13H5, 13L1, 13L2, 13L3, 13L4, 13M1 and 13M2; and

(iv) Composite: 11HZ2 and 21HZ2.

* * * * *

40. In § 173.243, paragraphs (c) and (d) would be revised to read as follows:

§ 173.243 Bulk packaging for certain high hazard liquids and dual hazard materials which pose a moderate hazard.

* * * * *

(c) Portable tanks. DOT Specification 51 and 60 portable tanks; UN portable tanks when a T code is specified in Column (7) of the § 172.101 Table of this subchapter for a specific hazardous material; and marine portable tanks conforming to 46 CFR part 64 with design pressure of at least 172.4 kPa (25 psig) are authorized.

(d) IBCs. IBCs are authorized subject to the conditions and limitations of this section provided the IBC type is authorized according to the IBC packaging code specified for the specific hazardous material in Column (7) of the § 172.101 Table of this subchapter and the IBC conforms to the requirements in part 178 of this subchapter at the Packing Group performance level as specified in Column (5) of the § 172.101 Table of this subchapter for the material being transported.

(1) IBCs may not be used for the following hazardous materials:

(i) Packing Group I liquids; and

(ii) Packing Group I solids that may become liquid during transportation.

(2) The following IBCs may not be used for Packing Group II and III solids that may become liquid during transportation:

(i) Wooden: 11C, 11D and 11F;

(ii) Fiberboard: 11G;

(iii) Flexible: 13H1, 13H2, 13H3, 13H4, 13H5, 13L1, 13L2, 13L3, 13L4, 13M1 and 13M2, and

(iv) Composite: 11HZ2 and 21HZ2.

* * * * *

41. In § 173.247, paragraph (c) would be revised to read as follows:

§ 173.247 Bulk packaging for certain elevated temperature materials (Class 9) and certain flammable elevated temperature materials (Class 3).

* * * * *

(c) Portable tanks. DOT Specification 51, 56, 57 and 60 portable tanks; IM 101, 102 portable tanks; UN portable tanks; marine portable tanks conforming to 46 CFR part 64; metal IBCs and non-specification portable tanks equivalent in structural design and accident damage resistance to specification packagings are authorized.

* * * * *

42. In § 173.306, paragraph (a)(4)(iii) would be revised to read as follows:

§ 173.306 Limited quantities of compressed gases.

(a) * * *

(4) * * *

(iii) Non-pressurized gases, flammable must be packed in hermetically-sealed glass or metal inner packagings of not more than 5 L (1.3 gallons) overpacked in a strong outer packaging.

* * * * *

43. In § 173.315, the text of paragraph (a) preceding the table and paragraphs (i)(1)((iii), (i)(3), (i)(4) and (i)(8) would be revised and paragraph (i)(7) would be removed and reserved to read as follows:

§ 173.315 Compressed gases in cargo tanks and portable tanks.

(a) Liquefied compressed gases that are transported in UN portable tanks must be loaded and offered for transportation in accordance with tank provision T50 in § 172.102 of this subchapter. A liquefied compressed gas offered for transportation in a cargo tank motor vehicle or a portable tank must be prepared in accordance with this section, § 173.32, § 173.33 and subpart E or subpart G of part 180 of this subchapter; for cryogenic liquids, also see § 173.326 and § 173.328. Except for UN portable tanks, a liquefied compressed gas must be loaded and offered for transportation in accordance with the following table:

* * * * *

(i) * * *

(1) * * *

(iii) For an insulated tank, the required relieving capacity of the relief valves must be the same as for an uninsulated tank, unless the insulation will remain in place and will be effective under fire conditions. In this case, except for UN portable tanks, each insulated tank must be covered by a sheet metal jacket of not less than 16 gauge thickness. For UN portable tanks where the relieving capacity of the valves has been reduced on the basis of the insulation system, the insulation system must remain effective at all temperatures less than 649 °C (1200.2 °F) and be jacketed with a material having a melting point of 700 °C (1292.0 °F) or greater.

* * * * *

(3) Each safety relief valve on a portable tank, other than a UN portable tank, must be set to start-to-discharge at pressure no higher than 110% of the tank design pressure and no lower than the design pressure specified in paragraph (a) of this section for the gas transported. For UN portable tanks used for liquefied compressed gases and constructed in accordance with the requirements of § 178.276 of this subchapter, the pressure relief device(s) must conform to § 178.276(e) of this subchapter.

(4) Except for UN portable tanks, each safety relief valve must be plainly and permanently marked with the pressure in p.s.i.g. at which it is set to discharge, with the actual rate of discharge of the device in cubic feet per minute of the gas or of air at 60 °F (15.6 °C) and 14.7 p.s.i.a., and with the manufacturer's name or trade name and catalog number. The start-to-discharge valve must be visible after the valve is installed. The rated discharge capacity of the device must be determined at a pressure of 120% of the design pressure of the tank. For UN portable tanks, each pressure relief device must be clearly and permanently marked as specified in § 178.274(f)(1) of this subchapter.

* * * * *

(8) Each safety relief valve outlet must be provided with a protective device to prevent the entrance and accumulation of dirt and water. This device must not impede flow through the valve. Pressure relief devices must be designed to prevent the entry of foreign matter, the leakage of liquid and the development of any dangerous excess pressure.

* * * * *

PART 175—CARRIAGE BY AIRCRAFT

44. The authority citation for Part 175 would continue to read as follows:

Authority: 49 U.S.C. 5101-5127; 49 CFR 1.53.

45. In § 175.10, paragraphs (a)(10) and (a)(16) would be revised, and paragraph (a)(17) would be added to read as follows:

§ 175.10 Exceptions.

(a) * * *

(10) Safety matches or a lighter intended for use by an individual when carried on one's person. However, lighters containing unabsorbed liquid fuel (other than liquefied gas), lighter fuel, and lighter refills are not permitted on one's person or in checked or carry-on baggage.

* * * * *

(16) Perfumes and colognes, purchased through duty-free sales, carried by passengers or crew in carry-on baggage.

(17) Alcoholic beverages containing—

(i) Not more than 24% alcohol by volume; or

(ii) More than 24% and not more than 70% alcohol by volume when in retail packagings not exceeding 5 liters (1.3 gallons) carried by a crewmember or passenger in checked or carry-on baggage, with a total net quantity per person of 5 liters (1.3 gallons) for such beverages.

* * * * *

46. In § 175.33, paragraph (a) introductory text would be revised to read as follows:

§ 175.33 Notification of pilot-in-command.

(a) Except as provided in § 175.10, when a hazardous material subject to the provisions of this subchapter is carried in an aircraft, the operator of the aircraft must provide the pilot-in-command with accurate and legible written information as early as practicable before departure of the aircraft, which specifies at least the following:

* * * * *

47. Section 175.78 would be revised to read as follows:

§ 175.78 Stowage compatibility of cargo.

(a) For stowage on an aircraft, in a cargo facility, or in any other area at an airport designated for the stowage of hazardous materials, packages containing hazardous materials which might react dangerously with one another may not be placed next to each other or in a position that would allow a dangerous interaction in the event of leakage.

(b) As a minimum, the segregation instructions prescribed in the following Segregation Table must be followed to maintain acceptable segregation between packages containing hazardous materials with different hazards. The Segregation Table instructions in paragraph (c) of this section apply whether or not the class or division is the primary or subsidiary risk. The Segregation Table follows:

Segregation Table
Hazard label | Class or division: 1 | Class or division: 2 | Class or division: 3 | Class or division: 4.2 | Class or division: 4.3 | Class or division: 5.1 | Class or division: 5.2 | Class or division: 8
1 | Note 1 | Note 2 | Note 2 | Note 2 | Note 2 | Note 2 | Note 2 | Note 2
1 | Note 2 |  |  |  |  |  |  |
2 | Note 2 |  |  |  |  |  |  |
3 | Note 2 |  |  |  |  | X |  |
4.2 | Note 2 |  |  |  |  | X |  |
4.3 | Note 2 |  |  |  |  | X |  | X
5.1 | Note 2 |  | X | X |  |  |  |
5.2 | Note 2 |  |  |  |  |  |  |
8 | Note 2 |  |  |  | X |  |  |

(c) Instructions for using the Segregation Table are as follows:

(1) The dots at the intersection of a row and column indicate that no restrictions apply.

(2) The letter “X” at the intersection of a row and column indicates that packages containing these classes of hazardous materials may not be stowed next to or in contact with each other, or in a position which would allow interaction in the event of leakage of the contents.

(3) Note 1. “Note 1” at the intersection of a row and column means the following:

(i) For explosives in compatibility groups A through K and N—

(A) Packages bearing the same compatibility group letter and the same division number may be stowed together.

(B) Explosives of the same compatibility group, but different divisions may be stowed together provided the whole shipment is treated as belonging to the division having the smaller number. However, when explosives of Division 1.5 Compatibility Group D are stowed together with explosives of Division 1.2 Compatibility Group D, the whole shipment must be treated as Division 1.1, Compatibility Group D.

(C) Packages bearing different compatibility group letters may not be stowed , whether or not they belong to the same division, except as provided in paragraphs (c)(3)(ii) and (iii) of this section.

(ii) Explosives in Compatibility Group L may not be stowed with explosives in other compatibility groups. They may only be stowed with the same type of explosives in Compatibility Group L.

(iii) Explosives of Division 1.4, Compatibility Group S, may be stowed with explosives of all compatibility groups except for Compatibility Groups A and L.

(iv) Other than explosives of Division 1.4, Compatibility Group S (see paragraph (c)(3)(iii) of this section), and Compatibility Groups C, D and E that may be stowed together, explosives that do not belong in the same compatibility group may not be stowed together.

(A) Any combination of substances in Compatibility Groups C and D must be assigned to the most appropriate compatibility group shown in the § 172.101 Hazardous Materials Table.

(B) Explosives in Compatibility Group N may be stowed together with explosives in Compatibility Groups C, D and E when the combination is assigned Compatibility Group D.

(4) Note 2. “Note 2” at the intersection of a row and column means that other than explosives of Division 1.4, Compatibility Group S, explosives may not be stowed together with that class.

(5) Packages containing hazardous materials with multiple hazards in the class or divisions, which require segregation in accordance with the Segregation Table need not be segregated from other packages bearing the same UN number.

(6) A package labeled “BLASTING AGENT” may not be stowed next to or in a position that will allow contact with a package of special fireworks or railway torpedoes.

48. In § 175.85 paragraph (a) would be revised to read as follows:

§ 175.85 Cargo location.

(a) Except as provided in § 175.10, no person may carry a hazardous material subject to the requirements of this subchapter in the cabin of a passenger-carrying aircraft or on the flight deck of any aircraft. Hazardous materials may be carried in a main deck cargo compartment of a passenger aircraft provided that the compartment is inaccessible to passengers and that it meets all certification requirements for a Class B aircraft cargo compartment in 14 CFR 25.857(b) or for a Class C aircraft cargo compartment in 14 CFR 25.857(c).

* * * * *

PART 176—CARRIAGE BY VESSEL

49. The authority citation for part 176 would continue to read as follows:

Authority: 49 U.S.C. 5101-5127; 49 CFR 1.53.

50. In § 176.2, the following definition would be added in appropriate alphabetical order to read as follows:

§ 176.2 Definitions.

* * * * *

INF cargo means packaged irradiated nuclear fuel, plutonium or high-level radioactive wastes as those terms are defined in the “International Code for the Safe Carriage of Packaged Irradiated Nuclear Fuel, Plutonium and High-Level Radioactive Wastes on Board Ships” (incorporated by reference, see § 171.7 of this subchapter).

* * * * *

51. In § 176.63, a new paragraph (e) would be added to read as follows:

§ 176.63 Stowage locations.

* * * * *

(e) Closed cargo transport unit, for the purpose of stowage of Class 1 (explosive) materials on board a vessel, means a clean, substantial, weatherproof box structure which can be secured to the ship's structure and includes a closed freight container, a closed vehicle, a closed rail wagon or a portable magazine. When this stowage is specified, stowage in small compartments such as deckhouses and mast lockers or oversized weatherproof packages (overpacks) are acceptable alternatives. The floor of any closed cargo transport unit or compartment shall be constructed of wood, close boarded or arranged so that goods are stowed on sparred gratings, wooden pallets or dunnage. Provided that the necessary additional specifications are met, a closed cargo transport unit may be used for Class 1 (explosive) magazine stowage type “A,” “B” or “C,” but not as a portable magazine.

52. In § 176.84, in paragraph (b) Table of provisions, the entries “4” and “5” would be revised, paragraph (c)(1) would be revised, in paragraph (c)(2), the List of Notes would be revised and paragraph (c)(3) would be removed to read as follows:

§ 176.84 Other requirements for stowage and segregation for cargo vessels and passenger vessels.

* * * * *

(b) Table of provisions:

Code | Provisions
* * * * *
4 | Stow “Separated from” liquid organic materials.
5 | Stow “Separated from” powdered metals and their compounds.
* * * * *

(c) * * *

(1) Explosive substances and explosive articles must be stowed in accordance with Column (10A) and Columm (10B) of the § 172.101 Table of this subchapter.

Notes | Provisions
5E | Stow “away from” lead and its compounds.
7E | Stowage category “04” for projectiles or cartridges for guns, cannons or mortars; Stowage category “08” for other types.
8E | When under deck, special stowage is required.
14E | On deck, cargo transport unit must be steel.
15E | On deck, cargo transport unit must be leakproof.
17E | On deck stowage is recommended.
19E | Substances which contain ammonium nitrate or other ammonium salts must be stowed “away from” Explosive, blasting, type C, UN0083.
20E | Stowage category “03” for projectiles or cartridges for guns, cannons or mortars; Stowage category “07” for other types; magazines must be of steel construction that prevents leakage.
21E | Cargo space ventilation must be carefully controlled to avoid excessive condensation.
22E | May not be stowed together with explosive substances containing ammonium nitrate or other ammonium salts. Segregate from other Class 1 (explosive) materials in the same manner as is required for flammable liquids.
23E | Stowage category “13” and, for on deck stowage, non-metallic lining of closed cargo transport unit is required when not in effectively sealed, sift-proof packages; Stowage category “10” permitted when in effectively sealed, sift-proof packages.
26E | For closed cargo transport unit, a non-metallic lining is required.
27E | Stow away from alkaline compounds.

§ 176.128 [Amended]

53. In § 176.128, in paragraph (c), the word “UN 0600” would be revised to read “UN 0060”.

§ 176.136 [Amended]

54. In § 176.136, in paragraph (e), the word “portable” would be removed.

55. In § 176.142, paragraph (a) would be revised to read as follows:

§ 176.142 Hazardous materials of extreme flammability.

(a) Except as allowed by paragraph (b) of this section, certain hazardous materials of extreme flammability may not be transported in a vessel carrying Class 1 (explosive) materials. This prohibition applies to the following liquid hazardous materials:

Carbon disulfide: UN1131, Class 3

Diethylzinc: UN1366, Division 4.2

Dimethylzinc: UN1370, Division 4.2

Magnesium alkyls: UN3053, Division 4.2

Methyl phosphorous dichloride: NA2845, Division 6.1

Nickel carbonyl: UN1259, Division 6.1

Pyrophoric liquid, inorganic, n.o.s.: UN3194, Division 4.2

Pyrophoric liquids, organic, n.o.s.: UN2845, Division 4.2

Pyrophoric organometallic compound, water-reactive, n.o.s.: UN3203, Division 4.2

* * * * *

56. A new section § 176.720 would be added to subpart M to read as follows:

§ 176.720 Requirements for carriage of INF cargo in international transportation.

(a) A vessel carrying INF cargo in international transportation must meet the requirements of the INF Code (incorporated by reference, see § 171.7 of this subchapter) in addition to all other applicable requirements of this subchapter.

PART 177—CARRIAGE BY PUBLIC HIGHWAY

57. The authority citation for part 177 would continue to read as follows:

Authority: 49 U.S.C. 5101-5127; 49 CFR 1.53.

58. In § 177.848, paragraph (g)(3)(vi) would be revised to read as follows:

§ 177.848 Segregation of hazardous materials.

* * * * *

(g) * * *

(3) * * *

(vi) “6” means explosive articles in compatibility group G, other than fireworks and those requiring special handling, may be loaded, transported and stored with articles of compatibility groups C, D and E, provided no explosive substances are carried in the same vehicle.

* * * * *

PART 178—SPECIFICATIONS FOR PACKAGINGS

59. The authority citation for part 178 would continue to read as follows:

Authority: 49 U.S.C. 5101-5127; 49 CFR 1.53.

60. A new section § 178.273 would be added to subpart H to read as follows:

§ 178.273 Approval of Specification IM portable tanks and UN portable tanks.

(a) Application for approval. (1) An owner or manufacturer of a portable tank shall apply for approval to a designated approval agency authorized to approve the portable tank in accordance with the procedures in subpart E, part 107 of this subchapter.

(2) Each application for approval must contain the following information:

(i) Three complete copies of all engineering drawings, calculations, and test data necessary to ensure that the design meets the relevant specification.

(ii) The manufacturer's serial number that will be assigned to each portable tank.

(iii) A statement as to whether the design type has been examined by any approval agency previously and judged unacceptable. Affirmative statements must be documented with the name of the approval agency, reason for nonacceptance, and the nature of modifications made to the design type.

(b) Action by approval agency. The approval agency shall perform the following activities:

(1) Review the application for approval to determine whether it is complete and conforms with the requirements of paragraph (a) of this section. If an application is incomplete, it will be returned to the applicant and the applicant will be informed in what respects the application is incomplete.

(2) Review all drawings and calculations to ensure that the design is in compliance with all requirements of the relevant specification. If the application is approved, one set of the approved drawings, calculations, and test data shall be returned to the applicant. The second and third (inspector's copy) sets of approved drawings, calculations, and test data shall be retained by the approval agency. Maintain drawings and approval records for as long as the portable tank remains in service. The drawings and records must be provided to DOT upon request.

(3) Witness all tests required for the approval of the portable tank specified in § 178.273 and part 180, subpart G, of this subchapter.

(4) Ensure, through appropriate inspection that each portable tank is fabricated in all respects in conformance with the approved drawings, calculations, and test data.

(5) Determine and ensure that the portable tank is suitable for its intended use and that it conforms to the requirements of this subchapter.

(6) For UN portable tanks intended for liquefied compressed gases and Division 6.1 liquids which meet the inhalation toxicity criteria (Zone A or B) as defined in § 173.132 of this subchapter, or that are designated as toxic by inhalation materials in the § 172.101 Table of this subchapter, the approval agency must ensure that:

(i) The portable tank has been constructed in accordance with the ASME Code, Section VIII, Division 1 (incorporated by reference, see § 171.7 of this subchapter). ASME Code, Section VIII, Division II or other design code may be used if approved by the Associate Administrator (see § 178.274(b)(1));

(ii) All applicable provisions of the design and construction have been met to the satisfaction of the designated approval agency in accordance with the rules established in the ASME Code and that the portable tank meets the requirements of the ASME Code or other design code if approved by the Associate Administrator (see § 178.274(b)(1)), and all the applicable requirements specified in this subchapter;

(iii) The authorized inspector has carried out all the inspections specified by the rules established in the ASME Code; and

(iv) The portable tank is marked with a U stamp code symbol under the authority of an authorized independent inspector.

(7) For UN portable tanks the approval certificate must also include the following:

(i) The results of the applicable framework and rail impact test specified in part 180, subpart G, of this subchapter; and

(ii) The results of the initial inspection and test in § 180.605 of this subchapter.

(8) Upon successful completion of all requirements of this subpart, the approval agency shall:

(i) Apply its name, identifying mark or identifying number, and the date upon which the approval was issued, to the metal identification marking plate attached to the portable tank. Any approvals for UN portable tanks authorizing design or construction alternatives (Alternate Arrangements) approved by the Associate Administrator (see § 178.274(a)(2)) must be indicated on the plate as specified in § 178.274(i).

(ii) Issue an approval certificate for each portable tank or, in the case of a series of identical portable tanks manufactured to a single design type, for each series of portable tanks. The approval certificate must include all the information required to be displayed on the required metal identification plate required by § 178.270-14 for IM portable tanks, § 178.245-6 for specification 51 steel portable tanks, or § 178.274(i) for UN portable tanks. The approval certificate must attest that the approval agency designated to approve the portable tank has approved the portable tank in accordance with the procedures in subpart E, part 107 of this subchapter and that the portable tank is suitable for its intended purpose and meets the requirements of this subchapter. When a series of portable tanks is manufactured without change in the design type, the certificate may be valid for the entire series of portable tanks representing a single design type. For UN portable tanks, the certificate must refer to the prototype test report, the hazardous materials or group of hazardous materials allowed to be transported, the materials of construction of the shell and lining (when applicable) and an approval number. The approval number must consist of the distinguishing sign or mark of the country (“USA” for the United States of America) where the approval was granted and a registration number.

(iii) Retain a copy of each approval certificate.

(9) The approval agency must remain independent from the manufacturer. The approval agency and the authorized inspector may be the same entity.

(c) Manufacturers' responsibilities. The manufacturer is responsible for compliance with the applicable specifications for the design and construction of portable tanks. In addition to responsibility for compliance, manufacturers are responsible for ensuring that the contracted approval agency and authorized inspector, if applicable, are qualified, reputable and competent. The manufacturer of a portable tank must:

(1) Comply with all the applicable requirements of the ASME Code (incorporated by reference, see § 171.7 of this subchapter) and of this subpart including, but not limited to, ensuring that the quality control, design calculations and required tests are performed and that all aspects of the portable tank meet the applicable requirements.

(2) Obtain and use a designated approval agency, if applicable, and obtain and use a DOT-designated approval agency to approve the design, construction and certification of the portable tank.

(3) Provide a statement in the manufacturers' data report attesting that each portable tank that is manufactured complies with the relevant specification and all the applicable requirements of this subchapter.

(4) Maintain records of the qualification of portable tanks for at least 5 years and provide copies to the approval agency and the owner of the tank. Provide records to the U.S. DOT upon request.

(d) Denial of application for approval. If an approval agency finds that a portable tank cannot be approved for any reason, it shall so notify the applicant in writing and shall provide the applicant with the reasons for which the approval is denied. A copy of the notification letter shall be provided to the Associate Administrator. An applicant aggrieved by a decision of an approval agency may appeal the decision in writing within 90 days of receipt to the Associate Administrator.

(e) Modifications to approved portable tanks. (1) Prior to modification of any approved portable tank which may affect conformance of an IM or UN portable tank, which may involve a change to the design type or which may affect its ability to retain the hazardous material in transportation, the person desiring to make such modification shall inform the approval agency that issued the initial approval of the portable tank (or if unavailable another approval agency) of the nature of the modification and request approval of the modification. The owner or manufacturer shall supply the approval agency with three sets of all revised drawings, calculations, and test data relative to the intended modification.

(2) A statement as to whether the intended modification has been examined by any approval agency previously judged unacceptable. An affirmative statement must be documented with the name of the approving agency, the reason for nonacceptance, and the nature of changes made to the modification since its original rejection.

(3) The approval agency shall review the request for modification, and if it is determined that the proposed modification is in full compliance with the relevant DOT specification, including a UN portable tank, the request shall be approved and the approval agency shall perform the following activities:

(i) Return one set of the approved revised drawings, calculations, and test data to the applicant. The second and third sets of the approved revised drawings, calculations, and data shall be retained by the approval agency as required in § 107.404(a)(3) of this subchapter.

(ii) Ensure through appropriate inspection that all modifications conform to the revised drawings, calculations, and test data.

(iii) Determine the extent to which retesting of the modified tank is necessary based on the nature of the proposed modification, and ensure that all required retests are satisfactorily performed.

(iv) If modification to an approved tank alters any information on the approval certificate, issue a new approval certificate for the modified tank and ensure that any necessary changes are made to the metal identification plate. A copy of each newly issued approval certificate shall be retained by the approval agency and by the owner of each portable tank.

(4) If it determined that the proposed modification is not in compliance with the relevant DOT specification, the request shall be denied. The procedures of paragraph (d) of this section apply to such denial.

(f) Termination of Approval Certificate. (1) The Associate Administrator may terminate an approval issued under this section if he determines that:

(i) Information upon which the approval was based is fraudulent or substantially erroneous; or

(ii) Termination of the approval is necessary to adequately protect against risks to life and property; or

(iii) The approval was not issued by the approval agency in good faith; or

(iv) That the portable tank does not meet the specification.

(2) Before an approval is withdrawn, the Associate Administrator gives the interested party(ies):

(i) Written notice of the facts or conduct believed to warrant the withdrawal;

(ii) Opportunity to submit oral and written evidence; and

(iii) Opportunity to demonstrate or achieve compliance with the application requirement.

(3) If the Associate Administrator determines that a certificate of approval must be withdrawn to preclude a significant and imminent adverse affect on public safety, he shall withdraw the certificate of approval issued by a designated approval agency. In such circumstances, the procedures of paragraphs (f)(2) (ii) and (iii) of this section need not be provided prior to withdrawal of the approval, but shall be provided as soon as practicable thereafter.

61. Section 178.274 would be added to subpart H to read as follows:

§ 178.274 Specifications for UN portable tanks.

(a) General. (1) Each UN portable tank must meet the requirements of this section. In addition to the requirements of this section, requirements specific to UN portable tanks used for liquid and solid hazardous materials, liquefied compressed gases and refrigerated liquefied gases are provided in §§ 178.275, 178.276 and 178.277, respectively. Requirements for approval, maintenance, inspection, testing and use are provided in § 178.273 and part 180, subpart G, of this subchapter. Any portable tank which meets the definition of a “container” within the terms of the International Convention for Safe Containers (CSC) must meet the requirements of the CSC as amended and 49 CFR parts 450 through 453 and must have a CSC safety approval plate.

(2) In recognition of scientific and technological advances, the technical requirements applicable to UN portable tanks may be varied if approved by the Associate Administrator and the portable tank is shown to provide a level of safety equal to or exceeding the requirements of this subchapter with respect to the compatibility of the transported hazardous materials and the ability of the portable tank to withstand impact, loading and fire conditions. Portable tanks approved to alternative technical requirements must be marked “Alternative Arrangement” as specified in paragraph (i) of this section.

(3) Definitions. The following definitions apply for the purposes of design and construction of UN portable tanks under this subpart:

Alternate Arrangement portable tank means a UN portable tank that has been approved to alternative technical requirements or testing methods other than those specified for UN portable tanks in part 178 or part 180 of this subchapter.

Approval agency means the designated approval agency authorized to approve the portable tank in accordance with the procedures in subpart E, part 107 of this subchapter.

Design pressure is defined differently depending on the hazardous materials intended to be transported in the portable tank. See §§ 178.275, 178.276 and 178.277 as applicable.

Design type means a portable tank or series of portable tanks made of materials of the same material specifications and thicknesses, manufactured by a single manufacturer, using the same fabrication techniques (for example, welding procedures) and made with equivalent structural equipment, closures, and service equipment.

Fine grain steel means steel which has a ferritic grain size of 6 or finer when determined in accordance with ASTM E 112 (incorporated by reference, see § 171.7 of this subchapter).

Jacket means the outer insulation cover or cladding which may be part of the insulation system.

Leakage test means a test using gas to subject the shell and its service equipment to an effective internal pressure of not less than 25% of the MAWP. For portable tanks used for refrigerated liquefied gases the leakage test must be conducted at an effective internal pressure of not less than 90% of the MAWP.

Maximum allowable working pressure (MAWP) is defined differently depending on the hazardous materials intended to be transported in the portable tank. See §§ 178.275, 178.276 and 178.277, as applicable.

Maximum permissible gross mass (MPGM) means the sum of the tare mass of the portable tank and the heaviest hazardous material authorized for transportation.

Mild steel means a steel with a guaranteed minimum tensile strength of 360 N/mm² to 440 N/mm² and a guaranteed minimum elongation at fracture as specified in paragraph § 178.274(c)(11).

Offshore portable tank means a portable tank specially designed for repeated use in the transportation of hazardous materials to, from and between offshore facilities. An offshore portable tank is designed and constructed in accordance with the Guidelines for the Approval of Containers Handled in Open Seas specified in the IMDG Code (incorporated by reference, see § 171.7 of this subchapter).

Reference steel means a steel with a tensile strength of 370 N/mm² and an elongation at fracture of 27%.

Service equipment means measuring instruments and filling, discharge, venting, safety, heating, cooling and insulating devices.

Shell means the part of the portable tank which retains the hazardous materials intended for transportation, including openings and their closures, but does not include service equipment or external structural equipment.

Structural equipment means the reinforcing, fastening, protective and stabilizing members external to the shell.

Test pressure means the maximum gauge pressure at the top of the shell during the hydraulic pressure test equal to not less than 1.5 times the design pressure for liquids and 1.3 for liquefied compressed gases. The minimum test pressure for portable tanks intended for specific hazardous materials is specified in the applicable portable tank T code assigned to a particular hazardous material in the § 172.101 Table of this subchapter.

(b) General design and construction requirements. (1) The design temperature range for the shell must be −40 °C to 50 °C (−40 °F to 122 °F) for hazardous materials transported under normal conditions of transportation, except for portable tanks used for refrigerated liquefied gases where the minimum design temperature must not be higher than the lowest (coldest) temperature (for example, service temperature) of the contents during filling, discharge or transportation. For hazardous materials handled under elevated temperature conditions, the design temperature must not be less than the maximum temperature of the hazardous material during filling, discharge or transportation. More severe design temperatures must be considered for portable tanks subjected to severe climatic conditions (for example, portable tanks transported in arctic regions). Shells must be designed and constructed in accordance with the requirements of the ASME Code, Section VIII, Division 1 (incorporated by reference, see § 171.7 of this subchapter), except as limited or modified in this subchapter. For portable tanks used for liquid or solid hazardous materials, a design code other than the ASME Code may be used if approved by the Associate Administrator. Portable tanks used for liquified compressed gases require an ASME certification and U stamp. Shells must be made of metallic materials suitable for forming. Non-metallic materials may be used for the attachments and supports between the shell and jacket, provided their material properties at the minimum and maximum design temperatures are proven to be sufficient. For welded shells, only a material whose weldability has been fully demonstrated may be used. Welds must be of high quality and conform to a level of integrity at least equivalent to the welding requirements specified in the ASME Code, Section VIII for the welding of pressure vessels. When the manufacturing process or the materials make it necessary, the shells must be suitably heat-treated to guarantee adequate toughness in the weld and in the heat affected zones. In choosing the material, the design temperature range must be taken into account with respect to risk of brittle fracture, stress corrosion cracking, resistance to impact, and suitability for the hazardous materials intended for transportation in the portable tank. When fine grain steel is used, the guaranteed value of the yield strength must be not more than 460 N/mm² and the guaranteed value of the upper limit of the tensile strength must be not more than 725 N/mm² according to the material specification. Aluminum may not be used as a construction material for the shell. Portable tank materials must be suitable for the external environment where they will be transported taking into account the determined design temperature range. Portable tanks must be designed to withstand, without loss of contents, at least the internal pressure due to the contents and the static, dynamic and thermal loads during normal conditions of handling and transportation. The design must take into account the effects of fatigue, caused by repeated application of these loads through the expected life of the portable tank.

(2) Portable tank shells, fittings, and pipework must be constructed from materials that are:

(i) Compatible with the hazardous materials intended to be transported; or

(ii) Properly passivated or neutralized by chemical reaction, if applicable; or

(iii) For portable tanks used for liquid and solid materials, lined with corrosion-resistant material directly bonded to the shell or attached by equivalent means.

(3) Gaskets and seals must be made of materials that are compatible with the hazardous materials intended to be transported.

(4) When shells are lined, the lining must be compatible with the hazardous materials intended to be transported, homogeneous, non-porous, free from perforations, sufficiently elastic and compatible with the thermal expansion characteristics of the shell. The lining of every shell, shell fittings and piping must be continuous and must extend around the face of any flange. Where external fittings are welded to the tank, the lining must be continuous through the fitting and around the face of external flanges. Joints and seams in the lining must be made by fusing the material together or by other equally effective means.

(5) Contact between dissimilar metals which could result in damage by galvanic action must be prevented by appropriate measures.

(6) The construction materials of the portable tank, including any devices, gaskets, linings and accessories, must not adversely affect or react with the hazardous materials intended to be transported in the portable tank.

(7) Portable tanks must be designed and constructed with supports that provide a secure base during transportation and with suitable lifting and tie-down attachments.

(c) Design criteria. (1) Portable tanks and their fastenings must, under the maximum permissible load, be capable of absorbing the following separately applied static forces (for calculation purposes, acceleration due to gravity (g) = 9.81m/s²):

(i) In the direction of travel: 2g (twice the MPGM multiplied by the acceleration due to gravity);

(ii) Horizontally at right angles to the direction of travel: 1g (the MPGM multiplied by the acceleration due to gravity);

(iii) Vertically upwards: 1g (the MPGM multiplied by the acceleration due to gravity); and

(iv) Vertically downwards: 2g (twice the MPGM multiplied by the acceleration due to gravity).

(2) Under each of the forces specified in paragraph (c)(1) of this section, the safety factor must be as follows:

(i) For metals having a clearly defined yield point, a design margin of 1.5 in relation to the guaranteed yield strength; or

(ii) For metals with no clearly defined yield point, a design margin of 1.5 in relation to the guaranteed 0.2% proof strength and, for austenitic steels, the 1% proof strength.

(3) The values of yield strength or proof strength must be the values according to recognized material standards. When austenitic steels are used, the specified minimum values of yield strength or proof strength according to the material standards may be increased by up to 15% when these greater values are attested in the material inspection certificate.

(4) Portable tanks must be capable of being electrically grounded to prevent dangerous electrostatic discharge when they are used for Class 2 flammable gases or Class 3 flammable liquids, including elevated temperature materials transported at or above their flash point.

(5) For shells of portable tanks used for liquefied compressed gases, the shell must consist of a circular cross section. Shells must be of a design capable of being stress-analysed mathematically or experimentally by resistance strain gauges as specified in UG-101 of the ASME Code (incorporated by reference, see § 171.7 of this subchapter), or other methods approved by the Associate Administrator.

(6) Shells must be designed and constructed to withstand a hydraulic test pressure of not less than 1.5 times the design pressure for portable tanks used for liquids and 1.3 times the design pressure for portable tanks used for liquefied compressed gases. Specific requirements are provided for each hazardous material in the applicable T Code or portable tank special provision specified in the § 172.101 Table of this subchapter. The minimum shell thickness requirements must also be taken into account.

(7) For metals exhibiting a clearly defined yield point or characterized by a guaranteed proof strength (0.2% proof strength, generally, or 1% proof strength for austenitic steels), the primary membrane stress (sigma) in the shell must not exceed 0.75 Re or 0.50 Rm, whichever is lower, at the test pressure, where:

Re = yield strength in N/mm², or 0.2% proof strength or, for austenitic steels, 1% proof strength;

Rm = minimum tensile strength in N/mm².

(8) The values of Re and Rm to be used must be the specified minimum values according to recognized material standards. When austenitic steels are used, the specified minimum values for Re and Rm according to the material standards may be increased by up to 15% when greater values are attested in the material inspection certificate.

(9) Steels which have a Re/Rm ratio of more than 0.85 are not allowed for the construction of welded shells. The values of Re and Rm to be used in determining this ratio must be the values specified in the material inspection certificate.

(10) Steels used in the construction of shells must have an elongation at fracture, in percentage, of not less than 10,000/Rm with an absolute minimum of 16% for fine grain steels and 20% for other steels.

(11) For the purpose of determining actual values for materials for sheet metal, the axis of the tensile test specimen must be at right angles (transversely) to the direction of rolling. The permanent elongation at fracture must be measured on test specimens of rectangular cross sections in accordance with ISO 6892 (see § 171.7 of this subchapter), using a 50 mm gauge length.

(d) Minimum shell thickness. (1) The minimum shell thickness must be the greatest thickness of the following:

(i) the minimum thickness determined in accordance with the requirements of paragraphs (d)(2) through (d)(10) of this section;

(ii) the minimum thickness determined in accordance with the ASME Code (incorporated by reference, see § 171.7 of this subchapter) or other approved pressure vessel code; or

(iii) the minimum thickness specified in the applicable T code or portable tank special provision indicated for each hazardous material in the § 172.101 Table of this subchapter.

(2) Shells (cylindrical portions, heads and manhole covers) not more than 1.80 m in diameter may not be less than 5 mm thick in the reference steel or of equivalent thickness in the metal to be used. Shells more than 1.80 m in diameter may not be less than 6 mm thick in the reference steel or of equivalent thickness in the metal to be used. For portable tanks used only for the transportation of powdered or granular solid hazardous materials of Packing Group II or III, the minimum thickness requirement may be reduced to 5 mm in the reference steel or of equivalent thickness in the metal to be used regardless of the shell diameter. For vacuum-insulated tanks, the aggregate thickness of the jacket and the shell must correspond to the minimum thickness prescribed in this paragraph, with the thickness of the shell itself not less than the minimum thickness prescribed in paragraph (d)(3) of this section.

(3) When additional protection against shell damage is provided in the case of portable tanks used for liquid and solid hazardous materials requiring test pressures less than 2.65 bar (265.0 kPa), subject to certain limitations specified in the UN Recommendations (incorporated by reference, see § 171.7 of this subchapter), the Associate Administrator may approve a reduced minimum shell thickness.

(4) The cylindrical portions, heads and manhole covers of all shells must not be less than 3 mm (0.1 inch) thick regardless of the material of construction, except for portable tanks used for liquefied compressed gases where the cylindrical portions, ends (heads) and manhole covers of all shells must not be less than 4 mm (0.2 inch) thick regardless of the material of construction.

(5) When steel that has characteristics other than that of reference steel is used, the equivalent thickness of the shell and heads must be determined according to the following formula:

Where:

e1 = required equivalent thickness (in mm) of the metal to be used;

e0 = minimum thickness (in mm) of the reference steel specified in the applicable T code or portable tank special provision indicated for each material in the § 172.101 Table of this subchapter;

d1 = 1.8m, unless the formula is used to determine the equivalent minimum thickness for a portable tank shell that is required to have a minimum thickness of 8mm or 10mm according to the applicable T code indicated in the § 172.101 Table of this subchapter. When reference steel thicknesses of 8mm or 10mm are specified, d1 is equal to the actual diameter of the shell but not less than 1.8m;

Rm1 = guaranteed minimum tensile strength (in N/mm²) of the metal to be used;

A1 = guaranteed minimum elongation at fracture (in %) of the metal to be used according to recognized material standards.

(6) The wall and all parts of the shell may not have a thickness less than that prescribed in paragraphs (d)(2), (d)(3) and (d)(4) of this section. This thickness must be exclusive of any corrosion allowance.

(7) There must be no sudden change of plate thickness at the attachment of the heads to the cylindrical portion of the shell.

(e) Service equipment. (1) Service equipment must be arranged so that it is protected against the risk of mechanical damage by external forces during handling and transportation. When the connections between the frame and the shell allow relative movement between the sub-assemblies, the equipment must be fastened to allow such movement without risk of damage to working parts. The external discharge fittings (pipe sockets, shut-off devices) and the internal stop-valve and its seating must be protected against mechanical damage by external forces (for example, by using shear sections). The filling and discharge devices (including flanges or threaded plugs) and any protective caps must be capable of being secured against unintended opening.

(2) Each connection to a portable tank must be clearly marked to indicate its function.

(3) Each stop-valve or other means of closure must be designed and constructed to a rated pressure not less than the MAWP of the shell taking into account the temperatures expected during transport. All stop-valves with screwed spindles must close by a clockwise motion of the handwheel. For other stop-valves the position (open and closed) and direction of closure must be clearly indicated. All stop-valves must be designed to prevent unintentional opening.

(4) Piping must be designed, constructed and installed to avoid the risk of damage due to thermal expansion and contraction, mechanical shock and vibration. All piping must be of a suitable metallic material. Welded pipe joints must be used wherever possible.

(5) Joints in copper tubing must be brazed or have an equally strong metal union. The melting point of brazing materials must be no lower than 525 °C (977 °F). The joints must not decrease the strength of the tubing, such as may happen when cutting threads.

(6) The burst pressure of all piping and pipe fittings must be greater than the highest of four times the MAWP of the shell or four times the pressure to which it may be subjected in service by the action of a pump or other device (except pressure relief devices).

(7) External fittings must be grouped together. Filling and discharge connections may be installed below the normal liquid level of the tank if the tank design conforms to the following requirements:

(i) The portable tank must be permanently mounted in a full framework for containerized transport. For each portable tank design, a prototype portable tank, must fulfill the requirements of parts 450 through 453 of this title for compliance with the requirements of Annex II of the International Convention for Safe Containers.

(ii) Each filling and discharge connection must be equipped with an internal self-closing stop-valve capable of closing within 30 seconds of actuation. Each internal self-closing stop-valve must be protected by a shear section or sacrificial device located outboard of the valve. The shear section or sacrificial device must break at no more than 70 percent of the load that would cause failure of the internal self-closing stop-valve.

(iii) Each internal self-closing stop-valve must be provided with remote means of automatic closure, both thermal and mechanical. The thermal means of automatic closure must actuate at a temperature of not over 121 °C (250 °F).

(8) Ductile metals must be used in the construction of valves and accessories.

(f) Pressure relief devices.—(1) Marking of pressure relief devices. Every pressure relief device must be clearly and permanently marked with the following:

(i) the pressure (in bar or kPa) or temperature for fusible elements (in °C) at which it is set to discharge;

(ii) the allowable tolerance at the discharge pressure for reclosing devices;

(iii) the reference temperature corresponding to the rated pressure for frangible discs;

(iv) the allowable temperature tolerance for fusible elements;

(v) the rated flow capacity of the device in standard cubic meters of air per second (m³/s) determined according to ISO 4126-1 (incorporated by reference, see § 171.7 of this subchapter); and

(vi) when practicable, the device must show the manufacturer's name and product number.

(2) Connections to pressure relief devices. Connections to pressure relief devices must be of sufficient size to enable the required discharge to pass unrestricted to the safety device. No stop-valve may be installed between the shell and the pressure relief devices except where duplicate devices are provided for maintenance or other reasons and the stop-valves serving the devices actually in use are locked open or the stop-valves are interlocked so that at least one of the duplicate devices is always in use. There must be no obstruction in an opening leading to a vent or pressure relief device which might restrict or cut-off the flow from the shell to that device. Vents or pipes from the pressure relief device outlets, when used, must deliver the relieved vapor or liquid to the atmosphere in conditions of minimum back-pressure on the relieving devices.

(3) Location of pressure relief devices. (i) Each pressure relief device inlet must be situated on top of the shell in a position as near the longitudinal and transverse center of the shell as reasonably practicable. All pressure relief device inlets must, under maximum filling conditions, be situated in the vapor space of the shell and the devices must be so arranged as to ensure that escaping vapor is discharged unrestrictedly. For flammable hazardous materials, the escaping vapor must be directed away from the shell in such a manner that it cannot impinge upon the shell. For refrigerated liquefied gases, the escaping vapor must be directed away from the tank and in such a manner that it cannot impinge upon the tank. Protective devices which deflect the flow of vapor are permissible provided the required relief-device capacity is not reduced.

(ii) Arrangements must be made to prevent unauthorized persons from access to the pressure relief devices and to protect the devices from damage caused by the portable tank overturning.

(g) Gauging devices. Unless a portable tank is intended to be filled by weight, it must be equipped with one or more gauging devices. Glass level-gauges and gauges made of other fragile material, which are in direct communication with the contents of the tank are prohibited. A connection for a vacuum gauge must be provided in the jacket of a vacuum-insulated portable tank.

(h) Portable tank supports, frameworks, lifting and tie-down attachments. (1) Portable tanks must be designed and constructed with a support structure to provide a secure base during transport. The forces and safety factors specified in paragraphs (c)(1) and (c)(2) of this section, respectively, must be taken into account in this aspect of the design. Skids, frameworks, cradles or other similar structures are acceptable.

(2) The combined stresses caused by portable tank mountings (for example, cradles, framework, etc.) and portable tank lifting and tie-down attachments must not cause excessive stress in any portion of the shell. Permanent lifting and tie-down attachments must be fitted to all portable tanks. Preferably they should be fitted to the portable tank supports but may be secured to reinforcing plates located on the shell at the points of support. Each portable tank must be designed so that the center of gravity of the filled tank is approximately centered within the points of attachment for lifting devices.

(3) In the design of supports and frameworks, the effects of environmental corrosion must be taken into account.

(4) Forklift pockets must be capable of being closed off. The means of closing forklift pockets must be a permanent part of the framework or permanently attached to the framework. Single compartment portable tanks with a length less than 3.65 m need not have forklift pockets that are capable of being closed off provided that:

(i) The shell, including all the fittings, are well protected from being hit by the forklift blades; and

(ii) The distance between forklift pockets (measured from the center of each pocket) is at least half of the maximum length of the portable tank.

(5) During transport, portable tanks must be adequately protected against damage to the shell, and service equipment resulting from lateral and longitudinal impact and overturning on the shell and service equipment must be constructed to withstand impact or overturning. External fittings must be protected so as to preclude the release of the shell contents upon impact or overturning of the portable tank on its fittings. Examples of protection include:

(i) Protection against lateral impact which may consist of longitudinal bars protecting the shell on both sides at the level of the median line;

(ii) Protection of the portable tank against overturning which may consist of reinforcement rings or bars fixed across the frame;

(iii) Protection against rear impact which may consist of a bumper or frame;

(iv) Protection of the shell against damage from impact or overturning by use of an ISO frame in accordance with ISO 1496-3 (incorporated by reference, see § 171.7 of this subchapter); and

(v) Protection of the portable tank from impact or overturning by a vacuum insulation jacket.

(i) Marking. (1) Every portable tank must be fitted with a corrosion resistant metal plate permanently attached to the portable tank in a conspicuous place and readily accessible for inspection. When the plate cannot be permanently attached to the shell, the shell must be marked with at least the information required by the ASME Code (incorporated by reference, see § 171.7 of this subchapter). At a minimum, the following information must be marked on the plate by stamping or by any other similar method:

Country of manufacture

UN

Approval Country

Approval Number

Alternative Arrangements “AA” (see § 178.274(a)(2))

Manufacturer's name or mark

Manufacturer's serial number

Approval Agency (Authorized body for the design approval)

Owner's registration number

Year of manufacture

Pressure vessel code to which the shell is designed

Test pressure _____ bar gauge.

MAWP _____ bar gauge.

External design pressure (not required for portable tanks used for refrigerated liquefied gases) _____ bar/gauge.

Design temperature range _____ °C to _____ °C. (For portable tanks used for refrigerated liquefied gases, the minimum design temperature must be marked.)

Water capacity at 20 °C/ _____ liters.

Water capacity of each compartment at 20 °C _____ liters.

Initial pressure test date and witness identification.

MAWP for heating/cooling system _____ bar gauge.

Shell material(s) and material standard reference(s).

Equivalent thickness in reference steel _____ mm.

Lining material (when applicable).

Date and type of most recent periodic test(s).

Month _____ Year _____ Test pressure _____ bar/gauge.

Stamp of approval agency that performed or witnessed the most recent test.

For portable tanks used for refrigerated liquefied gases:

Either “thermally insulated” or “vacuum insulated” _____.

Effectiveness of the insulation system (heat influx) _____ Watts (W).

Reference holding time _____ days or hours and initial pressure _____ bar/kPa gauge and degree of filling _____ in kg for each refrigerated liquefied gas permitted for transportation.

(2) The following information must be marked either on the portable tank itself or on a metal plate firmly secured to the portable tank:

Name of the operator.

Name of hazardous materials being transported and maximum mean bulk temperature (except for refrigerated liquefied gases, the name and temperature are only required when the maximum mean bulk temperature is higher than 50 °C).

Maximum permissible gross mass (MPGM) _____ kg.

Unladen (tare) mass _____ kg.

Note to Paragraph (i)(2): For the identification of the hazardous materials being transported refer to part 172 of this subchapter.

(3) If a portable tank is designed and approved for open seas operations, such as offshore oil exploration, in accordance with the IMDG Code, the words “OFFSHORE PORTABLE TANK” must be marked on the identification plate.

62. Section 178.275 would be added to subpart H to read as follows:

§ 178.275 Specification for UN Portable Tanks intended for the transportation of liquid and solid hazardous materials.

(a) In addition to the requirements of § 178.274, the following definitions and requirements apply to UN portable tanks intended for the transportation of liquid and solid hazardous materials:

(1) Design pressure means the pressure to be used in calculations required by the recognized pressure vessel code. The design pressure must not be less than the highest of the following pressures:

(i) The maximum effective gauge pressure allowed in the shell during filling or discharge; or

(ii) The sum of:

(A) The absolute vapor pressure (in bar) of the hazardous material at 65 °C, minus 1 bar (149 °F, minus 100 kPa);

(B) The partial pressure (in bar) of air or other gases in the ullage space, resulting from their compression during filling without pressure relief by a maximum ullage temperature of 65 °C (149 °F) and a liquid expansion due to an increase in mean bulk temperature of 35 °C (95 °F); and

(C) A head pressure determined on the basis of the forces specified in § 178.274(c), but not less than 0.35 bar (35 kPa).

(2) Maximum allowable working pressure (MAWP) means a pressure that must not be less than the highest of the following pressures measured at the top of the shell while in operating position:

(i) The maximum effective gauge pressure allowed in the shell during filling or discharge; or

(ii) The maximum effective gauge pressure to which the shell is designed which must be not less than the design pressure.

(b) Service equipment. (1) In addition to the requirements specified in § 178.274, for service equipment, all openings in the shell, intended for filling or discharging the portable tank must be fitted with a manually operated stop-valve located as close to the shell as reasonably practicable. Other openings, except for openings leading to venting or pressure relief devices, must be equipped with either a stop-valve or another suitable means of closure located as close to the shell as reasonably practicable.

(2) All portable tanks must be fitted with a manhole or other inspection openings of a suitable size to allow for internal inspection and adequate access for maintenance and repair of the interior. Compartmented portable tanks must have a manhole or other inspection openings for each compartment.

(3) For insulated portable tanks, top fittings must be surrounded by a spill collection reservoir with suitable drains.

(4) Piping must be designed, constructed and installed to avoid the risk of damage due to thermal expansion and contraction, mechanical shock and vibration. All piping must be of a suitable metallic material. Welded pipe joints must be used wherever possible.

(c) Bottom openings. (1) Certain hazardous materials may not be transported in portable tanks with bottom openings. When the applicable T code or portable tank special provision, as referenced for materials in the § 172.101 Table of this subchapter, specifies that bottom openings are prohibited, there must be no openings below the liquid level of the shell when it is filled to its maximum permissible filling limit. When an existing opening is closed, it must be accomplished by internally and externally welding one plate to the shell.

(2) Bottom discharge outlets for portable tanks carrying certain solid, crystallizable or highly viscous hazardous materials must be equipped with at least two serially fitted and mutually independent shut-off devices. Use of only two shut-off devices is only authorized when this paragraph is referenced in the applicable T Code indicated for each hazardous material in the § 172.101 Table of this subchapter. The design of the equipment must be to the satisfaction of the approval agency and must include:

(i) An external stop-valve fitted as close to the shell as reasonably practicable; and

(ii) A liquid tight closure at the end of the discharge pipe, which may be a bolted blank flange or a screw cap.

(3) Except as provided in paragraph (c)(2) of this section, every bottom discharge outlet must be equipped with three serially fitted and mutually independent shut-off devices. The design of the equipment must be to the satisfaction of the approval agency and must include:

(i) A self-closing internal stop-valve, which is a stop-valve within the shell or within a welded flange or its companion flange, such that:

(A) The control devices for the operation of the valve are designed to prevent any unintended opening through impact or other inadvertent act;

(B) The valve is operable from above or below;

(C) If possible, the setting of the valve (open or closed) must be capable of being verified from the ground;

(D) Except for portable tanks having a capacity less than 1,000 liters (264.2 gallons), it must be possible to close the valve from an accessible position of the portable tank that is remote from the valve itself; and

(E) The valve must continue to be effective in the event of damage to the external device for controlling the operation of the valve;

(ii) An external stop-valve fitted as close to the shell as reasonably practicable; and

(iii) A liquid tight closure at the end of the discharge pipe, which may be a bolted blank flange or a screw cap.

(4) For a lined shell, the internal stop-valve required by paragraph (c)(3)(i) of this section may be replaced by an additional external stop-valve.

(d) Pressure relief devices. All portable tanks must be fitted with at least one pressure relief device. All relief devices must be designed, constructed and marked in accordance with the requirements of this subchapter.

(e) Vacuum-relief devices. (1) A shell which is to be equipped with a vacuum-relief device must be designed to withstand, without permanent deformation, an external pressure of not less than 0.21 bar (21.0 kPa) above the internal pressure. The vacuum-relief device must be set to relieve at a vacuum setting not greater than minus (−) 0.21 bar (−21.0 kPa) unless the shell is designed for a higher external over pressure, in which case the vacuum-relief pressure of the device to be fitted must not be greater than the tank design vacuum pressure. A shell that is not fitted with a vacuum-relief device must be designed to withstand, without permanent deformation, an external pressure of not less than 0.4 bar (40.0 kPa) above the internal pressure.

(2) Vacuum-relief devices used on portable tanks intended for the transportation of hazardous materials meeting the criteria of Class 3, including elevated temperature hazardous materials transported at or above their flash point, must prevent the immediate passage of flame into the shell or the portable tank must have a shell capable of withstanding, without leakage, an internal explosion resulting from the passage of flame into the shell.

(f) Pressure relief devices. (1) Each portable tank with a capacity not less than 1,900 liters (501.9 gallons) and every independent compartment of a portable tank with a similar capacity, must be provided with one or more pressure relief devices of the reclosing type. Such portable tanks may, in addition, have a frangible disc or fusible element in parallel with the reclosing devices, except when the applicable T code assigned to a hazardous material requires that the frangible disc precede the pressure relief device, according to paragraph (f)(3) of this section, or when no bottom openings are allowed. The pressure relief devices must have sufficient capacity to prevent rupture of the shell due to over pressurization or vacuum resulting from filling, discharging, from heating of the contents or fire.

(2) Pressure relief devices must be designed to prevent the entry of foreign matter, the leakage of liquid and the development of any dangerous excess pressure.

(3) When required for certain hazardous materials by the applicable T code or portable tank special provision specified for a hazardous material in the § 172.101 Table of this subchapter, portable tanks must have a pressure relief device consistent with the requirements of this subchapter. Except for a portable tank in dedicated service that is fitted with an approved relief device constructed of materials compatible with the hazardous material, the relief device system must include a frangible disc preceding a reclosing pressure relief device. A pressure gauge or suitable tell-tale indicator for the detection of disc rupture, pin-holing or leakage must provide the space between the frangible disc and the pressure relief device. The frangible disc must rupture at a nominal pressure 10% above the start to discharge pressure of the relief device.

(4) Every portable tank with a capacity less than 1,900 liters (501.9 gallons) must be fitted with a pressure relief device, which may be a frangible disc when this disc is set to rupture at a nominal pressure equal to the test pressure at any temperature within the design temperature range.

(5) When the shell is fitted for pressure discharge, a suitable pressure relief device must provide the inlet line to the portable tank set to operate at a pressure not higher than the MAWP of the shell, and a stop-valve must be fitted as close to the shell to minimize the potential for damage.

(6) Setting of pressure relief devices. (i) Pressure relief devices must operate only in conditions of excessive rise in temperature, since the shell must not be subject to undue fluctuations of pressure during normal conditions of transportation.

(ii) The required pressure relief device must be set to start-to-discharge at a nominal pressure of five-sixths of the test pressure for shells having a test pressure of not more than 4.5 bar (450 kPa) and 110% of two-thirds of the test pressure for shells having a test pressure of more than 4.5 bar (450 kPa). A self-closing relief device must close at a pressure not more than 10% below the pressure at which the discharge starts. The device must remain closed at all lower pressures. This requirement does not prevent the use of vacuum-relief or combination pressure relief and vacuum-relief devices.

(g) Fusible elements. Fusible elements must operate at a temperature between 110 °C (230 °F) and 149 °C (300.2 °F) provided that the pressure in the shell at the fusing temperature will not exceed the test pressure. They must be placed at the top of the shell with their inlets in the vapor space and in no case may they be shielded from external heat. Fusible elements must not be utilized on portable tanks with a test pressure which exceeds 2.65 bar (265.0 kPa). Fusible elements used on portable tanks intended for the transport of elevated temperature hazardous materials must be designed to operate at a temperature higher than the maximum temperature that will be experienced during transport and must be to the satisfaction of the approval agency.

(h) Capacity of pressure relief devices. (1) The reclosing pressure relief device required by paragraph (f)(1) must have a minimum cross sectional flow area equivalent to an orifice of 31.75 mm (1.3 inches) diameter. Vacuum-relief devices, when used, must have a cross sectional flow area not less than 284 mm² (11.2 inches²).

(2) Under conditions of complete fire engulfment of the portable tank, the combined delivery capacity of the relief devices must be sufficient to limit the pressure in the shell to 20% above the start-to-discharge pressure specified in paragraph(f)(6) of this section. Emergency pressure relief devices may be used to achieve the full relief capacity prescribed. The total required capacity of the relief devices may be determined using the formula in paragraph (h)(2)(i) of this section or the table in paragraph (h)(2)(iii) of this section.

(i)(A) To determine the total required capacity of the relief devices, which must be regarded as being the sum of the individual capacities of all the contributing devices, the following formula must be used:

Where:

Q = minimum required rate of discharge in cubic meters of air per second (m³/s) at standard conditions: 1 bar and 0 °C (273 K);

F = for uninsulated shells: 1; for insulated shells: U(649 − t)/13.6 but in no case is less than 0.25 where: U = thermal conductance of the insulation in kW·m⁻²·K⁻¹, at 38 °C; and t = actual temperature of the hazardous material during filling (in °C) or when this temperature is unknown, let t = 15 °C. The value of F given above for insulated shells may only be used if the insulation is in conformance with paragraph (h)(2)(iv) of this section;

A = total external surface area of shell in square meters;

Z = the gas compressibility factor in the accumulating condition (when this factor is unknown, let Z equal 1.0);

T = absolute temperature in Kelvin (°C + 273) above the pressure relief devices in the accumulating condition;

L = the latent heat of vaporization of the liquid, in kJ/kg, in the accumulating condition;

M = molecular weight of the hazardous material.

(B) The constant C, as shown in the formula in paragraph (h)(2)(i)(A) of this section, is derived from one of the following formula as a function of the ratio k of specific heats:

Where:

cp is the specific heat at constant pressure; and

cv is the specific heat at constant volume.

(C) When k>1:

(D) When k = 1 or k is unknown, a value of 0.607 may be used for the constant C. C may also be taken from the following table:

C Constant Value Table
k | C | k | C | k | C
1.00 | 0.607 | 1.26 | 0.660 | 1.52 | 0.704
1.02 | 0.611 | 1.28 | 0.664 | 1.54 | 0.707
1.04 | 0.615 | 1.30 | 0.667 | 1.56 | 0.710
1.06 | 0.620 | 1.32 | 0.671 | 1.58 | 0.713
1.08 | 0.624 | 1.34 | 0.674 | 1.60 | 0.716
1.10 | 0.628 | 1.36 | 0.678 | 1.62 | 0.719
1.12 | 0.633 | 1.38 | 0.681 | 1.64 | 0.722
1.14 | 0.637 | 1.40 | 0.685 | 1.66 | 0.725
1.16 | 0.641 | 1.42 | 0.688 | 1.68 | 0.728
1.18 | 0.645 | 1.44 | 0.691 | 1.70 | 0.731
1.20 | 0.649 | 1.46 | 0.695 | 2.00 | 0.770
1.22 | 0.652 | 1.48 | 0.698 | 2.20 | 0.793
1.24 | 0.656 | 1.50 | 0.701 |

(ii) As an alternative to the formula in paragraph (h)(2)(i) of this section, relief devices for shells used for transporting liquids may be sized in accordance with the table in paragraph (h)(2)(iii) of this section. The table in paragraph (h)(2)(iii) of this section assumes an insulation value of F = 1 and must be adjusted accordingly when the shell is insulated. Other values used in determining the table in paragraph (h)(2)(iii) of this section are: L = 334.94 kJ/kg; M = 86.7; T = 394 K; Z = 1; and C = 0.607.

(iii) Minimum emergency vent capacity, Q, in cubic meters per air per second at 1 bar and 0 °C (273 K), as shown in the following table:

Minimum Emergency Vent Capacity
[Q Values]
A Exposed area (square meters) | Q (Cubic meters of air per second) | A Exposed area (square meters) | Q (Cubic meters of air per second)
2 | 0.230 | 37.5 | 2.539
3 | 0.320 | 40 | 2.677
4 | 0.405 | 42.5 | 2.814
5 | 0.487 | 45 | 2.949
6 | 0.565 | 47.5 | 3.082
7 | 0.641 | 50 | 3.215
8 | 0.715 | 52.5 | 3.346
9 | 0.788 | 55 | 3.476
10 | 0.859 | 57.5 | 3.605
12 | 0.998 | 60 | 3.733
14 | 1.132 | 62.5 | 3.860
16 | 1.263 | 65 | 3.987
18 | 1.391 | 67.5 | 4.112
20 | 1.517 | 70 | 4.236
22.5 | 1.670 | 75 | 4.483
25 | 1.821 | 80 | 4.726
27.5 | 1.969 | 85 | 4.967
30 | 2.115 | 90 | 5.206
32.5 | 2.258 | 95 | 5.442
35 | 2.400 | 100 | 5.676

(iv) Insulation systems, used for the purpose of reducing venting capacity, must be approved by the approval agency. In all cases, insulation systems approved for this purpose must:

(A) Remain effective at all temperatures up to 649 °C (1200.2 °F); and

(B) Be jacketed with a material having a melting point of 700 °C (1292 °F) or greater.

(i) Approval, inspection and testing. Approval procedures for UN portable tanks are specified in § 178.273. Inspection and testing requirements are specified in § 180.605 of this subchapter.

63. Section 178.276 would be added to subpart H to read as follows:

§ 178.276 Requirements for the design, construction, inspection and testing of portable tanks intended for the transportation of liquefied compressed gases.

(a) In addition to the requirements of § 178.274 applicable to UN portable tanks, the following requirements apply to UN portable tanks used for liquefied compressed gases. In addition to the definitions in § 178.274, the following definitions apply:

Design pressure means the pressure to be used in calculations required by the ASME Code (incorporated by reference, see § 171.7 of this subchapter). The design pressure must be not less than the highest of the following pressures:

(i) The maximum effective gauge pressure allowed in the shell during filling or discharge; or

(ii) The sum of:

(A) The maximum effective gauge pressure to which the shell is designed as defined in this paragraph under “MAWP”; and

(B) A head pressure determined on the basis of the dynamic forces specified in paragraph (h) of this section, but not less than 0.35 bar (35 kPa).

Note to Paragraph (a)(1): For the purpose of this section, the term “design pressure” as used in this specification is identical to the term “maximum allowable working pressure” as used in the ASME Code, Section VIII.

(2) Design reference temperature means the temperature at which the vapor pressure of the contents is determined for the purpose of calculating the MAWP. The value for each portable tank type is as follows:

(i) Shell with a diameter of 1.5 meters or less: 65 °C; or

(ii) Shell with a diameter of more than 1.5 meters:

(A) Without insulation or sun shield: 60 °C;

(B) With sun shield: 55 °C; and

(C) With insulation: 50 °C.

(3) Filling density means the average mass of liquefied compressed gas per liter of shell capacity (kg/l).

(4) Maximum allowable working pressure (MAWP) means a pressure that must be not less than the highest of the following pressures measured at the top of the shell while in operating position, but in no case less than 7 bar (700 kPa):

(i) The maximum effective gauge pressure allowed in the shell during filling or discharge; or

(ii) The maximum effective gauge pressure to which the shell is designed, which must be:

(A) Not less than the pressure specified for each liquefied compressed gas listed in portable tank special provision T50; and

(B) Not less than the sum of:

(1) The absolute vapor pressure (in bar) of the liquefied compressed gas at the design reference temperature minus 1 bar; and

(2) The partial pressure (in bar) of air or other gases in the ullage space which is determined by the design reference temperature and the liquid phase expansion due to the increase of the mean bulk temperature of tr-tf (tf = filling temperature, usually 15 °C, tr = 50 °C maximum mean bulk temperature);

(b) General design and construction requirements. (1) Tanks must be of seamless or welded steel construction, or combination of both, and have a water capacity greater than 450 liters (118.9 gallons). Tanks must be designed, constructed, certified and stamped in accordance with the ASME Code, Section VIII (incorporated by reference, see § 171.7 of this subchapter).

(2) Portable tanks must be postweld heat-treated and radiographed as prescribed in the ASME Code, except that each portable tank constructed in accordance with part UHT of the ASME Code must be postweld heat-treated. Where postweld heat treatment is required, the portable tank must be treated as a unit after completion of all the welds in and/or to the shell and heads. The method must be as prescribed in the ASME Code. Welded attachments to pads may be made after postweld heat treatment is made. A portable tank used for anhydrous ammonia must be postweld heat-treated. The postweld heat treatment must be as prescribed in the ASME Code, but in no event at less than 1050 °F tank metal temperature. Additionally, portable tanks constructed in accordance with part UHT of the ASME Code must conform to the following requirements:

(i) Welding procedure and welder performance tests must be made annually in accordance with section IX of the ASME Code. In addition to the essential variables named therein, the following must be considered to be essential variables: number of passes, thickness of plate, heat input per pass, and manufacturer's identification of rod and flux. The number of passes, thickness of plate and heat input per pass may not vary more than 25 percent from the procedure qualification. Records of the qualification must be retained for at least 5 years by the tank manufacturer and made available to duly identified representatives of the Department of Transportation or the owner of the tank.

(ii) Impact tests must be made on a lot basis. A lot is defined as 100 tons or less of the same heat and having a thickness variation no greater than plus or minus 25 percent. The minimum impact required for full-sized specimens shall be 20 foot-pounds (or 10 foot-pounds for half-sized specimens) at 0° F Charpy V-Notch in both the longitudinal and transverse direction. If the lot test does not pass this requirement, individual plates may be accepted if they individually meet this impact requirement.

(3) Welding procedures and welder performance tests must be made annually in accordance with Section IX of the ASME Code. In addition to the essential variables named therein, the following must be considered to be essential variables: number of passes, thickness of plate, heat input per pass, and manufacturer's identification of rod and flux. The number of passes, thickness of plate and heat input per pass may not vary more than 25% from the procedure qualification. Records of the qualification must be retained for at least 5 years by the portable tank manufacturer and made available to the approval agency and the owner of the tank as specified in § 178.273.

(4) Impact tests must be made on a lot basis. A lot is defined as 100 tons or less of raw material of the same heat and having a thickness variation no greater than plus or minus 25%. The minimum impact required for full-sized specimens must be 20 foot-pounds (or 10 foot-pounds for half-sized specimens) at 0° F Charpy V-Notch in both the longitudinal and transverse direction. If the lot test does not pass this requirement, individual plates may be accepted if they individually meet this impact requirement.

(5) When the shells intended for the transportation of liquefied compressed gases are equipped with thermal insulation, a device must be provided to prevent any dangerous pressure from developing in the insulating layer in the event of a leak, when the protective covering is so closed as to be gas-tight. The thermal insulation must not inhibit access to the fittings and discharge devices. In addition, the thermal insulation systems must satisfy the following requirements:

(i) Consist of a shield covering not less than the upper third, but not more than the upper half of the surface of the shell, and separated from the shell by an air space of approximately 40 mm across; or

(ii) Consist of a complete cladding of insulating materials. The insulation must be of adequate thickness and constructed to prevent the ingress of moisture and damage to the insulation. The insulation and cladding must have a thermal conductance of not more than 0.67 (W·m−²·K−¹) under normal conditions of transportation.

(c) Service equipment. (1) All openings with a diameter of more than 1.5 mm (.1 inch) in shells of portable tanks, except openings for pressure-relief devices, inspection openings and closed bleed holes, must be fitted with at least three mutually independent shut-off devices in series: the first being an internal stop-valve, excess flow valve, integral excess flow valve, or excess flow feature device (see § 178.337-1(g)), the second being an external stop-valve and the third being a blank flange or equivalent device.

(2) When a portable tank is fitted with an excess flow valve, the excess flow valve must be so fitted that its seating is inside the shell or inside a welded flange or, when fitted externally, its mountings must be designed so that in the event of impact it must maintain its effectiveness. The excess flow valves must be selected and fitted so as to close automatically when the rated flow specified by the manufacturer is reached. Connections and accessories leading to or from such a valve must have a capacity for a flow more than the excess flow valve's rated flow.

(3) For filling and discharge openings, the first shut-off device must be an internal stop-valve and the second must be a stop-valve placed in an accessible position on each discharge and filling pipe.

(4) For filling and discharge bottom openings of portable tanks intended for the transportation of flammable and/or toxic liquefied compressed gases, the internal stop-valve must be a quick closing safety device that closes automatically in the event of unintended movement of the portable tank during filling or discharge or fire engulfment. Except for portable tanks having a capacity of not more than 1,000 liters (264.2 gallons), it must be possible to operate this device by remote control.

(5) In addition to filling, discharge and gas pressure equalizing orifices, shells may have openings in which gauges, thermometers and manometers can be fitted. Connections for such instruments must be made by suitable welded nozzles or pockets and may not be connected by screwed connections through the shell.

(6) All portable tanks must be fitted with manholes or other inspection openings of suitable size to allow for internal inspection and adequate access for maintenance and repair of the interior.

(d) Bottom openings. Bottom openings are prohibited on portable tanks when the portable tank special provision T50 in § 172.102(c)(7) of this subchapter indicates that bottom openings are not allowed. In this case, there may be no openings located below the liquid level of the shell when it is filled to its maximum permissible filling limit.

(e) Pressure relief devices. (1) Portable tanks must be provided with one or more reclosing pressure relief devices. The pressure relief devices must open automatically at a pressure not less than the MAWP and be fully open at a pressure equal to 110% of the MAWP. These devices must, after discharge, close at a pressure not less than 10% below the pressure at which discharge starts and must remain closed at all lower pressures. The pressure relief devices must be of a type that will resist dynamic forces including liquid surge. A frangible disc may only be used in series with a reclosing pressure relief device.

(2) Pressure relief devices must be designed to prevent the entry of foreign matter, the leakage of gas and the development of any dangerous excess pressure.

(3) Portable tanks intended for the transportation of certain liquefied compressed gases identified in portable tank special provision T50 in § 172.102 of this subchapter must have a pressure relief device which conforms to the requirements of this subchapter. Unless a portable tank in dedicated service is fitted with a relief device constructed of materials compatible with the hazardous material, the relief device must comprise a frangible disc preceded by a reclosing device. The space between the frangible disc and the device must be provided with a pressure gauge or a suitable tell-tale indicator. This arrangement must facilitate the detection of disc rupture, pinholing or leakage which could cause a malfunction of the pressure relief device. The frangible discs must rupture at a nominal pressure 10% above the start-to-discharge pressure of the relief device.

(4) In the case of portable tanks used for more than one gas, the pressure relief devices must open at a pressure indicated in paragraph (f) of this section for the gas having the highest maximum allowable pressure of the gases allowed to be transported in the portable tank.

(f) Capacity of relief devices. The combined delivery capacity of the relief devices must be sufficient so that, in the event of total fire engulfment, the pressure inside the shell cannot exceed 120% of the MAWP. Reclosing relief devices must be used to achieve the full relief capacity prescribed. In the case of portable tanks used for more than gas, the combined delivery capacity of the pressure relief devices must be taken for the liquefied compressed gas which requires the highest delivery capacity of the liquefied compressed gases allowed to be transported in the portable tank. The total required capacity of the relief devices must be determined according to the requirements in § 178.275(h). These requirements apply only to liquefied compressed gases which have critical temperatures well above the temperature at the accumulating condition. For gases which have critical temperatures near or below the temperature at the accumulating condition, the calculation of the pressure relief device delivery capacity must consider the additional thermodynamic properties of the gas (for example, CGA S-1.2-1995; incorporated by reference, see § 171.7 of this subchapter).

64. A new § 178.277 would be added to subpart H to read as follows:

§ 178.277 Requirements for the design, construction, inspection and testing of portable tanks intended for the transportation of refrigerated liquefied gases.

(a) In addition to the requirements of § 178.274 applicable to UN portable tanks, the following requirements and definitions apply to UN portable tanks used for refrigerated liquefied gases:

(1) Design pressure. For the purpose of this section the term design pressure is consistent with the definition for design pressure in the ASME Code, Section VIII (incorporated by reference, see § 171.7 of this subchapter).

(2) Holding time is the time, as determined by testing, that will elapse from loading until the pressure of the contents, under equilibrium conditions, reaches the lowest set pressure of the pressure limiting device(s) (for example, pressure control valve or pressure relief device). Holding time must be determined as specified in § 178.338-9.

(3) Maximum allowable working pressure (MAWP) means the maximum effective gauge pressure permissible at the top of the shell of a loaded portable tank in its operating position including the highest effective pressure during filling and discharge;

(4) Minimum design temperature means the temperature which is used for the design and construction of the shell not higher than the lowest (coldest) service temperature of the contents during normal conditions of filling, discharge and transportation.

(5) Shell means the part of the portable tank which retains the refrigerated liquefied gas intended for transport, including openings and their closures, but does not include service equipment or external structural equipment.

(6) Tank means a construction which normally consists of either :

(i) A jacket and one or more inner shells where the space between the shell(s) and the jacket is exhausted of air (vacuum insulation) and may incorporate a thermal insulation system; or

(ii) A jacket and an inner shell with an intermediate layer of solid thermally insulating material (for example, solid foam).

(b) General design and construction requirements. (1) Portable tanks must be of seamless or welded steel construction and have a water capacity of more than 450 liters (118.9 gallons). Portable tanks must be designed, constructed, certified and stamped in accordance with the ASME Code (incorporated by reference, see § 171.7 of this subchapter).

(2) Portable tanks must be postweld heat treated and radiographed as prescribed in the ASME Code except that each tank constructed in accordance with part UHT of the ASME Code must be postweld heat treated. Where postweld heat treatment is required, the tank must be treated as a unit after completion of all the welds to the shell and heads. The method must be as prescribed in the ASME Code. Welded attachments to pads may be made after postweld heat treatment is made. The postweld heat treatment must be as prescribed in the ASME Code, but in no event at less than 1050 °F tank metal temperature.

(3) Welding procedure and welder performance tests must be made annually in accordance with Section IX of the ASME Code (incorporated by reference, see § 171.7 of this subchapter). In addition to the essential variables named in the ASME Code, the following must be considered as essential variables: number of passes, thickness of plate, heat input per pass, and the specified rod and flux. The number of passes, thickness of plate and heat input per pass may not vary more than 25% from the procedure qualification. Records of the qualification must be retained for at least 5 years by the portable tank manufacturer and made available to the approval agency and the owner of the portable tank as specified in § 178.273.

(4) Impact tests must be made on a lot basis. A lot is defined as 100 tons or less of the same heat and having a thickness variation no greater than plus or minus 25%. The minimum impact required for full-sized specimens must be 20 foot-pounds (or 10 foot-pounds for half-sized specimens) at 0 °F Charpy V-Notch in both the longitudinal and transverse direction. If the lot test does not pass this requirement, individual plates may be accepted if they individually meet this impact requirement.

(5) Shells and jackets must be made of metallic materials suitable for forming. Jackets must be made of steel. Non-metallic materials may be used for the attachments and supports between the shell and jacket, provided their material properties at the minimum design temperature are proven to be sufficient. In choosing the material, the minimum design temperature must be taken into account with respect to risk of brittle fracture, to hydrogen embrittlement, to stress corrosion cracking and to resistance to impact.

(6) Any part of a portable tank, including fittings, gaskets and pipe-work, which can be expected normally to come into contact with the refrigerated liquefied gas transported must be compatible with that refrigerated liquefied gas.

(7) The thermal insulation system must include a complete covering of the shell with effective insulating materials. External insulation must be protected by a jacket so as to prevent the ingress of moisture and other damage under normal transport conditions.

(8) When a jacket is so closed as to be gas-tight, a device must be provided to prevent any dangerous pressure from developing in the insulation space.

(9) Materials which may react with oxygen or oxygen enriched atmospheres in a dangerous manner may not be used in portable tanks intended for the transport of refrigerated liquefied gases having a boiling point below minus 182 °C at atmospheric pressure in locations with the thermal insulation where there is a risk of contact with oxygen or with oxygen enriched fluid.

(10) Insulating materials must not deteriorate unduly in service.

(11) A reference holding time must be determined for each refrigerated liquefied gas intended for transport in a portable tank. The reference holding time must be determined by testing in accordance with the requirements of § 178.338-9, considering the following factors:

(i) The effectiveness of the insulation system, determined in accordance with paragraph (b)(12) of this section;

(ii) The lowest set pressure of the pressure limiting device;

(iii) The initial filling conditions;

(iv) An assumed ambient temperature of 30 °C (86 °F);

(v) The physical properties of the individual refrigerated liquefied gas intended to be transported.

(12) The effectiveness of the insulation system (heat influx in watts) may be determined by type testing the portable tank in accordance with a procedure specified in § 178.338-9(c) or by using the holding time test in § 178.338-9(b). This test must consist of either:

(i) A constant pressure test (for example, at atmospheric pressure) when the loss of refrigerated liquefied gas is measured over a period of time; or

(ii) A closed system test when the rise in pressure in the shell is measured over a period of time.

(13) When performing the constant pressure test, variations in atmospheric pressure must be taken into account. When performing either test, corrections must be made for any variation of the ambient temperature from the assumed ambient temperature reference value of 30 °C (86 °F).

(14) The jacket of a vacuum-insulated double-wall tank must have either an external design pressure not less than 100 kPa (1 bar) gauge pressure calculated in accordance with the ASME Code or a calculated critical collapsing pressure of not less than 200 kPa (2 bar) gauge pressure. Internal and external reinforcements may be included in calculating the ability of the jacket to resist the external pressure.

Note to paragraph (b): For the determination of the actual holding time as indicated by paragraphs (b)(11), (12) and (13) of this section, before each journey, refer to § 178.338-9(b).

(c) Design criteria. For shells with vacuum insulation, the test pressure must not be less than 1.3 times the sum of the MAWP and 100 kPa (1 bar). In no case may the test pressure be less than 300 kPa (3 bar) gauge pressure.

(d) Service equipment. (1) Each filling and discharge opening in portable tanks used for the transport of flammable refrigerated liquefied gases must be fitted with at least three mutually independent shut-off devices in series: the first being a stop-valve situated as close as reasonably practicable to the jacket, the second being a stop-valve and the third being a blank flange or equivalent device. The shut-off device closest to the jacket must be a quick closing device, which closes automatically in the event of unintended movement of the portable tank during filling or discharge or fire engulfment. This device must be operable by remote control.

(2) Each filling and discharge opening in portable tanks used for the transport of non-flammable refrigerated liquefied gases must be fitted with at least two mutually independent shut-off devices in series: the first being a stop-valve situated as close as reasonably practicable to the jacket and the second a blank flange or equivalent device.

(3) For sections of piping which can be closed at both ends and where liquid product can be trapped, a method of automatic pressure relief must be provided to prevent excess pressure build-up within the piping.

(4) Each connection on a portable tank must be clearly marked to indicate its function.

(5) When pressure-building units are used, the liquid and vapor connections to that unit must be provided with a valve as close to the jacket as reasonably practicable to prevent the loss of contents in case of damage to the pressure-building unit.

(6) The materials of construction of valves and accessories must have satisfactory properties at the lowest operating temperature of the portable tank.

(e) Pressure relief devices. (1) Every shell must be provided with not less than two independent reclosing pressure relief devices. The pressure relief devices must open automatically at a pressure not less than the MAWP and be fully open at a pressure equal to 110% of the MAWP. These devices must, after discharge, close at a pressure not lower than 10% below the pressure at which discharge starts and must remain closed at all lower pressures. The pressure relief devices must be of the type that will resist dynamic forces including surge.

(2) Except for portable tanks used for oxygen, portable tanks for non-flammable refrigerated liquefied gases (except oxygen) and hydrogen may in addition have frangible discs in parallel with the reclosing devices as specified in paragraphs (e)(4)(ii) and (e)(4)(iii) of this section.

(3) Pressure relief devices must be designed to prevent the entry of foreign matter, the leakage of gas and the development of any dangerous excess pressure.

(4) Capacity and setting of pressure relief devices. (i) In the case of the loss of vacuum in a vacuum-insulated tank or of loss of 20% of the insulation of a tank insulated with solid materials, the combined capacity of all pressure relief devices installed must be sufficient so that the pressure (including accumulation) inside the shell does not exceed 120% of the MAWP.

(ii) For non-flammable refrigerated liquefied gases (except oxygen) and hydrogen, this capacity may be achieved by the use of frangible discs in parallel with the required safety-relief devices. Frangible discs must rupture at nominal pressure equal to the test pressure of the shell.

(iii) Under the circumstances described in paragraphs (e)(4)(i) and (e)(4)(ii) of this section, together with complete fire engulfment, the combined capacity of all pressure relief devices installed must be sufficient to limit the pressure in the shell to the test pressure.

(iv) The required capacity of the relief devices must be calculated in accordance with CGA Pamphlet S-1-1.2 (incorporated by reference, see § 171.7 of this subchapter).

65. In § 178.703, paragraph (a)(1) introductory text would be revised and in paragraph (a)(1)(ii), a new sentence would be added at the end of the paragraph to read as follows:

§ 178.703 Marking of intermediate bulk containers.

(a) * * *

(1) Mark every IBC in a durable and clearly visible manner (may be applied in a single line or in multiple lines provided the correct sequence is followed) with the following information in letters, numerals and symbols of at least 12 mm in height and in the sequence presented:

* * * * *

(ii) * * * The letter “W” must follow the IBC design type identification code on an IBC when the IBC differs from the requirements in subpart N of this part, or is tested using methods other than those specified in this subpart, and is approved by the Associate Administrator in accordance with the provisions in § 178.801(i).

* * * * *

66. In § 178.705, paragraph (c)(1)(iv)(A) would be revised and a new paragraph (c)(1)(iv)(C) would be added to read as follows:

§ 178.705 Standards for metal intermediate bulk containers.

* * * * *

(c) * * *

(1) * * *

(iv) * * *

(A) For a reference steel having a product of Rm X Ao = 10,000, where Ao is the minimum elongation (as a percentage) of the reference steel to be used on fracture under tensile stress, (Rm X Ao = 10,000 X 145; if tensile strength is in U.S. Standard units of pounds per square inch) the wall thickness must not be less than:

Capacity (C) in liters¹ | Wall thickness (T) in mm: Types 11A, 11B, 11N: Unprotected | Wall thickness (T) in mm: Types 11A, 11B, 11N: Protected | Wall thickness (T) in mm: Types 21A, 21B, 21N, 31A, 31B, 31N: Unprotected | Wall thickness (T) in mm: Types 21A, 21B, 21N, 31A, 31B, 31N: Protected
C ≤ 1000 | 2.0 | 1.5 | 2.5 | 2.0
1000 < C ≤ 2000 | T=C/2000 + 1.5 | T=C/2000 + 1.0 | T=C/2000 + 2.0 | T=C/2000 + 1.5
2000 < C ≤ 3000 | T=C/2000 + 1.5 | T=C/2000 + 1.0 | T=C/1000 + 1.0 | T=C/2000 + 1.5
¹ Where: gallons = liters × 0.264.

* * * * *

(C) For purposes of the calculation described in paragraph (c)(1)(iv)(B) of this section, the guaranteed minimum tensile strength of the metal to be used (Rm1) must be the minimum value according to material standards. However, for austenitic (stainless) steels, the specified minimum value for Rm, according to the material standards, may be increased by up to 15% when a greater value is provided in the material inspection certificate. When no material standard exists for the material in question, the value of Rm must be the minimum value indicated in the material inspection certificate.

* * * * *

67. In § 178.801, in paragraph (i), two sentences would be added at the end of the paragraph to read as follows:

§ 178.801 General requirements.

* * * * *

(i) * * * A large packaging, as defined in § 171.8 of this subchapter, may be used if approved by the Associate Administrator. The large packaging must conform to the construction standards, performance testing and packaging marking requirements specified in the UN Recommendations (incorporated by reference, see § 171.7 of this subchapter)

* * * * *

68. In § 178.812, paragraph (c)(1) would be revised and a new paragraph (c)(3) would be added to read as follows:

§ 178.812 Top lift test.

* * * * *

(c) Test method. (1) A metal or flexible IBC must be lifted in the manner for which it is designed until clear of the floor and maintained in that position for a period of five minutes.

* * * * *

(3) If not tested as indicated in paragraph (c)(1) of this section, a flexible IBC design type must be tested as follows:

(i) Fill the flexible IBC to 95% full with a material representative of the product to be shipped.

(ii) Suspend the flexible IBC by its lifting devices.

(iii) Apply a constant downward force through a specially designed platen. The platen will be a minimum of 60% and a maximum of 80% of the cross sectional surface area of the flexible IBC.

(iv) The combination of the mass of the filled flexible IBC and the force applied through the platen must be a minimum of six times the maximum net mass of the flexible IBC. The test must be conducted for a period of five minutes.

(v) Other equally effective methods of top lift testing and preparation may be used with approval of the Associate Administrator.

* * * * *

PART 180—CONTINUING QUALIFICATION AND MAINTENANCE OF PACKAGINGS

69. The authority citation for part 180 would continue to read as follows:

Authority: 49 U.S.C. 5101-5127; 49 CFR 1.53.

70. Subpart G would be added to part 180 to read as follows:

Subpart G—Qualification and Maintenance of Portable Tanks

Sec.

180.601 Applicability.

180.603 Qualification of portable tanks.

180.605 Requirements for retest, inspection or repair of portable tanks.

Subpart G—Qualification and Maintenance of Portable Tanks

§ 180.601 Applicability.

This subpart prescribes requirements, in addition to those contained in parts 107, 171, 172, 173, and 178 of this subchapter, applicable to any person responsible for the continuing qualification, maintenance or periodic retesting of a portable tank.

§ 180.603 Qualification of portable tanks.

(a) Each portable tank used for the transportation of hazardous materials must be an authorized packaging.

(b) To qualify as an authorized packaging, each portable tank must conform to the requirements of this subchapter or the applicable specification to which the portable tank was constructed.

(c) The following portable tanks are authorized for use provided they conform to all applicable safety requirements of this subchapter: 51, 56, 57, 60, IM 101, IM 102 and UN portable tanks.

(d) A portable tank that also meets the definition of “container” in 49 CFR 450.3(a)(3) must conform to the requirements in parts 450 through 453 of this tile for compliance with Annex II of the Convention for Safe Containers (CSC).

(e) Exemption portable tanks based on DOT 51 portable tanks. The owner of a portable tank constructed in accordance with and used under an exemption issued prior to August 31, 1996, which was in conformance with the requirements for Specification DOT 51 portable tanks with the exception of the location of fill and discharge outlets, shall examine the portable tank and its design to determine if it meets the outlet requirements in effect on October 1, 1999. If the owner determines that the portable tank is in compliance with all requirements of the DOT 51 specification, the exemption number stenciled on the portable tank shall be removed and the specification plate (or a plate placed adjacent to the specification plate) shall be durably marked “DOT 51-E*****” (where ***** is to be replaced by the exemption number). During the period the portable tank is in service, and for one year thereafter, the owner of the portable tank must retain on file at its principal place of business a copy of the last exemption in effect.

§ 180.605 Requirements for retest, inspection or repair of portable tanks.

(a) A portable tank constructed in accordance with a DOT specification for which a test or inspection specified in this section has become due, may not be filled and offered for transportation or transported until the test or inspection has been successfully completed. This paragraph (a) does not apply to any portable tank filled prior to the test or inspection due date.

(b) Conditions requiring test and inspection of portable tanks. Without regard to any other test or inspection requirements, a Specification or UN portable tank must be tested and inspected in accordance with this section prior to further use if any of the following conditions exist:

(1) The portable tank shows evidence of bad dents, corroded or abraded areas, leakage, or any other condition that might render it unsafe for transportation service.

(2) The portable tank has been in an accident and has been damaged to an extent that may adversely affect its ability to retain the hazardous material.

(3) The portable tank has been out of hazardous materials transportation service for a period of one year or more.

(4) The portable tank has been modified from its original design specification.

(5) The Department so requires based on the existence of probable cause that the portable tank is in an unsafe operating condition.

(c) Schedule for initial and periodic inspections and tests. Each Specification portable tank must be tested and inspected in accordance with the following schedule:

(1) Each IM or UN portable tank must be given an initial inspection and test before being placed into service, a periodic inspection and test at least once every five years, and an intermediate periodic inspection and test at least every 2.5 years following the last five-year periodic inspection and test.

(2) Each Specification 51 portable tank must be given a periodic inspection and test at least once every five years.

(3) Each Specification 56 or 57 portable tank must be given a periodic inspection and test at least once every 2.5 years.

(4) Each Specification 60 portable tank must be given a periodic inspection and test at the end of the first 4-year period after the original test; at least once every 2 years thereafter up to a total of 12 years of service; and at least once annually thereafter. Retesting is not required on a rubber-lined tank except before each relining.

(d) Initial inspection and test. The initial inspection and test of a portable tank must include the following:

(1) A check of the design characteristics;

(2) An internal and external examination of the portable tank and its fittings, taking into account the hazardous materials to be transported;

(3) A hydrostatic pressure test as specified in paragraph (i) of this section;

(4) A leakage test;

(5) A test of the satisfactory operation of all service equipment including pressure relief devices must also be performed. When the shell and its fittings have been pressure-tested separately, they must be subjected to a leakage test after reassembly. All welds subject to full stress level in the shell must be inspected during the initial test by radiographic, ultrasonic, or another suitable non-destructive test method. This does not apply to the jacket;

(6) A UN portable tank that meets the definition of “container” in the CSC (see 49 CFR 450.3(a)(2)) must be subjected to an impact test using a prototype representing each design type. The prototype portable tank must be shown to be capable of absorbing the forces resulting from an impact not less than 4 times (4 g) the maximum permissable gross mass of the fully loaded portable tank at a duration typical of the mechanical shocks experienced in rail transportation. A listing of standards describing methods acceptable for performing the impact test are provided in the UN Recommendations (incorporated by reference, see § 171.7 of this subchapter);

(7) The following tests must be completed on a portable tank that is also a CSC container without leakage or deformation that would render the tank unsuitable for transportation and use:

(i) Longitudinal inertia. The tank loaded to its maximum gross weight must be positioned with its longitudinal axis vertical. It shall be held in this position for five minutes by support at the lower end of the base structure providing vertical and lateral restraint and by support at the upper end of the base structure providing lateral restraint only.

(ii) Lateral inertia. The tank loaded to its maximum gross weight must be positioned for five minutes with its transverse axis vertical. It shall be held in this position for five minutes by support at the lower side of the base structure providing vertical and lateral restraint and by support at the upper side of the base structure providing lateral restraint only.

(e) Intermediate periodic inspection and test. The intermediate periodic inspection and test must include at least an internal and external examination of the portable tank and its fittings taking into account the hazardous materials intended to be transported; a leakage test; and a test of the satisfactory operation of all service equipment. Sheathing, thermal insulation, etc. need only to be removed to the extent required for reliable appraisal of the condition of the portable tank. For portable tanks intended for the transportation of a single hazardous material, the internal examination may be waived if it is leakage tested in accordance with the procedures in paragraph (i) of this section prior to each filling, or if approved by the Associate Administrator.

(f) Periodic inspection and test. The periodic inspection and test must include an internal and external examination and, unless excepted, a hydraulic pressure test as specified in this section. Sheathing, thermal insulation, etc. need only to be removed to the extent required for reliable appraisal of the condition of the portable tank. Reclosing pressure relief devices must be removed from the tank and tested separately. For portable tanks where the shell and equipment have been pressure-tested separately, after assembly they must be subjected together to a leakage test.

(g) Exceptional inspection and test. The exceptional inspection and test is necessary when a portable tank shows evidence of damaged or corroded areas, or leakage, or other conditions that indicate a deficiency that could affect the integrity of the portable tank. The extent of the exceptional inspection and test must depend on the amount of damage or deterioration of the portable tank. It must include at least the intermediate inspection and a hydrostatic test according paragraph (e) of this section. Pressure relief devices need not be tested or replaced unless there is reason to believe the relief devices have been affected by the damage or deterioration.

(h) Internal and external examination. The internal and external examinations must ensure that:

(1) The shell is inspected for pitting, corrosion, or abrasions, dents, distortions, defects in welds or any other conditions, including leakage, that might render the portable tank unsafe for transportation;

(2) The piping, valves, and gaskets are inspected for corroded areas, defects, and other conditions, including leakage, that might render the portable tank unsafe for filling, discharge or transportation;

(3) Devices for tightening manhole covers are operative and there is no leakage at manhole covers or gaskets;

(4) Missing or loose bolts or nuts on any flanged connection or blank flange are replaced or tightened;

(5) All emergency devices and valves are free from corrosion, distortion and any damage or defect that could prevent their normal operation. Remote closure devices and self-closing stop-valves must be operated to demonstrate proper operation;

(6) Required markings on the portable tank are legible and in accordance with the applicable requirements; and

(7) The framework, the supports and the arrangements for lifting the portable tank are in satisfactory condition.

(i) Pressure test procedures for specification 51, 57, 60, IM or UN portable tanks. (1) Each Specification 57 portable tank must be leak tested by a minimum sustained air pressure of at least three psig applied to the entire tank. Each Specification 51 or 56 portable tank must be tested by a minimum pressure (air or hydrostatic) of at least 2 psig or at least one and one-half times the design pressure (maximum allowable working pressure, or re-rated pressure) of the tank, whichever is greater. Leakage tests for all other portable tanks must be at a pressure of at least 25% of MAWP. During each air pressure test, the entire surface of all joints under pressure must be coated with or immersed in a solution of soap and water, heavy oil, or other material suitable for the purpose of detecting leaks, but in no case less than five minutes. The pressure must be held for a period of time sufficiently long to assure detection of leaks. During the air or hydrostatic test, relief devices may be removed, but all the closure fittings must be in place and the relief device openings plugged. Lagging need not be removed from a lagged tank if it is possible to maintain the required test pressure at constant temperature with the tank disconnected from the source of pressure.

(2) Each Specification 60 portable tank must be retested by completely filling the tank with water or other liquid having a similar viscosity, the temperature of which shall not exceed 100 °F during the test, and applying a pressure of 60 psig. The tank shall be capable of holding the prescribed pressure for at least 10 minutes without leakage, evidence of impending failure, or failure. All closures shall be in place while the test is made and the pressure shall be gauged at the top of the tank. Safety devices and/or vents shall be plugged during this test.

(3) Each Specification IM or UN portable tank, except for UN portable tanks used for liquefied compressed gases and all piping, valves and accessories, except pressure relief devices, must be hydrostatically tested with water, or other liquid of similar density and viscosity, to a pressure not less than 150% of its maximum allowable working pressure. UN portable tanks used for liquefied compressed gases must be hydrostatically tested with water, or other liquid of similar density and viscosity, to a pressure not less than 130% of its maximum allowable working pressure. The minimum test pressure for a portable tank is determined on the basis of the hazardous materials that are intended to be transported in the tanks. Minimum test pressure for specific hazardous materials are specified in the applicable T Codes assigned to a particular hazardous material in the § 172.101 Table of this subchapter. While under pressure the tank shall be inspected for leakage, distortion, or any other condition which might render the tank unsafe for service. A portable tank fails to meet the requirements of the pressure test if, during the test, there is permanent distortion of the tank exceeding that permitted by the applicable specification; if there is any leakage; or if there are any deficiencies. Any portable tank that fails must be rejected and may not be used again for the transportation of a hazardous material unless the tank is adequately repaired, and, thereafter, a successful test is conducted in accordance with the requirements of this paragraph. An approval agency shall witness the hydrostatic test. Any damage or deficiency that might render the portable tank unsafe for service shall be repaired to the satisfaction of the witnessing approval agency. The repaired tank must be hydrostatically retested. Upon successful completion of the hydrostatic test, the witnessing approval agency shall apply its name, identifying mark or identifying number in accordance with paragraph (l) of this section.

(j) Rejection criteria. When evidence of any unsafe condition is discovered, the portable tank may not be returned to service until it has been corrected and the pressure test is repeated and passed.

(k) Repair. The repair of a portable tank is authorized, provided such repairs are made in accordance with the requirements prescribed in the specification for the tank's original design and construction. In addition to any other provisions of the specification, no portable tank may be repaired so as to cause leakage or cracks or the likelihood of leakage or cracks near areas of stress concentration due to cooling metal shrinkage in welding operations, sharp fillets, reversal of stresses, or otherwise. No field welding may be done except to non-pressure parts. In all cases, when cutting, burning or welding operations on the shell have been affected, that work must be done with the approval of the approval agency and be done in accordance with the requirements of this subchapter, taking into account the pressure vessel code used for the construction of the shell. A pressure test to the original test pressure must be performed after the work is completed.

(l) Inspection and test markings. Each portable tank must be durably and legibly marked, in English, with the date (month and year) of the last hydrostatic test, the identification markings of the approval agency witnessing the test when required, and the date of the last visual inspection. The marking must be placed on or near the metal identification plate in letters not less than 3 mm (0.118 inches) high when on the metal identification plate and 32 mm (1.25 inches) high when on the portable tank.

(m) Record retention. The owner of each portable tank or his authorized agent shall retain a written record of the date and results of all required inspections and tests, and the name and address of the person performing the inspection or test, until the next retest has been satisfactorily completed and recorded. In addition, a manufacturer's data report of the portable tank must be procured and retained in the files of the owner during the time that such portable tank is used for such service, except for Specifications 56 and 57 portable tanks.

Issued in Washington, DC on August 16, 2000, under authority delegated in 49 CFR part 106.
Robert A. McGuire,
Associate Administrator for Hazardous Materials Safety.

[FR Doc. 00-21417 Filed 10-20-00; 8:45 am]

BILLING CODE 4910-60-P